OFFICE OF THE UNITED STATES TRADE REPRESENTATIVE

[Docket Number USTR-2018-0026]

Request for Comments Concerning Proposed Modification of Action Pursuant to Section 301: China's Acts, Policies, and Practices Related to Technology Transfer, Intellectual Property, and Innovation

AGENCY: Office of the United States Trade Representative.

ACTION: Request for comments and notice of public hearing.

SUMMARY: On June 20, 2018 (83 FR 28710), the U.S. Trade Representative (Trade Representative) provided notice of an initial action in the Section 301 investigation of the acts, policies, and practices of the Government of China related to technology transfer, intellectual property, and innovation. The initial action was the imposition of an additional 25 percent ad valorem duty on products of China with an annual trade value of approximately $34 billion, effective July 6, 2018. The June 20 notice also sought public comment on another proposed action, in the form of an additional 25 percent ad valorem duty on products of China with an annual trade value of approximately $16 billion. The public comment process in connection with the proposed additional action is ongoing. On July 6, 2018, China responded to the initial action by imposing increased duties on goods of the United States. In light of China's decision to respond to the investigation by imposing duties on U.S. goods, the Trade Representative proposes a modification of the action taken in this investigation. The proposed modification is to maintain the original $34 billion action and the proposed $16 billion action, and to take further action in the form of an additional 10 percent ad valorem duty on products of China with an annual trade value of approximately $200 billion. The products subject to this proposed supplemental action are classified in the HTSUS subheadings set out in the Annex to this notice. The Office of the U.S. Trade Representative (USTR) is seeking public comment and will hold a public hearing regarding this proposed modification of the action in the investigation.

DATES: To be assured of consideration, you must submit comments and responses in accordance with the following schedule:

July 27, 2018: Due date for filing requests to appear and a summary of expected testimony at the public hearing, and for filing pre-hearing submissions.

August 17, 2018: Due date for submission of written comments.

August 20-23, 2018: The Section 301 Committee will convene a public hearing in the main hearing room of the U.S. International Trade Commission, 500 E Street SW, Washington, DC 20436 beginning at 9:30 a.m.

August 30, 2018: Due date for submission of post-hearing rebuttal comments.

ADDRESSES: USTR strongly prefers electronic submissions made through the Federal eRulemaking Portal: http://www.regulations.gov. Follow the instructions for submitting comments in sections D and F below. The docket number is USTR-2018-0026.

FOR FURTHER INFORMATION CONTACT: For questions about the ongoing investigation or proposed action, contact Arthur Tsao, Assistant General Counsel, or Justin Hoffmann, Director of Industrial Goods, at (202) 395-5725. For questions on customs classification of products identified in the Annex to this notice, contact Traderemedy@cbp.dhs.gov.

SUPPLEMENTARY INFORMATION:

A. Background

On August 18, 2017, USTR initiated an investigation into certain acts, policies, and practices of the Government of China related to technology transfer, intellectual property, and innovation (82 FR 40213).

In a notice published on April 6, 2018 (83 FR 14906), the Trade Representative announced a determination that the acts, policies, and practices of the Government of China covered in the investigation are unreasonable or discriminatory and burden or restrict U.S. commerce. The April 6 notice also invited public comment on a proposed action in the investigation, in the form of an additional 25 percent ad valorem duty on products from China classified in a list of 1,333 tariff subheadings, with an annual trade value of approximately $50 billion. As explained in the notice, the level was appropriate both in light of the estimated harm to the U.S. economy, and to obtain elimination of China's harmful acts, policies, and practices.

The public comment process included two opportunities for the submission of written comments, and the opportunity to participate in a public hearing. USTR received thousands of submissions, and held a 3 day public hearing with more than 100 witnesses. The public versions of submissions and a transcript of the hearing are available on www.regulations.gov in docket number USTR-2018-0005.

USTR and the interagency Section 301 Committee carefully reviewed the public comments and the testimony from the public hearing. USTR and the Section 301 Committee also carefully reviewed the extent to which the tariff subheadings in the April 6, 2018 notice include products containing industrially significant technology, including technologies and products related to China's “Made in China 2025” industrial policy program.

Based on this review process, the Trade Representative determined to take an initial action in the investigation, and to consider an additional proposed action. The Trade Representative announced the determination on June 15, 2018, and published a notice on June 20, 2018 (83 FR 28710). The Trade Representative narrowed the proposed list in the April 6 notice to 818 tariff subheadings, with an approximate annual trade value of $34 billion. This initial action became effective on July 6, 2018. The additional proposed action is an additional ad valorem duty of 25 percent on products of China classified in 284 tariff subheadings, with an annual trade value of approximately $16 billion. The June 20 notice explained that including these tariff subheadings in the Section 301 action would maintain the effectiveness of a $50 billion trade action. The public comment process in connection with the proposed additional action is ongoing.

B. China's Response to the Action in the Investigation

The Government of China has chosen to respond to the initial U.S. action in the investigation by imposing retaliatory tariffs on U.S. goods, instead of addressing U.S. concerns with the unfair practices found in the investigation. On Friday, June 15, 2018, the day that the Trade Representative announced the initial action in the investigation, China issued a statement saying that it was imposing equivalent tariff measures on U.S. goods.

On Saturday, June 16, 2018, the Government of China specified that it would impose an additional 25 percent tariff on U.S. goods with a value of $50 billion (State Council Customs Tariff Commission 2018 Public Notice No. 5). China's announcement sets out two lists. The first list contains 545 tariff subheadings that supposedly corresponds to the initial U.S. $34 billion action, and had an effective date of July 6, 2018. The second list contains 114 tariff subheadings that supposedly corresponds to the additional proposed $16 billion U.S. action, and will be effective on a date to be determined.

On Monday, June 18, 2018, the President issued a statement in response to China's announcement that it was imposing retaliatory tariffs on U.S. goods. See https://www.whitehouse.gov/briefings-statements/statement-president-regarding-trade-china-2/. The statement “directed the United States Trade Representative to identify $200 billion worth of Chinese goods for additional tariffs at a rate of 10 percent. After the legal process is complete, these tariffs will go into effect if China refuses to change its practices, and also if it insists on going forward with the new tariffs that it has recently announced.”

On July 6, 2018, the day the initial $34 billion action in the investigation became effective, the Government of China confirmed that it is going forward with the new tariffs it announced on June 16. China also has not changed the acts, policies, and practices identified in the investigation.

C. Proposed Supplemental Action

Section 301(b) of the Trade Act of 1974, as amended (Trade Act) provides that “the Trade Representative shall take all appropriate and feasible action authorized under [Section 301(c)], subject to the specific direction, if any, of the President regarding any such action . . . to obtain the elimination of [the] act, policy, or practice” covered in the investigation. Section 307 of the Trade Act provides that “The Trade Representative may modify or terminate any action, subject to the specific direction, if any, of the President with respect to such action, that is being taken under [Section 301] if . . . such action is being taken under section 301(b) of this title and is no longer appropriate.” In light of China's response to the $50 billion action announced in the investigation and its refusal to change its acts, policies, and practices, it has become apparent that U.S. action at this level is not sufficient to obtain the elimination of China's acts, policies, and practices covered in the investigation. Accordingly, the Trade Representative is proposing to modify the action in this investigation by maintaining the original $34 billion action and the proposed $16 billion action, and by taking a further, supplemental action. The Trade Representative proposes an additional 10 percent ad valorem duty on products of China covered in the attached list of 6,031 tariff subheadings. The attached list has an annual trade value of approximately $200 billion.

Modification of the action in this investigation by taking a supplemental $200 billion action is appropriate in light of the statutory goal of obtaining the elimination of the acts, policies, and practices covered in the investigation. China has shown that it will not respond to action at a $50 billion level by addressing U.S. concerns with China's acts, policies, and practices involving technology transfer, intellectual property, and innovation. Rather, China is responding to action at a $50 billion level by imposing retaliatory duties.

Supplemental action at a $200 billion level is in accord with the President's direction. In addition, action at this level is appropriate in light of the level of China's announced retaliatory action ($50 billion) and the level of Chinese goods imported into the United States ($505 billion in 2017). China's retaliatory action covers a substantial percentage of U.S. goods exported to China ($130 billion in 2017). In order to enhance effectiveness, the level of the U.S. supplemental action must cover a substantial percentage of Chinese imports.

In developing the list of tariff subheadings included in this proposed supplemental action, trade analysts considered products from across all sectors of the Chinese economy. The tariff subheadings considered by the analysts included subheadings that commenters suggested for inclusion in response to the April 6 notice. The selection process took account of likely impacts on U.S. consumers, and involved the removal of subheadings identified by analysts as likely to cause disruptions to the U.S. economy, as well as tariff lines subject to legal or administrative constraints.

To ensure the effectiveness of the action, any merchandise subject to the increased tariffs admitted into a U.S. foreign trade zone on or after the effective date of the increased tariffs, except those eligible for admission under “domestic status” as defined in 19 CFR 146.43, would have to be admitted as “privileged foreign status” as defined in 19 CFR 146.41, and would be subject upon entry for consumption to the additional duty.

D. Request for Public Comments

In accordance with section 304(b) of the Trade Act (19 U.S.C. 2414(b)), USTR invites comments from interested persons with respect to the proposed supplemental action to be taken in the investigation. To be assured of consideration, you must submit written comments by August 17, 2018, and post-hearing rebuttal comments by August 30, 2018.

USTR requests comments with respect to any aspect of the proposed supplemental action, including:

• The specific tariff subheadings to be subject to increased duties, including whether the subheadings listed in the Annex should be retained or removed, or whether subheadings not currently on the list should be added.

• The level of the increase, if any, in the rate of duty.

• The appropriate aggregate level of trade to be covered by additional duties.

In commenting on the inclusion or removal of particular tariff subheadings listed in the Annex, USTR requests that commenters address specifically whether imposing increased duties on a particular product would be practicable or effective to obtain the elimination of China's acts, policies, and practices, and whether maintaining or imposing additional duties on a particular product would cause disproportionate economic harm to U.S. interests, including small- or medium-size businesses and consumers.

E. Hearing Participation

The Section 301 Committee will convene a public hearing in the main hearing room of the U.S. International Trade Commission, 500 E Street SW, Washington, DC 20436, beginning at 9:30 a.m. on August 20, 2018. You must submit requests to appear at the hearing by July 27, 2018. The request to appear must include a summary of testimony, and may be accompanied by a pre-hearing submission. Remarks at the hearing may be no longer than five minutes to allow for possible questions from the Section 301 Committee.

All requests to appear at the hearing must be in English and sent electronically via www.regulations.gov. To submit a request to appear at the hearing via www.regulations.gov, enter docket number USTR-2018-0026 on the home page and click “search”. The site will provide a search-results page listing all documents associated with this docket. Find a reference to this notice and click on the link titled “comment now!”. In the “comment” field, include the name, address, email address, and telephone number of the person presenting the testimony. Attach a summary of the proposed testimony, and a pre-hearing submission if provided, by using the “upload file” field. The file name should include both the name of the person who will be presenting testimony and the entity they represent. In addition, please submit a request to appear and a PDF of the summary of proposed testimony by email to 301investigation@ustr.eop.gov. In the subject line of the email, please include the name of the person who will be presenting testimony, followed by “request to appear”. Please also include the name, address, email address, and telephone number of the person presenting testimony in the body of the email message.

F. Procedures for Written Submissions

All submissions must be in English and sent electronically via www.regulations.gov. To submit comments via www.regulations.gov, enter docket number USTR-2018-0026 on the home page and click “search.” The site will provide a search-results page listing all documents associated with this docket. Find a reference to this notice and click on the link entitled “comment now!” For further information on using the www.regulations.gov website, please consult the resources provided on the website by clicking on “How to Use Regulations.gov” on the bottom of the home page. We will not accept hand-delivered submissions.

The www.regulations.gov website allows users to submit comments by filling in a “comment” field or by attaching a document using an “upload file” field. USTR prefers that you submit comments in an attached document. If you attach a document, it is sufficient to type “see attached” in the “comment” field. USTR prefers submissions in Microsoft Word (.doc) or searchable Adobe Acrobat (.pdf). If you use an application other than those two, please indicate the name of the application in the “comment” field.

File names should reflect the name of the person or entity submitting the comments. Please do not attach separate cover letters to electronic submissions; rather, include any information that might appear in a cover letter in the comments themselves. Similarly, to the extent possible, please include any exhibits, annexes, or other attachments in the same file as the comment itself, rather than submitting them as separate files.

For any comments submitted electronically that contain business confidential information, the file name of the business confidential version should begin with the characters “BC”. Any page containing business confidential information must be clearly marked “BUSINESS CONFIDENTIAL” on the top of that page and the submission should clearly indicate, via brackets, highlighting, or other means, the specific information that is business confidential. If you request business confidential treatment, you must certify in writing that disclosure of the information would endanger trade secrets or profitability, and that the information would not customarily be released to the public. Filers of submissions containing business confidential information also must submit a public version of their comments. The file name of the public version should begin with the character “P”. The “BC” and “P” should be followed by the name of the person or entity submitting the comments or rebuttal comments. If these procedures are not sufficient to protect business confidential information or otherwise protect business interests, please contact the USTR Tech Transfer Section 301 line at (202) 395-5725 to discuss whether alternative arrangements are possible.

USTR will post submissions in the docket for public inspection, except business confidential information. You can view submissions on the https://www.regulations.gov website by entering docket number USTR-2018-0026 in the search field on the home page.

Robert E. Lighthizer,
United States Trade Representative.

Annex
Note: All products that are classified in the 8-digit subheadings of the Harmonized Tariff Schedule of the United States (HTSUS) that are listed in this Annex are covered by the proposed supplemental action. The product descriptions that are contained in this Annex are provided for informational purposes only, and are not intended to delimit in any way the scope of the proposed action. Any questions regarding the scope of particular HTSUS subheadings should be referred to U.S. Customs and Border Protection. In the product descriptions, the abbreviation “nesoi” means “not elsewhere specified or included”.
HTSUS subheading | Product description
0203.29.20 | Frozen retail cuts of meat of swine, nesoi.
0203.29.40 | Frozen meat of swine, other than retail cuts, nesoi.
0206.10.00 | Edible offal of bovine animals, fresh or chilled.
0208.10.00 | Meat and edible meat offal of rabbits or hares, fresh, chilled or frozen.
0208.90.20 | Meat and edible offal of deer, fresh, chilled or frozen.
0208.90.25 | Frog legs, fresh, chilled or frozen.
0210.19.00 | Meat of swine other than hams, shoulders, bellies (streaky) and cuts thereof, salted, in brine, dried or smoked.
0301.11.00 | Live ornamental freshwater fish.
0301.19.00 | Live ornamental fish, other than freshwater.
0301.91.00 | Live trout.
0301.92.00 | Live eels.
0301.93.02 | Live carp.
0301.94.01 | Other live Fish, Atlantic & Pacific Bluefin Tunas.
0301.95.00 | Other live Fish, Southern Bluefin Tunas.
0301.99.03 | Live Tench (Tinca Tinca), sheatfish (Silurus Glanis), bighead carp (Aristichthys Nobilis) and other fish, nesoi.
0302.11.00 | Trout, fresh or chilled, excluding fillets, other meat portions, livers and roes.
0302.13.00 | Pacific salmon, fresh or chilled, excluding fillets, other meat portions, livers and roes.
0302.14.00 | Atlantic and Danube salmon, fresh or chilled, excluding fillets, other meat portions, livers and roes.
0302.19.00 | Salmonidae other than trout or Pacific, Atlantic & Danube salmon, fresh or chilled, excluding fillets, other meat portions, livers & roes.
0302.21.00 | Halibut and Greenland turbot, fresh or chilled, excluding fillets, other meat portions, livers and roes.
0302.22.00 | Plaice, fresh or chilled, excluding fillets, other meat portions, livers and roes.
0302.23.00 | Sole, fresh or chilled, excluding fillets, other meat portions, livers and roes.
0302.24.00 | Turbots.
0302.29.01 | Flat fish, nesoi, fresh or chilled, excluding fillets, other meat portions, livers and roes.
0302.31.00 | Albacore or longfinned tunas, fresh or chilled, excluding fillets, other meat portions, livers and roes.
0302.32.00 | Yellowfin tunas, fresh or chilled, excluding fillets, other meat portions, livers and roes.
0302.33.00 | Skipjack or stripe-bellied bonito, fresh or chilled, excluding fillets, other meat portions, livers and roes.
0302.34.00 | Bigeye tunas (Thunnas obesus), fresh or chilled, excluding fillets, other meat portions, livers and roes.
0302.35.01 | Atlantic & Pacific bluefin tunas, fresh or chilled, excluding fillets, other meat portions, livers and roes.
0302.36.00 | Southern bluefin tunas (Thunnas maccoyii), fresh or chilled, excluding fillets, other meat portions, livers and roes.
0302.39.02 | Tunas not elsewhere specified or included, fresh or chilled, excluding fillets, other meat portions, livers and roes.
0302.41.00 | Herrings, fresh or chilled, excluding fillets, other meat portions, livers and roes.
0302.42.00 | Anchovies, excl. fillets, livers & roes, fresh or chilled, scaled, in immediate containers weighing with their contents <6.8 kg.
0302.43.00 | Sardines, sardinella, brisling or sprats, fresh or chilled, excluding fillets, other meat portions, livers and roes.
0302.44.00 | Mackerel, excl. fillets, livers & roes, fresh or chilled.
0302.45.11 | Jack & horse mackerel, excl. fillets, livers & roes, fresh or chilled, scaled, in immediate containers weighing with their contents <6.8 kg.
0302.45.50 | Jack & horse mackerel excl. fillets, livers & roes, fresh or chilled, not scaled, or scaled in immediate containers >6.8 kg.
0302.46.11 | Cobia, excl. fillets, livers and roes, fresh or chilled, scaled, in immediate containers weighing with their contents 6.8 kg or less.
0302.46.50 | Cobia, excl. fillets, livers & roes, fresh or chilled, not scaled, or scaled in immediate containers over 6.8 kg.
0302.47.00 | Swordfish, fresh or chilled, excluding livers and roes.
0302.49.00 | Herrings, anchovies, sardines, nesoi.
0302.51.00 | Cod, fresh or chilled, excluding fillets, other meat portions, livers and roes.
0302.52.00 | Haddock, fresh or chilled, excluding fillets, other meat portions, livers and roes.
0302.53.00 | Coalfish, fresh or chilled, excluding fillets, other meat portions, livers and roes.
0302.54.11 | Hake, excl. fillets, livers and roes, fresh or chilled, scaled, in immediate containers weighing with their contents 6.8 kg or less.
0302.54.50 | Hake, excl. fillets, livers & roes, fresh or chilled, not scaled, or scaled in immediate containers over 6.8 kg.
0302.55.11 | Alaska pollack, excl. fillets, livers, roes, fresh or chilled, scaled, in immediate containers weighing with their contents <6.8 kg.
0302.55.50 | Alaska pollack excl. fillets, livers & roes, fresh or chilled, not scaled, or scaled in immediate containers over 6.8 kg.
0302.56.11 | Blue whitings, excl. fillets, livers & roes, fresh or chilled, scaled, in immediate containers weighing with their contents <6.8 kg.
0302.56.50 | Blue whitings, excl. fillets, livers & roes, fresh or chilled, not scaled, or scaled in immediate containers over 6.8 kg.
0302.59.11 | Bregmacerotidae et al. fish, nesoi, excl. fillets, livers and roes, fresh or chilled, scaled, in immediate containers weighing <6.8 kg.
0302.59.50 | Bregmacerotidae fish, etc. excl. fillets, livers & roes, fresh or chilled, not scaled, or scaled in immediate containers >6.8 kg.
0302.71.11 | Tilapias, excl. fillets, livers and roes, fresh or chilled, scaled, in immediate containers weighing with their contents <6.8 kg.
0302.71.50 | Tilapias, excl. fillets, livers & roes, fresh or chilled, not scaled, or scaled in immediate containers over 6.8 kg.
0302.72.11 | Catfish, excl. fillets, livers and roes, fresh or chilled, scaled, in immediate containers weighing with their contents 6.8 kg or less.
0302.72.50 | Catfish excl. fillets, livers & roes, fresh or chilled, not scaled, or scaled in immediate containers over 6.8 kg.
0302.73.11 | Carp, excl. fillets, livers and roes, fresh or chilled, scaled, in immediate containers weighing with their contents 6.8 kg or less.
0302.73.50 | Carp excl. fillets, livers & roes, fresh or chilled, not scaled, or scaled in immediate containers over 6.8 kg.
0302.74.00 | Eels, fresh or chilled, excluding fillets, other meat portions, livers and roes.
0302.79.11 | Fish beginning 0302.7, nesoi, excl. fillets, livers and roes, fresh or chilled, scaled, in immediate containers <6.8 kg.
0302.79.50 | Fish beginning 0302.7, nesoi, excl. fillets, livers & roes, fresh or chilled, not scaled, or scaled in containers >6.8 kg.
0302.81.00 | Dogfish and other sharks, fresh or chilled, excluding fillets, livers, roes and fish meat of 0304.
0302.82.00 | Rays & skates, excl. fillets, livers & roes, fresh or chilled, not scaled, or scaled in immediate containers over 6.8 kg.
0302.83.00 | Toothfish excl. fillets, livers & roes, fresh or chilled, not scaled, or scaled in immediate containers over 6.8 kg.
0302.84.11 | Seabass, excl. fillets, livers and roes, fresh or chilled, scaled, in immediate containers weighing with their contents 6.8 kg or less.
0302.84.50 | Seabass, excl. fillets, livers & roes, fresh or chilled, not scaled, or scaled in immediate containers over 6.8 kg.
0302.85.11 | Seabream, excl. fillets, livers and roes, fresh or chilled, scaled, in immediate containers weighing with their contents 6.8 kg or less.
0302.85.50 | Seabream, excl. fillets, livers & roes, fresh or chilled, not scaled, or scaled in immediate containers over 6.8 kg.
0302.89.11 | Fish, nesoi, excl. fillets, livers and roes, fresh or chilled, scaled, in immediate containers weighing with their contents 6.8 kg or less.
0302.89.50 | Fish, nesoi, excl. fillets, livers & roes, fresh or chilled, not scaled, or scaled in immediate containers over 6.8 kg.
0302.91.20 | Sturgeon Roe, fresh or chilled.
0302.91.40 | Mullet and other fish liver and roes, fresh or chilled.
0302.92.00 | Shark fins, fresh or chilled, excluding fillet.
0302.99.00 | Other fish, fresh or chilled, nesoi.
0303.11.00 | Sockeye salmon (red salmon) (Orncorhynchus nerka), frozen, excluding fillets, other meat portions, livers and roes.
0303.12.00 | Pacific salmon, other than sockeye, frozen, excluding fillets, other meat portions, livers and roes.
0303.13.00 | Atlantic salmon and Danube salmon, frozen, excluding livers and roes.
0303.14.00 | Trout, frozen, excluding fillets, other meat portions, livers and roes.
0303.19.01 | Salmonidae, other than trout or Atlantic and Danube salmon, nesoi, frozen, excluding fillets, other meat portions, livers and roes.
0303.23.00 | Tilapias, frozen, excluding fillets, other meat portions, livers and roes.
0303.24.00 | Catfish, frozen, excluding fillets, other meat portions, livers and roes.
0303.25.01 | Carp, frozen excluding fillets, livers and roes.
0303.26.00 | Eels, frozen, excluding fillets, other meat portions, livers and roes.
0303.29.01 | Other fish in 0303.2 grouping nesoi, frozen, excluding fillets, other meat portions, livers and roes.
0303.31.00 | Halibut and Greenland turbot, frozen, excluding fillets, other meat portions & livers and roes.
0303.32.00 | Plaice, frozen, excluding fillets, other meat portions, livers and roes.
0303.33.00 | Sole, frozen, excluding fillets, other meat portions, livers and roes.
0303.34.00 | Turbots, frozen, excluding fillets, other meat portions, livers and roes.
0303.39.01 | Flat fish, other than halibut, Greenland turbot, plaice and sole, frozen, excluding fillets, other meat portions, livers and roes.
0303.41.00 | Albacore or longfinned tunas, frozen, excluding fillets, other meat portions, livers and roes.
0303.42.00 | Yellowfin tunas, frozen, excluding fillets, other meat portions, livers and roes.
0303.43.00 | Skipjack or stripe-bellied bonito, frozen, excluding fillets, other meat portions, livers and roes.
0303.44.00 | Bigeye tunas (Thunnas obesus), frozen, excluding fillets, other meat portions, livers and roes.
0303.45.01 | Atlantic and Pacific bluefin tunas, frozen, excluding fillets, other meat portions, livers and roes.
0303.46.00 | Southern bluefin tunas (Thunnas maccoyii), frozen, excluding fillets, other meat portions, livers and roes.
0303.49.02 | Tunas, not elsewhere specified or included, frozen, excluding fillets, other meat portions, livers and roes.
0303.51.00 | Herrings, frozen, excluding fillets, other meat portions, livers and roes.
0303.53.00 | Sardines, sardinella, brisling or sprats, frozen, excluding fillets, other meat portions, livers and roes.
0303.54.00 | Mackerel, frozen, excluding fillets, livers and roes.
0303.55.00 | Jack & horse mackerel, frozen, excluding fillets, other meat portions, livers and roes.
0303.56.00 | Cobia, frozen, excluding fillets, other meat portions, livers and roes.
0303.57.00 | Swordfish steaks, other swordfish, excluding fillets, other meat portions, livers and roes.
0303.59.00 | Other fish, frozen, excluding fillets, livers, roes and herrings.
0303.63.00 | Cod, frozen, excluding fillets, other meat portions, livers and roes.
0303.64.00 | Haddock, frozen, excluding fillets, other meat portions, livers and roes.
0303.65.00 | Coalfish, frozen, excluding fillets, other meat portions, livers and roes.
0303.66.00 | Hake, frozen, excluding fillets, other meat portions, livers and roes.
0303.67.00 | Alaska pollack, frozen, excluding fillets, other meat portions, livers and roes.
0303.68.00 | Blue whitings, frozen, excluding fillets, other meat portions, livers and roes.
0303.69.00 | Other fish in Bregmacerotidae et al, etc. frozen, excluding fillets, other meat portions, livers and roes.
0303.81.00 | Dogfish and other sharks, frozen, excluding fillets, livers, roes and fish meat of 0304.
0303.82.00 | Rays & skates, frozen, excluding fillets, other meat portions, livers and roes.
0303.83.00 | Toothfish excluding fillets, other meat portions, livers and roes.
0303.84.00 | Sea bass, frozen, excluding fillets, other meat portions, livers and roes.
0303.89.00 | Smelts, cusk, pollock, shad, sturgeon, atkafish, fresh-water fish, etc. frozen, excluding fillets, other meat portions, livers and roes.
0303.91.20 | Sturgeon roe, frozen.
0303.91.40 | Herring, salmon, alaskan pollock, mullet, other fist liver and roes, frozen.
0303.92.00 | Shark fins excluding fillets, frozen.
0303.99.00 | Other fish, frozen, nesoi.
0304.31.00 | Tilapias, fillets, fresh or chilled.
0304.32.00 | Catfish, fillets, fresh or chilled.
0304.33.00 | Nile perch, fillets, fresh or chilled.
0304.39.00 | Eels or snakeheads, fillets, fresh or chilled.
0304.41.00 | Salmon fillets, fresh or chilled.
0304.42.00 | Trout, fillets, fresh or chilled.
0304.43.00 | “Flat fish”, sole, plaice, etc. fillets, fresh or chilled.
0304.44.00 | Bregamacerotidae & like fish, fillets, fresh or chilled.
0304.45.00 | Fresh or chilled swordfish fillets.
0304.46.00 | Fresh or chilled toothfish fillets.
0304.47.00 | Dogfish and other shark fillets, frozen or chilled.
0304.48.00 | Ray and skate fillets, fresh or chilled.
0304.49.01 | Pike, pickerel, whitefish, tilapia, perch, cusk, other fish fillets, fresh or chilled.
0304.51.01 | Tilapias, catfish, carp, eels, nile perch, snakeheads, other than fillets, fresh or chilled.
0304.52.00 | Salmonidae, other than fillets, fresh or chilled.
0304.53.00 | Bregmacerotidae and other fish, nesoi, other than fillets, fresh or chilled.
0304.54.00 | Fresh or chilled swordfish other than fillets.
0304.55.00 | Fresh or chilled toothfish other than fillets.
0304.56.00 | Dogfish and other sharks, fresh or chilled.
0304.57.00 | Rays and skates, fresh or chilled.
0304.59.00 | Other fish, nesoi, other than fillets, fresh or chilled.
0304.61.00 | Frozen tilapia fillets.
0304.62.00 | Frozen catfish fillets.
0304.63.00 | Frozen Nile perch fillets.
0304.69.00 | Frozen eel & snakehead fillets.
0304.71.10 | Frozen cod fillets, skinned, in blocks weighing over 4.5 kg, to be minced, ground or cut into pieces of uniform weight and dimension.
0304.71.50 | Fillets, frozen, of cod, other than above.
0304.72.10 | Frozen haddock fillets, skinned, in blocks weighing over 4.5 kg, to be minced, ground or cut into pieces of uniform weight and dimension.
0304.72.50 | Fillets, frozen, of haddock, other than above.
0304.73.10 | Frozen coalfish fillets, skinned, in blocks weighing over 4.5 kg, to be minced, ground or cut into pieces of uniform weight and dimension.
0304.73.50 | Other coalfish fillets.
0304.74.10 | Frozen hake fillets, skinned, in blocks weighing over 4.5 kg, to be minced, ground or cut into pieces of uniform weight and dimension.
0304.74.50 | Fillets, frozen, of hake.
0304.75.10 | Frozen Alaska pollack fillets, skinned, in blocks weighing over 4.5 kg, to be minced, ground or cut.
0304.75.50 | Fillets, frozen, of Alaska pollock, other than above.
0304.79.10 | Frozen Bregmacerotidae et al. fish fillets, nesoi, skinned, in blocks weighing over 4.5 kg, to be minced, ground or cut into pieces.
0304.79.50 | Frozen fillets of other fresh-water fish, flat fish, etc., nesoi, other than above.
0304.81.10 | Frozen salmon fillets, skinned, in blocks weighing over 4.5 kg, to be minced, ground or cut into pieces of uniform weight.
0304.81.50 | Other frozen salmon fillets.
0304.82.10 | Frozen trout fillets, skinned, in blocks weighing over 4.5 kg, to be minced, ground or cut into pieces of uniform weight and dimension.
0304.82.50 | Frozen trout fillets, other than above.
0304.83.10 | Frozen “flat fish” fillets, skinned, in blocks weighing over 4.5 kg, to be minced, ground or cut into pieces of uniform weight and dimension.
0304.83.50 | Frozen “other flat fish” fillets, other than above.
0304.84.00 | Frozen swordfish fillets.
0304.85.00 | Frozen toothfish fillets.
0304.86.00 | Frozen herring fillets.
0304.87.00 | Frozen tuna fillets.
0304.88.00 | Dogfish, other shark, ray and skate fillets, frozen.
0304.89.10 | Other frozen fish fillets, skinned, in blocks weighing over 4.5 kg, to be minced, ground or cut into pieces of uniform weight and dimension.
0304.89.50 | Other frozen fish fillets, other than above.
0304.91.10 | Chilled or Frozen Swordfish fillets, in bulk or in immediate containers weighing with their contents over 6.8 kg each.
0304.91.90 | Chilled or Frozen Swordfish Fillets, nesoi.
0304.92.10 | Chilled or Frozen Toothfish fillets, in bulk or in immediate containers weighing with their contents over 6.8 kg each.
0304.92.90 | Chilled or Frozen Toothfish Fillets, nesoi.
0304.93.10 | Chilled or Frozen tilapia & like fillets, nesoi, in bulk or in immediate containers weighing >6.8 kg each.
0304.93.90 | Tilapias, catfish, carp, eels, nile perch & snakehead chilled or frozen fillets, nesoi.
0304.94.10 | Alaska pollack chilled or frozen fillets, in bulk or in immediate containers weighing with their contents over 6.8 kg each.
0304.94.90 | Alaska pollack, chilled or frozen fillets, nesoi.
0304.95.10 | Chilled or Frozen fillets, Bregmacerotidae & like, nesoi, in bulk or in immediate containers >6.8 kg each.
0304.95.90 | Bregamacerotidae other fish, other than Alaska pollack, nesoi, chilled or frozen fillets, nesoi.
0304.96.00 | Dogfish and other sharks, frozen, nesoi.
0304.97.00 | Ray and skates, frozen, nesoi.
0304.99.11 | Chilled or Frozen fillets, nesoi, in bulk or in immediate containers weighing with their contents over 6.8 kg each.
0304.99.91 | Chilled or Frozen fillets, nesoi.
0305.10.20 | Flours, meals and pellets of fish, fit for human consumption, in bulk or in immediate containers weighing with contents over 6.8 kg each.
0305.10.40 | Flours, meals and pellets of fish, fit for human consumption, other than in bulk or immediate containers weighing contents over 6.8 kg each.
0305.20.20 | Sturgeon roe, dried, smoked, salted or in brine.
0305.20.40 | Fish livers and roes, other than sturgeon roe, dried, smoked, salted or in brine.
0305.31.01 | Tilapia, catfish, carp, eel, nile perch, snakehead fillets, dried or salted in brine, but not smoked.
0305.32.00 | “Flat fish” fillets, nesoi, dried, salted or in brine, but not smoked.
0305.39.20 | Fillets of herrings, dried, salted or in brine, but not smoked, in immediate containers weighing with their contents 6.8 kg or less each.
0305.39.40 | Fillets of mackerel, dried, salted or in brine, but not smoked, in immediate containers weighing with their contents 6.8 kg or less each.
0305.39.61 | Herring and other fist fillets, dried, salted or in brine, but not smoked.
0305.41.00 | Smoked Pacific, Atlantic and Danube salmon, including fillets.
0305.42.00 | Smoked herrings, including fillets.
0305.43.00 | Smoked trout, including fillets.
0305.44.01 | Tilapia, catfish, carp, eel, nile perch, snakehead including fillets, smoked.
0305.49.20 | Smoked mackerel, including fillets.
0305.49.40 | Smoked fish, including fillets, nesoi.
0305.51.00 | Dried cod, whether or not salted but not smoked.
0305.52.00 | Tilapia, catfish, carp, eel, nile perch, snakehead, not smoked, dried, whether or not salted.
0305.53.00 | Fish of families Bregmacerotidae, Euclichthyidae, Gadidae, Macrouridae,Melanonidae, Merlucciidae, Moridae and Muraenolepididae, dried but not smoked.
0305.54.00 | Herrings, anchovies, sardines, sardinella, brisling or sprat, mackerel, Indian mackeral, seerfish, dried, whether or not salted, but not smoked.
0305.59.00 | Dried fish, other than cod or shark fins, whether or not salted but not smoked.
0305.61.20 | Herrings, in brine or salted but not dried or smoked, in immediate containers weighing with their contents 6.8 kg or less each.
0305.61.40 | Herrings, in brine or salted but not dried or smoked, other than in immediate containers weighing with their contents 6.8 kg or less each.
0305.62.00 | Cod, in brine or salted but not dried or smoked.
0305.63.20 | Anchovies, in brine or salted but not dried or smoked, in immediate airtight containers weighing with their contents 6.8 kg or less each.
0305.63.40 | Anchovies, in brine or salted but not dried or smoked, in immediate containers, nesoi, weighing with their contents 6.8 kg or less each.
0305.63.60 | Anchovies, in brine or salted but not dried or smoked, other than in immediate containers weighing with their contents 6.8 kg or less each.
0305.64.10 | Tilapias, catfish, carp, eel, Nile perch, or snakehead, in brine or salted but not dried or smoked, in immediate containers <6.8 kg.
0305.64.50 | Tilapias, catfish, carp, eel, Nile perch, or snakehead, in brine or salted but not dried or smoked, other than in containers <6.8 kg.
0305.69.10 | Cusk, haddock, hake, and pollock, in brine or salted but not dried or smoked.
0305.69.20 | Mackerel, in brine or salted but not dried or smoked, in immediate containers weighing with their contents 6.8 kg or less each.
0305.69.30 | Mackerel, in brine or salted but not dried or smoked, other than in immediate containers weighing with their contents 6.8 kg or less each.
0305.69.40 | Salmon, in brine or salted but not dried or smoked.
0305.69.50 | Fish, nesoi, in brine or salted but not dried or smoked, in immediate containers weighing with their contents 6.8 kg or less each.
0305.69.60 | Fish, nesoi, in brine or salted but not dried or smoked, other than in immediate containers weighing with their contents 6.8 kg or less each.
0305.71.00 | Dried shark fins, whether or not salted but not smoked.
0305.72.00 | Fish heads, tails, and maws, whether or not salted but not smoked.
0305.79.00 | Edible fish offal, other fish heads tails and maws or shark fins, whether or not salted but not smoked.
0306.11.00 | Rock lobster and other sea crawfish, cooked in shell or uncooked, dried, salted or in brine, frozen.
0306.12.00 | Lobsters excluding rock lobster, cooked in shell or uncooked, dried, salted or in brine, frozen.
0306.14.20 | Crabmeat, frozen.
0306.14.40 | Crabs, cooked in shell or uncooked (whether in shell or not), dried, salted or in brine, frozen.
0306.15.00 | Norway lobsters, cooked in shell or uncooked, dried, salted or in brine, frozen.
0306.16.00 | Cold-water shrimps and prawns, cooked in shell or uncooked, dried, salted or in brine, frozen.
0306.17.00 | Other shrimps and prawns, cooked in shell or uncooked, dried, salted or in brine, frozen.
0306.19.00 | Crustateans, nesoi (including flours, meals and pellets of crustaceans fit for human consumption), cooked in shell or uncooked, etc., frozen.
0306.31.00 | Live rock lobster and other sea crawfish, frozen or chilled.
0306.32.00 | Live lobsters (Homarus spp.), frozen or chilled, except rock lobster.
0306.33.20 | Crabmeat, fresh or chilled.
0306.33.40 | Live crabs, fresh or chilled, other than crabmeat.
0306.34.00 | Live Norway lobsters, frozen or chilled.
0306.35.00 | Cold water shrimps and prawns, shell-on or peeled, live, frozen, or chilled.
0306.36.00 | Shrimps and prawns, other than cold water shrimp, shell-on or peeled, live, frozen or chilled.
0306.39.00 | Flours, meals and pellets of crustaceans, fress or chilled, fit for human consumption, or other crustaceans, live, fresh or chilled.
0306.91.00 | Rock lobster and other sea crawfish nesoi.
0306.92.00 | Lobsters (Homarus SPP.), except rock lobster nesoi.
0306.93.20 | Crabmeat, nesoi.
0306.93.40 | Crabs, other than crabmeat, nesoi.
0306.94.00 | Norway lobsters (Nephrops Norvegicus), nesoi.
0306.95.00 | Other shrimps and prawns, shell-on or peeled.
0306.99.00 | Flours, meals and pellets of crustaceans, fit for human consumption or crustraceans nesoi.
0307.11.00 | Oysters, whether in shell or not, live, fresh, or chilled.
0307.12.00 | Oysters, frozen.
0307.19.01 | Oysters, fresh or chilled.
0307.21.00 | Scallops, including queen scallops, whether in shell or not, live, fresh or chilled.
0307.22.00 | Scallops, including queen scallops, of the genera Pecten, Chlamys or Placopecten, frozen.
0307.29.01 | Scallops, including queen scallops, of the genera Pecten, Chlamys or Placopecten, dried, salted or in brine.
0307.31.00 | Mussels, whether in shell or not, live, fresh or chilled.
0307.32.00 | Mussels (Mytilus Spp., Perna Spp.), frozen.
0307.39.01 | Mussels (Mytilus Spp., Perna Spp.), dried, salted or in brine.
0307.42.00 | Squid or cuttle fish, live, fresh or chilled.
0307.43.00 | Squid or cuttle fish, frozen.
0307.49.01 | Squid or cuttle fish, dried, salted or in brine.
0307.51.00 | Octopus, live, fresh or chilled.
0307.52.00 | Octopus, frozen.
0307.59.01 | Octopus, dried, salted or in brine.
0307.60.00 | Snails, other than sea snails, whether in shell or not, live, fresh, chilled, frozen, dried, salted or in brine.
0307.71.00 | Clams, cockles and ark shells, whether in shell or not, live, fresh or chilled.
0307.72.00 | Clams, cockles and ark shells, frozen.
0307.79.01 | Clams, cockles and ark shells, dried salted or in brine.
0307.81.00 | Abalone, whether in shell or not, live, fresh or chilled.
0307.82.00 | Live stromboid conch, fresh or chilled.
0307.83.00 | Abalone, including flours, meals and pellets fit for human consumption, frozen.
0307.84.00 | Stromboid conchs (Strombus Spp.), frozen.
0307.87.00 | Abalone, including edible flours, meals and pellets, nesoi.
0307.88.00 | Stromboid conchs, nesoi.
0307.91.02 | Conch and other molluscs nesoi, including flours, meals and pellets, fit for human consumption, live, fresh or chilled.
0307.92.00 | Conch and other molluscs nesoi, including flours, meals and pellets, fit for human consumption, frozen.
0307.99.02 | Molluscs, including flours, meals and pellets fit for human consumption, nesoi.
0308.11.00 | Sea cucumbers, live, fresh or chilled.
0308.12.00 | Frozen sea cucumbers.
0308.19.01 | Sea cucumbers, not frozen.
0308.21.00 | Sea urchins, live, fresh or chilled.
0308.22.00 | Frozen sea urchins.
0308.29.01 | Sea urchins, not frozen.
0308.30.00 | Jellly fish, live, fresh, chilled, frozen, dried, salted smoked, or in brine.
0308.90.00 | Other aquatic invertebrates, oth than molluscs & crustaceans, nesoi, live, fresh or chilled, dried, salted, smoked or in brine.
0404.10.05 | Whey protein concentrates.
0404.10.08 | Modified whey (except protein conc.), subject to gen. note 15 of the HTS.
0404.10.11 | Modified whey (except protein conc.), wheth/not conc. or sweetened, subject to add U.S. note 10 to Ch. 4.
0404.10.15 | Modified whey (except protein conc.), wheth/not conc. or sweetened, not subject to gen. note 15 or.
0404.10.20 | Fluid whey, whether or not concentrated or containing added sweeteners.
0404.10.48 | Whey (except modified whey), dried, whether or not conc. or sweetened, subject to gen. note 15 of the HTS.
0404.10.50 | Whey (except modified whey), dried, whether or not conc. or sweetened, subject to add. U.S. note 12 to Ch. 4.
0404.10.90 | Whey (except modified whey), dried, whether or not conc. or sweetened, not subject to gen. note 15 or add U.S. nte 12 to Ch. 4.
0405.10.05 | Butter subject to general note 15 (outside quota).
0405.10.10 | Butter subject to quota pursuant to chapter 4 additional U.S. note 6.
0405.10.20 | Butter not subject to general note 15 and in excess of quota in chapter 4 additional U.S. note 6.
0407.19.00 | Birds' eggs, in shell, fertilized eggs for incubation, other than Gallus domesticus.
0407.21.00 | Birds' eggs, in shell, other fresh, not fertilized eggs for incubation, of species Gallus domesticus.
0407.29.00 | Birds' eggs, in shell, other fresh, not fertilized eggs for incubation, other than species Gallus domesticus.
0407.90.00 | Birds' eggs, in shell, fresh, preserved or cooked.
0408.11.00 | Egg yolks, dried, whether or not containing added sweeteners.
0408.19.00 | Egg yolks, other than dried, whether or not containing added sweeteners.
0408.99.00 | Birds' eggs, not in shell, other than dried, whether or not containing added sweeteners.
0409.00.00 | Natural honey.
0410.00.00 | Edible products of animal origin, nesoi.
0501.00.00 | Human hair, unworked, whether or not washed and scoured; waste of human hair.
0502.10.00 | Pigs', hogs' or boars' bristles and hair and waste thereof.
0502.90.00 | Badger hair and other brushmaking hair, nesoi, and waste thereof.
0504.00.00 | Guts, bladders and stomachs of animals (other than fish), whole and pieces thereof.
0505.10.00 | Feathers of a kind used for stuffing, and down.
0505.90.20 | Feather meal and waste.
0505.90.60 | Skins and parts of birds with their feathers or down (except meal and waste) nesoi.
0506.10.00 | Ossein and bones treated with acid.
0506.90.00 | Bones & horn-cores, unworked, defatted, simply prepared (but not cut to shape) or degelatinized; powder & waste of these products.
0507.90.00 | Tortoise shell, whalebone and whalebone hair, horns, antlers, hooves, nails, claws and beaks, unworked or simply prepared; waste and powder.
0508.00.00 | Coral, shells, cuttlebone and similar materials, unworked or simply prepared, but not cut to shape; powder and waste thereof.
0510.00.40 | Cantharides; bile; glands and other animal products nesoi, used in pharmaceutical products.
0511.10.00 | Bovine semen.
0511.91.00 | Products of fish, crustaceans, molluscs or other aquatic invertebrates nesoi; dead animals of chapter 3, unfit for human consumption.
0511.99.20 | Parings and similar waste of raw hides or skins; glue stock nesoi.
0511.99.30 | Animal products chiefly used as food for animals or as ingredients in such food, nesoi.
0511.99.33 | Horsehair and horsehair waste, whether or not put up as a layer with or without supporting material.
0511.99.36 | Natural sponges of animal origin.
0511.99.40 | Animal products nesoi; dead animals of chapter 1, unfit for human consumption.
0703.10.20 | Onion sets, fresh or chilled.
0703.10.30 | Pearl onions not over 16 mm in diameter, fresh or chilled.
0703.10.40 | Onions, other than onion sets or pearl onions not over 16 mm in diameter, and shallots, fresh or chilled.
0703.20.00 | Garlic, fresh or chilled.
0703.90.00 | Leeks and other alliaceous vegetables nesoi, fresh or chilled.
0704.10.20 | Cauliflower and headed broccoli, fresh or chilled, if entered June 5 to October 15, inclusive, in any year.
0704.10.40 | Cauliflower and headed broccoli, fresh or chilled, not reduced in size, if entered Oct. 16 through June 4, inclusive.
0704.10.60 | Cauliflower and headed broccoli, fresh or chilled, reduced in size, if entered Oct. 16 through June 4, inclusive.
0704.90.20 | Cabbage, fresh or chilled.
0704.90.40 | Kohlrabi, kale and similar edible brassicas nesoi, including sprouting broccoli, fresh or chilled.
0706.10.05 | Carrots, fresh or chilled, reduced in size.
0706.10.10 | Carrots, fresh or chilled, not reduced in size, under 10 cm in length.
0706.10.20 | Carrots, fresh or chilled, not reduced in size, 10 cm or over in length.
0706.10.40 | Turnips, fresh or chilled.
0706.90.20 | Radishes, fresh or chilled.
0706.90.30 | Beets and horseradish, fresh or chilled.
0706.90.40 | Salsify, celeriac, radishes and similar edible roots nesoi, fresh or chilled.
0707.00.50 | Cucumbers, including gherkins, fresh or chilled, if entered May 1 to June 30, inclusive, or Sept. 1 to Nov. 30, inclusive, in any year.
0708.10.20 | Peas, fresh or chilled, shelled or unshelled, if entered July 1 to Sept. 30, inclusive, in any year.
0708.10.40 | Peas, fresh or chilled, shelled or unshelled, if entered Nov. 1 through the following June 30, inclusive.
0708.20.20 | Cowpeas (other than black-eye peas), fresh or chilled, shelled or unshelled.
0708.20.90 | Beans nesoi, fresh or chilled, shelled or unshelled.
0708.90.15 | Lentils, fresh or chilled, shelled or unshelled.
0708.90.40 | Leguminous vegetables nesoi, fresh or chilled, shelled or unshelled.
0709.40.20 | Celery, other than celeriac, fresh or chilled, reduced in size.
0709.40.40 | Celery, other than celeriac, fresh or chilled, not reduced in size, if entered April 15 to July 31, inclusive, in any year.
0709.40.60 | Celery, other than celeriac, fresh or chilled, not reduced in size, if entered August 1 through the following April 14, inclusive.
0709.51.01 | Mushrooms of the genus Agaricus, fresh or chilled.
0709.59.10 | Truffles, fresh or chilled.
0709.59.90 | Mushrooms, other than of the genus Agaricus, fresh or chilled.
0709.60.20 | Chili peppers, fresh or chilled.
0709.60.40 | Fruits of the genus capsicum (peppers) (ex. chili peppers) or of the genus pimenta (e.g., Allspice), fresh or chilled.
0709.93.20 | Squash, fresh or chilled.
0709.99.05 | Jicamas and breadfruit, fresh or chilled.
0709.99.10 | Chayote (Sechium edule), fresh or chilled.
0709.99.14 | Okra, fresh or chilled.
0709.99.30 | Fiddlehead greens, fresh or chilled.
0709.99.45 | Sweet corn, fresh or chilled.
0709.99.90 | Vegetables, not elsewhere specified or included, fresh or chilled.
0710.10.00 | Potatoes, uncooked or cooked by steaming or boiling in water, frozen.
0710.21.20 | Peas, uncooked or cooked by steaming or boiling in water, frozen, if entered July 1 through September 30, inclusive, in any year.
0710.21.40 | Peas, uncooked or cooked by steaming or boiling in water, frozen, if entered Jan. 1 through June 30, or Oct. 1 through Dec. 31, inclusive.
0710.22.10 | Lima beans, uncooked or cooked by steaming or boiling in water, frozen, not reduced in size, entered Nov. 1 through the following May 31.
0710.22.15 | Lima beans, frozen, entered June 1-October 31.
0710.22.20 | Cowpeas (other than black-eye peas), uncooked or cooked by steaming or boiling in water, frozen, not reduced in size.
0710.22.25 | Frozen string beans (snap beans), not reduced in size.
0710.22.37 | Frozen beans nesoi, not reduced in size.
0710.22.40 | Beans nesoi, uncooked or cooked by steaming or boiling in water, frozen, reduced in size.
0710.29.05 | Chickpeas (garbanzos), uncooked or cooked by steaming or boiling in water, frozen.
0710.29.25 | Pigeon peas, uncooked or cooked by steaming or boiling in water, frozen, if entered July 1 through September 30, inclusive, in any year.
0710.29.30 | Pigeon peas, uncooked or cooked by steaming or boiling in water, frozen, if entered Oct. 1 through the following June 30, inclusive.
0710.29.40 | Leguminous vegetables nesoi, uncooked or cooked by steaming or boiling in water, frozen.
0710.30.00 | Spinach, New Zealand spinach and orache spinach (garden spinach), uncooked or cooked by steaming or boiling in water, frozen.
0710.40.00 | Sweet corn, uncooked or cooked by steaming or boiling in water, frozen.
0710.80.15 | Bamboo shoots and water chestnuts (other than Chinese water chestnuts), uncooked or cooked by steaming or boiling in water, frozen.
0710.80.20 | Mushrooms, uncooked or cooked by steaming or boiling in water, frozen.
0710.80.40 | Tomatoes, uncooked or cooked by steaming or boiling in water, frozen, if entered Mar. 1 thru July 14, incl. or Sept. 1 thru Nov. 14, incl.
0710.80.45 | Tomatoes, uncooked or cooked by steaming or boiling in water, frozen, if entered July 15 through August 31, inclusive, in any year.
0710.80.50 | Tomatoes, uncooked or cooked by steaming or boiling in water, frozen, if entered Nov. 15 through the following February, incl.
0710.80.65 | Brussels sprouts, uncooked or cooked by steaming or boiling in water, frozen, not reduced in size.
0710.80.70 | Vegetables nesoi, uncooked or cooked by steaming or boiling in water, frozen, not reduced in size.
0710.80.93 | Okra, reduced in size, frozen.
0710.80.97 | Vegetables nesoi, uncooked or cooked by steaming or boiling in water, frozen, reduced in size.
0710.90.11 | Mixtures of pea pods and water chestnuts (other than Chinese water chestnuts), uncooked or cooked by steaming or boiling in water, frozen.
0710.90.91 | Mixtures of vegetables not elsewhere specified or included, uncooked or cooked by steaming or boiling in water, frozen.
0711.40.00 | Cucumbers including gherkins, provisionally preserved but unsuitable in that state for immediate consumption.
0711.51.00 | Mushrooms of the genus Agaricus, provisionally preserved but unsuitable in that state for immediate consumption.
0711.59.10 | Mushrooms, other than of the genus Agaricus, provisionally preserved but unsuitable in that state for immediate consumption.
0711.90.20 | Leguminous vegetables, provisionally preserved but unsuitable in that state for immediate consumption.
0711.90.50 | Onions, provisionally preserved but unsuitable in that state for immediate consumption.
0711.90.65 | Vegetables nesoi, and mixtures of vegetables, provisionally preserved but unsuitable in that state for immediate consumption.
0712.20.20 | Dried onion powder or flour.
0712.20.40 | Dried onions whole, cut, sliced or broken, but not further prepared.
0712.31.10 | Air dried or sun dried mushrooms of the genus Agaricus, whole, cut, sliced, broken or in powder, but not further prepared.
0712.31.20 | Dried (not air or sun dried) mushrooms of the genus Agaricus, whole, cut, sliced, broken or in powder, but not further prepared.
0712.32.00 | Dried wood ears (Auricularia spp.), whole, cut, sliced, broken or in powder, but not further prepared.
0712.33.00 | Dried jelly fungi (Tremella spp), whole, cut, sliced, broken or in powder, but not further prepared.
0712.39.10 | Air dried or sun dried mushrooms (other than of the genus Agaricus), whole, cut, sliced, broken or in powder, but not further prepared.
0712.39.20 | Dried (not air or sun dried) mushrooms (other than of the genus Agaricus), whole, cut, sliced, broken or in powder, but not further prepared.
0712.39.40 | Dried truffles, whole, cut, sliced, broken or in powder, but not further prepared.
0712.90.10 | Dried carrots, whole, cut, sliced, broken or in powder, but not further prepared.
0712.90.15 | Dried olives, not ripe.
0712.90.20 | Dried olives, ripe.
0712.90.30 | Dried potatoes, whether or not cut or sliced but not further prepared.
0712.90.40 | Dried garlic, whole, cut, sliced, broken or in powder, but not further prepared.
0712.90.60 | Dried fennel, marjoram, parsley, savory and tarragon, crude or not manufactured.
0712.90.65 | Dried parsley nesoi, whole, cut, sliced, broken or in powder, but not further prepared.
0712.90.70 | Dried fennel, marjoram, savory and tarragon nesoi, whole, cut, sliced, broken or in powder, but not further prepared.
0712.90.74 | Tomatoes, dried in powder.
0712.90.78 | Tomatoes, dried, whole, other.
0712.90.85 | Dried vegetables nesoi, and mixtures of dried vegetables, whole, cut, sliced, broken or in powder, but not further prepared.
0713.10.10 | Seeds of peas of a kind used for sowing.
0713.10.20 | Dried split peas, shelled.
0713.10.40 | Dried peas, nesoi, shelled.
0713.20.10 | Seeds of chickpeas (garbanzos) of a kind used for sowing.
0713.20.20 | Dried chickpeas (garbanzos), shelled.
0713.31.10 | Seeds of beans of a kind used for sowing.
0713.31.20 | Dried beans, shelled, if entered May 1 through August 31, inclusive, in any year.
0713.31.40 | Dried beans, shelled, if entered September 1 through the following April 30, or withdrawn for consumption at any time.
0713.32.10 | Seeds of small red (adzuki) beans of a kind used for sowing.
0713.32.20 | Dried small red (adzuki) beans, shelled.
0713.33.10 | Seeds of kidney beans, including white pea beans of a kind used for sowing.
0713.33.20 | Dried kidney beans, including white pea beans, shelled, if entered May 1 through August 31, inclusive, in any year.
0713.33.40 | Dried kidney beans, including white pea beans, shelled, if entered Sept. 1 through April 30, or withdrawn for consumption at any time.
0713.34.20 | Dried Bambara beans, shelled, if entered for consumption from May 1 through August 31, inclusive, in any year.
0713.34.40 | Dried Bambara beans, shelled, if entered for consumption other than above period, or withdrawn for consumption.
0713.35.00 | Dried cowpeas, shelled.
0713.39.11 | Seeds of beans nesoi, of a kind used for sowing.
0713.39.21 | Dried beans nesoi, shelled, if entered for consumption from May 1 through August 31, inclusive, in any year.
0713.39.41 | Dried beans nesoi, shelled, if entered for consumption September 1 through April 30, or withdrawn for consumption at any time.
0713.40.10 | Lentil seeds of a kind used for sowing.
0713.40.20 | Dried lentils, shelled.
0713.50.10 | Seeds of broad beans and horse beans of a kind used for sowing.
0713.50.20 | Dried broad beans and horse beans, shelled.
0713.60.60 | Dried pigeon pea seeds, shelled, if entered for consumption during the period from May 1 through August 31, inclusive, in any year.
0713.60.80 | Dried pigeon pea seeds, shelled, if entered Sept. 1 through the following April 30, or withdrawn for consumption at any time.
0713.90.11 | Seeds of leguminous vegetables nesoi, of a kind used for sowing.
0713.90.50 | Dried guar seeds, shelled.
0713.90.61 | Dried leguminous vegetables nesoi, shelled, if entered for consumption during the period from May 1 through August 31, inclusive, in any year.
0713.90.81 | Dried leguminous vegetales, nesoi, shelled, if entered Sept. 1 through the following April 30, or withdrawn for consumption at any time.
0714.10.20 | Cassava (manioc), fresh, chilled or dried, whether or not sliced or in the form of pellets.
0714.20.10 | Sweet potatoes, frozen, whether or not sliced or in the form of pellets.
0714.20.20 | Sweet potatoes, fresh, chilled or dried, whether or not sliced or in the form of pellets.
0714.30.10 | Fresh or chilled yams (Dioscorea spp.), whether or not sliced or in the form of pellets.
0714.30.20 | Frozen yams (Dioscorea spp.).
0714.30.60 | Dried yams (Dioscorea spp.), whether or not sliced but not in pellets.
0714.40.10 | Fresh or chilled taro (Colocasia spp.), whether or not sliced or in the form of pellets.
0714.40.20 | Frozen taro (Colocasia spp.).
0714.40.50 | Dried taro (Colocasia spp.), in the form of pellets.
0714.40.60 | Dried taro (Colocasia spp.), whether or not sliced but not in pellets.
0714.50.10 | Fresh or chilled yautia (Xanthosoma spp.), whether or not sliced or in the form of pellets.
0714.50.20 | Frozen yautia (Xanthosoma spp.).
0714.50.50 | Dried yautia (Xanthosoma spp.), in the form of pellets.
0714.50.60 | Dried yautia (Xanthosoma spp.), whether or not sliced but not in pellets.
0714.90.05 | Chinese water chestnuts, fresh or chilled.
0714.90.39 | Fresh or chilled arrowroot/salep/Jerusalem artichokes/similar roots & tubers, nesoi.
0714.90.41 | Mixtures of pea pods and Chineses water chestnuts, frozen.
0714.90.42 | Other mixtures of Chinese water chestnuts, frozen.
0714.90.44 | Chinese water chestnuts, not mixed, frozen.
0714.90.46 | Frozen dasheens/arrowroot/salep/Jerusalem artichokes/similar roots & tubers, nesoi.
0714.90.48 | Chinese water chestnuts, dried.
0714.90.51 | Dried dasheens, arrowroot, salep, Jerusalem artichokes and similar roots and tubers nesoi, in the form of pellets.
0714.90.61 | Dried dasheens, arrowroot, salep, Jerusalem artichokes, and similar roots and tubers nesoi, whether or not sliced but not in pellets.
0801.11.00 | Coconuts, desiccated.
0801.19.01 | Coconuts, fresh, not in the inner shell (endocarp).
0801.31.00 | Cashew nuts, fresh or dried, in shell.
0801.32.00 | Cashew nuts, fresh or dried, shelled.
0802.11.00 | Almonds, fresh or dried, in shell.
0802.12.00 | Almonds, fresh or dried, shelled.
0802.22.00 | Hazelnuts or filberts, fresh or dried, shelled.
0802.31.00 | Walnuts, fresh or dried, in shell.
0802.32.00 | Walnuts, fresh or dried, shelled.
0802.41.00 | Chestnuts, fresh or dried, in shell.
0802.42.00 | Chestnuts, fresh or dried, shelled.
0802.51.00 | Pistachios, fresh or dried, in shell.
0802.52.00 | Pistachios, fresh or dried, shelled.
0802.62.00 | Macadamia nuts, shelled.
0802.80.20 | Areca nuts, fresh or dried, shelled.
0802.90.10 | Pecans, fresh or dried, in shell.
0802.90.15 | Pecans, fresh or dried, shelled.
0802.90.20 | Pignolias, fresh or dried, in shell.
0802.90.25 | Pignolias, fresh or dried, shelled.
0802.90.82 | Nuts, nesoi, fresh or dried, in shell.
0802.90.98 | Nuts, nesoi, fresh or dried, shelled.
0803.10.20 | Plantains, dried.
0803.90.00 | Bananas, fresh or dried.
0804.10.20 | Dates, fresh or dried, whole, with or without pits, packed in units weighing (with immediate container, if any) not over 4.6 kg.
0804.10.40 | Dates, fresh or dried, whole, with pits, packed in units weighing over 4.6 kg.
0804.10.60 | Dates, fresh or dried, whole, without pits, packed in units weighing over 4.6 kg.
0804.10.80 | Dates, fresh or dried, other than whole.
0804.20.40 | Figs, fresh or dried, whole, in units weighing more than 0.5 kg each.
0804.20.60 | Figs, fresh or dried, whole, in immediate containers weighing with their contents 0.5 kg or less.
0804.20.80 | Figs, fresh or dried, other than whole (including fig paste).
0804.30.20 | Pineapples, fresh or dried, not reduced in size, in bulk.
0804.30.40 | Pineapples, fresh or dried, not reduced in size, in crates or other packages.
0804.30.60 | Pineapples, fresh or dried, reduced in size.
0804.50.40 | Guavas, mangoes, and mangosteens, fresh, if entered during the period September 1 through May 31, inclusive.
0804.50.60 | Guavas, mangoes, and mangosteens, fresh, if entered during the period June 1 through August 31, inclusive.
0804.50.80 | Guavas, mangoes, and mangosteens, dried.
0805.10.00 | Oranges, fresh or dried.
0805.21.00 | Mandarins and other similar citrus hybrids including tangerines, satsumas, clementines, wilkings, fresh or dried.
0805.22.00 | Clementines, fresh or dried, other.
0805.29.00 | Wilkings and similar citrus hybrids, fresh or dried, other.
0806.20.10 | Raisins, made from dried seedless grapes.
0806.20.20 | Raisins, made from other than seedless grapes.
0806.20.90 | Grapes, dried, other than raisins.
0808.10.00 | Apples, fresh.
0808.30.20 | Pears, fresh, if entered during the period from April 1 through June 30, inclusive.
0808.30.40 | Pears, fresh, if entered during the period from July 1 through the following March 31, inclusive.
0808.40.20 | Quinces, fresh, if entered during the period from April 1 through June 30, inclusive.
0808.40.40 | Quinces, fresh, if entered during the period from July 1 through the following March 31, inclusive.
0809.29.00 | Other cherries, fresh.
0809.30.20 | Peaches, including nectarines, fresh, if entered during the period from June 1 through November 30, inclusive.
0809.30.40 | Peaches, including nectarines, fresh, if entered during the period from December 1 through the following May 31, inclusive.
0810.10.20 | Strawberries, fresh, if entered during the period from June 15 through September 15, inclusive.
0810.10.40 | Strawberries, fresh, if entered during the period from September 16 through the following June 14, inclusive.
0810.20.10 | Raspberries and loganberries, fresh, if entered during the period from September 1 through the following June 30, inclusive.
0810.30.00 | Black, white or red currants and gooseberries (other than kiwifruit), fresh.
0810.40.00 | Cranberries, blueberries and other fruits of the genus Vaccinium, fresh.
0810.70.00 | Persimmons, fresh.
0810.90.27 | Other berries and tamarinds, fresh.
0810.90.46 | Fruit, not elsewhere specified or included, fresh.
0811.10.00 | Strawberries, frozen, in water or containing added sweetening.
0811.20.20 | Raspberries, loganberries, black currants and gooseberries, frozen, in water or containing added sweetening.
0811.20.40 | Blackberries, mulberries and white or red currants, frozen, in water or containing added sweetening.
0811.90.10 | Bananas and plantains, frozen, in water or containing added sweetening.
0811.90.20 | Blueberries, frozen, in water or containing added sweetening.
0811.90.22 | Boysenberries, frozen, in water or containing added sweetening.
0811.90.25 | Cashew apples, mameyes colorados, sapodillas, soursops and sweetsops, frozen, in water or containing added sweetening.
0811.90.30 | Coconut meat, frozen, in water or containing added sweetening.
0811.90.35 | Cranberries, frozen, in water or containing added sweetening.
0811.90.40 | Papayas, frozen, in water or containing added sweetening.
0811.90.50 | Pineapples, frozen, in water or containing added sweetening.
0811.90.52 | Mangoes, frozen, whether or not previously steamed or boiled.
0811.90.55 | Melons, frozen, in water or containing added sweetening.
0811.90.80 | Fruit, nesoi, frozen, whether or not previously steamed or boiled.
0812.90.10 | Mixtures of two or more fruits, provisionally preserved, but unsuitable in that state for consumption.
0812.90.20 | Citrus fruit, provisionally preserved, but unsuitable in that state for immediate consumption.
0812.90.30 | Figs, provisionally preserved, but unsuitable in that state for immediate consumption.
0812.90.40 | Pineapples, provisionally preserved, but unsuitable in that state for immediate consumption.
0812.90.50 | Strawberries, provisionally preserved, but unsuitable in that state for immediate consumption.
0812.90.90 | Fruit and nuts nesoi, including mixtures containing nuts, provisionally preserved, but not for immediate consumption.
0813.10.00 | Apricots, dried.
0813.20.10 | Prunes and plums, soaked in brine and dried.
0813.20.20 | Prunes and plums, dried, (except if presoaked in brine).
0813.30.00 | Apples, dried.
0813.40.10 | Papayas, dried.
0813.40.15 | Barberries, dried.
0813.40.20 | Berries except barberries, dried.
0813.40.30 | Cherries, dried.
0813.40.40 | Peaches, dried.
0813.40.80 | Tamarinds, dried.
0813.40.90 | Fruit nesoi, dried, other than that of headings 0801 to 0806, and excluding mixtures.
0813.50.00 | Mixtures of nuts or dried fruits of Chapter 8.
0814.00.10 | Peel of orange or citron, fresh, frozen, dried or provisionally preserved in brine, in sulfur water or other preservative solutions.
0814.00.40 | Lime peel, fresh, frozen or in brine.
0814.00.80 | Peel of citrus fruit, excl. orange or citron and peel, nesoi, of melon, fresh, frozen, dried or provisionally preserved.
1001.11.00 | Durum wheat, seed.
1001.99.00 | Wheat & meslin other than durum or seed wheat.
1003.10.00 | Barley, seed.
1003.90.20 | Barley, other than seed, for malting purposes.
1003.90.40 | Barley, not seed, other than for malting purposes.
1004.10.00 | Oats, seed.
1004.90.00 | Oats, other than seed.
1005.90.20 | Yellow dent corn.
1005.90.40 | Corn (maize), other than seed and yellow dent corn.
1006.20.20 | Basmati rice, husked.
1006.20.40 | Husked (brown) rice, other than Basmati.
1006.30.10 | Rice semi-milled or wholly milled, whether or not polished or glazed, parboiled.
1006.30.90 | Rice semi-milled or wholly milled, whether or not polished or glazed, other than parboiled.
1006.40.00 | Broken rice.
1007.10.00 | Grain sorghum, seed.
1007.90.00 | Grain sorghum, other than seed.
1008.10.00 | Buckwheat.
1008.21.00 | Millet, seed.
1008.29.00 | Millet, other than seed.
1008.30.00 | Canary seed.
1008.50.00 | Quinoa (Chenopodium quinoa).
1008.90.01 | Cereals nesoi (including wild rice).
1101.00.00 | Wheat or meslin flour.
1102.20.00 | Corn (maize) flour.
1102.90.20 | Buckwheat flour.
1102.90.25 | Rice flour.
1102.90.27 | Rye flour.
1102.90.30 | Cereal flours nesoi, mixed together.
1102.90.60 | Cereal flours, other than of wheat or meslin, rye, corn, rice or buckwheat.
1103.11.00 | Groats and meal of wheat.
1103.13.00 | Groats and meal of corn (maize).
1103.19.12 | Groats and meal of oats.
1103.19.14 | Groats and meal of rice.
1103.19.90 | Groats and meal of cereals other than wheat, oats, corn (maize) or rice.
1103.20.00 | Pellets of cereals.
1104.12.00 | Rolled or flaked grains of oats.
1104.19.10 | Rolled or flaked grains of barley.
1104.19.90 | Rolled or flaked grains of cereals, other than of barley or oats.
1104.22.00 | Grains of oats, hulled, pearled, clipped, sliced, kibbled or otherwise worked, but not rolled or flaked.
1104.23.00 | Grains of corn (maize), hulled, pearled, clipped, sliced, kibbled or otherwise worked, but not rolled or flaked.
1104.29.10 | Grains of barley, hulled, pearled, clipped, sliced, kibbled or otherwise worked, but not rolled or flaked.
1104.29.90 | Grains of cereals other than barley, oats or corn, hulled, pearled, clipped, sliced, kibbled or otherwise worked, but not rolled or flaked.
1104.30.00 | Germ of cereals, whole, rolled, flaked or ground.
1105.10.00 | Flour, meal and powder of potatoes.
1105.20.00 | Flakes, granules and pellets, of potatoes.
1106.10.00 | Flour, meal and powder of the dried leguminous vegetables of heading 0713.
1106.20.10 | Flour, meal and powder of Chinese water chestnuts.
1106.20.90 | Flour, meal and powder of sago, or of roots or tubers of heading 0714 (excluding Chinese water chestnuts).
1106.30.20 | Flour, meal and powder of banana and plantain.
1106.30.40 | Fruit and nut flour, meal and powder of the products of chapter 8, other than of banana and plantain.
1107.10.00 | Malt, not roasted.
1107.20.00 | Malt, roasted.
1108.11.00 | Wheat starch.
1108.12.00 | Corn (maize) starch.
1108.13.00 | Potato starch.
1108.14.00 | Cassava (manioc) starch.
1108.19.00 | Starches other than wheat, corn (maize), potato or cassava (manioc) starches.
1108.20.00 | Inulin.
1109.00.10 | Wheat gluten, whether or not dried, to be used as animal feed.
1109.00.90 | Wheat gluten, whether or not dried, to be used for other than animal feed.
1201.10.00 | Soybeans, whether or not broken, seed.
1201.90.00 | Soybeans, whether or not broken, other than seed.
1202.30.40 | Peanuts (ground-nuts), seed, not roasted or cooked, shelled, subject to add. U.S. note 2 to Ch.12.
1204.00.00 | Flaxseed (linseed), whether or not broken.
1205.10.00 | Low erucic acid rape or colza seeds, whether or not broken.
1205.90.00 | Rape or colza seeds (other than of low erucic acid), whether or not broken.
1206.00.00 | Sunflower seeds, whether or not broken.
1207.40.00 | Sesame seeds, whether or not broken.
1207.50.00 | Mustard seeds, whether or not broken.
1207.60.00 | Safflower (Carthamus tintorius) seeds.
1207.70.00 | Melon seeds.
1207.91.00 | Poppy seeds, whether or not broken.
1207.99.03 | Other oil seeds and oleaginous fruits whether or not broken, incl niger seeds, hemp seeds and seeds nesoi.
1208.10.00 | Flours and meals of soybeans.
1208.90.00 | Flours and meals of oil seeds or oleaginous fruits other than those of mustard or soybeans.
1209.10.00 | Sugar beet seeds of a kind used for sowing.
1209.21.00 | Alfalfa (lucerne) seed of a kind used for sowing.
1209.25.00 | Rye grass seeds of a kind used for sowing.
1209.29.10 | Beet seed, other than sugar beet seed, of a kind used for sowing.
1209.29.91 | Seeds of forage plants of a kind used for sowing, not elsewhere specified or included.
1209.30.00 | Seeds of herbaceous plants cultivated principally for their flowers.
1209.91.10 | Cauliflower seeds of a kind used for sowing.
1209.91.20 | Celery seeds of a kind used for sowing.
1209.91.40 | Onion seeds of a kind used for sowing.
1209.91.50 | Parsley seeds of a kind used for sowing.
1209.91.60 | Pepper seeds of a kind used for sowing.
1209.91.80 | Vegetable seeds, nesoi, of a kind used for sowing.
1209.99.20 | Tree and shrub seeds of a kind used for sowing.
1209.99.41 | Seeds, fruits and spores, of a kind used for sowing, nesoi.
1210.10.00 | Hop cones, fresh or dried, neither ground, powdered nor in the form of pellets.
1211.20.10 | Ginseng roots, fresh or dried, whether or not cut, crushed or powdered.
1211.20.15 | Ginseng roots, frozen or chilled.
1211.30.00 | Coca leaf, of a kind used in perfumery, in pharmacy or for insecticidal, fungicidal or similar purposes.
1211.40.00 | Poppy straw, of a kind used in perfumery, in pharmacy or for insecticidal, fungicidal or similar purposes.
1211.50.00 | Ephedra.
1211.90.20 | Mint leaves, crude or not manufactured, of a kind used in perfumery, in pharmacy or for insecticidal, fungicidal or similar purposes.
1211.90.40 | Mint leaves nesoi, of a kind used in perfumery, in pharmacy or for insecticidal, fungicidal or similar purposes.
1211.90.92 | Plants, parts of plants (including seeds and fruits), used in perfumery, pharmacy, insecticidal, fungicidal or similar puproses, other, fresh or dried.
1211.90.93 | Plants, parts of plants (including seeds and fruits), used in perfumery, pharmacy, insecticidal, fungicidal or similar purposes, chilled or frozen.
1212.21.00 | Seaweeds and other algae, fresh, chilled, frozen or dried, whether or not ground, fit for human consumption.
1212.29.00 | Seaweeds and other algae, fresh, chilled, frozen or dried, whether or not ground, other than for human consumption.
1212.92.00 | Locust beans (carob).
1212.99.20 | Nectarine stones and kernels of a kind used primarily for human consumption, not elsewhere specified or included.
1212.99.30 | Apricot, peach (other than nectarine) or plum stones and kernels used primarily for human consumption, not elsewhere specified or included.
1212.99.92 | Fruit stone & kernel (not apricot/peach/plum) & other vegetable products used primary human consumption, nesoi.
1213.00.00 | Cereal straw and husks, unprepared, whether or not chopped, ground, pressed or in the form of pellets.
1214.10.00 | Alfalfa (lucerne) meal and pellets.
1214.90.00 | Rutabagas, mangolds, fodder roots, hay, clover, sainfoin, kale, lupines, vetches & forage products nesoi.
1401.10.00 | Bamboos, of a kind used primarily for plaiting.
1401.20.20 | Rattans, in the rough or cut transversely into sections, of a kind used primarily for plaiting.
1401.20.40 | Rattans, other than those in the rough or cut transversely into sections, of a kind used primarily for plaiting.
1401.90.20 | Willow (osier), of a kind used primarily for plaiting.
1401.90.40 | Lime bark, raffia, reeds, rushes, cleaned, bleached or dyed cereal straw, other vegetable materials nesoi, used primarily for plaiting.
1404.20.00 | Cotton linters.
1404.90.10 | Vegetable hair not elsewere specified or included.
1404.90.30 | Istle of a kind used primarily in brooms or brushes.
1404.90.40 | Piassava, couch-grass and other vegetable materials nesoi, of a kind used primarily in brooms or brushes.
1404.90.90 | Other vegetable materials nesoi.
1504.10.20 | Cod-liver oil and its fractions.
1504.10.40 | Fish-liver oils and their fractions, other than cod-liver oil and its fractions.
1504.20.20 | Cod oil and its fractions, other than liver oil.
1504.20.40 | Herring oil and its fractions, other than liver oil.
1504.20.60 | Fats and oils and their fractions, of fish other than cod and herring, excluding liver oil.
1505.00.10 | Wool grease, crude.
1505.00.90 | Fatty substances derived from wool grease (including lanolin).
1506.00.00 | Animal fats and oils and their fractions nesoi, whether or not refined, but not chemically modified.
1602.32.00 | Prepared or preserved meat or meat offal of chickens, nesoi.
1603.00.10 | Clam juice.
1603.00.90 | Extracts and juices of meat, fish, crustaceans, molluscs or other aquatic invertebrates, other than clam juice.
1604.11.20 | Prepared or preserved salmon, whole or in pieces, but not minced, in oil, in airtight containers.
1604.11.40 | Prepared or preserved salmon, whole or in pieces, but not minced, other than in oil and in airtight containers.
1604.12.20 | Prepared or preserved herrings, whole or in pieces, but not minced, in oil, in airtight containers.
1604.12.40 | Herrings, whole or in pieces, but not minced, in tomato sauce, smoked or kippered, in immediate containers over 0.45 kg each.
1604.12.60 | Herrings prepared or preserved, whole or in pieces, but not minced, nesoi.
1604.13.10 | Smoked sardines, in oil, not skinned nor boned, $1/kg or more in tin-plate containers, or $1.10/kg or more in other airtight containers.
1604.13.20 | Sardines, not smoked, sardinella, brisling or sprats, neither skinned nor boned, in oil, in airtight containers.
1604.13.30 | Sardines, sardinella, brisling or sprats, skinned or boned, in oil, in airtight containers.
1604.13.40 | Sardines, sardinella, brisling, sprats in containers with their contents under 225 g each, except those in oil and in airtight containers.
1604.13.90 | Sardines, sardinella and brisling or sprats (not in oil and airtight cont.), prepared or preserved, not minced, cont. 225 g or more.
1604.14.10 | Tunas and skipjack, whole or in pieces, but not minced, in oil, in airtight containers.
1604.14.22 | Tunas and skipjack, not in oil, in airtight cont., n/o 7 kg, not of U.S. possessions, product within quota.
1604.14.30 | Tunas and skipjack, not in oil, in airtight containers, n/o 7 kg, not of U.S. possessions, over quota.
1604.14.40 | Tunas and skipjack, not in airtight containers, not in oil, in bulk or in immediate containers weighing with contents over 6.8 kg each.
1604.14.50 | Tunas and skipjack, not in airtight containers, not in bulk or in immediate containers weighing with contents over 6.8 kg each.
1604.14.70 | Bonito (Sarda spp.), in oil.
1604.14.80 | Bonito (Sarda spp.), not in oil.
1604.15.00 | Prepared or preserved mackerel, whole or in pieces, but not minced.
1604.16.20 | Anchovies, whole or in pieces but not minced, in oil, in airtight containers.
1604.16.40 | Prepared or preserved anchovies, whole or in pieces, not minced, not in oil, in immediate containers with their contents 6.8 kg or less ea.
1604.16.60 | Prepared or preserved anchovies, whole or in pieces, but not minced, not in oil, nesoi.
1604.17.10 | Prepared or preserved eels, whole or in pieces, but not minced, in airtight containers, not in oil.
1604.17.40 | Eel portions similar to fish sticks and like products of any size or shape, breaded, coated with batter, not cooked nor in oil.
1604.17.50 | Eel similar to fish sticks and like products of any size or shape, if breaded, coated with batter, cooked or in oil.
1604.17.60 | Prepared or preserved eel, in oil and in bulk or in immediate containers weighing over 7 kg each.
1604.17.80 | Prepared or preserved eel, whole or in pieces, but not minced, nesoi.
1604.18.10 | Shark fins, not in oil, in airtight containters.
1604.18.90 | Shark fins, not in airtight containers.
1604.19.10 | Bonito, yellowtail and pollock, whole or in pieces, but not minced, in airtight containers, not in oil.
1604.19.22 | Other fish, excluding bonito, yellowtail and pollock, in airtight containers, not in oil.
1604.19.25 | Bonito, yellowtail and pollock, whole or in pieces, but not minced, in airtight containers, in oil.
1604.19.32 | Other fish, excluding bonito, yellowtail and pollock, in airtight containers, in oil.
1604.19.41 | Fish sticks and like products of any size or shape, fillets or other portions of fish, breaded, coated with batter, not cooked nor in oil.
1604.19.51 | Fish sticks and like products of any size or shape, fillets or other portions of fish, if breaded, coated with batter, cooked or in oil.
1604.19.61 | Prepared or preserved fish nesoi, in oil and in bulk or in immediate containers weighing over 7 kg each.
1604.19.82 | Fish, whole or in pieces, but not minced, prepared or preserved, nesoi.
1604.20.05 | Products containing meat of crustaceans, molluscs or other aquatic invertebrates, prepared meals.
1604.20.10 | Fish pastes.
1604.20.15 | Fish balls, cakes and puddings, in oil.
1604.20.20 | Fish balls, cakes and puddings, not in oil, in immediate airtight containers, weighing with their contents not over 6.8 kg each.
1604.20.25 | Fish balls, cakes and puddings, not in oil, and in immediate nonairtight containers weighing with their contents not over 6.8 kg each.
1604.20.30 | Fish balls, cakes and puddings, not in oil, not in immediate containers, weighing with their contents not over 6.8 kg each.
1604.20.40 | Fish sticks and similar products of any size or shape, if breaded, coated with batter or similarly prepared, not cooked nor in oil.
1604.20.50 | Fish sticks and similar products of any size or shape, if breaded, coated with batter or similarly prepared, cooked or in oil.
1604.20.60 | Prepared or preserved fish, other than whole or in pieces, nesoi.
1604.31.00 | Caviar.
1604.32.30 | Caviar substitutes prepared from fish eggs, boiled and in airtight containers.
1604.32.40 | Caviar substitutes prepared from fish eggs, nesoi.
1605.10.05 | Crab products containing fish meat; prepared meals of crab.
1605.10.20 | Crabmeat, prepared or preserved, in airtight containers.
1605.10.40 | Crabmeat, prepared or preserved, other than in airtight containers.
1605.10.60 | Crabs, other than crabmeat, prepared or preserved.
1605.21.05 | Shrimp & prawns not in airtight containers: fish meat and prepared meals.
1605.21.10 | Shrimp & prawns not in airtight containers: other than fish meat and prepared meals.
1605.29.05 | Shrimp & prawns in airtight containers: fish meat and prepared meals.
1605.29.10 | Shrimp & prawns in airtight containers: other than fish meat and prepared meals.
1605.30.05 | Lobster products containing fish meat; prepared meals of lobster.
1605.30.10 | Lobster, prepared or preserved, not containing fish meat, nesoi.
1605.40.05 | Crustacean products nesoi, containing fish meat; prepared meals of crustaceans, nesoi.
1605.40.10 | Crustaceans nesoi, prepared or preserved, not containing fish meat, nesoi.
1605.51.05 | Oysters, fish meat or prepared meals.
1605.51.40 | Smoked oysters.
1605.51.50 | Oysters, prepared or preserved, but not smoked.
1605.52.05 | Scallops, including queen scallops as containing fish meat; prepared meals.
1605.52.60 | Scallops, including queen scallops, prepared or preserved.
1605.53.05 | Mussels, containing fish meats or in prepared meals.
1605.53.60 | Mussels, prepared or preserved.
1605.54.05 | Cuttle fish and squid, as containing fish meat; prepared meals.
1605.54.60 | Cuttle fish and squid, prepared or preserved.
1605.55.05 | Octopus, as containing fish meat or prepared meals.
1605.55.60 | Octopus, prepared or preserved.
1605.56.05 | Products of clams, cockles, and arkshells containing fish meat; prepared meals.
1605.56.10 | Razor clams, in airtight containers, prepared or preserved, nesoi.
1605.56.15 | Boiled clams in immediate airtight containers, the contents of which do not exceed 680 g gross weight.
1605.56.20 | Clams, prepared or preserved, excluding boiled clams, in immediate airtight containers, nesoi.
1605.56.30 | Clams, prepared or preserved, other than in airtight containers.
1605.56.60 | Cockles and arkshells, prepared or preserved.
1605.57.05 | Products of abalone containing fish meat; prepared meals of abalone.
1605.57.60 | Abalone, prepared or preserved.
1605.58.05 | Products of snails, other than sea snails, containing fish meat; prepared meals of snails other than sea snails.
1605.58.55 | Prepared or preserved snails, other than sea snails.
1605.59.05 | Products of molluscs nesoi containing fish meat; prepared meals of molluscs nesoi.
1605.59.60 | Molluscs nesoi, prepared or preserved.
1605.61.00 | Sea cucumbers, prepared or preserved.
1605.62.00 | Sea urchins, prepared or preserved.
1605.63.00 | Jelly fish, prepared or preserved.
1605.69.00 | Other aquatic invertebrates, nesoi, prepared or preserved.
1701.99.10 | Cane/beet sugar & pure sucrose, refined, solid, w/o added coloring or flavoring, subject to add. U.S. 5 to Ch. 17.
1701.99.50 | Cane/beet sugar & pure sucrose, refined, solid, w/o added coloring or flavoring, not subject to gen. note 15 or add. U.S. 5 to Ch. 17.
1702.90.90 | Sugars and sugar syrups, and articles containing sugar, nesoi.
1704.90.35 | Sugar confections or sweetmeats ready for consumption, not containing cocoa, other than candied nuts or cough drops.
1704.90.90 | Sugar confectionery, w/o cocoa, nesoi.
1901.90.91 | Flour-, meal-, starch-, malt extract- or dairy-based food preps not containing cocoa and not containing specific amounts of dairy, nesoi.
1902.19.20 | Uncooked pasta, not stuffed or otherwise prepared, not containing eggs, exclusively pasta.
1902.19.40 | Uncooked pasta, not stuffed or otherwise prepared, not containing eggs, nesoi, including pasta packaged with sauce preparations.
1902.20.00 | Stuffed pasta, whether or not cooked or otherwise prepared.
1902.30.00 | Pasta nesoi.
1905.90.10 | Bread, pastry, cake, biscuit and similar baked products nesoi, and puddings whether or not containing chocolate, fruit, nuts or confectionery.
2001.10.00 | Cucumbers including gherkins, prepared or preserved by vinegar or acetic acid.
2001.90.20 | Capers, prepared or preserved by vinegar or acetic acid, nesoi.
2001.90.25 | Artichokes, prepared or preserved by vinegar or acetic acid.
2001.90.30 | Beans, prepared or preserved by vinegar or acetic acid.
2001.90.34 | Onions, prepared or preserved by vinegar or acetic acid.
2001.90.35 | Pimientos, prepared or preserved by vinegar or acetic acid.
2001.90.38 | Vegetables (including olives) nesoi, prepared or preserved by vinegar or acetic acid.
2001.90.42 | Chestnuts, prepared or preserved by vinegar or acetic acid.
2001.90.48 | Chinese water chestnuts, prepared or preserved by vinegar or acetic acid.
2001.90.50 | Walnuts, prepared or preserved by vinegar or acetic acid.
2001.90.60 | Fruits, nuts, and other edible parts of plants, nesoi, prepared or preserved by vinegar or acetic acid.
2002.10.00 | Tomatoes, whole or in pieces, prepared or preserved otherwise than by vinegar or acetic acid.
2002.90.40 | Tomato prep/pres ex by vinegar/acetic acid, powder.
2002.90.80 | Tomatoes prepared or preserved otherwise than by vinegar or acetic acid, nesoi.
2003.10.01 | Mushrooms of the genus Agaricus, prepared or preserved otherwise than by vinegar or acetic acid.
2003.90.10 | Truffles.
2003.90.80 | Mushrooms other than of the genus Agaricus or truffles, prepared or preserved otherwise than by vinegar or acetic acid.
2004.10.80 | Potatoes (not Solano), prepared or preserved otherwise than by vinegar or acetic acid, frozen.
2004.90.80 | Beans, prepared or preserved otherwise than by vinegar or acetic acid, frozen.
2004.90.85 | Vegetables and mixtures of vegetables, nesoi, prepared or preserved other than by vinegar or acetic acid, frozen, not preserved by sugar.
2005.20.00 | Potato preparations, prepared or preserved otherwise than by vinegar or acetic acid, not frozen.
2005.40.00 | Peas, prepared or preserved otherwise than by vinegar or acetic acid, not frozen.
2005.51.20 | Black-eye cowpeas, shelled, prepared or preserved otherwise than by vinegar or acetic acid, not frozen.
2005.51.40 | Beans other than black-eye cowpeas, shelled, prepared or preserved otherwise than by vinegar or acetic acid, not frozen.
2005.59.00 | Beans, not shelled, prepared or preserved otherwise than by vinegar or acetic acid, not frozen.
2005.60.00 | Asparagus, prepared or preserved otherwise than by vinegar or acetic acid, not frozen.
2005.70.25 | Olives, green, in a saline solution, pitted or stuffed, not place packed.
2005.70.60 | Olives (not green), in a saline solution, canned, pitted.
2005.70.70 | Olives (not green), in a saline solution, in airtight containers of glass or metal but not canned.
2005.70.75 | Olives (not green), in a saline solution, not canned, nesoi.
2005.70.97 | Olives, prepared or preserved otherwise than by vinegar, acetic acid or saline soln, not frozen, nesoi.
2005.80.00 | Sweet corn, prepared or preserved otherwise than by vinegar, acetic acid or sugar, not frozen.
2005.91.60 | Bamboo shoots in airtight containers, prepared or preserved otherwise than by vinegar or acetic acid, not frozen, not preserved by sugar.
2005.91.97 | Bamboo shoots, not in airtight containers, prepared or preserved otherwise than by vinegar or acetic acid, not frozen, not preserved by sugar.
2005.99.10 | Carrots in airtight containers, prepared or preserved otherwise than by vinegar, acetic acid or sugar, not frozen.
2005.99.20 | Onions, prepared or preserved otherwise than by vinegar or acetic acid, not frozen.
2005.99.30 | Sauerkraut, prepared or preserved otherwise than by vinegar or acetic acid, not frozen.
2005.99.41 | Whole or Sliced water chestnuts, other than Chinese water chestnuts, prepared or preserved otherwise than by vinegar or acetic acid or sugar.
2005.99.50 | Pimientos, prepared or preserved otherwise than by vinegar or acetic acid, not frozen.
2005.99.55 | Fruits of the genus Capsicum or Pimenta, not pimientos, prepared or preserved otherwise than by vinegar or acetic acid, not frozen.
2005.99.80 | Artichokes, prepared or preserved otherwise than by vinegar or acetic acid, not frozen.
2005.99.85 | Chickpeas (garbanzos), prepared or preserved otherwise than by vinegar or acetic acid, not frozen.
2005.99.97 | Vegetables nesoi, & mixtures of vegetables, prepared or preserved otherwise than by vinegar or acetic acid, not frozen, not preserved by sugar.
2006.00.20 | Cherries, preserved by sugar (drained, glace or crystallized).
2006.00.30 | Ginger root, preserved by sugar (drained, glace or crystallized).
2006.00.40 | Pineapples, preserved by sugar (drained, glace or crystallized).
2006.00.50 | Mixtures of vegetables, fruit, nuts, fruit-peel or other parts of plants, preserved by sugar (drained, glace or crystallized).
2006.00.60 | Citrus fruit or peel of citrus or other fruit, except mixtures, preserved by sugar (drained, glace or crystallized).
2006.00.70 | Fruit nesoi, and nuts, except mixtures, preserved by sugar (drained, glace or crystallized).
2006.00.90 | Vegetables and parts of plants, nesoi, preserved by sugar (drained, glace or crystallized), except mixtures,.
2007.10.00 | Homogenized cooked preparations of fruit put up for retail sale as infant food or for dietetic purposes, in cont. not over 250 grams, net.
2007.91.10 | Citrus fruit pastes and purees, being cooked preparations.
2007.91.40 | Orange marmalade.
2007.99.05 | Lingonberry and raspberry jams.
2007.99.10 | Strawberry jam.
2007.99.15 | Currant and other berry jams, nesoi.
2007.99.20 | Apricot jam.
2007.99.25 | Cherry jam.
2007.99.35 | Peach jam.
2007.99.40 | Pineapple jam.
2007.99.45 | Jams, nesoi.
2007.99.48 | Apple, quince and pear pastes and purees, being cooked preparations.
2007.99.50 | Guava and mango pastes and purees, being cooked preparations.
2007.99.60 | Strawberry pastes and purees, being cooked preparations.
2007.99.65 | Fruit pastes and purees, nesoi, and nut pastes and purees, being cooked preparations.
2007.99.70 | Currant and berry fruit jellies.
2007.99.75 | Fruit jellies, other than currant and berry.
2008.11.02 | Peanut butter and paste, subject to gen. note 15 of the HTS.
2008.11.05 | Peanut butter and paste, subject to add. U.S. note 5 to Ch. 20, not GN15.
2008.11.15 | Peanut butter and paste, nesoi, not subject to gen note 15 or add U.S. note 5 to Ch. 20.
2008.11.22 | Blanched peanuts, subject to gen. note 15 of the HTS.
2008.11.25 | Blanched peanuts, subject to add. U.S. note 2 to Ch. 12, not GN15.
2008.11.42 | Peanuts, otherwise prepared or preserved, nesoi, subject to gen. note 15 of the HTS.
2008.11.45 | Peanuts, otherwise prepared or preserved, nesoi, subject to add. U.S. note 2 to Ch. 12, not GN15.
2008.19.10 | Brazil nuts and cashew nuts, otherwise prepared or preserved, nesoi.
2008.19.15 | Coconuts, otherwise prepared or preserved, nesoi.
2008.19.20 | Filberts, otherwise prepared or preserved, nesoi.
2008.19.25 | Pecans, otherwise prepared or preserved, nesoi.
2008.19.30 | Pignolia and pistachio nuts, otherwise prepared or preserved, nesoi.
2008.19.40 | Almonds, otherwise prepared or preserved, nesoi.
2008.19.50 | Watermelon seeds, otherwise prepared or preserved, nesoi.
2008.19.85 | Mixtures of nuts or other seeds otherwise prepared or preserved, nesoi.
2008.19.90 | Other nuts and seeds nesoi, excluding mixtures, otherwise prepared or preserved, nesoi.
2008.20.00 | Pineapples, otherwise prepared or preserved, nesoi.
2008.30.10 | Peel of oranges, mandarins, clementines, wilkings and similar citrus hybrids, otherwise prepared or preserved, nesoi.
2008.30.20 | Peel of lemons, otherwise prepared or preserved, nesoi.
2008.30.30 | Peel of citrus fruit, nesoi, otherwise prepared or preserved, nesoi.
2008.30.40 | Oranges (other than peel or pulp), otherwise prepared or preserved, nesoi.
2008.30.42 | Satsumas, prepared or preserved, in airtight containers, aggregate quantity n/o 40,000 metric tons/calandar yr.
2008.30.46 | Satsumas, prepared or preserved, in airtight containers, aggregate quantity n/o 40,000 metric tons/calandar yr.
2008.30.48 | Mandarins (other than satsuma), prepared or preserved, nesoi.
2008.30.55 | Clementines, wilkings and similar citrus hybrids (other than peel or pulp), otherwise prepared or preserved, nesoi.
2008.30.70 | Grapefruit (other than peel or pulp), otherwise prepared or preserved, nesoi.
2008.30.80 | Kumquats (other than peel or pulp), otherwise prepared or preserved, nesoi.
2008.30.96 | Citrus fruit nesoi (including bergamots), other than peel or pulp, otherwise prepared or preserved, nesoi.
2008.40.00 | Pears, otherwise prepared or preserved, nesoi.
2008.50.20 | Apricot pulp, otherwise prepared or preserved, nesoi.
2008.50.40 | Apricots, other than pulp, otherwise prepared or preserved, nesoi.
2008.60.00 | Cherries, otherwise prepared or preserved, nesoi.
2008.70.10 | Nectarines, otherwise prepared or preserved, not elsewhere specified or included.
2008.70.20 | Peaches (excluding nectarines), otherwise prepared or preserved, not elsewhere specified or included.
2008.80.00 | Strawberries, otherwise prepared or preserved, nesoi.
2008.93.00 | Cranberries.
2008.97.10 | Mixtures of fruit or edible parts of plants, in airtight cont. excl. apricots, citrus, peaches or pears (incl. canned tropical fruit salad).
2008.97.90 | Mixtures of fruit or other edible parts of plants, otherwise prepared or preserved, nesoi (excluding tropical fruit salad).
2008.99.05 | Apples, otherwise prepared or preserved, nesoi.
2008.99.15 | Bananas, other than pulp, otherwise prepared or preserved, nesoi.
2008.99.18 | Blueberries, otherwise prepared or preserved, nesoi.
2008.99.21 | Berries, other than cranberries, blueberries and strawberries, otherwise prepared or preserved, nesoi.
2008.99.23 | Cashew apples, mameyes colorados, sapodillas, soursops and sweetsops, otherwise prepared or preserved, nesoi.
2008.99.25 | Dates, otherwise prepared or preserved, nesoi.
2008.99.28 | Figs, otherwise prepared or preserved, nesoi.
2008.99.29 | Grapes, otherwise prepared or preserved, nesoi.
2008.99.30 | Guavas, otherwise prepared or preserved, nesoi.
2008.99.35 | Lychees and longans, otherwise prepared or preserved, nesoi.
2008.99.40 | Mangoes, otherwise prepared or preserved, nesoi.
2008.99.50 | Papayas, other than pulp, otherwise prepared or preserved, nesoi.
2008.99.60 | Plums (including prune plums and sloes), otherwise prepared or preserved, nesoi.
2008.99.61 | Soybeans, otherwise prepared or preserved, nesoi.
2008.99.63 | Sweet ginger, otherwise prepared or preserved, nesoi.
2008.99.70 | Chinese water chestnuts, otherwise prepared or preserved, frozen, not elsewhere specified or included.
2008.99.71 | Chinese water chestnuts, otherwise prepared or preserved, not frozen, not elsewhere specified or included.
2008.99.80 | Pulp of fruit nesoi, and other edible parts of plants nesoi, excluding mixtures, otherwise prepared or preserved, nesoi.
2008.99.91 | Bean cake, bean stick, miso, other fruit, nuts and other edible parts of plans, prepared or preserved.
2009.11.00 | Orange juice, frozen, unfermented and not containing added spirit.
2009.29.00 | Grapefruit juice, of a Brix value exceeding 20, unfermented.
2009.31.20 | Lime juice, of a Brix value not exceeding 20, fit for beverage purposes, unfermented.
2009.31.40 | Citrus juice of any single citrus fruit (other than orange, grapefruit or lime), Brix value not exceeding 20, not concentrated, unfermented.
2009.31.60 | Citrus juice of any single citrus fruit (other than orange, grapefruit or lime), of a Brix value not exceeding 20, concentrated, unfermented.
2009.39.60 | Citrus juice of any single citrus fruit (other than orange, grapefruit or lime), of a Brix value exceeding 20, unfermented.
2009.41.40 | Pineapple juice, of a Brix value not exceeding 20, concentrated (in degree of concentration greater than 3.5), unfermented.
2009.49.40 | Pineapple juice, of a Brix value exceeding 20, concentrated (in degree of concentration greater than 3.5).
2009.50.00 | Tomato juice, concentrated or not concentrated.
2009.69.00 | Grape juice (including grape must), of a Brix value exceeding 30, unfermented.
2009.71.00 | Apple juice, of a Brix value not exceeding 20, unfermented.
2009.79.00 | Apple juice, of a Brix value exceeding 20, unfermented.
2009.89.20 | Pear juice, concentrated or not concentrated.
2009.89.60 | Juice of any other single fruit, nesoi, (including cherries and berries), concentrated or not concentrated.
2009.89.80 | Juice of any single vegetable, other than tomato, concentrated or not concentrated.
2009.90.40 | Mixtures of fruit juices, or mixtures of vegetable and fruit juices, concentrated or not concentrated.
2103.10.00 | Soy sauce.
2103.90.80 | Mixed condiments and mixed seasonings, not described in add U.S. note 3 to Ch. 21.
2106.10.00 | Protein concentrates and textured protein substances.
2201.10.00 | Mineral waters and aerated waters, not containing added sugar or other sweetening matter nor flavored.
2201.90.00 | Waters (incl. ice, snow and steam), ot/than mineral waters or aerated waters, not cont. added sugar or other sweetening matter nor flavored.
2202.10.00 | Waters, including mineral waters and aerated waters, containing added sugar or other sweetening matter or flavored.
2202.99.30 | Orange juice, fortified with vitamins or minerals not made from a juice having a degree of concentration of >=1.5.
2202.99.35 | Orange juice fortified with vitamins or minerals, nesoi.
2202.99.36 | Juice of any single fruit or vegetable (except orange juice) fortified with vitamins or minerals, in nonconcentrated form.
2202.99.37 | Fruit or vegetable juices, fortified with vitamins or minerals, mixtures of juices in non-concentrated form.
2202.99.90 | Nonalcoholic beverages, nesoi, excluding fruit or vegetable juices of heading 2009.
2203.00.00 | Beer made from malt.
2204.10.00 | Sparkling wine, made from grapes.
2204.21.20 | Effervescent grape wine, in containers holding 2 liters or less.
2204.21.30 | Tokay wine (not carbonated) not over 14% alcohol, in containers not over 2 liters.
2204.21.50 | Wine other than Tokay (not carbonated), not over 14% alcohol, in containers not over 2 liters.
2204.21.60 | “Marsala” wine, over 14% vol. alcohol, in containers holding 2 liters or less.
2204.21.80 | Grape wine, other than “Marsala”, not sparkling or effervescent, over 14% vol. alcohol, in containers holding 2 liters or less.
2206.00.45 | Rice wine or sake.
2206.00.90 | Fermented beverages (other than grape wine, beer, cider, prune wine, sake, vermouth, or other effervescent wines).
2207.10.30 | Undenatured ethyl alcohol of 80 percent vol. alcohol or higher, for beverage purposes.
2207.10.60 | Undenatured ethyl alcohol of 80 percent vol. alcohol or higher, for nonbeverage purposes.
2209.00.00 | Vinegar and substitutes for vinegar obtained from acetic acid.
2301.10.00 | Flours, meals, and pellets, of meat or meat offal unfit for human consumption; greaves (cracklings).
2301.20.00 | Flours, meals, and pellets, of fish or of crustaceans, molluscs or other aquatic invertebrates, unfit for human consumption.
2302.30.00 | Bran, sharps (middlings) and other residues, derived from the sifting, milling or other working of wheat.
2302.40.01 | Bran, sharps (middlings) and other residues, derived from the sifting, milling or other working of cereals, excluding corn, rice and wheat.
2302.50.00 | Bran, sharps (middlings) and other residues, derived from the sifting, milling or other working of leguminous plants.
2303.10.00 | Residues of starch manufacture and similar residues.
2303.20.00 | Beet-pulp, bagasse and other waste of sugar manufacture.
2303.30.00 | Brewing or distilling dregs and waste.
2304.00.00 | Oilcake and other solid residues, resulting from the extraction of soybean oil.
2305.00.00 | Oilcake and other solid residues, resulting from the extraction of peanut (ground-nut) oil.
2306.20.00 | Oilcake and other solid residues, resulting from the extraction of vegetable fats or oils, of linseed.
2306.30.00 | Oilcake and other solid residues, resulting from the extraction of vegetable fats or oils, of sunflower seeds.
2306.41.00 | Oilcake and other solid residues, resulting from the extraction of vegetable fats or oils, of low erucic acid rape or colza seeds.
2306.49.00 | Oilcake and other solid residues, resulting from the extraction of vegetable fats/oils, of rape or colza seeds (other than low erucic acid).
2306.90.01 | Oilcake and other solid residues, resulting from the extraction of vegetable fats or oils, nesoi.
2308.00.95 | Dehydrated marigolds, of a kind used in animal feeding, not elsewhere specified or included.
2308.00.98 | Vegetable materials and vegetable waste, vegetable residues and byproducts, of a kind used in animal feeding, nesoi.
2309.10.00 | Dog or cat food, put up for retail sale.
2309.90.10 | Mixed feed or mixed feed ingredients used in animal feeding.
2309.90.70 | Other preps nes with a basis of vitamin B12, for supplementing animal in animal feeding, not cont milk or egg prods.
2309.90.95 | Other preps nes of a kind used in animal feeding, not cont milk or egg prods.
2401.10.44 | Tobacco, not stemmed or stripped, not or not over 35% wrapper tobacco, oriental or turkish type, cigarette leaf.
2401.20.05 | Leaf tobacco, the product of two or more countries or dependencies, when mixed or packed together, partly or wholly stemmed, not threshed.
2401.20.14 | Wrapper tobacco, partly or wholly stemmed (stripped), not threshed or similarly processed.
2401.20.18 | Tobacco containing over 35% wrapper tobacco, partly or wholly stemmed (stripped), not threshed or similarly processed.
2401.20.23 | Tobacco, partly or wholly stemmed/stripped, n/threshed or similarly processed, not or n/over 35% wrapper, oriental or turkish, cigarette lea.
2401.20.26 | Tobacco, partly or wholly stemmed/stripped, n/threshed or similarly processed, not or n/over 35% wrapper, not cigarette leaf.
2401.20.29 | Tobacco, partly or wholly stemmed/stripped, n/threshed or similarly processed, not or n/over 35% wrapper, cigar binder and filler.
2401.20.31 | Tobacco, partly or wholly stemmed/stripped, n/threshed or similarly proc., not or n/over 35% wrapper, flue-cured burley etc, not for cigaret.
2401.20.33 | Tobacco, partly or wholly stemmed/stripped, n/threshed or similarly proc., not or n/over 35% wrapper, des. in addl U.S. note 5 to ch. 24.
2401.20.35 | Tobacco, partly or wholly stemmed/stripped, n/threshed or similarly proc., not or n/over 35% wrapper, flue-cured burley etc, other nesoi.
2401.20.57 | Tobacco, partly or wholly stemmed/stripped, n/threshed or similarly proc., not or n/over 35% wrapper, not flue-cured burley etc., other nesoi.
2401.20.60 | Tobacco, partly or wholly stemmed (stripped), threshed or similarly processed, from cigar leaf.
2401.20.75 | Tobacco, partly or wholly stemmed/stripped, threshed or similarly processed, not from cigar leaf, oriental or turkish.
2401.20.83 | Tobacco, partly or wholly stemmed/stripped, threshed or similarly processed, not from cigar leaf, not oriental or turkish, not for cigarett.
2401.20.85 | Tobacco, partly or wholly stemmed/stripped, threshed or similarly processed, not from cigar leaf, described in addl U.S. note 5 to chap 24.
2401.20.87 | Tobacco, partly or wholly stemmed/stripped, threshed or similarly processed, not from cigar leaf, not oriental or turkish, other nesoi.
2401.30.03 | Tobacco refuse, tobacco stems, not cut, ground or pulverized.
2401.30.06 | Tobacco refuse, from cigar leaf, tobacco stems, cut, ground or pulverized.
2401.30.09 | Tobacco refuse, from cigar leaf, other than tobacco stems.
2401.30.13 | Tobacco refuse, from oriental or turkish type, tobacco stems, not cut, ground or pulverized.
2401.30.16 | Tobacco refuse, from oriental or turkish type, tobacco stems, cut, ground or pulverized.
2401.30.19 | Tobacco refuse, from oriental or turkish type, other than tobacco stems.
2401.30.23 | Tobacco refuse, from other tobacco, other than for cigarettes, tobacco stems, not cut, ground or pulverized.
2401.30.25 | Tobacco refuse, from other tobacco, other than for cigarettes, tobacco stems, cut, ground or pulverized.
2401.30.27 | Tobacco refuse, from other tobacco, other than for cigarettes,tother than tobacco stems.
2401.30.33 | Tobacco refuse, from other tobacco, for cigarettes, described in addl U.S. note 5 to chap 24, tobacco stems, not cut, ground or pulverized.
2401.30.35 | Tobacco refuse, from other tobacco, for cigarettes, described in addl U.S. note 5 to chap 24, tobacco stems, cut, ground or pulverized.
2401.30.37 | Tobacco refuse, from other tobacco, for cigarettes, described in addl U.S. note 5 to chap 24, not tobacco stems.
2401.30.70 | Tobacco refuse, from other tobacco, for cigarettes, other nesoi.
2402.10.30 | Cigars, cheroots and cigarillos containing tobacco, each valued less than 15 cents.
2402.10.60 | Cigars, cheroots and cigarillos containing tobacco, each valued 15 cents or over but less than 23 cents.
2402.10.80 | Cigars, cheroots and cigarillos containing tobacco, each valued 23 cents or over.
2402.20.10 | Cigarettes containing tobacco and clove.
2402.20.80 | Cigarettes containing tobacco but not containing clove, paper-wrapped.
2402.20.90 | Cigarettes containing tobacco, nesoi.
2402.90.00 | Cigars, cheroots and cigarillos and cigarettes of tobacco substitutes.
2403.11.00 | Water pipe tobacco, whether or not containing tobacco substitutes.
2403.19.20 | Smoking tobacco, whether or not containing tobacco substitutes, prepared for marketing directly to consumer as packaged.
2403.19.30 | Smoking tobacco, other than for water pipes, whether or not containing tobacco subst, other, to be used in products other than cigarettes.
2403.19.60 | Smoking tobacco, not water pipe, whether or not containing substitutes, other, to be used in cigarettes, in addl U.S. note 5 to chapter.
2403.19.90 | Smoking tobacco, not water pipe, whether or not containing substitutes, other, to be used in cigarettes, other nesoi.
2403.91.43 | “Homogenized” or “reconstituted” tobacco, not suitable for use as wrapper tobacco, to be used in products other than cigarettes.
2403.99.20 | Other manufactured tobacco, tobacco substitutes, tobacco extracts or essences, prepared for marketing directly to consumer as packaged.
2403.99.30 | Other manufactured tobacco, tobacco substitutes, tobacco extracts or essences, other, to be used in products other than cigarettes.
2403.99.60 | Other manufactured tobacco, tobacco substitutes, tobacco extracts or essences, to be used in cigarettes, described in addl U.S. note 5 to chap.
2403.99.90 | Other manufactured tobacco, tobacco substitutes, tobacco extracts or essences, other, to be used in cigarettes, other nesoi.
2501.00.00 | Salt & pure sodium chloride, whether or not in aqueous solution or cont. added anticaking or free-flowing agents; sea water.
2502.00.00 | Iron pyrites, unroasted.
2503.00.00 | Sulfur of all kinds, other than sublimed, precipitated and colloidal sulfur.
2504.10.10 | Natural graphite, crystalline flake (not including flake dust).
2504.10.50 | Natural graphite in powder or flakes (other than crystalline flake).
2504.90.00 | Natural graphite, other than in powder or in flakes.
2505.10.10 | Natural silica and quartz sands, containing by weight 95% or more of silica and not more than 0.6% of oxide of iron.
2505.10.50 | Natural silica and quartz sands, nesoi.
2505.90.00 | Natural sands, other than silica or quartz sands and other than metal-bearing sands of chapter 26.
2506.10.00 | Quartz (other than natural sands).
2506.20.00 | Quartzite.
2507.00.00 | Kaolin and other kaolinic clays, whether or not calcined.
2508.10.00 | Bentonite clay, whether or not calcined.
2508.30.00 | Fire-clay, whether or not calcined.
2508.40.01 | Clays, (not including expanded clays of heading 6806), nesoi, whether or not calcined.
2508.50.00 | Andalusite, kyanite and sillimanite, whether or not calcined.
2508.60.00 | Mullite.
2508.70.00 | Chamotte or dinas earths.
2509.00.10 | Chalk, crude.
2509.00.20 | Chalk, other than crude.
2510.10.00 | Natural calcium phosphates, natural aluminum calcium phosphates and phosphatic chalk, unground.
2510.20.00 | Natural calcium phosphates, natural aluminum calcium phosphates and phosphatic chalk, ground.
2511.10.10 | Natural barium sulfate (barytes), ground.
2511.10.50 | Natural barium sulfate (barytes), not ground.
2511.20.00 | Natural barium carbonate (witherite), whether or not calcined.
2512.00.00 | Siliceous fossil meals and similar siliceous earths, whether or not calcined, of an apparent specific gravity of 1 or less.
2513.10.00 | Pumice.
2513.20.10 | Emery; natural corundum, nat. garnet and other nat. abrasives, whether or not heat-treated, all the foregoing crude or in irregular pieces.
2513.20.90 | Emery; natural corundum, nat. garnet and other nat. abrasives, whether or not heat-treated, all the foregoin not crude or irregular pieces.
2514.00.00 | Slate, whether or not roughly trimmed or merely cut into blocks or slabs of a rectangular (including square) shape.
2515.11.00 | Marble and travertine, crude or roughly trimmed.
2515.12.10 | Marble, merely cut into blocks or slabs of a rectangular (including square) shape.
2515.12.20 | Travertine, merely cut into blocks or slabs of a rectangular (including square) shape.
2515.20.00 | Calcareous monument.or build.stone (o/than marble/traver.) of spec. gravity >=2.5 & alabaster, crude, rough, trimmed or cut blocks or slabs.
2516.11.00 | Granite, crude or roughly trimmed.
2516.12.00 | Granite, merely cut into blocks or slabs of a rectangular (including square) shape.
2516.20.10 | Sandstone, crude or roughly trimmed.
2516.20.20 | Sandstone, merely cut into blocks or slabs of a rectangular (including square) shape.
2516.90.00 | Porphyry, basalt and other monument. or build. stone (except granite/sandstone), crude or roughly trimmed or cut into rect. blocks/slabs.
2517.10.00 | Pebbles, gravel, broken or crushed stones, for concrete aggregates, road metalling, ballast, shingle or flint, whether o/not heat-treated.
2517.20.00 | Macadam of slag, dross or similar industrial waste, whether or not incorporating pebbles, gravel, etc.
2517.30.00 | Tarred macadam.
2517.41.00 | Granules, chippings and powder of marble, whether or not heat-treated.
2517.49.00 | Granules, chippings and powder, of travertine/calcareous monument. or build.stone (except marble)/granite/porphyry/basalt/sandstone etc.
2518.10.00 | Dolomite, not calcined, whether or not or roughly trimmed or merely cut into blocks or slabs of a rectangular (including square) shape.
2518.20.00 | Dolomite, calcined, whether or not roughly trimmed or merely cut into blocks or slabs of a rectangular (including square) shape.
2518.30.00 | Agglomerated dolomite (including tarred dolomite).
2519.10.00 | Natural magnesoium carbonate (magnesoite).
2519.90.10 | Fused magnesoia; dead-burned (sintered) magnesoia, whether or not cont. small quant. of other oxides added before sintering.
2519.90.20 | Caustic calcined magnesoite.
2519.90.50 | Magnesoium oxide, nesoi, whether or not pure.
2520.10.00 | Gypsum; anhydrite.
2520.20.00 | Plasters (of calcined gypsum or calcium sulfate), whether or not colored, with or without small quantities of accelerators or retarders.
2521.00.00 | Limestone flux; limestone and other calcareous stone, of a kind used for the manufacture of lime or cement.
2522.10.00 | Quicklime (other than calcium oxide and hydroxide of heading 2825).
2522.20.00 | Slaked lime (other than calcium oxide and hydroxide of heading 2825).
2522.30.00 | Hydraulic lime (other than calcium oxide and hydroxide of heading 2825).
2523.10.00 | Clinkers of portland, aluminous, slag, supersulfate and similar hydraulic cements.
2523.21.00 | Portland cement (white cement), whether or not artificially colored.
2523.29.00 | Portland cement (other than white cement), whether or not colored.
2523.30.00 | Aluminous cement, whether or not colored.
2523.90.00 | Slag cement, supersulfate cement and other hydraulic cements, nesoi, whether or not colored.
2524.10.00 | Crocidolite.
2524.90.00 | Asbestos other than crocidolite.
2525.10.00 | Mica, crude or rifted into sheets or splittings.
2525.20.00 | Mica, powder.
2525.30.00 | Mica, waste.
2526.10.00 | Steatite, natural n/crushed or powdered, whether or not roughly trimmed or cut into rect. blocks or slabs; talc n/crushed or powdered.
2526.20.00 | Steatite, natural; talc; the foregoing crushed or powdered.
2528.00.00 | Borates, natural and conc., but n/incl. borates from nat. brine; nat. boric acid w/not over 85% H3B03 by dry weight.
2529.10.00 | Feldspar.
2529.21.00 | Fluorspar, containing by weight 97 percent or less of calcium fluoride.
2529.22.00 | Fluorspar, containing by weight more than 97 percent of calcium fluoride.
2529.30.00 | Leucite; nepheline and nepheline syenite.
2530.10.00 | Vermiculite, perlite and chlorites, unexpanded.
2530.20.10 | Kieserite.
2530.20.20 | Epsom salts (natural magnesoium sulfates).
2530.90.10 | Natural cryolite; natural chiolite.
2530.90.20 | Natural micaceous iron oxides.
2530.90.80 | Other mineral substances, not elsewhere specified or included.
2601.11.00 | Iron ores and concentrates (other than roasted iron pyrites), not agglomerated.
2601.12.00 | Iron ores and concentrates (other than roasted iron pyrites), agglomerated.
2601.20.00 | Roasted iron pyrites.
2602.00.00 | Manganese ores and concentrates including ferruginous manganese ores & concentrates with manganese content over 20% calculated on dry weight.
2603.00.00 | Copper ores and concentrates.
2604.00.00 | Nickel ores and concentrates.
2605.00.00 | Cobalt ores and concentrates.
2606.00.00 | Aluminum ores and concentrates.
2607.00.00 | Lead ores and concentrates.
2608.00.00 | Zinc ores and concentrates.
2609.00.00 | Tin ores and concentrates.
2610.00.00 | Chromium ores and concentrates.
2611.00.30 | Tungsten ores.
2611.00.60 | Tungsten concentrates.
2612.10.00 | Uranium ores and concentrates.
2612.20.00 | Thorium ores and concentrates.
2613.10.00 | Molybdenum ores and concentrates, roasted.
2613.90.00 | Molybdenum ores and concentrates, not roasted.
2614.00.30 | Synthetic rutile.
2614.00.60 | Titanium ores and concentrates, other than synthetic rutile.
2615.10.00 | Zirconium ores and concentrates.
2615.90.30 | Synthetic tantalum-niobium concentrates.
2615.90.60 | Niobium, tantalum or vanadium ores and concentrates, nesoi.
2616.10.00 | Silver ores and concentrates.
2616.90.00 | Precious metal (other than silver) ores and concentrates.
2617.10.00 | Antimony ores and concentrates.
2617.90.00 | Metal ores and concentrates, nesoi.
2618.00.00 | Granulated slag (slag sand) from the manufacture of iron or steel.
2619.00.30 | Ferrous scale.
2619.00.90 | Slag, dross and other waste (except ferrous scale) from the manufacture of iron or steel.
2620.11.00 | Hard zinc spelter.
2620.19.30 | Zinc dross and skimmings (not from from the mfr. of iron or steel).
2620.19.60 | Ash and residues (not from the mfr. of iron or steel), containing mainly zinc, other than hard zinc spelter/zinc dross & skimmings.
2620.21.00 | Leaded gasoline sludges and leaded anti-knock compound sludges, containing mainly lead.
2620.29.00 | Ash and residues (other than from the manufacture of iron or steel), containing mainly lead, nesoi.
2620.30.00 | Ash and residues (not from the mfr. of iron or steel), containing mainly copper.
2620.40.00 | Ash and residues (not from the mfr. of iron or steel), containing mainly aluminum.
2620.60.10 | Ash/residues contain arsenic, mercury, thallium or their mixtures, kind used only for extraction of arsenic or manufacture of its compounds.
2620.60.90 | Ash/residue contain arsenic, mercury, thallium/their mixtures, kind used only for extraction of those metals or manufacture of their compounds.
2620.91.00 | Ash and residues (other than from the manufacture of iron or steel), containing antimony, beryllium, cadmium, chromium or their mixtures.
2620.99.10 | Ash and residues (other than from the manufacture of iron or steel), containing mainly vanadium.
2620.99.20 | Ash and residues (other than from the manufacture of iron or steel), containing mainly tungsten.
2620.99.30 | Materials (ash and residues) not provided for elsewhere in heading 2620 containing by weight over 10 percent nickel.
2620.99.50 | Slag (other than from the manufacture of iron or steel) contains over 40% titanium & if has over 2% Cu/Pb/Zn is not for recovery thereof.
2620.99.75 | Residues (not from mfr. of iron or steel) cont. metals/metal compounds nesoi, and n/adv. in value or cond. & if >2% Cu/Pb/Zn n/for recovery.
2620.99.85 | Other ash and residues (other than from the manufacture of iron or steel), containing metals or metal compounds, nesoi.
2621.90.00 | Other slag and ash, including seaweed ash (kelp), not elsewhere specified or included.
2701.11.00 | Coal, anthracite, whether or not pulverized, but not agglomerated.
2701.12.00 | Coal, bituminous, whether or not pulverized, but not agglomerated.
2701.19.00 | Coal, other than anthracite or bituminous, whether or not pulverized, but not agglomerated.
2701.20.00 | Coal, briquettes, ovoids and similar solid fuels manufactured from coal.
2702.10.00 | Lignite (excluding jet), whether or not pulverized, but not agglomerated.
2702.20.00 | Lignite (excluding jet), agglomerated.
2703.00.00 | Peat (including peat litter), whether or not agglomerated.
2704.00.00 | Coke and semicoke of coal, lignite or peat, whether or not agglomerated; retort carbon.
2705.00.00 | Coal gas, water gas, producer gas and similar gases, other than petroleum gases or other gaseous hydrocarbons.
2706.00.00 | Tars (including reconstituted tars), distill. from coal, lignite or peat, and other mineral tars, whether dehydrated or partially distilled.
2707.10.00 | Benzene, from distillation of hi-temp coal tar or in which wt. of aromatic components o/wt. of nonaromatic components.
2707.20.00 | Toluene, from distillation of hi-temp coal tar or in which wt. of aromatic components o/wt. of nonaromatic components.
2707.30.00 | Xylenes, from distillation of hi-temp coal tar or in which wt. of aromatic components o/wt. of nonaromatic components.
2707.40.00 | Naphthalene, from distillation of hi-temp coal tar or in which wt. of aromatic components o/wt. of nonaromatic components.
2707.50.00 | Aromatichydrocarbon mix. (from dist. of hi-temp coaltar or wt. of aromatic >nonaromatic), 65%+ by vol. (incl. losses) dist. at 250 C/ASTM D 86.
2707.91.00 | Creosote oils, from dist. of hi-temp coal tar or wt. of aromatic exceeds nonaromatic.
2707.99.10 | Light oil, from dist. of hi-temp coal tar or wt. of aromatic exceeds nonaromatic.
2707.99.20 | Picolines, from dist. of hi-temp coal tar or wt. of aromatic exceeds nonaromatic.
2707.99.40 | Carbazole, from dist. of hi-temp coal tar or wt. of aromatic exceeds nonaromatic, w/purity of 65% or more by wt.
2707.99.51 | Phenols >50% by wt hydroxybenzene.
2707.99.55 | Metacresol/orthocresol/paracresol/metaparacresol (from dist. of hi-temp coal tar or wt. of aromatic >nonaromatic), w/purity of 75%+ by wt.
2707.99.59 | Phenols, nesoi.
2707.99.90 | Other products of hi-temp coal tar distillation and like products in which aromatic constituents exceed nonaromatic constituents, nesoi.
2708.10.00 | Pitch, obtained from coal tar or other mineral tars.
2708.20.00 | Pitch coke, obtained from coal tar or other mineral tars.
2709.00.10 | Petroleum oils and oils from bituminous minerals, crude, testing under 25 degrees A.P.I.
2709.00.20 | Petroleum oils and oils from bituminous minerals, crude, testing 25 degrees A.P.I. or more.
2710.12.15 | Light oil motor fuel from petroleum oils and bituminous minerals (o/than crude) or preps. 70%+ by wt. from petroleum oils.
2710.12.18 | Light oil motor fuel blending stock from petroleum oils & bituminous minerals (o/than crude) or prep 70%+ by wt. from petroleum oils.
2710.12.25 | Naphthas (exc. motor fuel/mtr fuel blend. stock) fr petroleum oils & bitumin minerals (o/than crude) or preps 70%+ by wt. fr petroleum oils.
2710.12.45 | Light oil mixt. of hydrocarbons fr petro oils & bitum min (o/than crude) or prep 70%+ wt. fr petro oils, nesoi, n/o 50% any single hydrocarbon.
2710.12.90 | Light oils and preparations from petroleum oils & oils from bituminous min. or preps 70%+ by wt. from petro. oils or bitum. min., nesoi.
2710.19.06 | Distillate and residual fuel oil (including blends) derived from petroleum or oils from bituminous minerals, testing <25 degrees A.P.I.
2710.19.11 | Distillate and residual fuel oil (including blends) derived from petroleum oils or oil of bituminous minerals, testing 25 degree A.P.I. or >.
2710.19.16 | Kerosene-type jet fuel from petroleum oils and oils of bitumin minerals (o/than crude) or preps. 70%+ by wt. from petroleum oils.
2710.19.24 | Kerosene motor fuel (not jet) from petro oils and bitumin minerals (o/than crude) or preps. 70%+ by wt. from petroleum oils.
2710.19.25 | Kerosene motor fuel blending stock (not jet), from petro oils and bitumin. minerals (o/than crude) or preps. 70%+ by wt. from petro oils.
2710.19.26 | Kerosene (ex. motor fuel/mtr fuel blend stock/xc jet), fr petro oils and bitumin minerals (o/than crude) or preps 70%+ by wt fr petro oils.
2710.19.45 | Mixture of hydrocarbons from petro oils & bitum. min. or preps. 70%+ by wt. fr. petro. oils, nesoi, n/o 50% any single hydrocarbon.
2710.19.90 | Petroleum oils & oils from bituminous minerals or preps nesoi 70%+ by wt. from petroleum oils or bitum. min., not waste, nesoi.
2710.20.05 | Dist and resid fuel oil (including blends) derived from petro or oils fr bitum min, testing under 25 degrees A.P.I., contng biodiesel.
2710.20.10 | Dist and resid fuel oil (including blends) derived from petro or oils fr bitum min testing 25 degree A.P.I. or >, contng biodiesel.
2710.20.15 | Kerosene-type jet fuel/mtr ful/mtr ful blend stck fr pet oils & bitumin min (o/th crude), or preps. 70%+ by w fr pet oils, ctg biodiesel.
2710.20.25 | Kerosene (ex jet fuel,mtr ful/mtr ful blend stck/jet), fr pet oils and bitumin. min (o/th crude) or preps 70%+ by wt fr pet oils, ctg biodie.
2711.11.00 | Natural gas, liquefied.
2711.12.00 | Propane, liquefied.
2711.13.00 | Butanes, liquefied.
2711.14.00 | Ethylene, propylene, butylene and butadiene, liquefied.
2711.19.00 | Liquefied petroleum gases and other gaseous hydrocarbons, nesoi.
2711.21.00 | Natural gas, in gaseous state.
2711.29.00 | Petroleum gases and other gaseous hydrocarbons, except natural gas.
2712.10.00 | Petroleum jelly.
2712.20.00 | Paraffin wax (whether or not colored), obtained by synthesis or other process and less than 0.75% oil by wt.
2712.90.10 | Montan wax (whether or not colored), obtained by synthesis or other process.
2712.90.20 | Mineral waxes (i.e., paraffin w/0.75%+ oil, microcrystall. wax, slack lignite & peat waxes, ozokerite), obtained by synthesis.
2713.11.00 | Coke, petroleum, not calcined.
2713.12.00 | Coke, petroleum coke, calcined.
2713.20.00 | Petroleum bitumen.
2713.90.00 | Residues (except petroleum coke or petroleum bitumen) of petroleum oils or of oils obtained from bituminous materials.
2714.10.00 | Bituminous or oil shale and tar sands.
2714.90.00 | Bitumen and asphalt, natural; asphaltites and asphaltic rocks.
2715.00.00 | Bituminous mixtures based on natural asphalt, natural bitumen, petroleum bitumen, mineral tar or mineral tar pitch.
2716.00.00 | Electrical energy.
2801.10.00 | Chlorine.
2801.20.00 | Iodine.
2801.30.10 | Fluorine.
2801.30.20 | Bromine.
2802.00.00 | Sulfur, sublimed or precipitated; colloidal sulfur.
2803.00.00 | Carbon (carbon blacks and other forms of carbon not elsewhere specified or included).
2804.10.00 | Hydrogen.
2804.21.00 | Argon.
2804.29.00 | Rare gases, other than argon.
2804.30.00 | Nitrogen.
2804.40.00 | Oxygen.
2804.50.00 | Boron; tellurium.
2804.61.00 | Silicon containing by weight not less than 99.99 percent of silicon.
2804.69.10 | Silicon, containing by weight less than 99.99 percent but not less than 99 percent of silicon.
2804.69.50 | Silicon, containing by weight less than 99 percent of silicon.
2804.70.00 | Phosphorus.
2804.80.00 | Arsenic.
2804.90.00 | Selenium.
2805.11.00 | Sodium.
2805.12.00 | Calcium.
2805.19.10 | Strontium.
2805.19.20 | Barium.
2805.19.90 | Alkali metals, other than sodium.
2805.30.00 | Rare-earth metals, scandium and yttrium, whether or not intermixed or interalloyed.
2805.40.00 | Mercury.
2806.10.00 | Hydrogen chloride (Hydrochloric acid).
2806.20.00 | Chlorosulfuric acid.
2807.00.00 | Sulfuric acid; oleum.
2808.00.00 | Nitric acid; sulfonitric acids.
2809.10.00 | Diphosphorus pentoxide.
2809.20.00 | Phosphoric acid and polyphosphoric acids.
2810.00.00 | Oxides of boron; boric acids.
2811.11.00 | Hydrogen fluoride (Hydrofluoric acid).
2811.12.00 | Hydrogen cyanide.
2811.19.10 | Arsenic acid.
2811.19.30 | Hydrobromic acid.
2811.19.61 | Sulfamic acid and other inorganic acids nesoi.
2811.21.00 | Carbon dioxide.
2811.22.10 | Synthetic silica gel.
2811.22.50 | Silicon dioxide, other than synthetic silica gel.
2811.29.10 | Arsenic trioxide.
2811.29.20 | Selenium dioxide.
2811.29.30 | Sulfur dioxide.
2811.29.50 | Other inorganic oxygen compounds of nonmetals, nesoi.
2812.11.00 | Carbonyl dichloride (Phosgene).
2812.12.00 | Phosphorus oxychloride.
2812.13.00 | Phosphorus trichloride.
2812.14.00 | Phosphorus pentachloride.
2812.15.00 | Sulfur monochloride.
2812.16.00 | Sulfur dichloride.
2812.17.00 | Thionyl chloride.
2812.19.00 | Other chlorides and chloride oxides.
2812.90.00 | Halides and halide oxides of nonmetals, excluding chlorides and chloride oxides.
2813.10.00 | Carbon disulfide.
2813.90.10 | Arsenic sulfides.
2813.90.20 | Phosphorus sulfides.
2813.90.50 | Sulfides of nonmetals, excluding carbon disulfide and sulfides of arsenic or phosphorus.
2814.10.00 | Anhydrous ammonia.
2814.20.00 | Ammonia in aqueous solution.
2815.11.00 | Sodium hydroxide (Caustic soda), solid.
2815.12.00 | Sodium hydroxide (Caustic soda), in aqueous solution (Soda lye or liquid soda).
2815.20.00 | Potassium hydroxide (Caustic potash).
2815.30.00 | Peroxides of sodium or potassium.
2816.10.00 | Hydroxide and peroxide of magnesoium.
2816.40.10 | Oxides, hydroxides and peroxides of strontium.
2816.40.20 | Oxides, hydroxides and peroxides of barium.
2817.00.00 | Zinc oxide; zinc peroxide.
2818.10.10 | Artificial corundum, crude.
2818.10.20 | Artificial corundum, in grains, or ground, pulverized or refined.
2818.20.00 | Aluminum oxide, other than artificial corundum.
2818.30.00 | Aluminum hydroxide.
2819.10.00 | Chromium trioxide.
2819.90.00 | Chromium oxides and hydroxides, other than chromium trioxide.
2820.10.00 | Manganese dioxide.
2820.90.00 | Manganese oxides, other than manganese dioxide.
2821.10.00 | Iron oxides and hydroxides.
2821.20.00 | Earth colors containing 70 percent or more by weight of combined iron evaluated as Fe2O3.
2822.00.00 | Cobalt oxides and hydroxides; commercial cobalt oxides.
2823.00.00 | Titanium oxides.
2824.10.00 | Lead monoxide (Litharge, massicot).
2824.90.10 | Lead suboxide (Leady litharge).
2824.90.20 | Red lead and orange lead.
2824.90.50 | Lead oxides, nesoi.
2825.10.00 | Hydrazine and hydroxylamine and their inorganic salts.
2825.20.00 | Lithium oxide and hydroxide.
2825.30.00 | Vanadium oxides and hydroxides.
2825.40.00 | Nickel oxides and hydroxides.
2825.50.10 | Cupric oxide.
2825.50.20 | Cuprous oxide.
2825.50.30 | Copper hydroxides.
2825.60.00 | Germanium oxides and zirconium dioxide.
2825.70.00 | Molybdenum oxides and hydroxides.
2825.80.00 | Antimony oxides.
2825.90.10 | Beryllium oxide and hydroxide.
2825.90.15 | Niobium oxide.
2825.90.20 | Tin oxides.
2825.90.30 | Tungsten oxides.
2825.90.75 | Cadmium oxide.
2825.90.90 | Other inorganic bases; other metal oxides, hydroxides and peroxides, nesoi.
2826.12.00 | Fluorides of aluminum.
2826.19.10 | Ammonium fluoride.
2826.19.20 | Sodium fluoride.
2826.19.90 | Fluorides, other than of ammonium, sodium or aluminum.
2826.30.00 | Sodium hexafluoroaluminate (Synthetic cryolite).
2826.90.10 | Fluorosilicates of sodium or of potassium.
2826.90.90 | Other complex fluorine salts, nesoi.
2827.10.00 | Ammonium chloride.
2827.20.00 | Calcium chloride.
2827.31.00 | Magnesoium chloride.
2827.32.00 | Aluminum chloride.
2827.35.00 | Nickel chloride.
2827.39.10 | Vanadium chlorides.
2827.39.25 | Tin chlorides.
2827.39.30 | Titanium chlorides.
2827.39.40 | Tungsten hexachloride.
2827.39.45 | Barium chloride.
2827.39.55 | Iron chlorides.
2827.39.60 | Cobalt chlorides.
2827.39.65 | Zinc chloride.
2827.39.90 | Chlorides, nesoi.
2827.41.00 | Chloride oxides and chloride hydroxides of copper.
2827.49.10 | Chloride oxides and chloride hydroxides of vanadium.
2827.49.50 | Chloride oxides and chloride hydroxides other than of copper or of vanadium.
2827.51.00 | Bromides of sodium or potassium.
2827.59.25 | Bromides or bromide oxides of ammonium, calcium, or zinc.
2827.59.51 | Other bromides and bromide oxides, other than ammonium, calcium or zinc.
2827.60.10 | Iodide and iodide oxide of calcium or copper.
2827.60.20 | Iodide and iodide oxide of potassium.
2827.60.51 | Iodides and iodide oxides, other than of calcium, copper or potassium.
2828.10.00 | Commercial calcium hypochlorite and other calcium hypochlorites.
2828.90.00 | Hypochlorites, except of calcium; hypobromites; chlorites.
2829.11.00 | Sodium chlorate.
2829.19.01 | Other chlorates and perchlorates, other than sodium.
2829.90.05 | Potassium bromate.
2829.90.25 | Sodium bromate.
2829.90.40 | Perchlorates, perbromates, iodates, periodates; of potassium.
2829.90.61 | Other perbromates, iodates and periodates other than potassium.
2830.10.00 | Sodium sulfides.
2830.90.10 | Zinc sulfide, luminescent grade, purity >=99.99% By wt.
2830.90.15 | Zinc sulfide excluding luminescent grade.
2830.90.20 | Cadmium sulfide.
2830.90.90 | Polysulfides; sulfides, other than those of zinc and cadmium.
2831.10.10 | Sodium formaldehyde sulfoxylate.
2831.10.50 | Dithionites and sulfoxylates of sodium.
2831.90.00 | Dithionites and sulfoxylates, other than those of sodium.
2832.10.00 | Sodium sulfites.
2832.20.00 | Sulfites, except sodium sulfites.
2832.30.10 | Sodium thiosulfate.
2832.30.50 | Thiosulfates, except sodium thiosulfate.
2833.11.10 | Disodium sulfate, crude (Salt cake).
2833.11.50 | Disodium sulfate, other than crude.
2833.19.00 | Sodium sulfates, other than disodium sulfate.
2833.21.00 | Magnesoium sulfate.
2833.22.00 | Aluminum sulfate.
2833.24.00 | Nickel sulfate.
2833.25.00 | Copper sulfate.
2833.27.00 | Barium sulfate.
2833.29.10 | Cobalt sulfate.
2833.29.20 | Iron sulfate.
2833.29.30 | Vanadium sulfate.
2833.29.40 | Chromium sulfate.
2833.29.45 | Zinc sulfate.
2833.29.51 | Other sulfates nesoi.
2833.30.00 | Alums.
2833.40.20 | Sodium peroxosulfates (sodium persulfates).
2833.40.60 | Peroxosulfates (persulfates), nesoi.
2834.10.10 | Sodium nitrite.
2834.10.50 | Nitrites, other than of sodium.
2834.21.00 | Potassium nitrate.
2834.29.05 | Bismuth nitrate.
2834.29.10 | Calcium nitrate.
2834.29.20 | Strontium nitrate.
2834.29.51 | Nitrates, nesoi.
2835.10.00 | Phosphinates (hypophosphites) and phosphonates (phosphites).
2835.22.00 | Mono- or disodium phosphates.
2835.24.00 | Potassium phosphate.
2835.25.00 | Calcium hydrogenorthophosphate (“Dicalcium phosphate”).
2835.26.00 | Other phosphates of calcium, nesoi.
2835.29.10 | Aluminum phosphate.
2835.29.20 | Triammonium phosphate.
2835.29.30 | Trisodium phosphate.
2835.29.51 | Other phosphates nesoi.
2835.31.00 | Sodium triphosphate (Sodium tripolyphosphate).
2835.39.10 | Potassium polyphosphate.
2835.39.50 | Polyphosphates, other than sodium triphosphate and potassium polyphosphate.
2836.20.00 | Disodium carbonate.
2836.30.00 | Sodium hydrogencarbonate (Sodium bicarbonate).
2836.40.10 | Dipotassium carbonate.
2836.40.20 | Potassium hydrogencarbonate (Potassium bicarbonate).
2836.50.00 | Calcium carbonate.
2836.60.00 | Barium carbonate.
2836.91.00 | Lithium carbonates.
2836.92.00 | Strontium carbonate.
2836.99.10 | Cobalt carbonates.
2836.99.20 | Bismuth carbonate.
2836.99.30 | Commercial ammonium carbonate, containing ammonium carbamate, and other ammonium carbonates.
2836.99.40 | Lead carbonate.
2836.99.50 | Carbonates nesoi, and peroxocarbonates (percarbonates).
2837.11.00 | Sodium cyanide.
2837.19.01 | Cyanides and cyanide oxides, except those of sodium.
2837.20.10 | Potassium ferricyanide.
2837.20.51 | Complex cyanides, excluding potassium ferricyanide.
2839.11.00 | Sodium metasilicates.
2839.19.00 | Sodium silicates except sodium metasilicates.
2839.90.10 | Potassium silicate.
2839.90.50 | Other alkali metal silicates nesoi.
2840.11.00 | Anhydrous disodium tetraborate (refined borax).
2840.19.00 | Disodium tetraborate (refined borax) except anhydrous.
2840.20.00 | Borates, other than disodium tetraborate (refined borax).
2840.30.00 | Peroxoborates (perborates).
2841.30.00 | Sodium dichromate.
2841.50.10 | Potassium dichromate.
2841.50.91 | Chromates except of zinc or lead and dichromates except of sodium or potassium; peroxochromates.
2841.61.00 | Potassium permanganate.
2841.69.00 | Manganites, manganates and permanganates (except potassium permanganate).
2841.70.10 | Ammonium molybdate.
2841.70.50 | Molybdates, other than of ammonium.
2841.80.00 | Tungstates (wolframates).
2841.90.10 | Vanadates.
2841.90.20 | Ammonium perrhenate.
2841.90.30 | Potassium stannate.
2841.90.40 | Aluminates.
2841.90.45 | Chromates of zinc or of lead.
2841.90.50 | Salts of oxometallic or peroxometallic acids nesoi.
2842.10.00 | Double or complex silicates.
2842.90.10 | Fulminates, cyanates and thiocyanates.
2842.90.90 | Salts of inorganic acids or peroxoacids nesoi, excluding azides.
2843.10.00 | Colloidal precious metals.
2843.21.00 | Silver nitrate.
2843.29.01 | Silver compounds, other than silver nitrate.
2843.30.00 | Gold compounds.
2843.90.00 | Inorganic or organic compounds of precious metals, excluding those of silver and gold; amalgams of precious metals.
2844.10.10 | Natural uranium metal.
2844.10.20 | Natural uranium compounds.
2844.10.50 | Alloys, dispersions (including cermets), ceramic products and mixtures containing natural uranium or natural uranium compounds.
2845.10.00 | Heavy water (Deuterium oxide).
2846.10.00 | Cerium compounds.
2846.90.20 | Mixtures of rare-earth oxides or of rare-earth chlorides.
2846.90.40 | Yttrium materials and compounds containing by wt. >19% But <85% yttrium oxide equivalent.
2846.90.80 | Compounds, inorganic or organic, of rare-earth metals, of yttrium or of scandium, or of mixtures of these metals, nesoi.
2847.00.00 | Hydrogen peroxide, whether or not solidified with urea.
2849.10.00 | Calcium carbide.
2849.20.10 | Silicon carbide, crude.
2849.20.20 | Silicon carbide, in grains, or ground, pulverized or refined.
2849.90.10 | Boron carbide.
2849.90.20 | Chromium carbide.
2849.90.30 | Tungsten carbide.
2849.90.50 | Carbides, nesoi.
2850.00.05 | Hydride, nitride, azide, silicide and boride of calcium.
2850.00.07 | Hydride, nitride, azide, silicide and boride of titanium.
2850.00.10 | Hydride, nitride, azide, silicide and boride of tungsten.
2850.00.20 | Hydride, nitride, azide, silicide and boride of vanadium.
2850.00.50 | Hydrides, nitrides, azides, silicides and borides other than of calcium, titanium, tungsten or vanadium.
2852.10.10 | Mercuric oxide, mercuric cyanide, mercuric oxycyanide and mercuric potassium cyanide.
2852.10.90 | Other chemically defined compounds of mercury excluding amalgams.
2852.90.05 | Albuminates, tannates, and phosphides of mercury.
2852.90.90 | Inorganic or organic compounds of mercury, not chemically defined, not albuminates, tannates, or phosphides, excluding amalgams.
2853.10.00 | Cyanogen chloride (Chlorocyan).
2853.90.10 | Phosphor copper containing more than 15% by weight of phosphorus, excluding ferrosphosphorus.
2853.90.50 | Phosphides, whether or not chemically defined, excluding ferrophosphorus, of other metals or of nonmetals.
2853.90.90 | Other phosphides, excl ferrophosphorous, nesoi.
2901.10.10 | Ethane and butane.
2901.10.30 | n-Pentane and isopentane.
2901.10.40 | Saturated acyclic hydrocarbon (not ethane, butane, n-pentane or isopentane), derived in whole or part from petroleum, shale oil or natural gas.
2901.10.50 | Saturated acyclic hydrocarbon (not ethane, butane, n-pentane or isopentane), not derived in whole or part petroleum, shale oil or natural gas.
2901.21.00 | Ethylene.
2901.22.00 | Propene (Propylene).
2901.23.00 | Butene (Butylene) and isomers thereof.
2901.24.10 | Buta-l,3-diene.
2901.24.20 | Isoprene, having a purity of 95 percent or more by weight.
2901.24.50 | Isoprene less than 95 percent pure.
2901.29.10 | Unsaturated acyclic hydrocarbons, nesoi, derived in whole or in part from petroleum, shale oil or natural gas.
2901.29.50 | Unsaturated acyclic hydrocarbons, nesoi, not derived in whole or in part from petroleum, shale oil or natural gas.
2902.11.00 | Cyclohexane.
2902.19.00 | Cyclanic hydrocarbons (except cyclohexane), cyclenic hydrocarbons and cycloterpenes.
2902.20.00 | Benzene.
2902.30.00 | Toluene.
2902.41.00 | o-Xylene.
2902.42.00 | m-Xylene.
2902.43.00 | p-Xylene.
2902.44.00 | Mixed xylene isomers.
2902.50.00 | Styrene.
2902.60.00 | Ethylbenzene.
2902.70.00 | Cumene.
2902.90.10 | Pseudocumene.
2902.90.20 | Acenaphthene, chrysene, cymene, dimethylnaphthalenes, fluoranthene, fluorene, indene, mesitylene, and other specified cyclic hydrocarbons.
2902.90.30 | Alkylbenzenes and polyalkylbenzenes.
2902.90.40 | Anthracene and 1,4-di-(2-methylstyryl)benzene.
2902.90.60 | Biphenyl (diphenyl), in flakes.
2902.90.90 | Cyclic hydrocarbons, nesoi.
2903.11.00 | Chloromethane (Methyl chloride) & chloroethane (Ethyl chloride).
2903.12.00 | Dichloromethane (Methylene chloride).
2903.13.00 | Chloroform (Trichloromethane).
2903.14.00 | Carbon tetrachloride.
2903.15.00 | 1,2-Dichloroethane (Ethylene dichloride).
2903.19.05 | 1,2-Dichloropropane (Propylene dichloride) and dichlorobutanes.
2903.19.10 | Hexachloroethane and tetrachloroethane.
2903.19.30 | sec-Butyl chloride.
2903.19.60 | Saturated chlorinated derivatives of acyclic hydrocarbons, nesoi.
2903.21.00 | Vinyl chloride (Chloroethylene).
2903.22.00 | Trichloroethylene.
2903.23.00 | Tetrachloroethylene (Perchloroethylene).
2903.29.00 | Unsaturated chlorinated derivatives of acyclic hydrocarbons, nesoi.
2903.31.00 | Ethylene dibromide.
2903.39.15 | Acetylene tetrabromide; alkyl bromides; methylene dibromide; and vinyl bromide.
2903.39.20 | Fluorinated, brominated or iodinated derivatives of acyclic hydrocarbons, nesoi.
2903.71.00 | Chlorodifluoromethane.
2903.72.00 | Dichlorotrifluoroethanes.
2903.73.00 | Dichlorofluoroethanes.
2903.74.00 | Chlorodifluoroethanes.
2903.75.00 | Dichloropentafluoropropanes.
2903.76.00 | Bromochlorodifluoromethane, bromotrifluoromethane and dibromotetrafluoroethanes.
2903.77.00 | Other acyclic hydrocarbon derivatives, perhalogenated only with flourine and chlorine.
2903.78.00 | Other perhalogenated acyclic hydrocarbon derivatives, nesoi.
2903.79.10 | Bromochloromethane.
2903.79.90 | Other halogenated derivatives of acyclic hydrocarbons containing two or more different halogens, nesoi.
2903.81.00 | 1,2,3,4,5,6-Hexachlorocyclohexane (HCH (ISO)), including Lindane (ISO, INN).
2903.82.00 | Aldrin (ISO), chlordane (ISO) and heptachlor (ISO).
2903.83.00 | Halogenated derivatives of cyclanic cyclenic or cycloterpenic hydrocarbons: Mirex (ISO).
2903.89.05 | Dibromoethyldibromocyclohexane.
2903.89.11 | Halogenated pesticides derived in whole or in part from benzene or other aromatic hydrocarbon, nesoi.
2903.89.15 | Halogenated products derived in whole or in part from benzene or other aromatic hydrocarbon, described in additional U.S. note 3 to sec. VI.
2903.89.20 | Halogenated derivatives derived in whole or in part from benzene or other aromatic hydrocarbon, nesoi.
2903.89.31 | Chlorinated, but not otherwise halogenated derivatives of cyclanic, cyclenic or cycloterpenic hydrocarbons.
2903.89.40 | 1,3,5,7,9,11-Hexabromocyclododecane.
2903.89.60 | Tetrabromocyclooctane.
2903.89.70 | Other halogenated derivatives of cyclanic etc hydrocarbons not deriv. from benzene or other aromatic hydrocarbons.
2903.91.10 | Chlorobenzene.
2903.91.20 | o-Dichlorobenzene.
2903.91.30 | p-Dichlorobenzene.
2903.92.00 | Hexachlorobenzene (ISO) and DDT (clofenatone (INN), (1,1,1-Trichloro-2,2-bis(p-chlorophenyl)ethane)).
2903.93.00 | Halogenated derivatives of aromatic hydrocarbons, pentachlorobenzene.
2903.94.00 | Halogenated derivatives of aromatic hydrocarbons, hexabromobiphenyls.
2903.99.05 | 3-Bromo-alpha,alpha,alpha-trifluorotoluene; and other specified halogenated derivatives of aromatic hydrocarbons.
2903.99.08 | p-Chlorobenzotrifluoride; and 3,4-Dichlorobenzotrifluoride.
2903.99.10 | m-Dichlorobenzene; 1,1-dichloro-2,2-bis(p-ethylphenyl)ethane; and trichlorobenzenes.
2903.99.15 | Triphenylmethyl chloride.
2903.99.20 | Benzyl chloride (alpha-Chlorotoluene); benzotrichloride (alpha,alpha,alpha-trichlorotoluene).
2903.99.23 | Pentabromoethylbenzene.
2903.99.27 | Tribromocumene.
2903.99.30 | Pesticides derived from halogenated derivatives of aromatic hydrocarbons.
2903.99.80 | Other halogenated derivatives of aromatic hydrocarbons, nesoi.
2904.10.04 | 2-Anthracenesulfonic acid.
2904.10.08 | Benzenesulfonyl chloride.
2904.10.10 | m-Benzenedisulfonic acid, sodium salt; 1,5-naphthalenedisulfonic acid; and p-toluenesulfonyl chloride.
2904.10.15 | Mixtures of 1,3,6-naphthalenetrisulfonic acid and 1,3,7-naphthalenetrisulfonic acid.
2904.10.32 | Aromatic derivatives of hydrocarbons containing only sulfo groups, their salts and ethyl esters, described in add. U.S. note 3 to sec. VI.
2904.10.37 | Aromatic derivatives of hydrocarbons containing only sulfo groups, their salts and ethyl esters, nesoi.
2904.10.50 | Nonaromatic derivatives of hydrocarbons containing only sulfo groups, their salts and ethyl esters, nesoi.
2904.20.10 | p-Nitrotoluene.
2904.20.15 | p-Nitro-o-xylene.
2904.20.20 | Trinitrotoluene.
2904.20.30 | 5-tert-Butyl-2,4,6-trinitro-m-xylene (Musk xylol) and other artificial musks.
2904.20.35 | Nitrated benzene, nitrated toluene (except p-nitrotoluene) or nitrated naphthalene.
2904.20.40 | Aromatic derivatives of hydrocarbons containing only nitro or only nitroso groups, described in additional U.S. note 3 to section VI.
2904.20.45 | Aromatic derivatives of hydrocarbons containing only nitro or only nitroso groups, nesoi.
2904.20.50 | Nonaromatic derivatives of hydrocarbons containing only nitro or only nitroso groups, nesoi.
2904.31.00 | Perfluorooctane sulfonic acid.
2904.32.00 | Ammonium perfluorooctane sulfonate.
2904.33.00 | Lithium perfluorooctane sulfonate.
2904.34.00 | Potassium perfluorooctane sulfonate.
2904.35.00 | Other salts of perfluorooctane sulfonic acid.
2904.36.00 | Perfluorooctane sulfonyl fluoride.
2904.91.00 | Trichloronitromethane (chloropicrin).
2904.99.04 | Monochloromononitrobenzenes; o-nitrochlorobenzene; p-nitrochlorobenzene.
2904.99.08 | Monochloromononitrobenzenes nesoi.
2904.99.15 | 4-Chloro-3-nitro-a,a,a-trifluorotoluene; 2-Chloro-5-nitro-a,a,a-trifluorotoluene; and 4-Chloro-3,5-dinitro-a,a,a-trifluorotoluene.
2904.99.20 | Nitrotoluenesulfonic acids.
2904.99.30 | 1-Bromo-2-nitrobenzene; 1,2-Dichloro-4-nitrobenzene and o-Fluoronitrobenzene.
2904.99.35 | 4,4′-Dinitrostilbene-2,2′-disulfonic acid.
2904.99.40 | Sulfonated, nitrated or nitrosated derivatives of aromatic products described in additional U.S. note 3 to section 6.
2904.99.47 | Other sulfonated, nitrated or nitrosated derivatives of aromatic hydrocarbons excluding aromatic products described in add. U.S. note 3 to section 6.
2904.99.50 | Nonaromatic sulfonated, nitrated or nitrosated derivatives of hydrocarbons, nesoi.
2905.11.10 | Methanol (Methyl alcohol) imported only for use in producing synthetic natural gas (SNG) or for direct use as a fuel.
2905.11.20 | Methanol (Methyl alcohol), other than imported only for use in producing synthetic natural gas (SNG) or for direct use as fuel.
2905.12.00 | Propan-1-ol (Propyl alcohol) and Propan-2-ol (isopropyl alcohol).
2905.13.00 | Butan-1-ol (n-Butyl alcohol).
2905.14.10 | tert-Butyl alcohol, having a purity of less than 99 percent by weight.
2905.14.50 | Butanols other than butan-1-ol and tert-butyl alcohol having a purity of less than 99 percent by weight.
2905.16.00 | Octanol (Octyl acohol) and isomers thereof.
2905.17.00 | Dodecan-1-ol (Lauryl alcohol); hexadecan-1-ol (Cetyl alcohol); octadecan-1-ol (Stearyl alcohol).
2905.19.10 | Pentanol (Amyl alcohol) and isomers thereof.
2905.19.90 | Saturated monohydric alcohols, nesoi.
2905.22.10 | Geraniol.
2905.22.20 | Isophytol.
2905.22.50 | Acyclic terpene alcohols, other than geraniol and isophytol.
2905.29.10 | Allyl alcohol.
2905.29.90 | Unsaturated monohydric alcohols, other than allyl alcohol or acyclic terpene alcohols.
2905.31.00 | Ethylene glycol (Ethanediol).
2905.32.00 | Propylene glycol (Propane-1,2-diol).
2905.39.10 | Butylene glycol.
2905.39.20 | Neopentyl glycol.
2905.39.60 | Hexylene glycol.
2905.39.90 | Dihydric alcohols (diols), nesoi.
2905.41.00 | 2-Ethyl-2-(hydroxymethyl)propane-1,3-diol (Trimethylolpropane).
2905.42.00 | Pentaerythritol.
2905.49.10 | Triols and tetrols.
2905.49.20 | Esters of glycerol formed with the acids of heading 2904.
2905.49.30 | Xylitol.
2905.49.40 | Polyhydric alcohols derived from sugars, nesoi.
2905.49.50 | Polyhydric alcohols, nesoi.
2905.59.10 | Halogenated, sulfonated, nitrated or nitrosated derivatives of monohydric alcohols.
2905.59.30 | Dibromoneopentylglycol.
2905.59.90 | Halogenated, sulfonated, nitrated or nitrosated derivatives of acyclic alcohols, nesoi.
2906.11.00 | Menthol.
2906.12.00 | Cyclohexanol, methylcyclohexanols and dimethylcyclohexanols.
2906.13.10 | Inositols.
2906.13.50 | Sterols.
2906.19.10 | 4,4′-Isopropylidenedicyclohexanol; and mixt. w/not less 90% stereoisomers of 2-isopropyl-5-methylcyclohexanol but n/o 30% any 1 stereoisomer.
2906.19.30 | Terpineols.
2906.19.50 | Other cyclanic, cyclenic or cycloterpenic alcohols and their halogenated, sulfonated, nitrated or nitrosated derivatives.
2906.21.00 | Benzyl alcohol.
2906.29.10 | Phenethyl alcohol.
2906.29.20 | Odoriferous or flavoring compounds of aromatic alcohols and their halogenated, sulfonated, nitrated or nitrosated derivatives, nesoi.
2906.29.30 | 1,1-Bis(4-chlorophenyl)-2,2,2-trichloroethanol (Dicofol); and p-nitrobenzyl alcohol.
2906.29.60 | Other aromatic alcohols and their halogenated, sulfonated, nitrated or nitrosated derivatives.
2907.11.00 | Phenol (Hydroxybenzene) and its salts.
2907.12.00 | Cresols and their salts.
2907.13.00 | Octylphenol, nonylphenol and their isomers; salts thereof.
2907.15.10 | alpha-Naphthol.
2907.15.30 | 2-Naphthol.
2907.15.60 | Naphthols and their salts, other than alpha-Naphthol and 2-Naphthol.
2907.19.10 | Alkylcresols.
2907.19.20 | Alkylphenols.
2907.19.40 | Thymol.
2907.19.61 | 2-t-Butyl ethyl phenol; and 6-t-butyl-2,4-xylenol and ylenols and their salts.
2907.19.80 | Other monophenols.
2907.21.00 | Resorcinol and its salts.
2907.22.10 | Hydroquinone (Quinol) and its salts, photographic grade.
2907.22.50 | Hydroquinone (Quinol) and its salts, other than photographic grade.
2907.23.00 | 4,4′-Isopropylidenediphenol (Bisphenol A, Diphenylolpropane) and its salts.
2907.29.05 | Phenol-alcohols.
2907.29.10 | Pyrogallic acid.
2907.29.15 | 4,4′-Biphenol.
2907.29.25 | tert-Butylhydroquinone.
2907.29.90 | Other polyphenols, nesoi.
2908.11.00 | Pentachlorophenol (ISO).
2908.19.05 | 2,2-Bis(4-hydroxyphenyl)-1,1,1,3,3,3-hexafluoropropane.
2908.19.10 | 6-Chloro-m-cresol [OH=1]; m-chlorophenol; and chlorothymol.
2908.19.15 | 3-Hydroxy-alpha,alpha,alpha-trifluorotoluene.
2908.19.20 | Pentachlorophenol and its salts; and 2,4,5-trichlorophenol and its salts.
2908.19.25 | Tetrabromobisphenol A.
2908.19.35 | Derivatives of phenols or phenol-alcohols containing only halogen substituents and their salts described in add. U.S. note 3 to sec. VI.
2908.19.60 | Other halogenated, sulfonated, nitrated or nitrosated derivatives of phenol or phenol-alcohols.
2908.91.00 | Dinoseb (ISO) and its salts.
2908.92.00 | 4,6-Dinitro-o-cresol (DNOC (ISO)) and its salts.
2908.99.03 | Specified derivatives of phenols or phenol-alcohols containing only sulfo groups, their salts and esters.
2908.99.06 | 4-Hydroxy-1-naphthalenesulfonic acid.
2908.99.09 | 1,8-Dihydroxynaphthalene-3,6-disulfonic acid and its sodium salt.
2908.99.12 | Derivatives nesoi, of phenols or phenol-alcohols cont. only sulfo groups, their salts and esters, described in add. U.S. note 3 to section VI.
2908.99.15 | Derivatives of phenol or phenol-alcohols containing only sulfo groups, their salts and esters, nesoi.
2908.99.20 | p-Nitrophenol.
2908.99.25 | Nitrophenols, except p-nitrophenol.
2908.99.33 | Dinitro-o-cresols (other than 4,6-dinitro-o-cresol) and 4-nitro-m-cresol.
2908.99.40 | Dinitrobutylphenol and its salts.
2908.99.80 | Halogenated, sulfonated, nitrated or nitrosated derivatives of phenols or phenol-alcohols described in additional U.S. note 3 to section VI.
2908.99.90 | Halogenated, sulfonated, nitrated or nitrosated derivatives of phenols or phenol-alcohols, nesoi.
2909.11.00 | Diethyl ether.
2909.19.14 | Methyl tertiay-butyl ether (MTBE).
2909.19.18 | Ethers of acyc monohydric alcohols & deriv., nesoi.
2909.19.30 | Triethylene glycol dichloride.
2909.19.60 | Ethers of polyhydric alcohols and their halogenated, sulfonated, nitrated or nitrosated derivatives, nesoi.
2909.20.00 | Cyclanic, cyclenic or cycloterpenic ethers and their halogenated, sulfonated, nitrated or nitrosated derivatives.
2909.30.05 | 5-Chloro-2-nitroanisole; 6-chloro-3-nitro-p-dimethoxybenzene; and dimethyl diphenyl ether.
2909.30.07 | Decabromodiphenyl oxide; and octabromodiphenyl oxide.
2909.30.09 | Bis-(tribromophenoxy)ethane; pentabromodiphenyl oxide; and tetradecabromodiphenoxy benzene.
2909.30.10 | 6-tert-Butyl-3-methyl-2,4-dinitroanisole (Musk ambrette) and other artificial musks.
2909.30.20 | Odoriferous or flavoring compounds of aromatic ethers and their halogenated, sulfonated, nitrated or nitrosated derivatives, nesoi.
2909.30.30 | Pesticides, of aromatic ethers and their halogenated, sulfonated, nitrated or nitrosated derivatives.
2909.30.40 | Aromatic ethers and their halogenated, sulfonated, nitrated or nitrosated derivatives, nesoi, described in add. U.S. note 3 to section VI.
2909.30.60 | Other aromatic ethers and their halogenated, sulfonated, nitrated, or nitrosated derivatives, nesoi.
2909.41.00 | 2,2′-Oxydiethanol (Diethylene glycol, Digol).
2909.43.00 | Monobutyl ethers of ethylene glycol or of diethylene glycol.
2909.44.01 | Monoalkyl ethers of ethylene glycol or of diethylene glycol.
2909.49.05 | Guaifenesoin.
2909.49.10 | Other aromatic ether-alcohols, their halogenated, sulfonated, nitrated or nitrosated derivatives described in add. U.S. note 3 to section VI.
2909.49.15 | Aromatic ether-alcohols and their halogenated, sulfonated, nitrated or nitrosated derivatives, nesoi.
2909.49.20 | Nonaromatic glycerol ethers.
2909.49.30 | Di-pentaerythritol having a purity of 94% or more by weight.
2909.49.60 | Other non-aromatic ether-alcohols and their halogenated, sulfonated, nitrated or nitrosated derivatives.
2909.50.10 | 4-Ethylguaiacol.
2909.50.20 | Guaiacol and its derivatives.
2909.50.40 | Odoriferous or flavoring compounds of ether-phenols, ether-alcohol-phenols & their halogenated, sulfonated, nitrated, nitrosated derivatives.
2909.50.45 | Ether-phenols, ether-alcohol-phenols & their halogenated, sulfonated, nitrated, nitrosated derivatives nesoi, in add. U.S. note 3 to sec. VI.
2909.50.50 | Ether-phenols, ether-alcohol-phenols and their halogenated, sulfonated, nitrated or nitrosated derivatives, nesoi.
2909.60.10 | Aromatic alcohol, ether and ketone peroxides and their halogenated, sulfonated, nitrated, nitrosated derivatives, in add. U.S. note 3 sec. VI.
2909.60.20 | Aromatic alcohol peroxides, ether peroxides, ketone peroxides and their halogenated, sulfonated, nitrated or nitrosated derivatives, nesoi.
2909.60.50 | Nonaromatic alcohol, ether and ketone peroxides and their halogenated, sulfonated, nitrated or nitrosated derivatives.
2910.10.00 | Oxirane (Ethylene oxide).
2910.20.00 | Methyloxirane (Propylene oxide).
2910.30.00 | 1-Chloro-2,3-epoxypropane (Epichlorohydrin).
2910.40.00 | Dieldrin.
2910.50.00 | Endrin.
2910.90.10 | Butylene oxide.
2910.90.20 | Aromatic epoxides, epoxyalcohols, epoxyphenols and epoxyethers, with a three-membered ring, and their derivatives, nesoi.
2910.90.91 | Other nonaromatic epoxides, epoxyalcohols and epoxyethers, with a three-membered ring and their halogenated, sulfonated, nitrated or nitrosated deriv.
2911.00.10 | 1,1-Bis-(1-methylethoxy)cyclohexane.
2911.00.50 | Acetals and hemiacetals, whether or not with other oxygen function, and their halogenated, sulfonated, nitrated or nitrosated derivatives.
2912.11.00 | Methanal (Formaldehyde).
2912.12.00 | Ethanal (Acetaldehyde).
2912.19.10 | Citral.
2912.19.20 | Odoriferous or flavoring compounds of acyclic aldehydes without other oxygen function, nesoi.
2912.19.25 | Butanal (Butyraldehyde, normal isomer).
2912.19.30 | Glyoxal.
2912.19.40 | Isobutanal.
2912.19.50 | Acyclic aldehydes without other oxygen function, nesoi.
2912.21.00 | Benzaldehyde.
2912.29.10 | Phenylacetaldehyde.
2912.29.30 | 3,4-Dimethylbenzaldehyde; paraldehyde, USP grade; and p-tolualdehyde.
2912.29.60 | Other cyclic aldehydes without other oxygen function.
2912.41.00 | Vanillin (4-Hydroxy-3-methoxybenzaldehyde).
2912.42.00 | Ethylvanillin (3-Ethoxy-4-hydroxy-benzaldehyde).
2912.49.10 | p-Anisaldehyde.
2912.49.15 | P-Hydroxybenzaldehyde.
2912.49.26 | Other aromatic aldehyde-alcohols, aldehyde-ethers, aldehyde-phenols and aldehydes with other oxygen function.
2912.49.55 | Hydroxycitronellal.
2912.49.60 | Nonaromatic aldehyde-alcohols, other than hydroxycitronellal.
2912.49.90 | Nonaromatic aldehyde-ethers, aldehyde-phenols and aldehydes with other oxygen function, nesoi.
2912.50.10 | Metaldehyde from cyclic polymers of aldehydes.
2912.50.50 | Cyclic polymers of aldehydes, other than Metaldehyde.
2912.60.00 | Paraformaldehyde.
2913.00.20 | 4-Fluoro-3-phenoxybenzaldehyde.
2913.00.40 | Aromatic halogenated, sulfonated, nitrated or nitrosated derivatives of product of heading 2912.
2913.00.50 | Nonaromatic halogenated, sulfonated, nitrated or nitrosated derivatives of products of heading 2912.
2914.11.10 | Acetone, derived in whole or in part from cumene.
2914.11.50 | Acetone, not derived in whole or in part from cumene.
2914.12.00 | Butanone (Methyl ethyl ketone).
2914.13.00 | 4-Methylpentan-2-one (Methyl isobutyl ketone).
2914.19.00 | Acyclic ketones without other oxygen function, nesoi.
2914.22.10 | Cyclohexanone.
2914.22.20 | Methylcyclohexanone.
2914.23.00 | Ionones and methylionones.
2914.29.10 | Isophorone.
2914.29.30 | Natural camphor.
2914.29.31 | Synthetic camphor.
2914.29.50 | Cyclanic, cyclenic or cycloterpenic ketones without other oxygen function, nesoi.
2914.31.00 | Phenylacetone (Phenylpropan-2-one).
2914.39.10 | 7-Acetyl-1,1,3,4,4,6-hexamethyltetrahydronaphthalene; 1-(2-Naphthalenyl)ethanone; and 6-Acetyl-1,1,2,3,3,5-hexamethylindan.
2914.39.90 | Aromatic ketones without other oxygen function, nesoi.
2914.40.10 | 4-Hydroxy-4-methylpentan-2-one (Diacetone alcohol).
2914.40.20 | 1,2,3-Indantrione monohydrate (Ninhydrin).
2914.40.40 | Aromatic ketone-alcohols and ketone-aldehydes, nesoi.
2914.40.60 | 1,3-Dihydroxyacetone.
2914.40.90 | Nonaromatic ketone-alcohols and ketone-aldehydes, nesoi.
2914.50.10 | 5-Benzoyl-4-hydroxy-2-methoxy-benzenesulfonic acid.
2914.50.30 | Aromatic ketone-phenols and ketones with other oxygen function.
2914.50.50 | Nonaromatic ketone-phenols and ketones with other oxygen function.
2914.61.00 | Anthraquinone.
2914.69.10 | Photographic chemicals of quinones.
2914.69.60 | 1,4-Dihydroxyanthraquinone; and 2-ethylanthraquinone.
2914.69.90 | Quinones, nesoi.
2914.71.00 | Halogenated, sulfonated, nitrated or nitrosated derivatives: chlordecone (ISO).
2914.79.10 | 2,3-dichloro-1,4-naphthoquinone and other artificial musks.
2914.79.30 | Anthraquinone disulfonic acid, sodium salt; and 4-(3,4-Dichlorophenyl)-1-tetralone.
2914.79.40 | Other halogenated, sulfonated, nitrated, etc derivatives of aromatic ketones and quinones whether or not with other oxygen function.
2914.79.60 | 1-Chloro-5-hexanone.
2914.79.90 | Other halogenated, sulfonated, nitrated or nitrosated derivatives of nonaromatic ketones and quinones whether or not with other ogygen function.
2915.11.00 | Formic acid.
2915.12.00 | Salts of formic acid.
2915.13.10 | Aromatic esters of formic acid.
2915.13.50 | Nonaromatic esters of formic acid.
2915.21.00 | Acetic acid.
2915.24.00 | Acetic anhydride.
2915.29.10 | Cupric acetate monohydrate.
2915.29.20 | Sodium acetate.
2915.29.30 | Cobalt acetates.
2915.29.50 | Other salts of acetic acid.
2915.31.00 | Ethyl acetate.
2915.32.00 | Vinyl acetate.
2915.33.00 | n-Butyl acetate.
2915.36.00 | Dinoseb (ISO) acetate.
2915.39.10 | Benzyl acetate.
2915.39.20 | Odoriferous or flavoring compounds of aromatic esters of acetic acid, other than benzyl acetate.
2915.39.31 | Aromatic esters of acetic acid described in additional U.S. note 3 to section VI.
2915.39.35 | Aromatic esters of acetic acid, nesoi.
2915.39.40 | Linalyl acetate.
2915.39.45 | Odoriferous or flavoring compounds of nonaromatic esters of acetic acid, nesoi.
2915.39.47 | Acetates of polyhydric alcohols or of polyhydric alcohol ethers.
2915.39.60 | Bis(bromoacetoxy)butene.
2915.39.70 | Isobutyl acetate.
2915.39.80 | 2-Ethoxyethyl acetate (Ethylene glycol, monoethyl ether acetate).
2915.39.90 | Other non-aromatic esters of acetic acid.
2915.40.10 | Chloroacetic acids.
2915.40.20 | Aromatic salts and esters of chlorocetic acids, described in additional U.S. note 3 to section VI.
2915.40.30 | Aromatic salts and esters of chlorocetic acids, nesoi.
2915.40.50 | Nonaromatic salts and esters of chlorocetic acids, nesoi.
2915.50.10 | Propionic acid.
2915.50.20 | Aromatic salts and esters of propionic acid.
2915.50.50 | Nonaromatic salts and esters of propionic acid.
2915.60.10 | Aromatic salts and esters of butyric acids and valeric acids.
2915.60.50 | Butyric acids, valeric acids, their nonaromatic salts and esters.
2915.70.01 | Palmitic acid, stearic acid, their salts and esters.
2915.90.10 | Fatty acids of animal or vegetable origin, nesoi.
2915.90.14 | Valproic acid.
2915.90.18 | Saturated acyclic monocarboxylic acids, nesoi.
2915.90.20 | Aromatic anhydrides, halides, peroxides and peroxyacids, of saturated acyclic monocarboxylic acids, and their derivatives, nesoi.
2915.90.50 | Nonaromatic anhydrides, halides, peroxides and peroxyacids, of saturated acyclic monocarboxylic acids, and their derivatives, nesoi.
2916.11.00 | Acrylic acid and its salts.
2916.12.10 | Aromatic esters of acrylic acid.
2916.12.50 | Nonaromatic esters of acrylic acid.
2916.13.00 | Methacrylic acid and its salts.
2916.14.10 | Dicyclopentenyloxyethyl methacrylate.
2916.14.20 | Other esters of methacrylic acid.
2916.15.10 | Oleic, linoleic or linolenic acids.
2916.15.51 | Salts and esters of oleic, linoleic or linolenic acids.
2916.16.00 | Binapacryl (ISO).
2916.19.10 | Potassium sorbate.
2916.19.20 | Sorbic acid.
2916.19.30 | Unsaturated acyclic monocarboxylic acids, nesoi.
2916.19.50 | Unsaturated acyclic monocarboxylic acid anhydrides, halides, peroxides, peroxyacids and their derivatives, nesoi.
2916.20.10 | Tefluthrin.
2916.20.50 | Cyclanic, cyclenic or cycloterpenic monocarboxylic acids, their anhydrides, halides, peroxides, peroxyacids and their derivatives.
2916.31.11 | Benzoic acid and its salts.
2916.31.20 | Odoriferous or flavoring compounds of benzoic acid esters.
2916.31.30 | Benzoic acid esters, except odoriferous or flavoring compounds, described in additional U.S. note 3 to section VI.
2916.31.50 | Benzoic acid esters, nesoi.
2916.32.10 | Benzoyl peroxide.
2916.32.20 | Benzoyl chloride.
2916.34.10 | Phenylacetic acid (alpha-Toluic acid).
2916.34.15 | Odoriferous or flavoring compounds of phenylacetic acid and its salts.
2916.34.25 | Phenylacetic acid salts, nesoi, described in additional U.S. note 3 to section VI.
2916.34.55 | Phenylacetic acid salts, nesoi.
2916.39.03 | Benzoic anhydride; tert-butyl peroxybenzoate; p-nitrobenzoyl chloride; 2-nitro-m-toluic acid; and 3-nitro-o-toluic acid.
2916.39.04 | Specified derivatives of benzoic and toluic acids.
2916.39.06 | Cinnamic acid.
2916.39.08 | 4-Chloro-3-nitrobenzoic acid.
2916.39.12 | 4-Chloro-3,5-dinitrobenzoic acid and its esters.
2916.39.15 | Ibuprofen.
2916.39.16 | 4-Chlorobenzoic acid.
2916.39.17 | 2,2-Dichlorophenylacetic acid ethyl ester and m-toluic acid.
2916.39.21 | Odoriferous or flavoring compounds of aromatic monocarboxylic acids, their anhydrides, halides, peroxides, peroxyacids and derivatives.
2916.39.46 | Aromatic monocarboxylic acids, their anhydrides, halides, peroxides, peroxyacids and derivatives described in add'l U.S. note 3 to section VI.
2916.39.77 | Phenylacetic acid esters, nesoi.
2916.39.79 | Other aromatic monocarboxylic acids, their anhydrides, halides, peroxides, peroxyacids and their derivatives.
2917.11.00 | Oxalic acid, its salts and esters.
2917.12.10 | Adipic acid.
2917.12.20 | Plasticizers of adipic acid salts and esters.
2917.12.50 | Adipic acid salts and esters, nesoi.
2917.13.00 | Azelaic acid, sebacic acid, their salts and esters.
2917.14.10 | Maleic anhydride derived in whole or in part from benzene or other aromatic hydrocarbons.
2917.14.50 | Maleic anhydride, except derived in whole or in part from benzene or other aromatic hydrocarbons.
2917.19.10 | Ferrous fumarate.
2917.19.15 | Fumaric acid, derived in whole or in part from aromatic hydrocarbons.
2917.19.17 | Fumaric acid except derived in whole or in part from aromatic hydrocarbons.
2917.19.20 | Specified acyclic polycarboxylic acids and their derivatives, described in additional U.S. note 3 to section VI.
2917.19.23 | Maleic acid.
2917.19.27 | Succinic acid, glutaric acid, and their derivatives, and derivatives of adipic, fumeric and maleic acids, nesoi.
2917.19.30 | Ethylene brassylate.
2917.19.35 | Malonic acid.
2917.19.40 | Acyclic polycarboxylic acids, derived from aromatic hydrocarbons, and their derivatives, nesoi.
2917.19.70 | Acyclic polycarboxylic acids and derivative (excluding plasticizers).
2917.20.00 | Cyclanic, cyclenic or cycloterpenic polycarboxylic acids, their anhydrides, halides, peroxides, peroxyacids and their derivatives.
2917.32.00 | Dioctyl orthophthalates.
2917.33.00 | Dinonyl or didecyl orthophthalates.
2917.34.01 | Esters of orthophthalic acid, nesoi.
2917.35.00 | Phthalic anhydride.
2917.36.00 | Terephthalic acid and its salts.
2917.37.00 | Dimethyl terephthalate.
2917.39.04 | 1,2,4-Benzenetricarboxylic acid,1,2-dianhydride(trimellitic anhydride); naphthalic anhydride; phthalic acid; & 4-sulfo-1,8-naphthalic anhydride.
2917.39.08 | Naphthalic anhydride.
2917.39.12 | 4,4′-(Hexafluoroisopropyl-indene)bis(phthalic anhydride).
2917.39.15 | Isophthalic acid.
2917.39.17 | Tetrabromophthalic anhydride.
2917.39.20 | Plasticizers of aromatic polycarboxylic acids, their anhydrides, halides, peroxides, peroxyacids and their derivatives.
2917.39.30 | Aromatic polycarboxylic acids, their anhydrides, halides, peroxides, peroxyacids and their derivatives nesoi, in add. U.S. note 3 to sec. VI.
2917.39.70 | Other aromatic polycarboxylic acids and their derivatives (excluding those described in additional U.S. note 3 to section VI.
2918.11.10 | Lactic acid.
2918.11.51 | Salts and esters of lactic acid.
2918.12.00 | Tartaric acid.
2918.13.10 | Potassium antimony tartrate (Tartar emetic).
2918.13.20 | Potassium bitartrate (Cream of tartar).
2918.13.30 | Potassium sodium tartrate (Rochelle salts).
2918.13.50 | Salts and esters of tartaric acid, nesoi.
2918.14.00 | Citric acid.
2918.15.10 | Sodium citrate.
2918.15.50 | Salts and esters of citric acid, except sodium citrate.
2918.16.10 | Gluconic acid.
2918.16.50 | Salts and esters of gluconic acid.
2918.17.00 | 2,2-Diphenyl-2-hydroxyacetic acid (benzilic acid).
2918.18.00 | Chlorobenzilate (ISO).
2918.19.11 | Benzilic acid, methyl ester.
2918.19.12 | Phenylglycolic acid (Mandelic acid).
2918.19.15 | Phenylglycolic (Mandelic) acid salts and esters.
2918.19.20 | Aromatic carboxylic acids with alcohol function, w/o other oxygen functions, and their derivatives, described in add. U.S. note 3 to sec. VI.
2918.19.31 | Aromatic carboxylic acids with alcohol function, without other oxygen functions, and their derivatives, nesoi.
2918.19.60 | Malic acid.
2918.19.90 | Nonaromatic carboxylic acids with alcohol function, without other oxygen function, and their derivatives, nesoi.
2918.21.10 | Salicylic acid and its salts, suitable for medicinal use.
2918.21.50 | Salicylic acid and its salts, not suitable for medicinal use.
2918.23.10 | Salol (Phenyl salicylate) suitable for medicinal use.
2918.23.20 | Odoriferous or flavoring compounds of other esters of salicyclic acid and their salts, nesoi.
2918.23.30 | Esters of salicylic acid and their salts, described in additional U.S. note 3 to section VI.
2918.23.50 | Esters of salicylic acid and their salts, nesoi.
2918.29.04 | 2,3-Cresotic acid; m-hydroxybenzoic acid; 2-hydroxybenzoic acid, calcium salt; and other specified carboxylic acids w/phenol function.
2918.29.06 | 1,6-hexanediol-bis(3,5-dibutyl-4-hydroxyphenyl)propionate.
2918.29.08 | m-Hydroxybenzoic acid.
2918.29.20 | Gentisic acid; and hydroxycinnamic acid and its salts.
2918.29.22 | p-Hydroxybenzoic acid.
2918.29.25 | 3-Hydroxy-2-naphthoic acid.
2918.29.30 | Gallic acid.
2918.29.39 | 4,4-Bis(4-hydroxyphenyl)-pentanoic acid; and 3,5,6-triclorosalicylic acid.
2918.29.65 | Carboxylic acids with phenol function but w/o other oxygen function, described in add'l. U.S. note 3 to section VI.
2918.29.75 | Other carboxylic acids w/phenol function but w/o other oxygen function & their derivatives (excluding goods of add. U.S. note 3 to section VI).
2918.30.10 | 1-Formylphenylacetic acid, methyl ester.
2918.30.15 | 2-Chloro-4,5-difluoro-beta-oxobenzenepropanoic acid, ethyl ester; and ethyl 2-keto-4-phenylbutanoate.
2918.30.25 | Aromatic carboxylic acids w/aldehyde or ketone function but w/o other oxygen function & their deriv desc. in add U.S. note 3 to sec VI, nesoi.
2918.30.30 | Aromatic carboxylic acids with aldehyde or ketone function, but without other oxygen function, and derivatives, nesoi.
2918.30.70 | Dimethyl acetyl succinate; oxalacetic acid diethyl ester sodium salt; 4,4,4-trifluoro-3-oxobutanoic acid, both ethyl & methyl ester versions.
2918.30.90 | Non-aromatic carboxylic acids w/aldehyde or ketone function but w/o other oxygen func. their anhydrides, halides, peroxides, etc derivatives.
2918.91.00 | 2, 4, 5-T (ISO) (2, 4, 5-trichlorophenoxyacetic acid), its salts and esters.
2918.99.05 | p-Anisic acid; clofibrate and 3-phenoxybenzoic acid.
2918.99.06 | 1-Hydroxy-6-octadecyloxy-2-naphthalenccarboxylic acid; and 1-hydroxy-6-docosyloxy-2-naphthalene carboxylic acid.
2918.99.18 | 4-(4-Chloro-2-methyl-phenoxy)butyric acid; p-chlorophenoxyacetic acid; and 2-(2,4-dichlorophenoxy)propionic acid.
2918.99.20 | Aromatic pesticides, derived from carboxylic acids with additional oxygen function, and their derivatives, nesoi.
2918.99.35 | Odoriferous or flavoring compounds of carboxylic acids with additional oxygen function, and their derivatives, nesoi.
2918.99.43 | Aromatic carboxylic acids with add'l oxygen function and their anhydrides, halide, etc deriv described in add U.S. note 3 to sect VI, nesoi.
2918.99.47 | Other aromatic carboxylic acids with add'l oxygen function and their anhydrides, halide, etc deriv (exclud goods in add U.S. note 3 to sec VI).
2918.99.50 | Nonaromatic carboxylic acids with additional oxygen function, and their derivatives, nesoi.
2919.10.00 | Tris (2,3-dibromopropyl phosphate).
2919.90.15 | Triphenyl phosphate plasticizers.
2919.90.25 | Other aromatic plasticizers.
2919.90.30 | Aromatic phosphoric esters and their salts, including lactophosphates, and their derivatives, not used as plasticizers.
2919.90.50 | Nonaromatic phosphoric esters and their salts, including lactophosphates, and their derivatives.
2920.11.00 | Parathion (ISO) and parathion-methyl (ISO) (methyl-parathion).
2920.19.10 | O,O-Dimethyl-O-(4-nitro-m-tolyl)-phosphorothioate (Fenitrothion).
2920.19.40 | Other aromatic thiophosphoric esters (phosphorothioates) and their salts; their halogenated, sulfonated, nitrated or nitrosated derivatives.
2920.19.50 | Nonaromatic phosphorothioates, their salts and halogenated, sulfonated, nitrated or nitrosated derivatives, nesoi.
2920.21.00 | Dimethyl phosphite.
2920.22.00 | Diethyl phosphite.
2920.23.00 | Trimethyl phosphite.
2920.24.00 | Triethyl phosphite.
2920.29.00 | Other phosphite esters and their salts; their haolgenated, sulfonated, nitrated or nitrosated derivatives.
2920.30.00 | Endosulfan (ISO).
2920.90.10 | Aromatic pesticides of esters of other inorganic acids (excluding hydrogen halides), their salts and their derivatives.
2920.90.20 | Aromatic esters of other inorganic acids (excluding hydrogen halides) their salts and their derivatives, nesoi.
2920.90.51 | Nonaromatic esters of inorganic acids of nonmetals and their salts and derivatives, excluding esters of hydrogen halides, nesoi.
2921.11.00 | Methylamine, di- or trimethylamine, and their salts.
2921.12.01 | 2-(N,N-Dimethylamino)ethyl chloride hydrochloride.
2921.13.00 | 2-(N,N-Diethylamino)ethyl chloride hydrochloride.
2921.14.00 | 2-(N,N,-Diisopropylamino)ethyl chloride hydrochloride.
2921.19.11 | Mono- and triethylamines; mono-, di-, and tri(propyl- and butyl-) monoamines; salts of any of the foregoing.
2921.19.31 | 3-Amino-3-methyl-1-butyne; (Dimethylamino)isopropyl chloride hydrochloride.
2921.19.61 | N,N-Dialkyl (methyl, ethyl, N-Propyl or Isopropyl)-2-Chloroethylamines and their protonated salts; Acylcic monoamines and their derivatives, nesoi.
2921.21.00 | Ethylenediamine and its salts.
2921.22.05 | Hexamethylenediamine adipate (Nylon salt).
2921.22.10 | Hexamethylenediamine and its salts (except Nylon salt), derived in whole or in part from adipic acid.
2921.22.50 | Hexamethylenediamine and its salts (except Nylon salt), not derived in whole or in part from adipic acid.
2921.29.00 | Acyclic polyamines, their derivatives and salts, other than ethylenediamine or hexamethylenediamine and their salts.
2921.30.05 | 1,3-Bis(aminoethyl)cyclohexane.
2921.30.10 | Cyclanic, cyclenic, cycloterpenic mono- or polyamines, derivatives and salts, from any aromatic compound desc in add U.S. note 3, sec. VI.
2921.30.30 | Cyclanic, cyclenic, cycloterpenic mono- or polyamines and their derivative, deriv from any aromatic cmpd (excl goods in add U.S. note 3 sec VI.
2921.30.50 | Cyclanic, cyclenic or cycloterpenic mono- or polyamines, and their derivatives and salts, from any nonaromatic compounds.
2921.41.10 | Aniline.
2921.41.20 | Aniline salts.
2921.42.10 | N,N-Dimethylaniline.
2921.42.15 | N-Ethylaniline and N,N-diethylaniline.
2921.42.16 | 2,4,5-Trichloroaniline.
2921.42.18 | o-Aminobenzenesulfonic acid; 6-chlorometanilic acid; 2-chloro-5-nitroaniline; 4-chloro-3-nitroaniline; dichloroanilines; and other specified.
2921.42.21 | Metanilic acid.
2921.42.22 | Sulfanilic acid.
2921.42.23 | 3,4-Dichloroaniline.
2921.42.36 | m-Chloroaniline; 2-chloro-4-nitroaniline; 2,5-dicholoraniline-4-sulfonic acid & its monosodium salt; & other specified aniline derivatives.
2921.42.55 | Fast color bases of aniline derivatives and their salts.
2921.42.65 | Aniline derivatives and their salts of products in additional U.S. note 3 to section VI.
2921.42.90 | Other aniline derivatives and their salts.
2921.43.04 | 3-Chloro-o-toluidine; and 6-chloro-o-toluidine.
2921.43.08 | 4-Chloro-o-toluidine hydrochloride; 5-chloro-o-o-toluidine; 6-chloro-2-toluidine-sulfonic acid; 4-chloro-a,a,a-trifluoro-o-toluidine;& other.
2921.43.15 | alpha,alpha,alpha-Trifluoro-2,6-dinitro-N,N-dipropyl-p-toluidine (Trifluralin).
2921.43.19 | alpha,alpha,alpha-Trifluoro-o-toluidine; alpha,alpha,alpha-trifluoro-6-chloro-m-toluidine.
2921.43.22 | N-Ethyl-N-(2-methyl-2-propenyl)-2,6-dinitro-4-(trifluoromethyl)benzenamine.
2921.43.24 | 2-Amino-5-chloro-4-ethyl-benzenesulfonic acid; 2-amino-5-chloro-p-toluenesulfonic acid; p-nitro-o-toluidine; and 3-(trifluoromethyl)aniline.
2921.43.40 | Toluidines and their derivatives; salts thereof; described in additional U.S. note 3 to section VI.
2921.43.90 | Other toluidines and their derivatives; and salts thereof, nesoi.
2921.44.05 | 4,4′-Bis(alpha,alpha-dimethlbenzyl)diphenylamine; and N-nitrosodiphenylamine.
2921.44.10 | Nitrosodiphenylamine.
2921.44.20 | Diphenylamine and its derivatives (except nitrodiphenylamine); salts thereof, described in additional U.S. note 3 to section VI.
2921.44.70 | Diphenylamine and its derivatives; salts thereof; excluding goods in additional U.S. note 3 to section VI.
2921.45.10 | 7-Amino-1,3-naphthalenedisulfonic acid, specified naphthalenesulfonic acids and their salts; N-phenyl-2-napthylamine.
2921.45.20 | Specified aromatic monoamines and their derivatives; salts thereof.
2921.45.25 | Mixture of 5- & 8-amino-2-naphthalenesulfonic acid;2-naphthalamine-o-sulfonic acid;& o-naphthionic acid (1-amino-2-naphthalenesulfonic acid).
2921.45.60 | Aromatic monoamines and their derivatives and salts described in additional U.S. note 3 to section VI, nesoi.
2921.45.90 | Aromatic monoamines and their derivatives and salts thereof nesoi.
2921.49.10 | 4-Amino-2-stilbenesulfonic acid and its salts, p-ethylaniline; 2,4,6-trimethylaniline (Mesidine); and specified xylidines.
2921.49.15 | m-Nitro-p-toluidine.
2921.49.45 | Aromatic monoamines and their derivatives nesoi; salts thereof, described in additional U.S. note 3 to section VI.
2921.49.50 | Aromatic monoamines and their derivatives and salts thereof, nesoi.
2921.51.10 | 4-Amino-2-(N,N-diethylamino)toluene hydrochloride; m- and o-phenylenediamine; toluene-2,4- and -2,5-diamine; and toluene-2,5-diamine sulfate.
2921.51.20 | Photographic chemicals of o-, m-, p-phenylenediamine, diaminotoluenes, and their derivatives, and salts thereof.
2921.51.30 | o-, m-, p-Phenylenediamine, diaminotoluenes, and their derivatives, and salts thereof, described in additional U.S. note 3 to section VI.
2921.51.50 | o-, m-, p-Phenylenediamine, and diaminotoluenes and their derivatives, and salts thereof, nesoi.
2921.59.04 | 1,8-diaminonaphthalene (1,8-naphthalenediamino).
2921.59.08 | 5-Amino-2-(p-aminoanilino)benzenesulfonic acid; 4,4-diamino-3-biphenylsulfonic acid; 3,3-dimethylbenzidine (o-tolidine); & other specified.
2921.59.17 | 4,4′-Benzidine-2,2′-disulfonic acid; 1,4-diaminobenzene-2-sulfonic acid; 4,4′-methylenebis-(2,6-diethylaniline); m-xylenediamine; and 1 other.
2921.59.20 | 4,4′-Diamino-2,2′-stilbenedisulfonic acid.
2921.59.30 | 4,4′-Methylenedianiline.
2921.59.40 | Aromatic polyamines and their derivatives and salts thereof, described in additional U.S. note 3 to section VI.
2921.59.80 | Aromatic polyamines and their derivatives; salts thereof nesoi.
2922.11.00 | Monoethanolamine and its salts.
2922.12.00 | Diethanolamine and its salts.
2922.15.00 | Triethanolamine.
2922.16.00 | Diethylammonium perfluorooctane sulfonate.
2922.17.00 | Methyldiethanolamine and ethyldiethanolamine.
2922.18.00 | 2-(N,N-Diisopropylamino)ethanol.
2922.21.10 | 1-Amino-8-hydroxy-3,6-naphthalenedisulfonic acid; and other specified aminohydroxynaphthalenesulfonic acids and their salts.
2922.21.25 | 1-Amino-8-hydroxy-4,6-naphthalenedisulfonic acid, monosodium salts.
2922.21.40 | Aminohydroxynaphthalene sulfonic acids and their salts of products described in additional U.S. note 3 to section VI.
2922.21.50 | Aminohydroxynaphthalene sulfonic acids and their salts, nesoi.
2922.29.03 | o-Anisidine; p-anisidine; and p-phenetidine.
2922.29.06 | m-Nitro-p-anisidine and m-nitro-o-anisidine as fast color bases.
2922.29.08 | m-Nitro-p-anisidine and m-nitro-o-anisidine, nesoi.
2922.29.10 | 2-Amino-6-chloro-4-nitrophenol and other specified amino-naphthols and amino-phenols, their ethers and esters; salts thereof.
2922.29.13 | o-Aminophenol; and 2,2-bis-[4-(4-aminophenoxy)phenyl]propane.
2922.29.15 | m-Diethylaminophenol; m-dimethylaminophenol; 3-ethylamino-p-cresol; and 5-methoxy-m-phenylenediamine.
2922.29.20 | 4-Chloro-2,5-dimethoxyaniline; and 2,4-dimethoxyaniline.
2922.29.26 | Amino-naphthols and other amino-phenols and their derivatives used as fast color bases.
2922.29.27 | Drugs of amino-naphthols and -phenols, their ethers and esters, except those cont. more than one oxygen function; salts thereof, nesoi.
2922.29.29 | Photographic chemicals of amino-naphthols and -phenols, their ethers/esters, except those cont. more than one oxygen function; salts, nesoi.
2922.29.61 | Amino-naphthols and other amino-phenols and their derivatives of products described in add'l U.S. note 3 to section VI.
2922.29.81 | Amino-naphthols and other amino-phenols; their ethers, esters & salts (not containing more than one oxygen function) thereof nesoi.
2922.39.05 | 1-Amino-2,4-dibromoanthraquinone; and 2-Amino-5-chlorobenzophenone.
2922.39.10 | 2′-Aminoacetophenone & other specified aromatic amino-aldehydes, -ketones and -quinones, other than those with more than one oxygen function.
2922.39.14 | 2-Aminoanthraquinone.
2922.39.17 | 1-Aminoanthraquinone.
2922.39.25 | Aromatic amino-aldehydes, -ketones and -quinones, other than those with more than one oxygen function; salts; desc in add U.S. note 3 sec VI.
2922.39.45 | Aromatic amino-aldehydes, -ketones and -quinones, other than those with more than one oxygen function; salts thereof; nesoi.
2922.39.50 | Nonaromatic amino-aldehydes, -ketones and -quinones, other than those with more than one kind of oxygen function, salts thereof; nesoi.
2922.42.10 | Monosodium glutamate.
2922.42.50 | Glutamic acid and its salts, other than monosodium glutamate.
2922.43.10 | Anthranilic acid and its salts, described in additional U.S. note 3 to section VI.
2922.43.50 | Anthranilic acid and its salts, nesoi.
2922.49.05 | (R)-alpha-Aminobenzeneacetic acid; and 2-amino-3-chlorobenzoic acid, methyl ester.
2922.49.10 | m-Aminobenzoic acid, technical; and other specified aromatic amino-acids and their esters, except those with more than one oxygen function.
2922.49.26 | Aromatic amino-acids drugs and their esters, not containing more than one kind of oxygen function, nesoi.
2922.49.30 | Aromatic amino-acids and their esters, excl. those with more than one oxygen function; salts; described in add. U.S. note 3 to sect VI.
2922.49.37 | Aromatic amino-acids and their esters, not contng more than 1 kind of oxygen function (excluding goods in add U.S. note 3 to sec VI), nesoi.
2922.49.43 | Glycine (aminoacetic acid).
2922.49.49 | Nonaromatic amino-acids, other than those containing more than one kind of oxygen function, other than glycine.
2922.49.60 | 3-Aminocrotonic acid, methyl ester; and (R)-alpha-amino-1,4-cyclohexadiene-1-acetic acid.
2922.49.80 | Non-aromatic esters of amino-acids, other than those containing more than one kind of oxygen function; salts thereof.
2923.10.00 | Choline and its salts.
2923.20.10 | Purified egg phospholipids, pharmaceutical grade meeting requirements of the U.S. FDA for use in intravenous fat emulsion.
2923.20.20 | Lecithins and other phosphoaminolipids, nesoi.
2923.30.00 | Tetraethylammonium perfluorooctane sulfonate.
2923.40.00 | Didecylmethylammonium perfluorooctane sulfonate.
2923.90.01 | Quaternary ammonium salts and hydroxides, whether or not chemically defined, nesoi.
2924.12.00 | Fluoroacetamide (ISO), monocrotophos (ISO) and phosphamidon (ISO).
2924.19.11 | Acyclic amides (including acyclic carbamates).
2924.19.80 | Acyclic amide derivatives; salts thereof; nesoi.
2924.21.04 | 3-(p-Chlorophenyl)-1,1-dimethylurea (Monuron).
2924.21.08 | 1,1-Diethyl-3-(alpha,alpha,alpah-trifluoro-m-tolyl)urea (Fluometuron).
2924.21.12 | 1-(2-Methylcyclohexyl)-3-phenylurea.
2924.21.16 | Aromatic ureines and their derivatives pesticides, nesoi.
2924.21.18 | sym-Diethyldiphenylurea.
2924.21.20 | Aromatic ureines and their derivatives; salts thereof; described in additional U.S. note 3 to section VI.
2924.21.45 | Aromatic ureines and their derivatives; salts thereof, nesoi.
2924.21.50 | Nonaromatic ureines and their derivatives; and salts thereof.
2924.23.10 | 2-Acetamidobenzoic acid.
2924.23.70 | 2-Acetamidobenzoic acid salts described in additional U.S. note 3 to section VI.
2924.23.75 | 2-Acetamidobenzoic acid salts, nesoi.
2924.25.00 | Alachlor (ISO).
2924.29.01 | p-Acetanisidide; p-acetoacetatoluidide; 4′-amino-N-methylacetanilide; 2,5-dimethoxyacetanilide; and N-(7-hydroxy-1-naphthyl)acetamide.
2924.29.03 | 3,5-Dinitro-o-toluamide.
2924.29.10 | Acetanilide; N-acetylsulfanilyl chloride; aspartame; and 2-methoxy-5-acetamino-N,N-bis(2-acetoxyethyl)aniline.
2924.29.20 | 2-Acetamido-3-chloroanthraquinone; o-acetoacetaidide; o-acetoacetotoluidide; 2,4-acetoacetoxylidide; and 1-amino-5-benzamidoanthraquinone.
2924.29.23 | 4-Aminoacetanilide; 2-2-oxamidobis[ethyl-3-(3,5-di-tert-butyl-4-hydroxyphenyl)propionate]; and other specified cyclic amide chemicals.
2924.29.26 | 3-Aminomethoxybenzanilide.
2924.29.28 | N-[[(4-Chlorophenyl)amino]carbonyl]difluorobenzamide; and 3,5-dichloro-N-(1,1-dimethyl-2-propynyl)benzamide (pronamide).
2924.29.31 | 4-Acetamido-2-aminophenol; p-acetaminobenzaldehyde; acetoacetbenzylamide; p-acetoacetophenetidide; N-acetyl-2,6-xylidine; & other specified.
2924.29.33 | 3-Hydroxy-2-naphthanilide; 3-hydroxy-2-naphtho-o-toluidide; 3-hydroxy-2-naphtho-o-anisidine; 3-hydroxy-2-naphtho-o-phenetidide; & other.
2924.29.43 | 3-Ethoxycarbonylaminophenyl-N-phenylcarbamate (desmedipham); and Isopropyl-N-(3-chlorophenyl)carbamate (CIPC).
2924.29.47 | Other cyclic amides used as pesticides.
2924.29.65 | 5-Bromoacetyl-2-salicylamide.
2924.29.71 | Aromatic cyclic amides and their derivatives of products described in additional U.S. note 3 to section VI, nesoi.
2924.29.77 | Aromatic cyclic amides (incl cyclic carbamates) and their derivatives and salts thereof, nesoi.
2924.29.80 | 2,2-Dimethylcyclopropylcarboxamide.
2924.29.95 | Other nonaromatic cyclic amides and their derivatives; salts thereof; nesoi.
2925.11.00 | Saccharin and its salts.
2925.19.10 | Ethylenebistetrabromophthalimide.
2925.19.30 | Bis(o-tolyl)carbodiimide; and 2,2,6,6-tetraisopropyldiphenylcarbodiimide.
2925.19.42 | Other aromatic imides and their derivatives; salts thereof; nesoi.
2925.19.70 | N-Chlorosuccinimide; and N,N-ethylenebis(5,6-dibromo-2,3-norbornanedicarbooximide.
2925.19.91 | Other non-aromatic imides and their derivatives.
2925.21.00 | Chlordimeform (ISO).
2925.29.10 | N′-(4-Chloro-o-tolyl)-N,N-dimethylformamidine; bunamidine hydrochloride; and pentamidine.
2925.29.18 | N,N′-diphenylguanidine; 3-dimethylaminomethyleneiminophenol hydrochloride; 1,3-di-o-tolyguandidine; and one other specified chemical.
2925.29.20 | Aromatic drugs of imines and their derivatives, nesoi.
2925.29.60 | Aromatic imines and their derivatives; salts thereof (excluding drugs); nesoi.
2925.29.70 | Tetramethylguanidine.
2925.29.90 | Non-aromatic imines and their derivatives; salts thereof.
2926.10.00 | Acrylonitrile.
2926.20.00 | 1-Cyanoguanidine (Dicyandiamide).
2926.30.10 | Fenproporex (INN) and its salts.
2926.30.20 | 4-Cyano-2-dimethylamino-4,4-diphenylbutane.
2926.90.01 | 2-Cyano-4-nitroaniline.
2926.90.05 | 2-Amino-4-chlorobenzonitrile (5-chloro-2-cyanoaniline); 2-amino-5-chlorobenzonitrile; 4-amino-2-chlorobenzonitrile; and others specified.
2926.90.08 | Benzonitrile.
2926.90.11 | 2,6-Diclorobenzonitrile.
2926.90.12 | Other dichlorobenzonitriles.
2926.90.14 | p-Chlorobenzonitrile and verapamil hydrochloride.
2926.90.16 | Specifically named derivative of dimethylcyclopropanecarboxylic acid.
2926.90.17 | o-Chlorobenzonitrile.
2926.90.19 | N,N-Bis(2-cyanoethyl)aniline; and 2,6-diflourobenzonitrile.
2926.90.21 | Aromatic fungicides of nitrile-function compounds.
2926.90.23 | 3,5-Dibromo-4-hydroxybenzonitrile (Bromoxynil).
2926.90.25 | Aromatic herbicides of nitrile-function compounds, nesoi.
2926.90.30 | Other aromatic nitrile-function pesticides.
2926.90.43 | Aromatic nitrile-function compounds, nesoi, described in additional U.S. note 3 to section VI.
2926.90.48 | Aromatic nitrile-function compounds other than those products in additional U.S. note 3 to section VI, nesoi.
2926.90.50 | Nonaromatic nitrile-function compounds, nesoi.
2927.00.03 | 4-Aminoazobenzenedisulfonic acid, monosodium salt.
2927.00.06 | p-Aminoazobenzenedisulfonic acid; and diazoaminobenzene (1,3-diphenyltriazine).
2927.00.15 | 1,1′-Azobisformamide.
2927.00.18 | 1-Naphthalenesulfonic acid, 6-diazo-5,6-dihydro-5-oxo, ester with phenyl compound; and three other specified chemicals.
2927.00.25 | Diazo-, azo- or azoxy-compounds used as photographic chemicals.
2927.00.30 | Fast color bases and fast color salts, of diazo-, azo- or azoxy-compounds.
2927.00.40 | Diazo-, azo- or azoxy-compounds, nesoi, described in additional U.S. note 3 to section VI.
2927.00.50 | Other diazo-, azo- or azoxy-compounds, nesoi.
2928.00.15 | Phenylhydrazine.
2928.00.25 | Aromatic organic derivatives of hydrazine or of hydroxylamine.
2928.00.30 | Nonaromatic drugs of organic derivatives of hydrazine or of hydroxylamine, other than Methyl ethyl ketoxime.
2928.00.50 | Nonaromatic organic derivatives of hydrazine or of hydroxylamine, nesoi.
2929.10.10 | Toluenediisocyanates (unmixed).
2929.10.15 | Mixtures of 2,4- and 2,6-toluenediisocyanates.
2929.10.20 | Bitolylene diisocyanate (TODI); o-Isocyanic acid, o-tolyl ester; and Xylene diisocyanate.
2929.10.27 | N-Butylisocyanate; cyclohexyl isocyanate; 1-isocyanato-3-(trifluoromethyl)benzene; 1,5-naphthalene diisocyanate; and octadecyl isocyanate.
2929.10.30 | 3,4-Dichlorophenylisocyanate.
2929.10.35 | 1,6-Hexamethylene diisocyanate.
2929.10.55 | Isocyanates of products described in additioonal U.S. note 3 to sect VI.
2929.10.80 | Other isocyanates, nesoi.
2929.90.05 | 2,2-Bis(4-cyanatophenyl)-1,1,1,3,3,3,-hexafluoropropane; 2,2-bis(4-cyanatophenyl)propane; 1,1-ethylidenebis(phenyl-4-cyanate); and 2 others.
2929.90.15 | Other aromatic compounds with other nitrogen function of products described in additional U.S. note 3 to section VI.
2929.90.20 | Aromatic compounds with other nitrogen function, nesoi.
2929.90.50 | Nonaromatic compounds with other nitrogen functions, except isocyanates.
2930.20.10 | Aromatic pesticides of thiocarbamates and dithiocarbamates.
2930.20.20 | Aromatic compounds of thiocarbamates and dithiocarbamates, excluding pesticides.
2930.20.70 | S-(2,3,3-trichloroallyl)diisopropylthiocarbamate.
2930.20.90 | Other non-aromatic thiocarbamates and dithiocarbamates.
2930.30.30 | Tetramethylthiuram monosulfide.
2930.30.60 | Thiuram mono-, di- or tetrasulfides, other than tetramethylthiuram monosulfide.
2930.40.00 | Methionine.
2930.60.00 | 2-(N,N-Diethylamino)ethanethiol.
2930.70.00 | Bis(2-hydroxyethyl)sulfide (thiodiglycol (INN)).
2930.80.00 | Aldicarb (ISO), captafol (ISO) and methamidophos (ISO).
2930.90.10 | Aromatic pesticides of organo-sulfur compounds, nesoi.
2930.90.24 | N-Cyclohexylthiophthalimide.
2930.90.26 | 3-(4-Aminobenzamido)phenyl-beta-hydroxyethylsulfone; 2-[(4-aminophenyl)sulfonyl]ethanol, hydrogen sulfate ester; diphenylthiourea; & others.
2930.90.29 | Other aromatic organo-sulfur compounds (excluding pesticides).
2930.90.30 | Thiocyanates, thiurams and isothiocyanates.
2930.90.42 | O,O-Dimethyl-S-methylcarbamoylmethyl phosphorodithioate; and malathion.
2930.90.43 | Other non-aromatic organo-sulfur compounds used as pesticides.
2930.90.46 | dl(underscored)-Hydroxy analog of dl(underscored)-methionine.
2930.90.49 | Nonaromatic organo-sulfur acids, nesoi.
2930.90.71 | Dibutylthiourea.
2930.90.91 | Other non-aromatic organo-sulfur compounds.
2931.10.00 | Tetramethyl lead & tetraethyl lead.
2931.20.00 | Tributyltin compounds.
2931.31.00 | Dimethyl methylphosphonate.
2931.32.00 | Dimethyl propylphosphonate.
2931.33.00 | Diethyl ethylphosphonate.
2931.34.00 | Sodium 3-(trihydroxysilyl)propyl methylphosphonate.
2931.35.00 | 2,4,6-Tripropyl-1,3,5,2,4,6-trioxatriphosphinane-2,4,6-trioxide.
2931.36.00 | (5-Ethyl-2-methyl-2-oxido-1,3,2-dioxaphosphinan-5-yl)methyl methylphosphonate.
2931.37.00 | Bis[(5-ethyl-2-methyl-2-oxido-1,3,2-dioxaphosphinan-5-yl)methyl] methylphosphonate.
2931.38.00 | Salt of methylphosphonic acid and (aminoiminiomethyl)urea (1:1).
2931.39.00 | Other organo-phosphorous derivatives, nesoi.
2931.90.05 | Diphenyldichlorosilane; and phenyltrichlorosilane.
2931.90.15 | Sodium tetraphenylboron.
2931.90.22 | Drugs of aromatic organo-inorganic (except organo-sulfur) compounds.
2931.90.26 | Pesticides of aromatic organo-inorganic (except organo-sulfur) compounds.
2931.90.30 | Aromatic organo-inorganic compounds, nesoi, described in additional U.S. note 3 to section VI.
2931.90.60 | Other aromatic organo-inorganic compounds (excluding products described in additional U.S. note 3 to section VI).
2931.90.70 | N,N′-Bis(trimethylsilyl)urea;2-Phosphonobutane-1,2,4-tricarboxylic acid and its salts; and one other specified chemical.
2931.90.90 | Other non-aromatic organo-inorganic compounds.
2932.11.00 | Tetrahydrofuran.
2932.12.00 | 2-Furaldehyde (Furfuraldehyde).
2932.13.00 | Furfuryl alcohol and tetrahydrofurfuryl alcohol.
2932.14.00 | Sucralose.
2932.19.10 | Aromatic heterocyclic compounds with oxygen hetero-atom(s) only, containing an unfused furan ring, nesoi.
2932.19.51 | Nonaromatic compounds containing an unfused furan ring (whether or not hydrogenated) in the ring.
2932.91.00 | Isosafrole.
2932.92.00 | 1-(1,3-Benzodioxol-5-yl)propan-2-one.
2932.93.00 | Piperonal (heliotropin).
2932.94.00 | Safrole.
2932.95.00 | Tetrahydrocannabinols (all isomers).
2932.99.04 | 2,2-Dimethyl-1,3-benzodioxol-4-yl methylcarbamate (Bendiocarb).
2932.99.08 | 2-Ethoxy-2,3-dihydro-3,3-dimethyl-5-benzofuranylmethanesulfonate.
2932.99.20 | Aromatic pesticides of heterocyclic compounds with oxygen hetero-atom(s) only, nesoi.
2932.99.32 | Benzofuran (Coumarone); and Dibenzofuran (Diphenylene oxide).
2932.99.35 | 2-Hydroxy-3-dibenzofurancarboxylic acid.
2932.99.39 | Benzointetrahydropyranyl ester; and Xanthen-9-one.
2932.99.55 | Bis-O-[(4-methylphenyl)methylene]-D-glucitol (Dimethylbenzylidene sorbitol); and Rhodamine 2C base.
2932.99.70 | Aromatic heterocyclic compounds with oxygen hetero-atom(s) only, nesoi.
2932.99.90 | Nonaromatic heterocyclic compounds with oxygen hetero-atom(s) only, nesoi.
2933.19.04 | Aminoethylphenylpyrazole (phenylmethylaminopyrazole); 3-methyl-1-(p-tolyl)-2-pyrazolin-5-one (p-tolylmethylpyrazolone).
2933.19.08 | 3-(5-Amino-3-methyl-1H-pyrazol-1-yl)benzenesulfonic acid; amino-J-pyrazolone; and another 12 specified chemicals.
2933.19.15 | 1,2-Dimethyl-3,5-diphenyl-1H-pyrazolium methyl sulfate (difenzoquat methyl sulfate).
2933.19.18 | 2-Chloro-5-sulfophenylmethylpyrazolone; phenylcarbethyoxypyrazolone; and 3 other specified chemicals.
2933.19.23 | Aromatic or modified aromatic pesticides containing an unfused pyrazole ring (whether or not hydrogenated) in the structure.
2933.19.30 | Aromatic or modified aromatic photographic chemicals containing an unfused pyrazole ring (whether or n/hydrogenated) in the structure, nesoi.
2933.19.35 | Aromatic or modified aromatic drugs of heterocyclic compounds with nitrogen hetero-atom(s) only containing an unfused pyrazole ring.
2933.19.37 | Aromatic or mod. aromatic compound desc in add U.S. note 3 to section VI contain an unfused pyrazole ring (w/wo hydrogenated) in the structure.
2933.19.43 | Aromatic or modified aromatic compounds (excluding products in add U.S. note 3 to sec VI) containing an unfused pyrazole ring in the structure.
2933.19.45 | Nonaromatic drugs of heterocyclic compounds with nitrogen hetero-atom(s) only containing an unfused pyrazole ring.
2933.19.70 | 3-Methyl-5-pyrazolone.
2933.19.90 | Other compound (excluding aromatic, modified aromatic & drugs) containing unfused pyrazole ring (whether or n/hydrogenated) in the structure.
2933.21.00 | Hydantoin and its derivatives.
2933.29.05 | 1-[1-((4-Chloro-2-(trifluoromethyl)phenyl)imino)-2-propoxyethyl]-1H-imidazole (triflumizole); and ethylene thiourea.
2933.29.10 | 2-Phenylimidazole.
2933.29.20 | Aromatic or modified aromatic drugs of heterocyclic compounds with nitrogen hetero-atom(s) only cont. an unfused imidazole ring.
2933.29.35 | Aromatic or mod. aromatic goods in add U.S. note 3 to sect VI containing an unfused imidazole ring (whether or n/hydrogenated) in structure.
2933.29.43 | Aromatic or mod aromatic goods contng unfused imidazole ring (whether or n/hydrogenated) in the structure (exc prod in add U.S. note 3 sec VI).
2933.29.45 | Nonaromatic drugs of heterocyclic compounds with nitrogen hetero-atom(s) only, containing an unfused imidazole ring, nesoi.
2933.29.60 | Imidazole.
2933.29.90 | Other compounds (excluding drugs, aromatic and modified aromatic compounds) containing an unfused imidazole ring (whether or n/hydrogenated).
2933.31.00 | Pyridine and its salts.
2933.32.10 | Piperidine.
2933.32.50 | Piperidine salts.
2933.61.00 | Melamine.
2933.69.20 | 2,4-Diamino-6-phenyl-1,3,5-triazine.
2933.69.50 | Hexamethylenetetramine.
2933.69.60 | Other compounds containing an unfused triazine ring (whether or not hydrogenated) in the structure.
2933.71.00 | 6-Hexanelactam (epsilon-Caprolactam).
2933.79.04 | 2,4-Dihydro-3,6-diphenylpyrrolo-(3,4-C)pyrrole-1,4-dione.
2933.79.08 | Aromatic or modified aromatic lactams with nitrogen hetero-atoms only described in additional U.S. note 3 to section VI.
2933.79.15 | Aromatic or modified aromatic lactams, nesoi.
2933.79.20 | N-Methyl-2-pyrrolidone; and 2-pyrrolidone.
2933.79.30 | N-Vinyl-2-pyrrolidone, monomer.
2933.79.40 | 12-Aminododecanoic acid lactam.
2933.79.85 | Aromatic or modified aromatic lactams with nitrogen hetero-atoms only, nesoi.
2933.92.00 | Azinphos-methyl.
2934.10.10 | Aromatic or modified aromatic heterocyclic compounds cont. an unfused thiazole ring, described in add. U.S. note 3 to section VI.
2934.10.20 | Aromatic or modified aromatic heterocyclic compounds, nesoi, containing an unfused thiazole ring.
2934.10.70 | 4,5-Dichloro-2-n-octyl-4-isothiazolin-3-one; thiothiamine hydrochloride; and 4 other specified chemicals.
2934.10.90 | Other compounds (excluding aromatic or modified aromatic) containing an unfused thiazole ring (whether or not hydrogenated) in the structure.
2934.20.05 | N-tert-Butyl-2-benzothiazolesulfenamide.
2934.20.10 | 2,2′-Dithiobisbenzothiazole.
2934.20.15 | 2-Mercaptobenzothiazole; and N-(Oxydiethylene)benzothiazole-2-sulfenamide.
2934.20.20 | 2-Mercaptobenzothiazole, sodium salt (2-Benzothiazolethiol, sodium salt).
2934.20.25 | 2-Amino-5,6-dichlorobenzothiazole; 2-amino-6-nitrobenzothiazole; and 2 other specified chemicals.
2934.20.30 | 2-Amino-6-methoxybenzothiazole and other specified heterocyclic compounds, cont. a benzothiazole ring-system, not further fused.
2934.20.35 | Pesticides containing a benzothiazole ring-system, not further fused.
2934.20.40 | Heterocyclic compounds containing a benzothiazole ring-system, not further fused, described in add. U.S. note 3 to section VI.
2934.20.80 | Other compounds containing a benzothiazole ring system (whether or not hydrogenated), not further fused.
2939.80.00 | Other alkaloids, natural or reproduced by synthesis and their salts, ethers, esters & other derivatives, nesoi.
2940.00.20 | D-Arabinose.
2940.00.60 | Other sugars, nesoi excluding d-arabinose.
2942.00.03 | [2,2′-Thiobis(4-(1,1,3,3-tetramethyl-n-butyl)phenolato)(2,1)]-O,O′,S-s(1-butanamine), nickel II.
2942.00.05 | Aromatic or modified aromatic drugs of other organic compounds, nesoi.
2942.00.10 | Aromatic or modified aromatic organic compounds, nesoi, described in additional U.S. note 3 to section VI.
2942.00.35 | Other aromatic or modified aromatic organic compounds (excluding products described in additional U.S. note 3 to section VI).
2942.00.50 | Nonaromatic organic compounds, nesoi.
3101.00.00 | Animal or vegetable fertilizers; fertilizers produced by the mixing or chemical treatment of animal or vegetable products.
3102.10.00 | Urea, whether or not in aqueous solution.
3102.21.00 | Ammonium sulfate.
3102.29.00 | Double salts and mixtures of ammonium sulfate and ammonium nitrate.
3102.30.00 | Ammonium nitrate, whether or not in aqueous solution.
3102.40.00 | Mixtures of ammonium nitrate with calcium carbonate or other inorganic nonfertilizing substances.
3102.50.00 | Sodium nitrate.
3102.60.00 | Double salts and mixtures of calcium nitrate and ammonium nitrate.
3102.80.00 | Mixtures of urea and ammonium nitrate in aqueous or ammoniacal solution.
3102.90.01 | Mineral or chemical fertilizers, nitrogenous, nesoi, including mixtures not specified elsewhere in heading 3102.
3103.11.00 | Superphosphates containing by weight 35% or more of diphosphorous pentaoxide (P2O5).
3103.19.00 | Superphosphates nesoi.
3103.90.01 | Mineral or chemical fertilizers, phosphatic.
3104.20.00 | Potassium chloride.
3104.30.00 | Potassium sulfate.
3104.90.01 | Mineral or chemical fertilizers, potassic, nesoi.
3105.10.00 | Fertilizers of chapter 31 in tablets or similar forms or in packages of a gross weight not exceeding 10 kg.
3105.20.00 | Mineral or chemical fertilizers nesoi, containing the three fertilizing elements nitrogen, phosphorus and potassium.
3105.30.00 | Diammonium hydrogenorthophosphate (Diammonium phosphate).
3105.40.00 | Ammonium dihydrogenorthophosphate (Monoammonium phosphate), mixtures thereof with diammonium hydrogenorthophosphate (Diammonium phosphate).
3105.51.00 | Mineral or chemical fertilizers nesoi, containing nitrates and phosphates.
3105.59.00 | Mineral or chemical fertilizers nesoi, containing the two fertilizing elements nitrogen and phosphorus.
3105.60.00 | Mineral or chemical fertilizers nesoi, containing the two fertilizing elements phosphorous and potassium.
3105.90.00 | Mineral or chemical fertilizers cont. two or three of the fertilizing elements nitrogen, phosphorus and potassium fertilizers, nesoi.
3201.10.00 | Quebracho tanning extract.
3201.20.00 | Wattle tanning extract.
3201.90.10 | Tannic acid, containing by weight 50 percent or more of tannic acid.
3201.90.25 | Tanning extracts of canaigre, chestnut curupay, divi-divi, eucalyptus, gambier, hemlock, larch, mangrove, myrobalan, oak, sumac, tara, urunday, valonia.
3201.90.50 | Tanning extracts of vegetable origin nesoi; tannins and their salts, ethers, esters and other derivatives.
3202.10.10 | Aromatic or modified aromatic synthetic organic tanning substances.
3202.10.50 | Synthetic organic tanning substances, nonaromatic.
3202.90.10 | Tanning substances, tanning preparations and enzymatic preparations for pre-tanning consisting wholly of inorganic substances.
3202.90.50 | Tanning substances, tanning preparations and enzymatic preparations for pre-tanning, nesoi.
3203.00.10 | Coloring matter of annato, archil, cochineal, cudbear, litmus and marigold meal.
3203.00.30 | Mixtures of 3,4-dihydroxyphenyl-2,4,6,-trihydroxypphenylmethanone and 2-(2,4-dihydroxyphenyl)-3,5,7-trihydroxy-4H-1-benzopyran-4-one.
3203.00.80 | Coloring matter of vegetable or animal origin, nesoi.
3204.11.10 | Disperse blue 19 and other specified dispersed dyes and preparations based thereon.
3204.11.15 | Disperse blue 30 and preparations based thereon.
3204.11.18 | N-[2-[2,6-Dicyano-4-methylphenylazo]-5-(diethylamino)phenyl]methanesulfonamide; and 1 other specified disperse dye.
3204.11.35 | Disperse dyes described in add'l U.S. note 3 to section VI.
3204.11.50 | Disperse dyes and preparations based thereon, nesoi.
3204.12.05 | Acid black 210 powder and presscake.
3204.12.13 | Acid violet 19.
3204.12.17 | Acid dyes, whether or not premetallized, and preparations based thereon, acid black 31, and other specified acid or mordant dyes.
3204.12.20 | Acid black 61 and other specified acid and mordant dyes and preparations based thereon.
3204.12.30 | Mordant black 75, blue 1, brown 79, red 81, 84 and preparations based thereon.
3204.12.45 | Acid dyes, whether or not premetallized, and preparations based thereon, described in add'l U.S. note 3 to section VI.
3204.12.50 | Synthetic acid and mordant dyes and preparations based thereon, nesoi.
3204.13.10 | Basic black 7 and other specified basic dyes and preparations based thereon.
3204.13.20 | Basic orange 22, basic red 13 dyes, and preparations based thereon.
3204.13.25 | Basic blue 3; basic red 14; and basic yellow 1, 11, 13; and preparations based thereon.
3204.13.45 | 3,7-Bis(dimethylamino)phenazathionium chloride (methylene blue); and basic blue 147.
3204.13.60 | Basic dyes and preparations based thereon, described in add'l U.S note 3 to section VIvi.
3204.13.80 | Basic dyes and preparations based thereon, nesoi.
3204.14.10 | Direct black 62 and other specified basic dyes and preparations based thereon.
3204.14.20 | Direct black 51 and other specified basic dyes and preparations based thereon.
3204.14.25 | Direct blue 86; direct red 83; direct yellow 28 dyes; and preparations based thereon.
3204.14.30 | Direct dyes nesoi, and preparations based thereon, described in additional U.S. note 3 to section VI.
3204.14.50 | Direct dyes and preparations based thereon, nesoi.
3204.15.10 | Vat blue 1 (synthetic indigo) dye, “Colour Index No. 73000” and preparations based thereon.
3204.15.20 | Vat brown 3; vat orange 2, 7; and vat violet 9, 13 dyes and preparations based thereon.
3204.15.25 | Vat red 1.
3204.15.30 | Solubilized vat blue 5 and specified solubilized vat dyes and preparations based thereon.
3204.15.35 | Solubilized vat orange 3, vat blue 2, vat red 44; and vat yellow 4, 20 and preparations based thereon.
3204.15.40 | Vat dyes (incl. those usable as pigments) and preparations based thereon, described in add. U.S. note 3 to sec. VI.
3204.15.80 | Vat dyes (including those usable in that state as pigments) and preparations based thereon, nesoi.
3204.16.10 | Reactive black 1; blue 1, 2, 4; orange 1; red 1, 2, 3, 5, 6; and yellow 1; and preparations based thereon.
3204.16.20 | Specified reactive dye mixtures and preparations based thereon.
3204.16.30 | Reactive dyes and preparations based thereon nesoi, described in additional U.S. note 3 to section VI.
3204.16.50 | Synthetic reactive dyes and preparations based thereon, nesoi.
3204.17.04 | Pigments and preparations based thereon, pigment black 1, and other specified pigments, nesoi.
3204.17.08 | Pigment red 178; pigment yellow 101, 138.
3204.17.20 | Copper phthalocyanine ([Phthalocyanato(2-)]copper) not ready for use as a pigment.
3204.17.40 | Pigments and preparations based thereon, isoindoline red pigment; pigment red 242, 245; pigment yellow 155, 183, nesoi.
3204.17.60 | Pigments and preparations based thereon, products described in add'l U.S. note 3 to section VI, nesoi.
3204.17.90 | Other pigments and preparations based thereon, nesoi.
3204.19.06 | Solvent yellow 43, 44, 85, 172.
3204.19.11 | Solvent black 2 and other specified solvent dyes and preparations based thereon.
3204.19.20 | Solvent dyes and preparations based thereon, products described in add'l U.S. note 3 to section VI.
3204.19.25 | Solvent dyes and preparations based thereon nesoi.
3204.19.30 | Sulfur black, “Colour Index Nos. 53185, 53190 and 53195” and preparations based thereon.
3204.19.35 | Beta-carotene and other carotenoid coloring matter.
3204.19.40 | Synthetic organic coloring matter and preparations based thereon, nesoi, described in additional U.S. note 3 to section VI.
3204.19.50 | Synthetic organic coloring matter and preparations based thereon nesoi, including mixtures of items from subheading 320411 to 320419.
3204.20.10 | Fluorescent brightening agent 32.
3204.20.40 | Benzoxazol.
3204.20.80 | Synthetic organic products of a kind used as fluorescent brightening agents, nesoi.
3204.90.00 | Synthetic organic coloring matter or preparations based thereon, nesoi; synthetic organic products used as luminophores.
3205.00.05 | Carmine food coloring solutions, cont cochineal carmine lake and paprika oleoresins, not including any synthetic organic coloring matter.
3205.00.15 | Carmine color lakes and preparations as specified in note 3 to this chapter, nesoi.
3205.00.40 | Color lakes and preparations based thereon, described in additional U.S. note 3 to section VI.
3205.00.50 | Color lakes and preparations based thereon, nesoi.
3206.11.00 | Pigments & preparations based on titanium dioxide containing 80 percent or more by weight off titanium dioxide calculated on the dry weight.
3206.19.00 | Pigments and preparations based on titanium dioxide, nesoi.
3206.20.00 | Pigments and preparations based on chromium compounds.
3206.41.00 | Ultramarine and preparations based thereon.
3206.42.00 | Lithopone and other pigments and preparations based on zinc sulfide.
3206.49.10 | Concentrated dispersions of pigments in plastics materials.
3206.49.20 | Coloring preparations based on iron oxides, as specified in note 3 to this chapter 32.
3206.49.30 | Coloring preparations based on zinc oxides, as specified in note 3 to this chapter 32.
3206.49.40 | Coloring preparations based on carbon black, as specified in note 3 to this chapter 32.
3206.49.55 | Pigments and preparations based on hexacyanoferrates (ferrocyanides and ferricyanides).
3206.49.60 | Coloring matter and preparations, nesoi, as specified in note 3 to this chapter 32.
3206.50.00 | Inorganic products of a kind used as luminophores.
3207.10.00 | Prepared pigments, opacifiers, colors, and similar preparations, of a kind used in the ceramic, enamelling or glass industry.
3207.20.00 | Vitrifiable enamels and glazes, engobes (slips), and similar preparations, of a kind used in the ceramic, enamelling or glass industry.
3207.30.00 | Liquid lustres and similar preparations, of a kind used in the ceramic, enamelling or glass industry.
3207.40.10 | Glass frit and other glass, ground or pulverized.
3207.40.50 | Glass frit and other glass, in the form of granules or flakes.
3208.10.00 | Paints and varnishes (including enamels and lacquers) based on polyesters in a nonaqueous medium.
3208.20.00 | Paints and varnishes (including enamels and lacquers) based on acrylic or vinyl polymers in a nonaqueous medium.
3208.90.00 | Paints and varnishes based on synthetic polymers or chemically modified natural polymers nesoi, in a nonaqueous medium.
3209.10.00 | Paints and varnishes (including enamels and lacquers) based on acrylic or vinyl polymers in an aqueous medium.
3209.90.00 | Paints and varnishes based on synthetic polymers or chemically modified natural polymers nesoi, in an aqueous medium.
3210.00.00 | Other paints and varnishes (including enamels, lacquers and distempers) nesoi; prepared water pigments of a kind used for finishing leather.
3211.00.00 | Prepared driers for paints and varnishes.
3212.10.00 | Stamping foils.
3212.90.00 | Pigments dispersed in nonaqueous media, in liquid or paste form, used in making paints; dyes & coloring matter packaged for retail sale.
3213.10.00 | Artists', students' or signboard painters' colors, in tablets, tubes, jars, bottles, pans or in similar packings, in sets.
3213.90.00 | Artists', students' or signboard painters' colors, in tablets, tubes, jars, bottles, pans or in similar packings, not in sets.
3214.10.00 | Glaziers' putty, grafting putty, resin cements, caulking compounds and other mastics; painters' fillings.
3214.90.10 | Nonrefractory surfacing preparations for facades, indoor walls, floors, ceilings or the like, based on rubber.
3214.90.50 | Nonrefractory surfacing preparations for facades, indoor walls, floors, ceilings or the like, not based on rubber.
3215.11.10 | Printing ink, black, solid, in engineered shapes for apparatus in 8443.31, 32, 39.
3215.11.30 | Printing ink, black, solid, other.
3215.11.90 | Printing ink, black, not solid, other.
3215.19.10 | Printing ink, not black, solid, in engineered shapes for apparatus in 8443.31, 32, 39.
3215.19.30 | Printing ink, not black, solid, other.
3215.19.90 | Printing ink, not black, not solid.
3215.90.10 | Drawing ink.
3215.90.50 | Inks, other than printing or drawing inks.
3301.13.00 | Essential oils of lemon.
3302.90.10 | Mixtures of or with a basis of odoriferous substances, used in other than the food or drink industries, zero to 10% alcohol by weight.
3302.90.20 | Mixtures of or with a basis of odoriferous substances, used in other than the food or drink industries, over 10 percent alcohol by weight.
3303.00.10 | Floral or flower waters, not containing alcohol.
3303.00.20 | Perfumes and toilet waters, other than floral or flower waters, not containing alcohol.
3303.00.30 | Perfumes and toilet waters, containing alcohol.
3304.10.00 | Lip make-up preparations.
3304.20.00 | Eye make-up preparations.
3304.30.00 | Manicure or pedicure preparations.
3304.91.00 | Beauty or make-up powders, whether or not compressed.
3304.99.10 | Petroleum jelly put up for retail sale.
3304.99.50 | Beauty or make-up preparations & preparations for the care of the skin, excl. medicaments but incl. sunscreen or sun tan preparations, nesoi.
3305.10.00 | Shampoos.
3305.20.00 | Preparations for permanent waving or straightening the hair.
3305.30.00 | Hair lacquers.
3305.90.00 | Preparations for use on the hair, nesoi.
3306.90.00 | Preparations for oral or dental hygiene, including denture fixative pastes and powders, excluding dentifrices.
3307.10.10 | Pre-shave, shaving or after-shave preparations, not containing alcohol.
3307.10.20 | Pre-shave, shaving or after-shave preparations, containing alcohol.
3307.20.00 | Personal deodorants and antiperspirants.
3307.30.10 | Bath salts, whether or not perfumed.
3307.30.50 | Bath preparations, other than bath salts.
3307.41.00 | “Agarbatti” and other odoriferous preparations which operate by burning, to perfume or deodorize rooms or used during religious rites.
3307.49.00 | Preparations for perfuming or deodorizing rooms, including odoriferous preparations used during religious rites, nesoi.
3307.90.00 | Depilatories and other perfumery, cosmetic or toilet preparations. nesoi.
3401.11.10 | Castile soap in the form of bars, cakes or molded pieces or shapes.
3401.11.50 | Soap, nesoi; organic surface-active products used as soap, in bars, cakes, pieces, soap-impregnated paper, wadding, felt, for toilet use.
3401.19.00 | Soap; organic surface-active products used as soap, in bars, cakes, pieces; soap-impregnated paper, wadding, felt, not for toilet use.
3401.20.00 | Soap, not in the form of bars, cakes, molded pieces or shapes.
3401.30.10 | Organic surface-active products for wash skin, in liquid or cream, contain any aromatic/mod aromatic surface-active agent, put up for retail.
3401.30.50 | Organic surface-active products and preparations for washing the skin, in liquid or cream form, put up for retail sale, nesoi.
3402.11.20 | Linear alkylbenzene sulfonates.
3402.11.40 | Anionic, aromatic or modified aromatic organic surface-active agents, whether or not put up for retail sale, nesoi.
3402.11.50 | Nonaromatic anionic organic surface-active agents (other than soap).
3402.12.10 | Aromatic or modified aromatic cationic organic surface-active agents (other than soap).
3402.12.50 | Nonaromatic cationic organic surface-active agents (other than soap).
3402.13.10 | Aromatic or modified aromatic nonionic organic surface-active agents (other than soap).
3402.13.20 | Nonaromatic nonionic organic surface-active agents (other than soap) of fatty substances of animal or vegetable origin.
3402.13.50 | Nonaromatic nonionic organic surface-active agents (other than soap), other than of fatty substances of animal or vegetable origin.
3402.19.10 | Aromatic or modified aromatic organic surface-active agents (other than soap) other than anionic, cationic or nonionic.
3402.19.50 | Nonaromatic organic surface-active agents (other than soap) nesoi.
3402.20.11 | Surface-active/washing/cleaning preparations containing any aromatic or mod aromatic surface-active agent, put up for retail, not head 3401.
3402.20.51 | Surface-active, washing, and cleaning preparations nesoi, put up for retail sale, not of heading 3401.
3402.90.10 | Synthetic detergents put up for retail sale.
3402.90.30 | Surface-active, washing, and cleaning preparations cont. any aromatic or modified aromatic surface-active agent, put up for retail sale.
3402.90.50 | Surface-active, washing, and cleaning preparations nesoi, put up for retail sale.
3403.11.20 | Preparations for the treatment of textile materials, containing 50 but not over 70 percent or more by weight of petroleum oils.
3403.11.40 | Preparations for the treatment of textile materials, containing less than 50 percent by weight of petroleum oils.
3403.11.50 | Preparations for the treatment of leather, furskins, other materials nesoi, containing less than 70% petroleum or bituminous mineral oils.
3403.91.10 | Preparations for the treatment of textile materials, nesoi.
3403.91.50 | Preparations nesoi, for the treatment of leather, furskins or other materials nesoi.
3404.20.00 | Artificial waxes and prepared waxes of polyethylene glycol.
3404.90.10 | Artificial waxes and prepared waxes containing bleached beeswax.
3404.90.51 | Artificial waxes and prepared waxes.
3405.10.00 | Polishes, creams and similar preparations for footwear or leather.
3405.20.00 | Polishes, creams and similar preparations for the maintenance of wooden furniture, floors or other woodwork.
3405.30.00 | Polishes and similar preparations for coachwork, other than metal polishes.
3405.40.00 | Scouring pastes and powders and other scouring preparations.
3405.90.00 | Polishes, creams and similar preparations for glass or metal.
3502.11.00 | Egg albumin, dried.
3502.90.00 | Albumins, albuminates and other albumin derivatives, nesoi.
3506.10.10 | Animal glue, including casein glue but not including fish glue, not exceeding a net weight of 1 kg, put up for retail sale.
3506.10.50 | Products suitable for use as glues or adhesives, nesoi, not exceeding 1 kg, put up for retail sale.
3506.91.10 | Adhesive preparations based on rubber or plastics (including artificial resins), optically clear, for flat panel & touchscreen displays.
3506.91.50 | Other adhesive preparations based on rubber or plastics (including artificial resins).
3506.99.00 | Prepared glues and other prepared adhesives, excluding adhesives based on rubber or plastics, nesoi.
3507.10.00 | Rennet and concentrates thereof.
3507.90.20 | Penicillin G amidase.
3507.90.70 | Enzymes and prepared enzymes, nesoi.
3606.10.00 | Liquid or liquefied-gas fuels in containers used for filling cigarette or similar lighters of a capacity not exceeding 300 cubic cm.
3701.10.00 | Photographic plates and film in the flat, sensitized, unexposed, of any material other than paper, paperboard or textiles, for X-ray use.
3701.20.00 | Instant print film in the flat, sensitized, unexposed, whether or not in packs.
3701.30.00 | Photographic plates and film nesoi, with any side 255 mm, in the flat, sensitized, unexposed, not of paper, paperboard, or textiles.
3701.91.00 | Photographic plates, film, for color photography, nesoi, in the flat, sensitized, unexposed, not of paper, paperboard, textiles.
3701.99.30 | Photographic dry plates, nesoi, sensitized, unexposed, of any material other than paper, paperboard or textiles.
3701.99.60 | Photographic plates and film, nesoi, in the flat, sensitized, unexposed, of any material other than paper, paperboard or textiles.
3702.10.00 | Photographic film in rolls, sensitized, unexposed, for X-ray use; of any material other than paper, paperboard or textiles.
3702.31.01 | Film in rolls, for color photography, without sprocket holes, of a width not exceeding 105 mm, sensitized, unexposed.
3702.32.01 | Film in rolls, with silver halide emulsion, without sprocket holes, of a width not exceeding 105 mm, sensitized, unexposed.
3702.39.01 | Film in rolls without sprocket holes, width not exceeding 105 mm, other than color photography or silver halide emulsion film.
3702.41.01 | Film in rolls, without sprocket holes, of a width exceeding 610 mm and of a length exceeding 200 m, for color photography.
3702.42.01 | Film in rolls, without sprocket holes, of a width exceeding 610 mm and of a length exceeding 200 m, other than for color photography.
3702.43.01 | Film in rolls, without sprocket holes, of a width exceeding 610 mm and of a length not exceeding 200 m.
3702.44.01 | Film in rolls, without sprocket holes, of a width exceeding 105 mm but not exceeding 610 mm.
3702.52.01 | Film for color photography, in rolls, of a width not exceeding 16 mm.
3702.53.00 | Film for color photography, in rolls, exceeding 16 but not 35 mm in width and of a length not exceeding 30 m, for slides.
3702.54.00 | Film for color photography, in rolls, exceeding 16 but not 35 mm in width, of a length not exceeding 30 m, other than for slides.
3702.55.00 | Film for color photography, in rolls, exceeding 16 but not 35 mm in width and of a length exceeding 30 m.
3702.56.00 | Film for color photography, in rolls, of a width exceeding 35 mm.
3702.96.00 | Photographic film nesoi, in rolls, of a width not exceeding 35 mm and of a length not exceeding 30 m.
3702.97.00 | Photographic film nesoi, in rolls, of a width not exceeding 35 mm and of a length exceeding 30 m.
3702.98.00 | Photographic film nesoi, in rolls, of a width exceeding 35 mm.
3703.10.30 | Silver halide photographic papers, sensitized, unexposed, in rolls of a width exceeding 610 mm.
3703.10.60 | Photographic paper (other than silver halide), paperboard and textiles, sensitized, unexposed, in rolls of a width exceeding 610 mm.
3703.20.30 | Silver halide papers, other than in rolls of a width exceeding 610 mm, for color photography, sensitized, unexposed.
3703.20.60 | Photographic paper (not silver halide), paperbd & textiles for color photos, other than in rolls of a width >610 mm, sensitized, unexposed.
3703.90.30 | Silver halide photographic papers, sensitized, unexposed, not for color photography, other than in rolls of a width exceeding 610 mm.
3703.90.60 | Photographic paper (not silver halide), paperbd, tex., not for color photo, other than in rolls of a width >610 mm, sensitized, unexposed.
3704.00.00 | Photographic plates, film, paper, paperboard and textiles, exposed but not developed.
3705.00.00 | Photographic plates and film, exposed and developed, other than cinematographic film.
3706.10.30 | Sound recordings on motion-picture film of a width of 35 mm or more, suitable for use with motion-picture exhibits.
3706.10.60 | Motion-picture film of a width of 35 mm or more, exposed and developed, whether or not incorporating sound track, nesoi.
3706.90.00 | Motion-picture film, exposed and developed, less than 35 mm wide.
3707.10.00 | Sensitizing emulsions, for photographic uses, nesoi.
3707.90.31 | Acid violet 19 for photographic uses.
3707.90.32 | Chemical preparations for photographic uses, nesoi.
3707.90.60 | Unmixed products for photographic uses, put up in measured portions or put up for retail sale in a form ready for use.
3801.10.10 | Artificial graphite plates, rods, powder and other forms, for manufacture into brushes for electric generators, motors or appliances.
3801.10.50 | Artificial graphite, nesoi.
3801.20.00 | Colloidal or semi-colloidal graphite.
3801.30.00 | Carbonaceous pastes for electrodes and similar pastes for furnace linings.
3801.90.00 | Preparations based on graphite or other carbon in the form of pastes, blocks, plates or other semimanufactures, nesoi.
3802.10.00 | Activated carbon.
3802.90.10 | Bone black.
3802.90.20 | Activated clays and activated earths.
3802.90.50 | Activated natural mineral products, nesoi; animal black, including spent animal black.
3803.00.00 | Tall oil, whether or not refined.
3804.00.10 | Lignin sulfonic acid and its salts.
3804.00.50 | Residual lyes from the manufacture of wood pulp, nesoi, excluding tall oil.
3805.10.00 | Gum, wood or sulfate turpentine oils.
3805.90.10 | Pine oil containing alpha-terpineol as the main constituent.
3805.90.50 | Terpenic oils, nesoi, produced by treatment of coniferous woods; crude dipentene; sulfite turpentine and other crude para-cymene.
3806.10.00 | Rosin and resin acids.
3806.20.00 | Salts of rosin or of resin acids.
3806.30.00 | Ester gums.
3806.90.00 | Resin acids, derivatives of resin acids and rosin, rosin spirit and rosin oils, run gums, nesoi.
3807.00.00 | Wood tar and its oils; wood creosote; wood naphtha; vegetable pitch; preparations based on rosin, resin acids or vegetable pitch.
3808.52.00 | DDT (ISO) (clofenatone (INN)), in packings of a net weight content not exceeding 300 g.
3808.59.10 | Pesticides containing any aromatic or modified aromatic specified in note 1 to chapter 38.
3808.59.40 | Disinfectants specified in note 1 to chapter 38.
3808.59.50 | Pesticides, nesoi specified in note 1 to chapter 38.
3808.61.10 | Pesticides containing any aromatic or modified aromatic, not exceeding 300 g, specified in note 2 to chapter 38.
3808.61.50 | Pesticides, nesoi, not exceeding 300 g, specified in note 2 to chapter 38.
3808.62.10 | Pesticides containing any aromatic or modified aromatic, >300 g but <7.5 kg, specified in note 2 to chapter 38.
3808.62.50 | Pesticides, nesoi, >300 g but <7.5 kg, specified in note 2 to chapter 38.
3808.69.10 | Pesticides containing any aromatic or modified aromatic, >7.5 kg, specified in note 2 to chapter 38.
3808.69.50 | Pesticides, nesoi, >7.5 kg, specified in note 2 to chapter 38.
3808.91.10 | Fly ribbons (ribbon fly catchers), put up in packings for retail sale.
3808.91.15 | Mixtures of N-[[(chlorophenyl)amino]carbonyl]-2,6-difluorobenzamide and inert substances.
3808.91.25 | Insecticides containing any aromatic or modified aromatic insecticide, nesoi.
3808.91.30 | Insecticides, nesoi, containing an inorganic substance, put up for retail sale.
3808.91.50 | Insecticides, nesoi, for retail sale or as preparations or articles.
3808.92.05 | Mixtures of dinocap and application adjuvants.
3808.92.15 | Fungicides containing any aromatic or modified aromatic fungicide, nesoi.
3808.92.24 | Maneb; zinab; mancozeb; and metiram.
3808.92.28 | Fungicides containing any fungicide which is a thioamide, thiocarbamate, dithio carbamate, thiuram or isothiocyanate, nesoi.
3808.92.30 | Fungicides, nesoi, containing an inorganic substance, put up for retail sale.
3808.92.50 | Fungicides nesoi, put up in forms or packing for retail sale or as preparations or articles.
3808.93.05 | Herbicides, antisprouting products and plant-growth regulators, aromatic or modified aromatic, for retail sale.
3808.93.15 | Herbicides containing any aromatic or modified aromatic herbicide, antisprouting agent or plant-growth regulator, nesoi.
3808.93.20 | Herbicides, antisprouting products and plant-growth regulators, nesoi, containing an inorganic substance, for retail sale.
3808.93.50 | Herbicides, antisprouting products and plant-growth regulators nesoi, put up for retail sale.
3808.94.10 | Disinfectants, containing any aromatic or modified aromatic disinfectant.
3808.94.50 | Disinfectants not subject to subheading note 1 of chapter 38, nesoi.
3808.99.04 | Mixtures of 1,1-bis(4-chlorophenyl)-2,2,2-trichloroethanol (Dicofol) and application adjuvants.
3808.99.08 | Rodenticides containing any aromatic or modified aromatic pesticide, nesoi.
3808.99.30 | Formulated biocides based on 2-methyl-4-isothiazolin-3-one, or 2-n-octyl-4-isothiazolin-3-one, or on certain other chemicals; metaldehyde.
3808.99.70 | Rodenticides containing an inorganic substance.
3808.99.95 | Rodenticides, nesoi.
3809.91.00 | Finishing agents, dye carriers and like products, nesoi, used in the textile or like industries.
3809.92.10 | Finishing agents, dye carriers and other preparations used in paper or like industries, 5% or more by wt. aromatic (mod.) substance(s).
3809.92.50 | Finishing agents, dye carriers and other preparations used in paper or like industries, <5% by weight of aromatic (mod.) substance(s).
3809.93.10 | Finishing agents, dye carriers and other preparations used in leather and like industries, >5% by weight aromatic (mod.) substance(s).
3809.93.50 | Finishing agents, dye carriers and other preparations used in leather and like industries, <5% by weight aromatic (mod.) substance(s).
3810.10.00 | Pickling preparations for metal surfaces; soldering, brazing or welding powders and pastes consisting of metal and other materials.
3810.90.10 | Preparations used for soldering or cores or coatings for welding electrodes or rods, 5% or more by weight aromatic (or mod.) substance(s).
3810.90.20 | Preparations used for soldering or as cores or coatings for welding electrodes or rods, consisting wholly of inorganic substances.
3810.90.50 | Preparations used for soldering or as cores or coatings for welding electrodes or rods, nesoi.
3811.11.10 | Antiknock preparations based on tetraethyl lead or on a mixture of tetraethyl lead and tetramethyl lead.
3811.11.50 | Antiknock preparations based on lead compounds, nesoi.
3811.19.00 | Antiknock preparations based on other than lead compounds.
3811.90.00 | Prepared additives for mineral oils (incl. gasoline) or other liquids used for the same purposes as mineral oils, nesoi.
3812.10.10 | Prepared rubber accelerators containing any aromatic or modified aromatic rubber accelerator nesoi.
3812.10.50 | Prepared rubber accelerators not containing any aromatic or modified aromatic rubber accelerator nesoi.
3812.20.10 | Compound plasticizers for rubber or plastics containing any aromatic or modified aromatic plasticizer nesoi.
3812.20.50 | Compound plasticizers for rubber or plastics not containing any aromatic or modified aromatic plasticizer nesoi.
3812.31.00 | Mixtures of oligomers of 2,2,4-trimethyl-1,2-dihydroquinoline (TMQ).
3812.39.20 | Mixtures of N,N′-diaryl-p-phenylenediamines.
3812.39.30 | Master batches of poly[nitrilomethanetetraartlnitr.
3812.39.60 | Compound plasticizers for rubber/plastics cont any aromatic or modified aromatic antioxidant or other stabilizer, nesoi.
3812.39.70 | Bis(1,2,2,6,6-pentamethyl-4-piperidinyl) sebacate.
3812.39.90 | Antioxiding prep & oth compound stabilizers for rubber or plastics, nesoi.
3813.00.10 | Preparations and charges for fire extinguishers; charged fire-extinguishing grenades; consisting wholly of inorganic substances.
3813.00.50 | Preparations and charges for fire extinguishers; charged fire-extinguishing grenades; nesoi.
3814.00.10 | Organic composite solvents and thinners containing 5 to 25 percent, by weight of one or more aromatic substances.
3814.00.20 | Organic composite solvents and thinners containing more than 25 percent by weight of one or more aromatic substances.
3814.00.50 | Organic composite solvents and thinners, nesoi; prepared paint or varnish removers; nesoi.
3815.11.00 | Supported catalysts with nickel or nickel compounds as the active substance.
3815.12.00 | Supported catalysts with precious metal or precious metal compounds as the active substance.
3815.19.00 | Supported catalysts other than with nickel or precious metal or their compounds as the active substance.
3815.90.10 | Reaction initiators, reaction accelerators and catalytic preparations, nesoi, consisting wholly of bismuth, of tungsten or of vanadium.
3815.90.20 | Reaction initiators, reaction accelerators and catalytic preparations, nesoi, consisting wholly of mercury or of molybdenum.
3815.90.30 | Reaction initiators, reaction accelerators and catalytic preparations, nesoi, consisting wholly of inorganic substances nesoi.
3815.90.50 | Reaction initiators, reaction accelerators and catalytic preparations, nesoi.
3816.00.00 | Refractory cements, mortars, concretes and similar compositions, other than products of heading 3801.
3817.00.10 | Mixed linear alkylbenzenes, other than those of heading 2707 or 2902.
3817.00.15 | Mixed alkylbenzenes, other than linear or those of heading 2707 or 2902.
3817.00.20 | Mixed alkylnaphthalenes, other than those of heading 2707 or 2902.
3818.00.00 | Chemical elements doped for use in electronics, in the form of discs, wafers etc., chemical compounds doped for electronic use.
3819.00.00 | Hydraulic brake fluids and transmission fluids cont. less than 70% by weight of petroleum oils, or bituminous mineral oils.
3824.10.00 | Prepared binders for foundry molds or cores.
3824.30.00 | Nonagglomerated metal carbides mixed together or with metallic binders.
3824.40.10 | Prepared additives for cements, mortars or concretes containing 5% or more by weight of aromatic or modified aromatic substances.
3824.40.20 | Prepared additives for cements, mortars or concretes consisting wholly of inorganic substances.
3824.40.50 | Prepared additives for cements, mortars or concretes, nesoi.
3824.50.00 | Non-refractory mortars and concretes.
3824.71.01 | Mixtures containing chlorofluorocarbons.
3824.72.00 | Containing bromochlorodiflourormethane, bromotrifluoromethane or dibromotetrafluroroethane.
3824.73.00 | Mixtures containing hydrobromofluorocarbons.
3824.74.00 | Mixtures containing hydrochlorofluorocarbons.
3824.75.00 | Mixtures of halogenated hydrocarbons containing carbon tetrachloride.
3824.76.00 | Containing 1,1,1,-trichloroethane.
3824.77.00 | Containing bromomethane or bomochloromethane.
3824.78.00 | Containing PFCs or HFCs but not CFCs or HCFCs.
3824.79.10 | Mixtures containing halogenated derivatives of methane, ethane, or propane, nesoi, chlorinated but not otherwise halogenated.
3824.79.90 | Mixtures containing halogenated derivatives of methane, ethane, or propane, nesoi, other than chlorinated but not halogenated.
3824.81.00 | Chemical mixtures containing oxirane (ethylene oxide).
3824.82.10 | Containing PCBs, PCTs or PBBs: mixtures of halogenated hydrocarbons, chlorinated but not otherwise halogenated, nesoi.
3824.82.90 | Containing PCBs, PCTs or PBBs: mixtures of halogenated hydrocarbons other than chlorinated only, nesoi.
3824.83.00 | Containing tris (2,3-dibromopropyl phosphate).
3824.84.00 | Other mixtures cont aldrin, camphechlor(toxaphene), chlordane, chlordecone, DDT(clofenatone), 1,1,1-TRICHLORO-2,2-BIS(P-CHLOROPHENYL)ETHANE), ETC.
3824.85.00 | Mixtures containing 1,2,3,4,5,6-hexachlorocyclohexane (HCH (ISO)), including lindane (ISO,INN).
3824.86.00 | Mixtures containing pentachlorobenzene (ISO) or hexachlorobenzene (ISO).
3824.87.00 | Mixtures containing perfluorooctane sulfonic acid, its salts, perfluorooctane sulfonamides, or perfluorooctane sulfonyl fluoride.
3824.88.00 | Mixtures containing tetra-, penta-, hexa-, hepta-, or octabromodiphenyl ethers.
3824.91.00 | Mixtures consisting mainly of methylphosphonate etc.
3824.99.11 | Cultured crystals, weighing not less than 2.5g each, in the form of ingots.
3824.99.19 | Cultured crystals, weighing not less than 2.5g each except in the form of ingots.
3824.99.21 | Mixtures consisting wholly of substances found naturally in coal tar, whether obtained from coal tar or other source.
3824.99.25 | Mixtures of triphenyl sulfonium chloride, diphenyl (4-phenylthio)phenyl sulfonium chloride & (thiodi-4,1-phenylene)bis(diphenyl sulfonium) dichloride.
3824.99.26 | Benzene,2,4-Diisocyanate-1,3,5-tris-(1-methylethyl).
3824.99.28 | Mixtures containing 5% or more by weight of one or more aromatic or modified aromatic substance, nesoi.
3824.99.31 | Mixtures of bismuth.
3824.99.32 | Mixtures of hydrosulfite compounds, of sulfoxylate compounds, or of both.
3824.99.33 | Mixtures of mercury.
3824.99.34 | Mixtures of molybdenum.
3824.99.35 | Mixtures of tungsten.
3824.99.36 | Mixture of vanadium.
3824.99.39 | Mixtures of two or more inorganic compounds, nesoi.
3824.99.41 | Mixtures of fatty substances of animal or vegetable origin and mixtures thereof.
3824.99.48 | Mixtures that are in whole or in part of hydrocarbons derived in whole or in part from petroleum, shale oil or natural gas.
3824.99.50 | Mixtures chlorinated but not otherwise halogenated.
3824.99.55 | Mixtures of halogenated hydrocarbons, nesoi.
3824.99.70 | Mixtures of dibromoneopentyl gylcol; polydibromophenylene oxide; tetrabromobisphenol-A-carbonate oligomers; electroplating chemical and electroless.
3824.99.75 | Mixtures of naphthenic acids, their water-insoluble salts and their esthers.
3824.99.92 | Chemical products and preparations and residual products of the chemical or allied industries, nesoi.
3825.41.00 | Halogenated waste organic solvents.
3825.49.00 | Waste organic solvents, other than halogenated.
3825.50.00 | Wastes of metal-pickling liquors, hydraulic fluids, brake fluids and anti-freeze fluids.
3825.61.00 | Other wastes from the chemical or allied industries mainly containing organic constituents.
3825.69.00 | Other wastes from the chemical or allied industries, other than those mainly containing organic constituents.
3825.90.00 | Residual products of the chemical or allied industries, nesoi; other wastes, nesoi, specified in note 6 to chapter 38.
3826.00.10 | Biodiesel not containing petroleum or bituminous oil.
3826.00.30 | Biodiesel containing <70% petroleum or bituminous oil.
3901.40.00 | Ethylene-alpha-olefin copolymers, having a specific gravity of less than 0.94.
3905.99.30 | Polyvinyl carbazole (including adjuvants).
3909.31.00 | Poly(methylene phenyl isocyanate) (crude MDI, polymeric MDI).
3909.39.00 | Amino-resins, nesoi.
3912.11.00 | Cellulose acetates, nesoi, in primary forms, nonplasticized.
3912.31.00 | Carboxymethylcellulose and its salts.
3913.90.20 | Polysaccharides and their derivatives, nesoi, in primary forms.
3915.10.00 | Waste, parings and scraps, of polymers of ethylene.
3915.20.00 | Waste, parings and scrap, of polymers of styrene.
3915.30.00 | Waste, parings and scrap, of polymers of vinyl chloride.
3915.90.00 | Waste, parings and scrap, of plastics, nesoi.
3916.90.20 | Monofilament racket strings of plastics of which any cross-sectional dimension exceeds 1 mm.
3917.10.10 | Artificial guts (sausage casings) of cellulosic plastics materials.
3917.10.60 | Artificial guts (sausage casings) of collagen.
3917.10.90 | Artificial guts (sausage casings) of hardened protein, nesoi.
3917.33.00 | Flexible plastic tubes, pipes and hoses, nesoi, with fittings, not reinforced or otherwise combined with other materials.
3917.39.00 | Flexible plastic tubes, pipes and hoses, nesoi.
3918.10.10 | Vinyl tile floor coverings.
3918.10.20 | Vinyl flooring, excluding vinyl tile.
3918.10.31 | Wall or ceiling coverings, with a backing of manmade fibers, greater than 70% by weight of PVC.
3918.10.32 | Wall or ceiling coverings, with a backing of manmade fibers, less than or equal to 70% by weight of PVC.
3918.10.40 | Wall or ceiling coverings of polymers of vinyl chloride with a backing of textile fibers other than of manmade fibers.
3918.10.50 | Wall or ceiling coverings of polymers of vinyl chloride, without a backing of textile fibers.
3918.90.10 | Floor coverings of plastics, other than of polymers of vinyl chloride, nesoi.
3918.90.20 | Wall or ceiling coverings, with a backing of manmade fibers, of plastics other than polymers of vinyl chloride.
3918.90.30 | Wall or ceiling coverings of plastics other than of polymers of vinyl chloride with a backing of textile fibers other than of manmade fiber.
3918.90.50 | Wall or ceiling coverings of plastics other than vinyl chloride, without a backing of textile fibers.
3922.90.00 | Bidets, lavatory pans, flushing cisterns and similar sanitary ware nesoi, of plastics.
3923.10.20 | Boxes and similar articles for the conveyance or packing of semiconductor wafers, masks or reticules of subheadings 3923.10 or 8485.90.
3923.10.90 | Other boxes, cases, crates and similar articles for the conveyance or packing of goods, of plastics.
3923.21.00 | Sacks and bags (including cones) for the conveyance or packing of goods, of polymers of ethylene.
3923.29.00 | Sacks and bags (including cones) for the conveyance or packing of goods, of plastics other than polymers of ethylene.
3923.30.00 | Carboys, bottles, flasks and similar articles for the conveyance or packing of goods, of plastics.
3923.40.00 | Spools, cops, bobbins and similar supports, of plastics.
3923.50.00 | Stoppers, lids, caps and other closures, of plastics.
3923.90.00 | Articles nesoi, for the conveyance or packing of goods, of plastics.
3925.10.00 | Reservoirs, tanks, vats and similar containers, of a capacity exceeding 300 liters, of plastics.
3925.90.00 | Builders' ware of plastics, nesoi.
3926.20.10 | Gloves, seamless, of plastics.
3926.20.20 | Baseball and softball gloves and mitts, of plastics.
3926.20.30 | Gloves specially designed for use in sports, nesoi, of plastics.
3926.20.40 | Gloves, nesoi, of plastics.
3926.20.60 | Plastic rainwear, incl jackets, coats, ponchos, parkas & slickers, w/outer shell PVC and w/wo attached hoods, val not over $10 per unit.
3926.20.90 | Articles of apparel & clothing accessories, of plastic, nesoi.
3926.90.30 | Parts for yachts or pleasure boats of heading 8903 and watercraft not used with motors or sails, of plastics.
3926.90.45 | Gaskets, washers and other seals, of plastics.
3926.90.55 | V-belts of plastics, containing textile fibers.
3926.90.56 | Belting and belts (except V-belts) for machinery, of plastics, containing predominately vegetable fibers.
3926.90.57 | Belting and belts (except V-belts) for machinery, of plastics, containing predominately man-made fibers.
3926.90.59 | Belting and belts (except V-belts) for machinery, of plastics, containing textile fibers nesoi.
3926.90.60 | Belting and belts (except V-belts) for machinery, of plastics, not containing textile fibers.
3926.90.83 | Empty cartridges and cassettes for typewriter and machine ribbons, of plastics.
3926.90.87 | Flexible document binders with tabs, rolled or flat, of plastics.
3926.90.94 | Cards, not punched, suit. for jacquard cards; jacquard cards & jacquard heads for power-driven weaving mach, etc; & trans sheet plast 30% lead.
3926.90.96 | Casing for bicycle derailleur cable; and casing for cable or inner wire for caliper and cantilever bake, whether or not cut length; of plastic.
4001.10.00 | Natural rubber latex, whether or not prevulcanized.
4001.21.00 | Natural rubber smoked sheets.
4001.22.00 | Technically specified natural rubber (TSNR), in primary forms.
4001.29.00 | Natural rubber in primary forms other than latex, smoked sheets or technically specified natural rubber (TSNR).
4001.30.00 | Balata, gutta-percha, guayule, chicle and similar natural rubber gums, in primary forms.
4002.11.00 | Styrene-butadiene rubber (SBR) or carboxylated styrene-butadiene rubber (XSBR), latex, in primary forms or in plates, sheets or strip.
4002.19.00 | Styrene-butadiene rubber (SBR), carboxylated styrene-butadiene rubber (XSBR), except latex, in primary forms or in plates, sheets or strip.
4002.20.00 | Butadiene rubber (BR), in primary forms or in plates, sheets or strip.
4002.31.00 | Isobutene-isoprene (butyl) rubber (IIR), in primary forms or in plates, sheets or strip.
4002.39.00 | Halo-isobutene-isoprene rubber (CIIR or BIIR), in primary forms or in plates, sheets or strip.
4002.41.00 | Chloroprene (chlorobutadiene) rubber (CR), latex, in primary forms or in plates, sheets or strip.
4002.49.00 | Chloroprene (chlorobutadiene) rubber (CR), other than latex, in primary forms or in plates, sheets or strip.
4002.51.00 | Acrylonitrile-butadiene rubber (NBR), latex, in primary forms or in plates, sheets or strip.
4002.59.00 | Acrylonitrile-butadiene rubber (NBR), other than latex, in primary forms or in plates, sheets or strip.
4002.60.00 | Isoprene rubber (IR), in primary forms or in plates, sheets or strip.
4002.70.00 | Ethylene-propylene-nonconjugated diene rubber (EPDM), in primary forms or in plates, sheets or strip.
4002.80.00 | Mixtures of natural rubber gums with synthetic rubber, in primary forms or in plates, sheets or strip.
4002.91.00 | Synthetic rubber and factice derived from oils, in latex form, in primary forms or in plates, sheets or strip, nesoi.
4002.99.00 | Synthetic rubber and factice derived from oils, in primary forms or in plates, sheets or strip, nesoi.
4003.00.00 | Reclaimed rubber in primary forms or in plates, sheets or strip.
4004.00.00 | Waste, parings and scrap of rubber (other than hard rubber) and powders and granules obtained therefrom.
4005.10.00 | Rubber, unvulcanized, compounded with carbon black or silica, in primary forms or in plates, sheets or strip.
4005.20.00 | Solutions and dispersions of rubber, unvulcanized, compounded with other than carbon black or silica.
4005.91.00 | Compounded rubber, unvulcanized, in plates, sheets and strip.
4005.99.00 | Compounded rubber, unvulcanized, in primary forms, nesoi.
4006.90.10 | Rods, tubes, profile shapes, discs, rings, and similar articles, of natural, unvulcanized rubber.
4006.90.50 | Rods, tubes, profile shapes, discs, rings, and similar articles, of synthetic unvulcanized rubber.
4007.00.00 | Vulcanized rubber thread and cord.
4008.11.10 | Plates, sheets and strip of vulcanized natural cellular rubber, other than hard rubber.
4008.11.50 | Plates, sheets and strip of vulcanized synthetic cellular rubber, other than hard rubber.
4008.19.20 | Rods and profile shapes of vulcanized natural cellular rubber, other than hard rubber.
4008.19.40 | Vulcanized natural cellular rubber, other than hard rubber, other than rods and profile shapes, nesoi.
4008.19.60 | Rods and profile shapes of vulcanized, synthetic cellular rubber, other than hard rubber.
4008.19.80 | Vulcanized, synthetic cellular rubber, other than hard rubber, other than rods and profile shapes.
4008.21.00 | Plates, sheets and strip of vulcanized, noncellular rubber, other than hard rubber.
4008.29.20 | Rods and profile shapes of vulcanized, noncellular rubber, other than hard rubber.
4008.29.40 | Vulcanized, noncellular rubber, other than hard rubber, other than rods and profile shapes, nesoi.
4009.11.00 | Tubes, pipes and hoses of vulcanized rubber other than hard rubber, not reinforced or combined w/other materials, without fittings.
4009.21.00 | Tubes, pipes and hoses of vulcanized rubber other than hard rubber, reinforced or combined only with metal, without fittings.
4009.22.00 | Tubes, pipes and hoses of vulcanized rubber other than hard rubber, reinforced or combined only with metal, with fittings.
4009.31.00 | Tubes, pipes and hoses of vulcanized rubber other than hard rubber, reinforced or combined only with textile materials, without fittings.
4009.32.00 | Tubes, pipes and hoses of vulcanized rubber other than hard rubber, reinforced or combined only with textile materials, with fittings.
4009.41.00 | Tubes, pipes and hoses of vulcanized rubber other than hard rubber, reinforced or combined with other materials nesoi, without fittings.
4010.12.10 | Conveyor belts or belting of vulcanized rubber reinforced only with textile materials, in which vegetable fibers predominate ov other fibers.
4010.12.50 | Conveyor belts/belting of vulcanized rubber reinforced w/textile material, mostly man-made fiber, width exceeds 20 cm.
4010.12.55 | Conveyor belts/belting of vulcanized rubber reinforced only w/textile material, mostly man-made fiber, width not over 20 cm.
4010.12.90 | Conveyor belts or belting of vulcanized rubber reinforced only with textile materials, nesoi.
4010.19.10 | Conveyor belts or belting of vulcanized rubber, nesoi, combined with textile materials in which vegetable fibers predominate ov other fibers.
4010.19.50 | Conveyor belts/belting of vulcanized rubber, nesoi, combined w/textile components in which man-made fibers predominate, width exceed 20 cm.
4010.19.55 | Conveyor belts/belting of vulcanized rubber, nesoi, combined w/textile components in which man-made fibers predominate, width under 20 cm.
4010.19.80 | Conveyor belts/belting of vulcanized rubber, nesoi, combined with textile materials nesoi.
4010.19.91 | Conveyor belts/belting of vulcanized rubber, nesoi.
4010.31.30 | Transmission V-belts of vulcanized rubber, V-ribbed, circumference exceed 60 cm but not exceed 180 cm, combined with textile materials.
4010.31.60 | Transmission V-belt of vulcanized rubber, V-ribbed, circumference exceed 60 cm but not exceed 180 cm, other than combined w/textile material.
4010.32.30 | Transmission V-belts of vulcanized rubber, not V-ribbed, circumference exceed 60 cm but not exceed 180 cm, combined with textile materials.
4010.32.60 | Transmission V-belt of vulcanized rubber, not V-ribbed, circumference exceed 60 cm not exceed 180 cm, other than combined w/textile material.
4010.33.30 | Transmission V-belts of vulcanized rubber, V-ribbed, circumference exceed 180 cm but not exceed 240 cm, combined with textile materials.
4010.33.60 | Transmission V-belt of vulcanized rubber, V-ribbed, circumference exceed 180 cm not exceed 240 cm, other than combined w/textile material.
4010.34.30 | Transmission V-belts of vulcanized rubber, not V-ribbed, circumference exceed 180 cm but not exceed 240 cm, combined with textile materials.
4010.34.60 | Transmission V-belt of vulcanized rubber, not V-ribbed, circumference exceed 180 cm not exceed 240 cm,other than combined w/textile material.
4010.35.30 | Endless synchronous transmission belt of vulcan. rubber, circum. 60-150 cm, combined w/textile mat. w/vegetable fiber more than other fibers.
4010.35.41 | Endless synchronous transmission belt of vulcan. rubber, circum. 60-150 cm, combine w/textile mat.;manmade fiber predominant; width ov 20 cm.
4010.35.45 | Endless synchronous transmission belt of vulcan. rubber, circum. 60-150 cm, combine w/text. mat.;manmade fiber predominant; width n/o 20 cm.
4010.35.50 | Endless synchronous transmission belt of vulcanized rubber, circumference 60 to 150 cm, combined with textile materials nesoi.
4010.35.90 | Endless synchronous transmission belt of vulcanized rubber, circumference 60 to 150 cm, other than combined with textile materials.
4010.36.30 | Endless synchronous transmission belt of vulcan. rubber, circum. 150-198 cm, combined w/textile with vegetable fiber predom over other fiber.
4010.36.41 | Endless synchronous transmission belt of vulcan. rubber, circum. 150-198cm, combined w/manmade fiber exceeding other fibers, width ov 20 cm.
4010.36.45 | Endless synchronous transmission belt of vulcan. rubber, circum. 150-198cm, combined w/manmade fiber exceeding other fiber, width n/o 20 cm.
4010.36.50 | Endless synchronous transmission belts of vulcanized rubber, circumference 150 to 198 cm, combined with textile materials nesoi.
4010.36.90 | Endless synchronous transmission belts of vulcanized rubber, circumference 150 to 198 cm, other than combined with textile materials.
4010.39.10 | Transmission V-belts and V-belting of vulcanized rubber, nesoi, combined with textile materials.
4010.39.20 | Transmission V-belts and V-belting of vulcanized rubber, nesoi, other than combined with textile materials.
4010.39.30 | Transmission belts or belting of vulcanized rubber, nesoi, combined with textile materials in which vegetable fiber predominate other fibers.
4010.39.41 | Transmission belts or belting of vulcanized rubber, nesoi, combined w. textile materials with man-made fibers predominant, width over 20 cm.
4010.39.45 | Transmission belts or belting of vulcanized rubber, nesoi, combined w. textile materials with man-made fibers predominant, width n/o 20 cm.
4010.39.50 | Transmission belts or belting of vulcanized rubber, nesoi, combined with textile materials nesoi.
4010.39.90 | Transmission belts or belting of vulcanized rubber, nesoi, other than combined with textile materials.
4011.10.10 | New pneumatic radial tires, of rubber, of a kind used on motor cars (including station wagons and racing cars).
4011.10.50 | New pneumatic tires excluding radials, of rubber, of a kind used on motor cars (including station wagons and racing cars).
4011.20.10 | New pneumatic radial tires, of rubber, of a kind used on buses or trucks.
4011.20.50 | New pneumatic tires excluding radials, of rubber, of a kind used on buses or trucks.
4011.40.00 | New pneumatic tires, of rubber, of a kind used on motorcycles.
4011.50.00 | New pneumatic tires, of rubber, of a kind used on bicycles.
4011.70.00 | New pneumatic tires of a kind used on agricultural or forestry vehicles and machines.
4011.80.10 | New pneumatic tires of a kind used on construction, mining or industrial handling vehicles and machines having a herring-bone or similar tread.
4011.80.20 | New pneumatic tires of a kind used on construction, mining or industrial handling vehicles and machines having a radial tread.
4011.80.80 | New pneumatic tires of a kind used on construction, mining or industrial handling vehicles and machines, other.
4011.90.10 | New pneumatic tires, of a kind nesoi, have a herring-bone or similar tread.
4011.90.20 | New pneumatic tires, of a kind nesoi, have a radial tread.
4011.90.80 | New pneumatic tires, nesoi.
4012.11.40 | Retreaded radial pnuematic tires, of rubber, of a kind used on motor cars (including station wagons and racing cars).
4012.11.80 | Retreaded pnuematic tires (nonradials), of rubber, of a kind used on motor cars (including station wagons and racing cars).
4012.12.40 | Retreaded pnuematic radial tires, of rubber, of a kind used on buses or trucks.
4012.12.80 | Retreaded pnuematic tires (nonradials), of rubber, of a kind used on buses or trucks.
4012.19.20 | Retreaded pneumatic tires, of rubber, designed for certain agricultural or horticultural machinery.
4012.19.40 | Retreaded pnuematic radial tires, of rubber, not elsewhere specified or included.
4012.20.10 | Used pneumatic tires of rubber, for aircraft.
4012.20.15 | Used pneumatic tires of rubber, designed for certain agricultural or horticultural machinery,for on-highway trasnport of passengers or goods.
4012.20.45 | Used pneumatic tires of rubber, designed for certain agricultural or horticultural machinery, nesoi.
4012.20.60 | Used pneumatic tires, of rubber, for vehicles for on-highway transport of passengers or goods nesoi, or vehicles of heading 8705.
4012.20.80 | Used pneumatic tires, of rubber for machinery, nesoi.
4012.90.10 | Solid or cushion tires of rubber.
4012.90.30 | Bicycle rim strips of natural rubber.
4012.90.45 | Interchangeable tire treads and tire flaps, of natural rubber, nesoi.
4012.90.70 | Bicycle rim strips of rubber other than of natural rubber.
4012.90.90 | Interchangeable tire treads and tire flaps, of rubber other than natural rubber, except bicycle rim strips, nesoi.
4013.10.00 | Inner tubes of rubber, of a kind used on motor cars (including station wagons and racing cars), buses or trucks.
4013.20.00 | Inner tubes of rubber, of a kind used on bicycles.
4013.90.10 | Inner tubes of rubber designed for tires used on certain agricultural or horticultural machinery.
4013.90.50 | Inner tubes of rubber for vehicles nesoi.
4015.19.05 | Medical gloves of vulcanized rubber other than hard rubber.
4015.19.10 | Seamless gloves of vulcanized rubber other than hard rubber, other than surgical or medical gloves.
4015.19.50 | Nonseamless gloves of vulcanized rubber other than hard rubber, other than surgical or medical gloves.
4015.90.00 | Articles of apparel and clothing accessories, excluding gloves, of vulcanized rubber other than hard rubber.
4016.10.00 | Articles of vulcanized cellular rubber other than hard rubber.
4016.91.00 | Floor covering and mats, of noncellular vulcanized rubber other than hard rubber.
4016.93.10 | Gaskets, washers and other seals, of noncellular vulcanized rubber other than hard rubber, for use in automotive goods in C87.
4016.93.50 | Gaskets, washers and other seals, of noncellular vulcanized rubber other than hard rubber, not for use in automotive goods in C87.
4016.94.00 | Boat or dock fenders, whether or not inflatable, of noncellular vulcanized rubber other than hard rubber.
4016.99.03 | Containers of noncellular vulcanized rubber, other than hard rubber, of a kind for packing, transport or marketing of merchandise.
4016.99.30 | Articles made of noncellular vulcanized natural rubber, used as vibration control goods in vehicles of 8701 through 8705.
4016.99.35 | Articles made of noncellular vulcanized natural rubber, not used as vibration control goods in vehicles of 8701 through 8705 nesoi.
4016.99.55 | Articles nesoi, of noncellular vulcanized synthetic rubber other than hard rubber, used as vibration control goods in veh 8701/8705.
4016.99.60 | Articles of noncellular vulcanized synthetic rubber other than hard rubber.
4017.00.00 | Hard rubber (for example, ebonite) in all forms, including waste and scrap; articles of hard rubber.
4104.11.10 | Tanned whole bovine skin and hide upper/lining leather, w/o hair on, unit surface area n/o 2.6 sq m, in the wet state.
4104.11.20 | Tanned whole bovine skin and hide leather (not upper/lining), w/o hair on, unit surface area n/o 2.6 sq m, in the wet state.
4104.11.30 | Full grain unsplit or grain split buffalo hide or skin, w/o hair on, tanned but not further prepared, surface ov 2.6 m2, in the wet state.
4104.11.40 | Full grain unsplit/grain split bovine nesoi and equine upper & sole hides/skins, w/o hair, tanned but not further prepared, in the wet state.
4104.11.50 | Full grain unsplit/grain split bovine (except buffalo) nesoi and equine hides/skins, w/o hair, tanned not further prepared, in the wet state.
4104.19.10 | Whole bovine skin upper or lining leather, w/o hair on, unit surface n/o 2.6 sq m, tanned but not further prepared, in the wet state.
4104.19.20 | Whole bovine skin leather (not upper or lining), w/o hair on, surface n/o 2.6 sq m, tanned but not further prepared, in the wet state.
4104.19.30 | Buffalo hides and skins nesoi, w/o hair on, unit surface area ov 2.6 m2, tanned but not further prepared, in the wet state.
4104.19.40 | Upper and sole bovine (except buffalo) and equine hides and skins, nesoi, w/o hair, tanned but not further prepared, in the wet state.
4104.19.50 | Bovine (except buffalo) and equine hides and skins (not upper/sole) nesoi, w/o hair, tanned but not further prepared, in the wet state.
4104.41.10 | Crust whole bovine hide and skin upper or lining leather, w/o hair on, unit surface n/o 2.6 sq m, tanned but not further prepared.
4104.41.20 | Crust whole bovine hide and skin leather (not upper or lining), w/o hair on, surface n/o 2.6 sq m, tanned but not further prepared.
4104.41.30 | Crust full grain unsplit or grain split buffalo hides and skins, surface area over 2.6 m2, without hair on, tanned but not further prepared.
4104.41.40 | Crust full grain unsplit/grain split bovine (ex. buffalo) nesoi/equine hides/skins upper/sole leather, w/o hair, tanned not further prepared.
4104.41.50 | Crust full grain unsplit/grain split bovine (except buffalo) nesoi and equine hides and skins, nesoi, w/o hair, tanned not further prepared.
4104.49.10 | Crust whole bovine hide and skin upper or lining leather, w/o hair on, unit surface n/o 2.6 sq m, tanned but not further prepared, nesoi.
4104.49.20 | Crust whole bovine hide and skin (not upper or lining leather), w/o hair on, surface n/o 2.6 sq m, tanned but not further prepared, nesoi.
4104.49.30 | Crust buffalo hides and skins nesoi, without hair on, surface area over 2.6 m2, tanned but not further prepared.
4104.49.40 | Crust upper and sole equine and bovine (except buffalo) nesoi hides and skins, nesoi, w/o hair, tanned but not further prepared.
4104.49.50 | Crust bovine (except buffalo) nesoi and equine hides and skins, nesoi, w/o hair, tanned but not further prepared.
4105.10.10 | Sheep or lamb skins, without wool on, tanned but not further prepared, wet blue.
4105.10.90 | Sheep or lamb skins, without wool on, tanned but not further prepared, in the wet state other than wet blue.
4105.30.00 | Sheep or lamb skins, without wool on, tanned but not further prepared, in the dry state (crust).
4106.21.10 | Hides and skins of goats or kids, without hair on, tanned but not further prepared, wet blue.
4106.21.90 | Hides and skins of goats or kids, without hair on, tanned but not further prepared, in the wet state other than wet blue.
4106.22.00 | Hides and skins of goats or kids, without hair on, tanned but not further prepared, in the dry state (crust).
4106.31.10 | Hides and skins of swine, without hair on, tanned but not further prepared, wet blue.
4106.31.90 | Hides and skins of swine, without hair on, tanned but not further prepared, in the wet state other than wet blue.
4106.32.00 | Hides and skins of swine, without hair on, tanned but not further prepared, in the dry state (crust).
4106.40.00 | Tanned or cust hides and skins of reptiles, whether or not split, but not further prepared.
4106.91.00 | Hides and skins of animals nesoi, without hair on, tanned but not further prepared, in the wet state (including wet-blue).
4106.92.00 | Hides and skins of animals nesoi, without hair on, tanned but not further prepared, in the dry state (crust).
4107.11.10 | Full grain unsplit whole bovine upper or lining leather, w/o hair on, surface n/o 2.6 m2, prepared after tanning or crusting, not head 4114.
4107.11.20 | Full grain unsplit whole bovine leather (not upper/lining), w/o hair on, not fancy, n/o 2.6 m2, prepared after tanning or crust, not head 4114.
4107.11.30 | Full grain unsplit whole bovine leather (not upper/lining), w/o hair on, fancy, n/o 2.6 m2, prepared after tanning or crusting, not head 4114.
4107.11.40 | Full grain unsplit whole buffalo leather, without hair on, surface over 2.6 sq m, prepared after tanning or crusting, not heading 4114.
4107.11.50 | Full grain unsplit upholstery leather of bovines (not buffalo) nesoi and equines, w/o hair on, prepared after tanning or crusting, not 4114.
4107.11.60 | Full grain unsplit upper & sole leather of bovines (not buffalo) nesoi or equine, w/o hair on, prepared after tanning or crusting, not 4114.
4107.11.70 | Full grain unsplit whole bovine (not buffalo) nesoi and equine leather nesoi, w/o hair, prepared after tanning/crusting, not fancy, not 4114.
4107.11.80 | Full grain unsplit whole bovine (not buffalo) nesoi and equine leather nesoi, w/o hair, prepared after tanning or crusting, fancy, not 4114.
4107.12.10 | Grain split whole bovine skin upper or lining leather, w/o hair on, unit surface n/o 2.6 sq m, prepared after tanning or crusting, not 4114.
4107.12.20 | Grain split whole bovine skin leather (not upper or lining), w/o hair, not fancy, n/o 2.6 sq m, prepared after tanning or crusting, not 4114.
4107.12.30 | Grain split whole bovine skin leather (not upper or lining), w/o hair on, fancy, n/o 2.6 sq m, prepared after tanning or crusting, not 4114.
4107.12.40 | Grain split whole buffalo leather, without hair on, unit surface area over 2.6 sq m, prepared after tanning or crusting, not of heading 4114.
4107.12.50 | Grain split whole upholstery leather of bovines (not buffalo) nesoi and equines, w/o hair on, prepared after tanning or crusting, not 4114.
4107.12.60 | Grain split whole upper & sole leather of bovines (not buffalo) nesoi or equines, w/o hair on, prepared after tanning or crusting, not 4114.
4107.12.70 | Grain split whole bovine (not buffalo) nesoi and equine nesoi leathers, w/o hair on, prepared after tanning or crusting, not fancy, not 4114.
4107.12.80 | Grain split whole bovine (not buffalo) nesoi and equine nesoi leathers, without hair on, prepared after tanning or crusting, fancy, not 4114.
4107.19.10 | Whole bovine skin upper or lining leather nesoi, w/o hair on, unit surface n/o 2.6 m2, prepared after tanning or crusting, not of head 4114.
4107.19.20 | Whole bovine skin leather (not upper or lining) nesoi, w/o hair on, not fancy, n/or 2.6 sq m, prepared after tanning or crusting, not 4114.
4107.19.30 | Whole bovine skin leather (not upper or lining) nesoi, w/o hair on, fancy, surface n/o 2.6 m2, prepared after tanning or crusting, not 4114.
4107.19.40 | Whole buffalo skin leather (not full grain unsplits/grain splits), w/o hair on, over 2.6 sq m, prepared after tanning or crusting, not 4114.
4107.19.50 | Whole upholstery leather of bovines (not buffalo) nesoi and equines nesoi, without hair on, prepared after tanning or crusting, not 4114.
4107.19.60 | Whole upper & sole leather of bovines (not buffalo) nesoi or equines nesoi, without hair on, prepared after tanning or crusting, not 4114.
4107.19.70 | Whole bovine (not buffalo) and equine leather, nesoi, without hair on, not fancy, prepared after tanning or crusting, not of heading 4114.
4107.19.80 | Whole bovine (not buffalo) and equine leather, nesoi, without hair on, fancy, prepared after tanning or crusting, not of heading 4114.
4107.91.40 | Full grain unsplit buffalo leather (not whole), w/o hair on, prepared after tanning or crusting (including parchment-dressed), not head 4114.
4107.91.50 | Full grain unsplit upholstery leather of bovines (not buffalo) & equines, not whole, w/o hair, prepared after tanning or crusting, not 4114.
4107.91.60 | Full grain unsplit upper & sole leather of bovines (not buffalo) or equines, not whole, w/o hair, prep. after tanning or crusting, not 4114.
4107.91.70 | Full grain unsplit bovine (not buffalo) & equine leather, not whole, w/o hair on, nesoi, not fancy, prep. after tanning/crusting, not 4114.
4107.91.80 | Full grain unsplit bovine (not buffalo) & equine leather, not whole, w/o hair on, nesoi, fancy, prepared after tanning or crusting, not 4114.
4107.92.40 | Grain splits buffalo leather (not whole), without hair on, prepared after tanning or crusting, other than of heading 4114.
4107.92.50 | Grain splits upholstery leather of bovines (not buffalo) and equines, not whole, w/o hair on, prepared after tanning or crusting, not 4114.
4107.92.60 | Grain splits upper & sole leather of bovines (not buffalo) or equines, not whole, w/o hair on, prepared after tanning or crusting, not 4114.
4107.92.70 | Grain splits bovine (not buffalo) and equine leather, not whole, w/o hair on, nesoi, not fancy, prepared after tanning or crusting, not 4114.
4107.92.80 | Grain splits bovine (not buffalo) and equine leather, not whole, without hair on, nesoi, fancy, prepared after tanning or crusting, not 4114.
4107.99.40 | Buffalo leather other than full grains unsplit & grain splits, not whole, w/o hair on, prepared after tanning or crusting, not heading 4114.
4107.99.50 | Upholstery leather of bovines (not buffalo) or equines, not whole, nesoi, without hair on, prepared after tanning or crusting, not 4114.
4107.99.60 | Upper & sole leather of bovines (not buffalo) or equines, not whole, nesoi, w/o hair on, prepare after tanning or crusting, not 4114.
4107.99.70 | Bovine (not buffalo) and equine leather, not whole, nesoi, without hair on, not fancy, prepared after tanning or crusting, not heading 4114.
4107.99.80 | Bovine (not buffalo) and equine leather, not whole, nesoi, without hair on, fancy, prepared after tanning or crusting, not of heading 4114.
4112.00.30 | Sheep or lamb skin leather, without wool on, not fancy, prepared after tanning or crusting, other than of heading 4114.
4112.00.60 | Sheep or lamb skin leather, without wool on, fancy, further prepared after tanning or crusting, other than of heading 4114.
4113.10.30 | Goat or kidskin leather, without hair on, not fancy, further prepared after tanning or crusting, other than of heading 4114.
4113.10.60 | Goat or kidskin leather, without hair on, fancy, further prepared after tanning or crusting, other than of heading 4114.
4113.20.00 | Leather of swine, without hair on, further prepared after tanning or crusting, other than leather of heading 4114.
4113.30.30 | Reptile leather, not fancy, further prepared after tanning or crusting, other than leather of heading 4114.
4113.30.60 | Reptile leather, fancy, further prepared after tanning or crusting, other than leather of heading 4114.
4113.90.30 | Leather of animals nesoi, without hair on, not fancy, further prepared after tanning or crusting, other than leather of heading 4114.
4113.90.60 | Leather of animals nesoi, without hair on, fancy, further prepared after tanning or crusting, other than leather of heading 4114.
4114.10.00 | Chamois (including combination chamois) leather.
4114.20.30 | Patent leather.
4114.20.40 | Patent laminated leather or metallized leather, of calf or kip.
4114.20.70 | Patent laminated leather or metallized leather, other than calf or kip.
4115.10.00 | Composition leather with a basis of leather or leather fiber, in slabs, sheets or strip, whether or not in rolls.
4201.00.30 | Dog leashes, collars, muzzles, harnesses and similar dog equipment, of any material.
4201.00.60 | Saddlery and harnesses for animals nesoi, (incl. traces, leads, knee pads, muzzles, saddle cloths and bags and the like), of any material.
4202.11.00 | Trunks, suitcases, vanity & all other cases, occupational luggage & like containers, surface of leather, composition or patent leather.
4202.12.21 | Trunks, suitcases, vanity and attache cases and similar containers, with outer surface of plastics.
4202.12.29 | Occupational luggage and similar containers, with outer surface of plastics.
4202.12.40 | Trunks, suitcases, vanity & attache cases, occupational luggage & like containers, surfaces of cotton, not of pile or tufted construction.
4202.12.60 | Trunks, suitcases, vanity & attache cases, occupational luggage & like containers, w outer surface of veg. fibers, excl. cotton.
4202.12.81 | Trunks, suitcases, vanity & attache cases, occupational luggage and similar containers, with outer surface of MMF materials.
4202.12.89 | Trunks, suitcases, vanity & attache cases, occupational luggage and similar containers, with outer surface of textile materials nesoi.
4202.19.00 | Trunks, suitcases, vanity cases, attache cases, occupational luggage & like containers surface of vulcanized fiber or paperboard nesoi.
4202.21.30 | Handbags, with or without shoulder strap or without handle, with outer surface of reptile leather.
4202.21.60 | Handbags, with or without shoulder strap or without handle, with outer surface of leather, composition or patent leather, nesoi, n/o $20 ea..
4202.21.90 | Handbags, with or without shoulder strap or without handle, with outer surface of leather, composition or patent leather, nesoi, over $20 ea..
4202.22.15 | Handbags, with or without shoulder straps or without handle, with outer surface of sheeting of plastics.
4202.22.35 | Handbags with or without shoulder strap or without handle, with outer surface of textile materials, wholly or in part of braid, of abaca.
4202.22.40 | Handbags with or without shoulder strap or without handle, with outer surface of textile materials, wholly or in part of braid, nesoi.
4202.22.45 | Handbags with or without shoulder strap or without handle, with outer surface of cotton, not of pile or tufted construction or braid.
4202.22.60 | Handbags with or w/o shoulder strap or w/o handle, outer surface of veg. fibers, exc. cotton, not of pile or tufted construction or braid.
4202.22.70 | Handbags with or w/o shoulder strap or w/o handle, with outer surface containing 85% or more of silk, not braided.
4202.22.81 | Handbags with or without shoulder strap or without handle, with outer surface of MMF materials.
4202.22.89 | Handbags with or without shoulder strap or without handle, with outer surface of textile materials nesoi.
4202.29.10 | Handbags w. or w/o shld. strap or w/o handle of mat. (o/t leather, shtng. of plas., tex. mat., vul. fib. or paperbd.), paper cov., of plas..
4202.29.20 | Handbags w. or w/o shld. strap or w/o handle of mat. (o/t leather, shtng. of plas., tex. mat., vul. fib. or paperbd.), paper cov., of wood.
4202.29.50 | Handbags w. or w/o shld. strap or w/o handle of mat. (o/t leather, shtng. of plas., tex. mat., vul. fib. or paperbd.), pap.cov.,of mat. nesoi.
4202.29.90 | Handbags with or without shoulder straps or without handle, with outer surface of vulcanized fiber or of paperboard, not covered with paper.
4202.31.30 | Articles of a kind normally carried in the pocket or handbag, with outer surface of reptile leather.
4202.31.60 | Articles of a kind normally carried in the pocket or handbag, with outer surface of leather, composition or patent leather, nesoi.
4202.32.10 | Articles of a kind normally carried in the pocket or handbag, with outer surface of reinforced or laminated plastics.
4202.32.20 | Articles of a kind normally carried in the pocket or handbag, with outer surface of plastic sheeting, nesoi.
4202.32.40 | Articles of a kind normally carried in the pocket or handbag, with outer surface of cotton, not of pile or tufted construction.
4202.32.80 | Articles of a kind normally carried in the pocket or handbag, with outer surface of vegetable fibers, not of pile or tufted construction, nesoi.
4202.32.85 | Articles of a kind normally carried in the pocket or handbag, with outer surface 85% or more silk or silk waste.
4202.32.91 | Articles of a kind normally carried in the pocket or handbag, with outer surface of cotton.
4202.32.93 | Articles of a kind normally carried in the pocket or handbag, with outer surface of MMF.
4202.32.99 | Articles of a kind normally carried in the pocket or handbag, with outer surface of other textile materials.
4202.39.10 | Articles of kind usually carried in pocket or handbag (o/t leather, shtng. of plas., tex. mat., vul. fib. or paperbd.), pap. cov., of plas.
4202.39.20 | Articles of kind usually carried in pocket or handbag (o/t leather, shtng. of plas., tex. mat., vul. fib. or paperbd.), pap. cov., of wood.
4202.39.50 | Articles of kind usu. carried in pocket or handbag (o/t lea., shtng. of plas., tex. mat., vul. fib. or paperbd.), pap. cov., of mat. nesoi.
4202.39.90 | Articles of a kind normally carried in the pocket or handbag, with outer surface of vulcanized fiber or of paperboard.
4202.91.10 | Golf bags, with outer surface of leather or composition leather.
4202.91.90 | Cases, bags and containers nesoi, other than golf bags, with outer surface of leather, of composition leather.
4202.92.04 | Insulated beverage bag w/outer surface textiles, interior only flexible plastic container storing/dispensing beverage thru flexible tubing.
4202.92.08 | Insulated food or beverage bags with outer surface of textile materials, nesoi.
4202.92.10 | Insulated food or beverage bags with outer surface of sheeting of plastic.
4202.92.15 | Travel, sports and similar bags with outer surface of cotton, not of pile or tufted construction.
4202.92.20 | Travel, sports and similar bags with outer surface of vegetable fibers, excl. cotton, not of pile construction.
4202.92.31 | Travel, sports and similar bags with outer surface of MMF textile materials.
4202.92.33 | Travel, sports and similar bags with outer surface of textile materials of paper yarn, silk or cotton.
4202.92.39 | Travel, sports and similar bags with outer surface of textile materials other than MMF, paper yarn, silk, cotton.
4202.92.45 | Travel, sports and similar bags with outer surface of plastic sheeting.
4202.92.50 | Musical instrument cases, with outer surface of plastic sheeting or of textile materials.
4202.92.60 | Bags, cases and similar containers, nesoi, with outer surface of cotton.
4202.92.91 | Bags, cases and similar containers with outer surface of textile materials, of MMF except jewelry boxes.
4202.92.93 | Bags, cases and similar containers with outer surface of textile materials, not of MMF.
4202.92.94 | Cases for CDs, CD players, cassettes, or cassette players.
4202.92.97 | Bags, cases & similar containers with outer surface of sheeting of plastic materials, not containers for CDs or cassettes, or CD or cassette players.
4202.99.10 | Cases, bags and sim. containers, nesoi, of mat. (o/t leather, shtng. of plas., tex. mat., vul. fib., or paperbd.), pap. cov., of plastic.
4202.99.20 | Cases & sim. cont., nesoi, of mat. (o/t lea., shtng. of plas., tex. mat., vul. fib. or paperbd.), pap. cov., of wood, not lined with tex.fab.
4202.99.30 | Cases, bags & sim. cont., nesoi, of mat. (o/t lea., plas. shtng., tex. mat., vul. fib. or paperbd.), pap. cov., of wood, lined with tex. fab.
4202.99.50 | Cases, bags & sim. cont., nesoi, of mat. (o/t lea., plas. shtng., tex. mat., vul. fib. or paperbd.), pap. cov., except of wood or plastic.
4202.99.90 | Cases, bags and similar containers, nesoi, with outer surface of vulcanized fiber or of paperboard.
4203.10.20 | Articles of apparel, of reptile leather.
4203.10.40 | Articles of apparel, of leather or of composition leather, nesoi.
4203.21.20 | Batting gloves, of leather or of composition leather.
4203.21.40 | Baseball and softball gloves and mitts, excluding batting gloves, of leather or of composition leather.
4203.21.55 | Cross-country ski gloves, mittens and mitts, of leather or of composition leather.
4203.21.60 | Ski or snowmobile gloves, mittens and mitts, nesoi, of leather or of composition leather.
4203.21.70 | Ice hockey gloves, of leather or of composition leather.
4203.21.80 | Gloves, mittens and mitts specially designed for use in sports, nesoi, of leather or of composition leather.
4203.29.05 | Gloves, wholly of horsehide or cowhide leather not specially designed for use in sports, with fourchettes or sidewalls.
4203.29.08 | Gloves, wholly of horsehide or cowhide (except calfskin) leather, not specially designed for use in sports, nesoi.
4203.29.15 | Gloves not wholly of horsehide or cowhide leather not specially designed for use in sports, with fourchettes or sidewalls.
4203.29.18 | Gloves not wholly of horsehide or cowhide leather not specially designed for use in sports, nesoi.
4203.29.20 | Gloves, mittens and mitts of leather or composition leather, nesoi, not seamed.
4203.29.30 | Men's gloves, mittens and mitts of leather or composition leather, nesoi, seamed.
4203.29.40 | Gloves, mittens and mitts of leather or composition leather, nesoi, not lined, for persons other than men.
4203.29.50 | Gloves, mittens and mitts of leather or composition leather, nesoi, lined, for persons other than men.
4203.30.00 | Belts and bandoliers with or without buckles, of leather or of composition leather.
4203.40.30 | Clothing accessories nesoi, of reptile leather.
4203.40.60 | Clothing accessories of leather or of composition leather, nesoi.
4205.00.05 | Belting leather cut or wholly or partly manufactured into forms or shapes suit. for conversion into belting for machinery or appliances.
4205.00.10 | Articles of leather or composition leather used in machinery or mechanical appliances or for other technical uses, except belting leathers.
4205.00.20 | Shoelaces of leather or of composition leather.
4205.00.40 | Straps and strops of leather or of composition leather.
4205.00.60 | Articles of reptile leather, nesoi.
4205.00.80 | Articles of leather or of composition leather, nesoi, excluding reptile leather.
4302.11.00 | Tanned or dressed whole furskins of mink, with or without head, tail or paws, not assembled.
4302.19.13 | Tanned/dressed whole skins of Astrakhan, Broadtail, Caracul, Persian, Indian, Mongolian, Chinese & Tibetan lamb, not assembled.
4302.19.15 | Tanned or dressed whole furskins of silver, black or platinum fox (including mutations), with or without head, tail or paws, not assembled.
4302.19.30 | Tanned or dressed whole furskins of beaver, chinchilla, ermine, lynx, raccoon, sable, other specified animals, not dyed, not assembled.
4302.19.45 | Tanned or dressed whole furskins of beaver, chinchilla, ermine, lynx, raccoon, sable, wolf, other specified animals, dyed, not assembled.
4302.19.55 | Tanned or dressed whole furskins of rabbit or hare, with or without head, tail or paws, not assembled.
4302.19.60 | Tanned or dressed whole furskins, nesoi, with or without head, tail or paws, not assembled, not dyed.
4302.19.75 | Tanned or dressed whole furskins, nesoi, with or without head, tail or paws, not assembled, dyed.
4302.20.30 | Heads, tails, paws, other pieces or cuttings of dressed or tanned furskins, of beaver, ermine, wolf, other specified animals, nt assembled.
4302.20.60 | Heads, tails, paws and other pieces or cuttings of dressed or tanned furskins, nesoi, not assembled, not dyed.
4302.20.90 | Heads, tails, paws and other pieces or cuttings of dressed or tanned furskins, nesoi, not assembled, dyed.
4302.30.00 | Whole furskins and pieces or cuttings thereof, tanned and dressed, assembled.
4303.10.00 | Articles of apparel and clothing accessories, of furskins.
4303.90.00 | Articles of furskin, nesoi.
4304.00.00 | Artificial fur and articles thereof.
4401.10.00 | Fuel wood, in logs, in billets, in twigs, in faggots or similar forms.
4401.21.00 | Coniferous wood in chips or particles.
4401.22.00 | Nonconiferous wood in chips or particles.
4401.31.00 | Sawdust and wood waste and scrap, pellets.
4401.39.20 | Artificial fire logs, composed of wax and sawdust, with or without added materials.
4401.39.40 | Sawdust and wood waste and scrap, excluding pellets or artificial logs, nesoi.
4402.10.00 | Wood charcoal (including shell or nut charcoal), whether or not agglomerated, of bamboo.
4402.90.00 | Wood charcoal (including shell or nut charcoal), whether or not agglomerated, other than of bamboo.
4403.10.00 | Wood in the rough whether or not stripped of bark or sapwood, or roughly squared, treated with paint, stain, creosote or other preservatives.
4403.20.00 | Coniferous wood in the rough, whether or not stripped of bark or sapwood or roughly squared, not treated with preservatives.
4403.41.00 | Wood in the rough/roughly squared, of Dark Red Meranti, Light Red Meranti and Meranti Bakau, not treated with paint/stain/cresote/other preserv.
4403.49.01 | Wood in the rough/roughly squared, of other tropical wood, not treated with paint/stain/creosote/other preserv.
4403.91.00 | Oak wood in the rough, whether or not stripped of bark or sapwood, or roughly squared, not treated with preservatives.
4403.92.00 | Beech wood in the rough, not treated with preservatives.
4403.99.00 | Wood in the rough, nesoi.
4404.10.00 | Coniferous wood, roughly shaped into poles, pickets, stakes, sticks and other forms, to be finished into specific articles or products.
4404.20.00 | Nonconiferous wood, roughly shaped into poles, pickets, stakes, sticks and other forms, to be finished into specific articles or products.
4405.00.00 | Wood wool (excelsior); wood flour.
4406.10.00 | Railway or tramway sleepers (cross-ties) of wood, not impregnated.
4406.90.00 | Railway or tramway sleepers (cross-ties) of wood, impregnated.
4407.10.01 | Coniferous wood sawn or chipped lengthwise, sliced or peeled, of a thickness exceeding 6 mm.
4407.21.00 | Dark Red Meranti, Light Red Meranti and other specified tropical woods, sawn or chipped lengthwise, sliced or peeled, over 6 mm thick.
4407.22.00 | Okoume, Obeche, Sapelli and other specified tropical woods, sawn or chipped lengthwise, sliced or peeled, over 6 mm thick.
4407.25.00 | Dark Red Meranti, Light Red Meranti and Meranti Bakau wood sawn or chipped lengthwise, sliced or peeled, over 6 mm thick.
4407.26.00 | White Lauan, White Meranti, White Seraya, Yellow Meranta and Alan wood sawn or chipped lengthwise, sliced or peeled, over 6 mm thick.
4407.27.00 | Sapelli wood sawn or chipped lengthwise, sliced or peeled, over 6 mm thick.
4407.28.00 | Iroko wood sawn or chipped lengthwise, sliced or peeled, over 6 mm thick.
4407.29.01 | Tropical wood specified in chapter 44 subheading note 1, nesoi, sawn or chipped lengthwise, sliced or peeled, over 6 mm thick.
4407.91.00 | Oak wood, sawn or chipped lengthwise, sliced or peeled, over 6 mm thick.
4407.92.00 | Beech wood, sawn or chipped lengthwise, sliced or peeled, over 6 mm thick.
4407.93.00 | Maple wood sawn or chipped lengthwise, sliced or peeled, over 6 mm thick.
4407.94.00 | Cherry wood sawn or chipped lengthwise, sliced or peeled, over 6 mm thick.
4407.95.00 | Ash wood sawn or chipped lengthwise, sliced or peeled, over 6 mm thick.
4407.99.01 | Nonconiferous woods, nesoi, sawn or chipped lengthwise, sliced or peeled, over 6 mm thick.
4408.10.01 | Coniferous veneer sheets and sheets for plywood & coniferous wood sawn/sliced/peeled not over 6 mm thick.
4408.31.01 | Dark Red Meranti, Light Red Meranti and Meranti Bakau veneer sheets and sheets for plywood and other wood sawn/sliced/peeled, n/o 6 mm thick.
4408.39.02 | Other tropical wood veneer sheets and sheets for plywood, and wood sawn/sliced/peeled n/o 6 mm thick.
4408.90.01 | Nontropical nonconiferous veneer sheets and sheets for plywood and other wood sawn/sliced/peeled, not over 6 mm thick.
4409.10.05 | Coniferous wood continuously shaped along any of its ends, whether or not also continuously shaped along any its edges or faces.
4409.10.10 | Coniferous wood siding continuously shaped along any of its edges or faces but not on its ends.
4409.10.20 | Coniferous wood flooring continuously shaped along any of its edges or faces but not on its ends.
4409.10.40 | Standard wood moldings of pine (Pinus spp.) continuously shaped along any of its edges or faces but not on its ends.
4409.10.45 | Standard coniferous wood moldings, other than of pine, continuously shaped along any of its edges or faces but not on its ends.
4409.10.50 | Coniferous wood moldings, other than standard type, continuously shaped along any of its edges or faces but not on its ends.
4409.10.60 | Coniferous wood dowel rods, plain, continuously shaped along any of its edges or faces but not on its ends.
4409.10.65 | Coniferous wood dowel rod, sanded/grooved/otherwise advanced in condition, continuously shaped along any of edges or faces but not its ends.
4409.10.90 | Coniferous wood, other than siding, flooring, moldings or dowel rod, continuously shaped along any of its edges or faces but not on its ends.
4409.21.05 | Nonconiferous wood (bamboo) continuously shaped along any of its ends, wether or not also continuously shaped along any its edges or faces.
4409.21.90 | Bamboo, other than continuously shaped along any of its ends.
4409.22.05 | Nonconiferous tropical wood continuously shaped along any ends, whether or not also continuously shaped along any edges or faces.
4409.22.10 | Nonconiferous tropical wood siding, whether or not continuously shaped along its edges or faces but not its ends.
4409.22.25 | Nonconiferous tropical wood flooring, whether or not continuously shaped along its edges or faces but not its ends.
4409.22.40 | Nonconiferous tropical wood standard moldings, whether or not continuously shaped along its edges or faces but not its ends.
4409.22.50 | Other nonconiferous tropical wood moldings, whether or not continuously shaped along its edges or faces but not its ends.
4409.22.60 | Plain nonconiferous tropical wood dowel rods, whether or not continuously shaped along its edges or faces but not its ends.
4409.22.65 | Nonconif. tropical wood dowel rods, sanded/grooved/otherwise advanced in condition, whether or not continuous. along edges or faces but not ends.
4409.22.90 | Other nonconiferous tropical wood, whether or not continuously shaped along its edges or faces but not its ends.
4409.29.06 | Other nonconiferous wood, continuously shaped along any ends, whether or not also continuously shaped along any edges or faces.
4409.29.11 | Other nonconiferous wood siding, whether or not continuously shaped along its edges or faces but not its ends.
4409.29.26 | Other nonconiferous wood flooring, whether or not continuously shaped along its edges or faces but not its ends.
4409.29.41 | Other nonconiferous standard wood moldings, whether or not continuously shaped along its edges or faces but not its ends.
4409.29.51 | Other nonconiferous wood moldings, whether or not continuously shaped along its edges or faces but not its ends.
4409.29.61 | Plain other nonconif. wood dowel rods, whether or not continuously shaped along edges or faces but not ends.
4409.29.66 | Other nonconif. wood dowel rods, sanded/grooved/otherwise advanced in condition, whether or not continuously shaped along edges or faces but not ends.
4409.29.91 | Other nonconiferous wood, whether or not continuously shaped along its edges or faces but not its ends.
4410.11.00 | Waferboard, including oriented strand board, of wood.
4410.12.00 | Oriented strand board and waferboard, of wood, unworked or not further worked than sanded.
4410.19.00 | Particle board and similar board of wood, other than waferboard.
4410.90.00 | Particle board and similar board of ligneous materials other than wood.
4411.12.10 | MDF, =5 mm thick, not mechanically worked or surface covered.
4411.12.20 | MDF, <=5 mm thick, for construction, laminated.
4411.12.30 | MDF, >=5 mm thick, for construction, not laminated, nesoi.
4411.12.60 | Fiberboard of a density over 0.5 g/cm3 but not over 0.8 g/cm3, not mechanically worked surface covered (Except for oil treatment).
4411.12.90 | MDF, <=5 mm thick, not for construction, nesoi.
4411.13.10 | MDF, >5 mm but <=9 mm thick, not mechanically worked or surface covered.
4411.13.20 | MDF, >5 mm but <=9 mm thick, for construction, laminated.
4411.13.30 | MDF, >5 mm but <=9 mm thick, for construction, not laminated, nesoi.
4411.13.60 | Fiberboard of a density over 0.5 g/cm3 but not over 0.8 g/cm3, not mechanically worked surface covered(except for oil treatment).
4411.13.90 | MDF, >5 mm but <=9 mm thick, not for construction, nesoi.
4411.14.10 | Fiberboard of a thickness exceeding 9 mm, not mechanically worked or surface covered.
4411.14.20 | Fiberboard of a thickness exceeding 9 mm, edgeworked continuously, laminated, for construction uses.
4411.14.30 | Fiberboard of a thickness exceeding 9 mm, tongued, grooved or rabbetted continuously, for construction uses, nesoi.
4411.14.60 | Fiberboard of a thickness exceeding 9 mm, not mechanically worked surface covered (except for oil treatment).
4411.14.90 | Fiberboard nesoi,of a thickness exceeding 9 mm.
4411.92.10 | Fiberboard of a density exceeding 0.8 g/cm3, not mechanically worked or surface covered.
4411.92.20 | Fiberboard, of a density exceeding 0.8 g/cm3, mechanically worked, not surface covered (except for oil treatment).
4411.92.30 | Fiberboard, of a density exceeding 0.8 g/cm3, mechanically edged-worked, for construction uses.
4411.92.40 | Fiberboard nesoi, density exceeding 0.8 g/cm3.
4411.93.10 | Fiberboard, not MDF, of a density >0.5 but <=0.8 g/cm3, not mechanically worked or surface covered.
4411.93.20 | Fiberboard, not MDF, of a density >0.5 but <=0.8 g/cm3, edgeworked continuously, laminated, for construction uses.
4411.93.30 | Fiberboard, not MDF, of a density >0.5 but <=0.8 g/cm3, tongued, grooved or rabbetted continuously, for construction, nesoi.
4411.93.60 | Fiberboard of a density over 0.5 g/cm3 but not over 0.8 g/cm3, not mechanically worked surface covered (Except for oil).
4411.93.90 | Fiberboard, not MDF, of a density >0.5 but <=0.8 g/cm3, nesoi.
4411.94.00 | Fiberboard of a density exceeding 0.35 g/cm3 but not exceeding 0.5 g/cm3, not mechanically worked or surface covered.
4412.10.05 | Plywood, veneered panels and similar laminated wood, of bamboo.
4412.10.90 | Veneered panels and similar laminated wood, of bamboo, other than plywood.
4412.31.06 | Plywood sheets n/o 6 mm thick, tropical wood outer ply, birch face ply, not surface covered beyond clear/transparent.
4412.31.26 | Plywood sheets n/o 6 mm thick, tropical wood outer ply, Spanish cedar or walnut face ply, not surface covered beyond clear/transparent.
4412.31.41 | Plywood sheets n/o 6 mm thick, with specified tropical wood outer ply, with face ply nesoi, not surface covered beyond clear/transparent.
4412.31.52 | Plywood sheets n/o 6 mm thick, tropical wood nesoi at least one outer ply, with face ply nesoi, not surface covered beyond clear/transparent.
4412.31.61 | Plywood sheets n/o 6 mm thick, with certain specified tropical wood outer ply, surface covered beyond clear or transparent.
4412.31.92 | Plywood sheets n/o 6 mm thick, tropical wood nesoi at least one outer ply, surface covered beyond clear or transparent.
4412.32.06 | Plywood sheets n/o 6 mm thick, outer ply of nonconiferous wood, birch face ply, not surface covered beyond clear/transparent.
4412.32.26 | Plywood sheets n/o 6 mm thick, outer ply nonconiferous wood, face ply Spanish ceder or walnut, not surface covered beyond clear/transparent.
4412.32.32 | Plywood sheets n/o 6 mm thick, outerply of nonconiferous wood nesoi, face ply nesoi, not surface covered beyond clear/transparent.
4412.32.57 | Plywood sheets n/o 6 mm thick, outerply of nonconiferous wood nesoi, face ply nesoi, surface covered beyond clear/transparent.
4412.39.10 | Plywood of wood sheets, n/o 6 mm thick each, with outer plies of coniferous wood, face ply of Parana pine, not or clear surface covered.
4412.39.30 | Plywood of wood sheets, n/o 6 mm thick each, with outer plies of coniferous wood, European red pine face ply, not or clear surface covered.
4412.39.40 | Plywood of wood sheets, n/o 6 mm thick each, with outer plies of coniferous wood, with face ply nesoi, not or clear surface covered.
4412.39.50 | Plywood of wood sheets, n/o 6 mm thick each, with outer plies of coniferous wood, nesoi, surface covered, nesoi.
4412.94.10 | Plywood nesoi, at least one nonconiferous outer ply, not surface-covered beyond clear/transparent, face ply of birch.
4412.94.31 | Blockboard etc.: plywood nesoi, at least one nonconifer outer ply, not surface-covered beyond clear/transparent, not w/face ply of birch.
4412.94.41 | Blockboard etc.: plywood nesoi, at least one nonconiferous outer ply, surface covered other than clear or transparent.
4412.94.51 | Blockboard etc.: veneered panels and similar laminated wood w/at least one nonconiferous outer ply, nesoi.
4412.94.60 | Blockboard etc.: plywood nesoi, other outer plies, not surf.-cov. Beyond clear/transp., face ply Parana pine.
4412.94.70 | Blockboard etc.: plywood nesoi, other outer plies, not surf.-cov. Beyond clear/transp., face ply Europe red pine.
4412.94.80 | Blockboard etc.: plywood nesoi, other outer plies, not surface-covered beyond clear/transparent, face ply nesoi.
4412.94.90 | Blockboard etc.: plywood nesoi, other outer plies, surface covered other than clear or transparent.
4412.94.95 | Blockboard etc.: veneered panels and similar laminated wood nesoi, other outer plies.
4412.99.06 | Plywood nesoi, veneered panel & similar laminated wood w/nonconiferous outer ply, at least one layer of particle board.
4412.99.10 | Not blockboard: plywood at least 1 outer ply of nonconif wood, nesoi, with a face ply of birch, not surface covered or clear/transparent.
4412.99.31 | Not blockboard: plywood nesoi, at least 1 nonconiferous outer ply, not surface-covered beyond clear/transparent, not w/face ply of birch.
4412.99.41 | Not blockboard: plywood nesoi, at least 1 nonconiferous outer ply, surface covered other than clear or transparent.
4412.99.51 | Not blockboard: veneered panels and similar laminated wood w/at least 1 nonconiferous outer ply, nesoi.
4412.99.57 | Not blockboard: plywood/veneered panel/sim. Laminated wood nesoi, at least 1 nonconiferous outer ply,at least 1 layer of particle board.
4412.99.60 | Not blockboard: plywood nesoi, at least 1 nonconiferous outer ply, no particle board, not surf.-cov. Beyond clear/transp., face ply Parana pine.
4412.99.70 | Not blockboard: plywood nesoi, at least 1 nonconif. outer ply, no particle board, not surf.-cov. Beyond clear/transp., face ply Europe red pine.
4412.99.80 | Not blockboard: plywood nesoi, at least 1 nonconif. outer ply, no particle board, not surface-covered beyond clear/transparent, face ply nesoi.
4412.99.90 | Not blockboard: plywood, veneer panels and similar laminated wood, at least 1 nonconiferous outer ply, nesoi.
4412.99.95 | Not blockboard: veneered panels and similar laminated wood, nesoi, at least 1 nonconiferous outer ply, no particle board, nesoi.
4413.00.00 | Densified wood, in blocks, plates, strips or profile shapes.
4415.10.30 | Packing boxes and cases of wood with solid sides, lids and bottoms.
4415.10.60 | Wooden containers designed for use in the harvesting of fruits and vegetables.
4415.10.90 | Wood cases, boxes, crates, drums and similar packings nesoi; cable-drums of wood.
4415.20.40 | Wooden pallets, box-pallets and other load boards designed for use in the harvesting of fruits and vegetables.
4415.20.80 | Wooden pallets, box-pallets and other load boards, other than designed for use in the harvesting of fruits and vegetables.
4416.00.30 | Wooden casks, barrels and hogsheads.
4416.00.60 | Wooden staves and hoops; tight barrelheads of softwood.
4416.00.90 | Wooden vats, tubs and other coopers' products and parts thereof.
4417.00.60 | Wooden brush backs.
4417.00.80 | Wooden tools, tool bodies, tool handles, broom or brush bodies and handles nesoi; wooden boot or shoe lasts and trees.
4418.10.00 | Wooden windows, French-windows and their frames.
4418.20.40 | French doors of wood.
4418.20.80 | Doors of wood, other than French doors.
4418.40.00 | Wooden formwork (shuttering) for concrete constructional work.
4418.50.00 | Wooden shingles and shakes.
4418.60.00 | Builders' joinery and carpentry of wood, Posts and Beams.
4418.73.10 | Assembled flooring panels of bamboo, for mosaic floors, solid.
4418.73.20 | Assembled flooring panels of bamboo, for mosaic floors other than solid, having a face ply more than 6mm in thickness.
4418.73.30 | Assembled flooring panels of bamboo, for mosaic floors other than solid, having a face ply less than or equal to 6 mm in thickness.
4418.73.40 | Assembled flooring panels of bamboo, other than for mosaic, multilayer, having a face ply more than 6mm in thickness.
4418.73.60 | Assembled flooring panels of bamboo, other than mosaic, multilayer, having a face ply <= equal to 6mm in thickness, of unidirectional bamboo.
4418.73.70 | Assembled flooring panels of bamboo, other than for mosaic, multilayer, having a face ply <=6mm in thickness, not of unidirectional bamboo.
4418.73.90 | Assembled flooring panels of bamboo, other than for mosaic or multilayer, nesoi.
4418.74.10 | Assembled wood flooring panels, other than of bamboo, for mosaic floors, solid.
4418.74.20 | Assembled wood flooring panels, other than of bamboo, for mosaic floors other than solid, having a face ply more than 6 mm in thickness.
4418.74.90 | Assembled wood flooring panels, other than of bamboo, for mosaic floors other than solid, having a face ply less than or equal to 6 mm in thickness.
4418.75.40 | Assembled wood flooring panels, other than of bamboo, other than for mosaic, multilayer, having a face ply more than 6 mm in thickness.
4418.75.70 | Assembled wood flooring panels, other than of bamboo, other than for mosaic, multilayer, having a face ply less than or equal to 6 mm in thickness.
4418.79.01 | Assembled wood flooring panels, other than of bamboo, other than for mosaic or multilayer.
4418.91.10 | Builders' joinery and carpentry of wood, of bamboo, drilled or notched lumber studs.
4418.91.90 | Builders' joinery and carpentry of wood, of bamboo, other than drilled or notched lumber studs.
4418.99.10 | Builders' joinery and carpentry of wood, of wood other than of bamboo, drilled or notched lumber studs.
4418.99.90 | Builders' joinery and carpentry of wood, of wood other than of bamboo, other than drilled or notched lumber studs.
4420.90.45 | Wooden jewelry boxes, silverware chests, microscope, tool or utensil cases, similar boxes, cases and chests, not lined with textile fabrics.
4420.90.65 | Wooden jewelry boxes, silverware chests, microscope, tool or utensil cases, similar boxes, cases and chests, lined with textile fabrics.
4420.90.80 | Wood marquetry and inlaid wood; wooden articles of furniture, nesoi.
4421.91.10 | Plain wood dowel pins of bamboo.
4421.91.20 | Wood dowel pins of bamboo, sanded, grooved or otherwise advanced in condition.
4421.91.70 | Pickets, palings, posts and rails of bamboo, sawn; assembled fence sections of bamboo.
4421.91.93 | Theatrical, ballet and operatic scenery and properties, including sets, of bamboo.
4421.91.94 | Edge-glued lumber of bamboo.
4421.91.97 | Other articles, nesoi, of bamboo, incl pencil slats, burial caskets, gates for confining children or pets.
4421.99.10 | Plain coniferous wood dowel pins.
4421.99.15 | Plain wood dowel pins, other than of coniferous wood or of bamboo.
4421.99.20 | Wood dowel pins of wood other than of bamboo, the foregoing sanded, grooved or otherwise advanced in condition.
4421.99.70 | Pickets, palings, posts and rails, sawn, of wood other than of bamboo; assembled fence sections of wood other than of bamboo.
4421.99.93 | Theatrical, ballet and operatic scenery and properties, including sets, of wood other than of bamboo.
4421.99.94 | Edge-glued lumber of wood other than of bamboo.
4421.99.97 | Other articles, nesoi, of wood other than of bamboo, incl pencil slats, burial caskets, gates for confining children or pets.
4501.10.00 | Natural cork, raw or simply prepared.
4501.90.20 | Waste cork.
4501.90.40 | Crushed, granulated or ground cork.
4502.00.00 | Natural cork, debacked or roughly squared or in rectangular blocks, plates, sheets or strip (incl. sharp-edged blanks for corks or stoppers).
4503.10.20 | Corks and stoppers of natural cork, tapered and of a thickness (or length) greater than the maximum diameter, n/o 19 mm maximum diameter.
4503.10.30 | Corks and stoppers wholly of natural cork, tapered & of a thickness (or length) greater than the maximum diam., over 19 mm maximum diam.
4503.10.40 | Corks and stoppers of natural cork, tapered & of a thickness (or length) greater than the maximum diam., over 19 mm maximum diam., nesoi.
4503.10.60 | Corks and stoppers of natural cork, of a thickness (or length) not greater than the maximum diameter.
4503.90.20 | Disks, wafers and washers of natural cork.
4503.90.40 | Natural cork wallcoverings, backed with paper or otherwise reinforced.
4503.90.60 | Articles of natural cork, other than corks and stoppers.
4504.10.10 | Vulcanized sheets and slabs wholly of agglomerated ground or pulverized cork and rubber.
4504.10.20 | Insulation of compressed agglomerated cork, coated or not coated.
4504.10.30 | Floor coverings of agglomerated cork.
4504.10.40 | Agglomerated cork wallcoverings, backed with paper or otherwise reinforced.
4504.10.45 | Agglomerated cork stoppers, not tapered, wholly of cork, of a thickness (or length) greater than the maximum diameter.
4504.10.47 | Corks, stoppers, disks, wafers and washers of agglomerated cork, nesoi.
4504.10.50 | Blocks, plates, sheets and strip; tiles of any shape; solid cylinder; all the foregoing of cork; all the foregoing, nesoi.
4504.90.00 | Agglomerated cork and articles of cork, nesoi.
4601.21.40 | Woven or partly assembled materials of bamboo, for mats, matting and screens.
4601.21.80 | Bamboo floor coverings.
4601.21.90 | Mats, matting and screens of bamboo, nesoi.
4601.22.40 | Woven or partly assembled materials of rattan for mats, matting and screens.
4601.22.80 | Rattan floor coverings.
4601.22.90 | Mats, matting and screens of rattan, nesoi.
4601.29.40 | Woven or partly assembled materials of willow for mats, matting and screens.
4601.29.60 | Woven or partly assembled vegetable materials other than bamboo, rattan or willow, for mats, matting and screens.
4601.29.80 | Willow floor coverings.
4601.29.90 | Mats, matting and screens of willow, nesoi.
4601.92.05 | Plaits of bamboo and similar products of such plaiting materials, whether or not assembled into strips.
4601.92.20 | Products of bamboo other than plaits and similar products such as plaiting materials.
4601.93.01 | Rattan webbing for mats, matting and screens.
4601.93.05 | Plaits of rattan and similar products of such plaiting materials, whether or not assembled into strips.
4601.93.20 | Products of rattan other than plaits and similar products such as plaiting materials.
4601.94.05 | Plaits of vegetable materials and similar products of such plaiting materials, whether or not assembled into strips.
4601.94.20 | Products nesoi, of plaiting materials, bound together in parallel strands or woven, in sheet form, of willow or wood.
4601.94.40 | Products nesoi, of plaiting vegetable materials nesoi, bound together in parallel strands or woven, in sheet form.
4601.99.05 | Plaits and similar products of plaiting materials (not vegetable), whether or not assembled into strips.
4601.99.90 | Products nesoi of plaiting materials (not vegetable), bound together in parallel strands or woven, in sheet form, nesoi.
4602.11.05 | Fishing baskets or creels made from bamboo.
4602.11.07 | Baskets and bags of bamboo wickerwork.
4602.11.09 | Baskets and bags of bamboo other than wickerwork.
4602.11.21 | Luggage, handbags and flat goods, whether or not lined, of bamboo.
4602.11.35 | Articles of wickerwork, nesoi, of bamboo.
4602.11.45 | Basketwork and other articles, nesoi, of one or more of bamboo.
4602.12.05 | Fishing baskets or creels made from rattan.
4602.12.14 | Baskets and bags of rattan wickerwork.
4602.12.16 | Baskets and bags of rattan other than wickerwork.
4602.12.23 | Articles of a kind normally carried in the pocket or in the handbag, of rattan.
4602.12.25 | Luggage, handbags and flat goods, whether or not lined, of rattan, nesoi.
4602.12.35 | Articles of wickerwork, nesoi, of rattan.
4602.12.45 | Basketwork and other articles, nesoi, of rattan.
4602.19.05 | Fishing baskets or creels made from vegetable materials.
4602.19.12 | Baskets and bags, nesoi, whether or not lined, of willow.
4602.19.14 | Baskets and bags of palm leaf wickerwork.
4602.19.16 | Baskets and bags of palm leaf other than wickerwork.
4602.19.17 | Baskets and bags of vegetable material wickerwork, nesoi.
4602.19.18 | Baskets and bags of vegetable material, nesoi.
4602.19.22 | Luggage, handbags and flat goods, whether or not lined, of willow.
4602.19.23 | Articles of a kind normally carried in the pocket or in the handbag,of palm leaf.
4602.19.25 | Luggage, handbags and flat goods, whether or not lined, of palm leaf, nesoi.
4602.19.29 | Luggage, handbags and flat goods, whether or not lined, made from plaiting materials nesoi.
4602.19.35 | Articles of wickerwork, nesoi, of willow or wood.
4602.19.45 | Basketwork and other articles, nesoi, of willow or wood.
4602.19.60 | Articles of wickerwork, nesoi, of vegetable materials, nesoi.
4602.19.80 | Basketwork and other articles, nesoi, of vegetables materials, nesoi.
4602.90.00 | Basketwork, wickerwork and other articles made directly from plaiting materials or from articles of heading 4601, nesoi; loofah articles.
4701.00.00 | Mechanical woodpulp.
4702.00.00 | Chemical woodpulp, dissolving grades.
4703.11.00 | Chemical woodpulp, soda or sulfate, other than dissolving grades, of unbleached coniferous wood.
4703.19.00 | Chemical woodpulp, soda or sulfate, other than dissolving grades, of unbleached nonconiferous wood.
4703.21.00 | Chemical woodpulp, soda or sulfate, other than dissolving grades, of semibleached or bleached coniferous wood.
4703.29.00 | Chemical woodpulp, soda or sulfate, other than dissolving grades, of semibleached or bleached nonconiferous wood.
4704.11.00 | Chemical woodpulp, sulfite, other than dissolving grades, of unbleached coniferous wood.
4704.19.00 | Chemical woodpulp, sulfite, other than dissolving grades, of unbleached nonconiferous wood.
4704.21.00 | Chemical woodpulp, sulfite, other than dissolving grades, of semibleached or bleached coniferous wood.
4704.29.00 | Chemical woodpulp, sulfite, other than dissolving grades, of semibleached or bleached nonconiferous wood.
4705.00.00 | Semichemical woodpulp.
4706.10.00 | Cotton linters pulp.
4706.20.00 | Pulps of fibers derived from recovered (waste and scrap) paper or paperboard.
4706.30.00 | Pulps of fibrous cellulosic material, of bamboo.
4706.91.00 | Pulps of fibrous cellulosic material, other than cotton linters pulp, mechanical.
4706.92.01 | Pulps of fibrous cellulosic material, other than cotton linters pulp, chemical.
4706.93.01 | Pulps of fibrous cellulosic material, other than cotton linters pulp, semichemical.
4707.10.00 | Waste and scrap of unbleached kraft paper or paperboard or of corrugated paper or paperboard.
4707.20.00 | Waste and scrap of other paper or paperboard, made mainly of bleached chemical pulp, not colored in the mass.
4707.30.00 | Waste and scrap of paper or paperboard made mainly of mechanical pulp (for example, newspapers, journals, and similar printed matter).
4707.90.00 | Waste and scrap of paper or paperboard nesoi, including unsorted waste and scrap.
4801.00.01 | Newsprint, in rolls or sheets.
4802.10.00 | Handmade paper and paperboard.
4802.20.10 | Paper & paperboard use for photo-sensitive/heat-sensitive/electro-sensitive paper/paperboard, in strip/rolls ov 15 cm wide or certain sheets.
4802.20.20 | Uncoated basic paper for photo-sensitive/heat-sensitve/eletro-sensitive paper/paperboard to be sensitized for photography, roll/sheets nesoi.
4802.20.40 | Uncoated paper and paperboard of a kind used for photo-sensitive/heat-sensitve/eletro-sensitive paper/paperboard, in rolls or sheets nesoi.
4802.40.00 | Wallpaper base (hanging paper), in rolls or sheets.
4802.54.10 | Writing paper, weigh <40 g/m2, cont. n/o 10% total fiber content by a mechanical/chemi- process, in strip/roll ov 15 cm wide/certain sheets.
4802.54.20 | India & bible paper, weigh <40 g/m2, n/o 10% total fiber content by a mechanical/chemi- process, in strip/roll ov 15 cm wide/certain sheets.
4802.54.31 | Carbonizing base paper weighing n/ov 15 g/m2, in strip/roll over 15 cm wide or rectangular sheets w/side ov 36 cm and other ov 15 cm unfold.
4802.54.50 | Other basic paper to be sensitized use in photography, wt <40g/m2, n/o 10% total fiber by mechanical/chem- process, in rolls/sheets nesoi.
4802.54.61 | Carbonizing base paper of a kind used for writing, printing or other graphic purposes, in rolls or sheets nesoi.
4802.55.10 | Writing/cover paper, wt 40 g/m2-150 g/m2, n/o 10% total fiber by mechanical/chemi- process, in rolls exceeding 15 cm in width.
4802.55.20 | Drawing paper, wt 40 g/m2-150 g/m2, n/o 10% total fiber content by mechanical/chemi- process, in rolls exceeding 15 cm in width.
4802.55.30 | India/bible paper, wt 40 g/m2-150 g/m2, n/o 10% total fiber content by mechanical/chemi- process, in rolls exceeding 15 cm in width.
4802.55.40 | Paper & paperboard, nesoi, 40 g/m2-150 g/m2, n/o 10% total fiber by mechanical/chemi- process, in rolls exceeding 15 cm in width.
4802.55.60 | Other basic paper be sensitized for use photography, 40g/m2-150g/m2, n/o 10% total fiber by mechanical/chemi- process, rolls n/o 15 cm wide.
4802.55.70 | Other paper/paperboard for writing/printing/other graphic purpose, 40g/m2-150g/m2, n/o 10% fiber mechanical/chemi- process, roll n/o 15 cm wide.
4802.56.10 | Writing & cover paper, wt 40 g/m2-150 g/m2, n/o 10% by weight total fiber content by mechanical/chemi- process, in certain size sheets.
4802.56.20 | Drawing paper, wt 40 g/m2-150 g/m2, contain n/o 10% weight total fiber content obtained by mechanical/chemi- process, in certain size sheets.
4802.56.30 | India & bible paper, wt 40 g/m2-150 g/m2, n/o 10% by wt. total fiber content obtained by mechanical/chemi- process, in certain size sheets.
4802.56.40 | Paper & paperboard nesoi, 40 g/m2-150 g/m2, n/o 10% by wt. total fiber content obtained by mechanical/chemi- process, in certain size sheets.
4802.56.60 | Other basic paper be sensitized use in photography, wt. 40g/m2-150g/m2, n/o 10% total fiber by mechanical/chemi- process, other sized sheets.
4802.56.70 | Paper/paperboard for writing/printing/other graphic purpose,wt 40g/m2-150g/m2, n/o 10% fiber by mechanical/chemi- process,other sized sheets.
4802.57.10 | Writing/cover paper, wt 40 g/m2-150 g/m2, cont. n/o 10% by weight total fiber content obtained by mechanical/chemi- process, in sheets nesoi.
4802.57.20 | Drawing paper, wt 40 g/m2 to 150 g/m2, cont. n/o 10% by weight total fiber content obtained by mechanical/chemi- process, in sheets nesoi.
4802.57.30 | India & bible paper, wt 40 g/m2 to 150 g/m2, cont. n/o 10% by wt. total fiber content obtained by mechanical/chemi- process, in sheets nesoi.
4802.57.40 | Paper & paperboard nesoi, 40 g/m2-150 g/m2, cont. n/o 10% by wt. total fiber content obtained by mechanical/chemi- process, in sheets nesoi.
4802.58.10 | Writing/cover paper, >150 g/m2, n/o 10% by wt total fiber content by mechanical process/chemi-, in strip/roll ov 15 cm wide or certain sheet.
4802.58.20 | Paper & paperboard nesoi, >150 g/m2, n/o 10% total fiber content by mechanical/chemi- process, in strip/roll ov 15 cm wide or certain sheets.
4802.58.50 | Basic paper be sensitized for photography, wt >150 g/m2, n/o 10% total fiber content by mechanical process/chemi-, in rolls/sheets nesoi.
4802.58.60 | Paper/paperboard for writing/printing/other graphic purpose, >150 g/m2, n/o 10% fiber content by mechanical process/chemi-, rolls/sheets nesoi.
4802.61.10 | Writing & cover paper, over 10% by wt total fiber content consists of fiber obtained by mechanical/chemi- process, in rolls over 15 cm wide.
4802.61.20 | Drawing paper, over 10% by weight total fiber content consists of fiber obtained by mechanical/chemi- process, in rolls over 15 cm wide.
4802.61.31 | Paper and paperboard for graphic purpose nesoi, ov 10% total fiber content obtained by mechanical/chemi- process, in rolls over 15 cm wide.
4802.61.50 | Basic paper to be sensitized for photography, ov 10% total fiber content obtained by mechanical/chemi- process, in rolls n/o 15 cm wide.
4802.61.60 | Paper/paperboard for writing/printing/other graphic purposes nesoi, ov 10% total fiber by mechanical/chemi- process, in rolls n/o 15 cm wide.
4802.62.10 | Writing & cover paper, over 10% by wt total fiber content consists of fiber obtained by mechanical/chemi- process, in certain size sheets.
4802.62.20 | Drawing paper, which ov 10% by weight total fiber content consists of fiber obtained by mechanical/chemi- process, in certain size sheets.
4802.62.30 | Paper and paperboard for graphic purposes nesoi, ov 10% by wt total fiber obtained by mechanical/chemi- process, in certain size sheets.
4802.62.50 | Basic paper to be sensitized for use in photography, ov 10% by wt total fiber obtained by mechanical/chemi- process, other sized sheets.
4802.62.61 | Paper/paperboard for graphic purposes nesoi, ov 10% by wt total fiber obtained by mechanical/chemi- process, other sized sheets.
4802.69.10 | Writing & cover paper, of which over 10% by weight total fiber content consists of fiber obtained by mechanical process, sheets nesoi.
4802.69.20 | Drawing paper, of which over 10% by weight total fiber content consists of fiber obtained by mechanical process, in sheets nesoi.
4802.69.30 | Paper and paperboard for graphic purposes nesoi, ov 10% by wt total fiber obtained by mechanical/chemi- process, in sheets nesoi.
4803.00.20 | Cellulose wadding in rolls over 36 cm wide or sheets with at least one side over 36 cm.
4803.00.40 | Toilet, facial tissue, towel or napkin stock and paper for household/sanitary purposes, in rolls or sheets of specific measure.
4804.11.00 | Uncoated, unbleached kraftliner, in rolls or sheets.
4804.19.00 | Uncoated kraftliner, other than unbleached, in rolls or sheets.
4804.21.00 | Uncoated, unbleached sack kraft paper, in rolls or sheets.
4804.29.00 | Uncoated sack kraft paper, other than unbleached, in rolls or sheets.
4804.31.10 | Uncoated, unbleached kraft condenser paper, in rolls or sheets, weighing more than 15 g/m 2 but not over 30 g/m 2.
4804.31.20 | Uncoated, unbleached kraft condenser paper, in rolls or sheets, weighing less than 15 g/m 2 or more than 30 g/m 2 to 150 g/m 2.
4804.31.40 | Uncoated, unbleached kraft wrapping paper in rolls or sheets, weighing 150 g/m2 or less.
4804.31.60 | Uncoated, unbleached kraft paper nesoi, in rolls or sheets, weighing 150 g/m2 or less.
4804.39.20 | Uncoated kraft condenser paper, other than unbleached, in rolls or sheets, weighing 150 g/m2 or less.
4804.39.40 | Uncoated kraft wrapping paper, other than unbleached, in rolls or sheets, weighing 150 g/m2 or less.
4804.39.60 | Uncoated kraft paper and paperboard, other than unbleached, in rolls or sheets, weighing 150 g/m2 or less, nesoi.
4804.41.20 | Uncoated, unbleached kraft wrapping paper in rolls or sheets, weighing more than 150 but less than 225 g/m2.
4804.41.40 | Uncoated, unbleached kraft paper and paperboard, nesoi, in rolls or sheets, weighing more than 150 but less than 225 g/m2.
4804.42.00 | Uncoated, bleached kraft paper and paperboard, over 150 but n/o 225 g/m2, over 95% content of wood fibers by chemical process, rolls or sheets.
4804.49.00 | Uncoated kraft paper and paperboard, nesoi, in rolls or sheets, weighing more than 150 but less than 225 g/m2, nesoi.
4804.51.00 | Uncoated, unbleached kraft paper and paperboard, in rolls or sheets, weighing 225 g/m2 or more.
4804.52.00 | Uncoated, bleached kraft paper & paperboard, over 225 g/m2, over 95% content of wood fibers obtained by chemical process, rolls or sheets.
4804.59.00 | Uncoated kraft paper and paperboard in rolls or sheets, weighing 225 g/m2 or more, nesoi.
4805.11.00 | Uncoated semichemical fluting paper, in rolls or sheets, not further worked than as specified in note 3 to chapter 48.
4805.12.10 | Uncoated straw fluting paper, weighing 150 g/m2 or less, in rolls or sheets, not further worked than as specified in note 3 to chapter 48.
4805.12.20 | Uncoated straw fluting pape, weighing over 150 g/m2, in rolls or sheets, not further worked than as specified in note 3 to chapter 48.
4805.19.10 | Uncoated fluting paper nesoi, weighing 150 g/m2 or less, in rolls or sheets, not further worked than as specified in note 3 to chapter 48.
4805.19.20 | Uncoated fluting paper nesoi, weighing over 150 g/m2, in rolls or sheets, not further worked than as specified in note 3 to chapter 48.
4805.24.50 | Uncoated testliner (recycled liner board), weighing n/o 15 g/m2, in rolls or sheets, not further worked than in note 3 to chapter 48.
4805.24.70 | Uncoated testliner, weighing over 15 g/m2 but not over 30 g/m2, in rolls or sheets, not further worked than in note 3 to chapter 48.
4805.24.90 | Uncoated testliner, weighing over 30 g/m2 but not over 150 g/m2, in rolls or sheets, not further worked than in note 3 to chapter 48.
4805.25.00 | Uncoated testliner, weighing more than 150 g/m2, in rolls or sheets, not further worked than as specified in note 3 to chapter 48.
4805.30.00 | Uncoated sulfite wrapping paper in rolls or sheets.
4805.40.00 | Uncoated filter paper and paperboard in rolls or sheets.
4805.50.00 | Uncoated felt paper and paperboard in rolls or sheets.
4805.91.10 | Uncoated multi-ply paper & paperboard, bibulous & wrapping paper, weigh 150 g/m2 or less, in rolls/sheets, not further worked than in note 3.
4805.91.20 | Uncoated condenser paper, weighing 150 g/m2 or less, in rolls or sheets, not further worked than as specified in note 3 to chapter 48.
4805.91.50 | Uncoated paper and paperboard nesoi, weighing not over 15 g/m2, in rolls or sheets, not further worked than as in note 3 to chapter 48.
4805.91.70 | Uncoated paper and paperboard nesoi, weigh over 15 g/m2 but n/o 30 g/m2, in rolls or sheets, not further worked than in note 3 to chapter 48.
4805.91.90 | Uncoated paper and paperboard nesoi, weigh ov 30 g/m2 but n/o 150 g/m2, in rolls or sheets, not further worked than in note 3 to chapter 48.
4805.92.20 | Uncoated pressboard, weighing more than 150 g/m2 but less than 225 g/m2, in rolls or sheets, not further worked than in note 3 to chapter 48.
4805.92.40 | Uncoated paper & paperboard nesoi, weighing >150 g/m2 but <225 g/m2, in rolls or sheets, not further worked than in note 3 to chapter 48.
4805.93.20 | Uncoated pressboard weighing 225 g/m2 or more, in rolls or sheets, not further worked than as specified in note 3 to chapter 48.
4805.93.40 | Uncoated paper and paperboard nesoi, weighing 225 g/m2 or more, in rolls or sheets, not further worked than as in note 3 to chapter 48.
4806.10.00 | Vegetable parchment in rolls or sheets.
4806.20.00 | Greaseproof papers in rolls or sheets.
4806.30.00 | Tracing papers in rolls or sheets.
4806.40.00 | Glassine and other glazed transparent or translucent papers, in rolls or sheets.
4807.00.10 | Composite paper and paperboard, laminated internally with bitumen, tar or asphalt, not surface-coated or impregnated, in rolls or sheets.
4807.00.91 | Composite straw paper and paperboard, not surface-coated or impregnated, in rolls or sheets.
4807.00.92 | Composite cloth-lined or reinforced paper, not surface-coated or impregnated, in rolls or sheets.
4807.00.94 | Composite paper and paperboard nesoi, not surface-coated or impregnated, in rolls or sheets.
4808.10.00 | Corrugated paper and paperboard, whether or not perforated, in rolls or sheets.
4808.40.00 | Kraft paper, creped or crinkled, whether or not embossed or perforated.
4808.90.20 | Paper and paperboard, creped or crinkled, in rolls or sheets, nesoi.
4808.90.40 | Paper and paperboard, embossed, in rolls or sheets, nesoi.
4808.90.60 | Paper and paperboard, in rolls or sheets, nesoi.
4809.20.20 | Self-copy writing paper in rolls over 36 cm wide or rectangular sheets over 36 cm on side(s).
4809.20.40 | Self-copy paper in rolls over 36 cm wide or rectangular sheets over 36 cm on side(s), other than writing paper.
4809.90.20 | Stereotype-matrix board and mat in rolls over 36 cm wide or in rectangular sheets over 36 cm on side(s).
4809.90.40 | Simplex decalcomania paper in rolls over 36 cm wide or in rectangular sheets over 36 cm on side(s).
4809.90.60 | Duplex decalcomania paper in rolls over 36 cm wide or in rectangular sheets over 36 cm on side(s).
4809.90.71 | Carbon paper, self-copy paper and other copying or transfer paper, Impregnated, coated or both, but otherwise not treated.
4809.90.80 | Copying or transfer papers, nesoi, in rolls over 36 cm wide or rectangular sheets over 36 cm on side(s).
4810.13.11 | Basic paper be sensitized for photography, coated w/inorganic, n/o 150 g/m2, n/o 10% fiber by mechanical/chemi- process, rolls ov 15 cm wide.
4810.13.13 | India or bible paper, coated w/inorganic, n/o 150 g/m2, n/o 10% fiber content obtained by a mechanical/chemi- process, rolls ov 15 cm wide.
4810.13.19 | Paper/paperboard for graphic use nesoi, coated w/inorganic, n/o 150g/m2, n/o 10% fiber by mechanical/chemi- process, rolls ov 15 cm wide.
4810.13.20 | Paper and paperboard for graphic use, coated w/inorganic, ov 150g/m2, n/o 10% fiber by mechanical/chemi- process, in rolls over 15 cm wide.
4810.13.50 | Printed/embossed/perforated paper & paperboard graphic use, coated w/inorganic, n/o 10% fiber by mech/chemi- process, rolls n/o 15 cm wide.
4810.13.60 | Basic paper be sensitized for photography, coated w/kaolin/inorganic, n/o 10% fiber by mechanical/chemi- process, rolls n/o 15 cm wide.
4810.13.70 | Paper & paperboard for graphic purposes nesoi, coated w/kaolin/inorganic, n/o 10% fiber by mechanical/chemi- process, rolls n/o 15 cm wide.
4810.14.11 | Basic paper be sensitized for photography, coated w/inorganic, n/o 150g/m2, n/o 10% fiber by mechanical/chemi- process, certain size sheets.
4810.14.13 | India or bible paper, coated w/inorganic, n/o 150 g/m2, of n/o 10% fiber content obtained by mechanical/chemi- process, certain size sheets.
4810.14.19 | Paper and paperboard for graphic use nesoi, coated w/inorganic, n/o 150g/m2, n/o 10% fiber by mechanical/chemi- process, certain size sheets.
4810.14.20 | Paper and paperboard for graphic use, coated w/inorganic, ov 150g/m2, n/o 10% fiber obtained mechanical/chemi- process, certain size sheets.
4810.14.50 | Printed/embossed/perforated paper & paperboard, coated w/inorganic, n/o 10% fiber obtained mechanical/chemi- process, other sized sheets.
4810.14.60 | Basic paper be sensitized use in photography, coated w/inorganic, n/o 10% fiber obtained mechanical/chemi- process, other sized sheets.
4810.14.70 | Paper & paperboard for graphic purposes nesoi, coated w/inorganic, n/o 10% fiber obtained mechanical/chemi- process, other sized sheets.
4810.19.11 | Basic paper be sensitized use in photography, coated w/inorganic, n/o 150g/m2, n/o 10% fiber by mechanical/chemi- process, sheets nesoi.
4810.19.13 | India or bible paper, coated w/inorganic, n/o 150 g/m2, of n/o 10% fiber content obtained by a mechanical/chemi- process, sheets nesoi.
4810.19.19 | Paper & paperboard for graphic use nesoi, coated w/inorganic, n/o 150g/m2, n/o 10% fiber obtained by mechanical/chemi- process, sheets nesoi.
4810.19.20 | Paper and paperboard for graphic use, coated w/inorganic, ov 150g/m2, n/o 10% fiber obtained by a mechanical/chemi- process, sheets nesoi.
4810.22.10 | Light-weight coated paper for graphic use, >10% fiber content obtained by mechanical/chemi- process, strip/roll ov 15 cm wide/sized sheets.
4810.22.50 | Light-wt coated printed/embossed/perforated paper/paperboard for graphic, >10% fiber obtained mechanical/chemi- process, roll/sheet nesoi.
4810.22.60 | Light-weight coated basic paper be sensitized use in photography, >10% fiber obtained mechanical/chemi- process, rolls/sheets nesoi.
4810.22.70 | Light-wt coated paper & paperboard used for graphic purposes, >10% fiber obtained by a mechanical/chemi- process, roll/sheet nesoi.
4810.29.10 | Paper/paperboard for graphic, coated w/inorganic, >10% fiber obtained by mechanical/chemi- process, strip/roll ov 15 cm wide & sized sheets.
4810.29.50 | Printed/embossed/perforated paper/paperboard for graphic, coated w/inorganic, >10% fiber by mechanical/chemi- process, rolls/sheets nesoi.
4810.29.60 | Basic paper to be sensitized for use in photography, coated w/inorganic, >10% fiber by mechanical/chemi- process, rolls/sheets nesoi.
4810.29.70 | Paper/paperboard used for graphic purposes, coated w/inorganic, >10% fiber by mechanical/chemi- process, rolls/sheets nesoi.
4810.31.10 | Nongraphic bleached coated kraft paper/paperboard, >95% wood fiber by chemical process, 150g/m2 or <, strip/roll ov 15 cm wide/certain sheet.
4810.31.30 | Bleached coated kraft paper cards, not punched, for punchcard machine, >95% wood fiber by chemical process, 150g/m2 or <, rolls/sheets nesoi.
4810.31.65 | Nongraphic bleached coated kraft paper/paperboard nesoi, of >95% wood fiber by chemical process, 150 g/m2 or less, in rolls or sheets nesoi.
4810.32.10 | Nongraphic bleached coated kraft paper/paperboard, >95% wood fiber by chemical process, >150g/m2, strip/roll ov 15 cm wide/certain sheets.
4810.32.30 | Bleached coated kraft paper card, not punched, for punchcard machine, >95% wood fiber by chemical process, >150g/m2, in strips/sheets nesoi.
4810.32.65 | Nongraphic bleached coated kraft paper/paperboard nesoi, of >95% wood fiber obtained chemical process, >150 g/m2, in rolls or sheets nesoi.
4810.39.12 | Nongraphic nonbleach uniformly kraft paper/paperboard,coated w/inorganic,wheth impreg but not treated,strip/roll ov 15cm wide/certain sheet.
4810.39.14 | Nongraphic nonbleached uniformly kraft paper and paperboard nesoi, coated w/kaolin/inorganic substances, strip/roll ov 15 cm/certain sheets.
4810.39.30 | Nonbleached uniformly kraft paper cards, not punched, for punchcard machines, coated w/inorganic substances, strips/sheets nesoi.
4810.39.65 | Nongraphic nonbleached uniformly kraft paper or paperboard nesoi, coated with kaolin or other inorganic substances, in rolls or sheets nesoi.
4810.92.12 | Multi-ply paper & paperboard nesoi, coat w/kaolin/other inorganic substances, wt >150g/m2, strips/rolls ov 15 cm wide or certain sheets.
4810.92.14 | Multi-ply paper/paperboard nesoi, coat w/kaolin/other inorganic substances, wt 150g/m2 or less, strips/rolls ov 15 cm wide or certain sheets.
4810.92.30 | Multi-ply paper/paperboard cards, not punched, for punchcard machines, coated w/kaolin/other inorganic substances, in strips/sheets nesoi.
4810.92.65 | Multi-ply paper or paperboard nesoi, coated with kaolin or other inorganic substances, in rolls n/o 15 cm wide and rectangular sheets nesoi.
4810.99.10 | Paper & paperboard nesoi, coated with kaolin or other inorganic substances, in strips/rolls ov 15 cm wide or certain size rectangular sheets.
4810.99.30 | Paper & paperboard cards nesoi, not punched, for punchcard machines, coated w/kaolin/inorganic substances, in strips or sheets nesoi.
4810.99.65 | Paper and paperboard nesoi, coated with kaolin or other inorganic substances, in rolls n/o 15 cm wide and rectangular sheets nesoi.
4811.10.11 | Tarred, bituminized or asphalted paper & paperboard, in strip/roll ov 15cm wide or rectangular sheet w/side ov 36cm & other ov 15cm unfolded.
4811.10.21 | Tarred, bituminized or asphalted paper and paperboard, in strips or rolls not over 15 cm wide or in rectangular sheets nesoi.
4811.41.10 | Self-adhesive paper & paperboard, in strips/rolls ov 15cm wide or rectangular sheets w/1 side ov 36cm & other side ov 15cm in unfolded.
4811.41.21 | Self-adhesive paper and paperboard, in strips or rolls not over 15 cm wide.
4811.41.30 | Self-adhesive paper and paperboard, in rectangular sheets nesoi.
4811.49.10 | Gummed or adhesive paper and paperboard (other than self-adhesive), in strips or rolls over 15 cm wide or certain sized rectangular sheets.
4811.49.21 | Gummed or adhesive paper and paperboard (other than self-adhesive), in strips or rolls not over 15 cm wide.
4811.49.30 | Gummed or adhesive paper and paperboard (other than self-adhesive), in rectangular sheets nesoi.
4811.51.20 | Bleached paper and paperboard, coated/impregnated/covered w/plastics, wt >150g/m2, 0.3mm or more thick, in certain size strips/rolls/sheets.
4811.51.40 | Bleached paper and paperboard, coated/impregnated/covered w/plastics, wt >150 g/m2, <0.3 mm thick, in certain size strips/rolls/sheets.
4811.51.60 | Bleached paper and paperboard, coated/impregnated/covered w/plastics, wt >150 g/m2, in rolls n/o 15 cm wide or rectangular sheets nesoi.
4811.59.20 | Bleached nesoi/nonbleached printing paper, coated, impregnated or covered with plastics, in strips/rolls ov 15cm wide or certain size sheets.
4811.59.40 | Bleached nesoi/nonbleached paper and paperboard nesoi, coated/impregnated/covered with plastics, in certain size strip/rolls/sheets.
4811.59.60 | Bleached nesoi/nonbleached paper & paperboard, coated/impregnated/covered with plastics, in rolls n/o 15 cm wide or rectangular sheets nesoi.
4811.60.40 | Paper and paperboard, coated/impregnated/covered with wax/paraffin/stearin/oil/glycerol, in strips/rolls ov 15cm wide or certain size sheets.
4811.60.60 | Paper and paperboard, coated/impregnated/covered with wax/paraffin/stearin/oil/glycerol, in rolls n/o 15cm wide or rectangular sheets nesoi.
4811.90.10 | Handmade paper of cellulose fibers, in strip or roll ov 15 cm wide or rectangular sheets w/1 side ov 36 cm and other ov 15 cm in unfolded.
4811.90.20 | Paper/paperboard/cell wadding/webs of cell fibers, all/partly covered w/flock/gelatin/metal/metal solutions, in certain strip/rolls/sheets.
4811.90.30 | Paper, paperboard, cellulose wadding and webs of cellulose fibers, impregnated with latex, in certain size strips/rolls/sheets.
4811.90.40 | Paper, paperboard, cellulose wadding and webs of cellulose fibers, nesoi, weighing not over 15 g/m2, in certain size strips, rolls or sheets.
4811.90.60 | Paper, paperboard, cellulose wadding and web of cellulose fibers, nesoi, wt ov 15g/m2 n/o 30g/m2, in certain size strips, rolls or sheets.
4811.90.80 | Paper, paperboard, cellulose wadding and webs of cellulose fibers, nesoi, weighing over 30 g/m2, in certain size strips, rolls or sheets.
4811.90.90 | Paper, paperboard, cellulose wadding and webs of cellulose fibers, nesoi, in rolls n/o 15 cm wide or rectangular sheets nesoi.
4812.00.00 | Filter blocks, slabs and plates of paper pulp.
4813.10.00 | Cigarette paper in the form of booklets or tubes.
4813.20.00 | Cigarette paper in rolls of a width not exceeding 5 cm.
4813.90.00 | Cigarette paper, whether or not cut to size, nesoi.
4816.20.00 | Self-copy paper, nesoi.
4816.90.01 | Carbon or similar copying papers, nesoi.
4817.10.00 | Envelopes of paper or paperboard.
4817.20.20 | Sheets of writing paper with border gummed or perforated, prepared for use as combination sheets and envelopes.
4817.20.40 | Other letter cards, plain postcards and correspondence cards, nesoi.
4817.30.00 | Boxes, pouches, wallets and writing compendiums, of paper or paperboard, containing an assortment of paper stationery.
4818.10.00 | Toilet paper.
4818.20.00 | Handkerchiefs, cleansing or facial tissues and towels of paper pulp, paper, cellulose wadding or webs of cellulose fiber.
4818.30.00 | Tablecloths and table napkins of paper pulp, paper, cellulose wadding or webs of cellulose fiber.
4818.50.00 | Articles of apparel and clothing accessories of paper pulp, paper, cellulose wadding or webs of cellulose fibers.
4818.90.00 | Bedsheets and similar household, sanitary or hospital articles of paper, cellulose wadding or webs of cellulose fibers, nesoi.
4819.10.00 | Cartons, boxes and cases of corrugated paper or paperboard.
4819.20.00 | Folding cartons, boxes and cases of noncorrugated paper or paperboard.
4819.30.00 | Sacks and bags, having a base of a width of 40 cm or more, of paper, paperboard, cellulose wadding or webs of cellulose fibers.
4819.40.00 | Sacks and bags, nesoi, including cones, of paper, paperboard, cellulose wadding or webs of cellulose fibers.
4819.50.20 | Sanitary food and beverage containers of paper, paperboard, cellulose wadding or webs of cellulose fibers, nesoi.
4819.50.30 | Record sleeves of paper, paperboard, cellulose wadding or webs of cellulose fibers.
4819.50.40 | Packing containers, nesoi, of paper, paperboard, cellulose wadding or webs of cellulose fibers.
4819.60.00 | Box files, letter trays, storage & like articles, used in offices & shops, of paper, paperboard,cellulose wadding/webs of cellulose fibers.
4820.10.20 | Diaries, notebooks and address books, bound; letter and memorandum pads and similar articles, of paper or paperboard.
4820.10.40 | Registers, account, order and receipt books, and similar articles, of paper or paperboard, nesoi.
4820.20.00 | Exercise books of paper or paperboard.
4820.30.00 | Binders (other than book covers), folders and file covers of paper or paperboard.
4820.40.00 | Manifold business forms and interleaved carbon sets of paper or paperboard.
4820.50.00 | Albums for samples or for collections, of paper or paperboard.
4820.90.00 | Blotting pads and other articles of stationery nesoi, and book covers, of paper or paperboard.
4821.10.20 | Paper and paperboard labels, printed in whole or part by a lithographic process.
4821.10.40 | Paper and paperboard labels, printed by other than a lithographic process.
4821.90.20 | Pressure-sensitive paper and paperboard labels, not printed.
4821.90.40 | Paper and paperboard labels, not printed, nesoi.
4822.10.00 | Bobbins, spools, cops and similar supports of paper pulp, paper or paperboard of a kind used for winding textile yarn.
4822.90.00 | Bobbins, spools, cops and similar supports of paper pulp, paper or paperboard, nesoi.
4823.20.10 | Paint filters and strainers of paper or paperboard.
4823.20.90 | Filter paper and paperboard, nesoi.
4823.40.00 | Rolls, sheets and dials of paper or paperboard printed for self-recording apparatus.
4823.61.00 | Trays, dishes, plates, cups and the like, of paper or paperboard: of bamboo.
4823.69.00 | Trays, dishes, plates, cups and the like, of paper or paperboard.
4823.70.00 | Molded or pressed articles of paper pulp.
4823.90.10 | Articles of paper pulp, nesoi.
4823.90.20 | Articles of papier-mache, nesoi.
4823.90.31 | Cards of paper or paperboard, nesoi, not punched, for punchcard machines, whether or not in strips.
4823.90.40 | Frames or mounts for photographic slides of paper or paperboard.
4823.90.50 | Hand fans of paper or paperboard.
4823.90.60 | Gaskets, washers and other seals of coated paper or paperboard.
4823.90.67 | Coated paper or paperboard, nesoi.
4823.90.70 | Articles of cellulose wadding, nesoi.
4823.90.80 | Gaskets, washers and other seals of paper, paperboard and webs of cellulose fibers, nesoi.
4823.90.86 | Articles of paper pulp, paper, paperboard, cellulose wadding or webs of cellulose fibers, nesoi.
5001.00.00 | Silkworm cocoons suitable for reeling.
5002.00.00 | Raw silk (not thrown).
5003.00.10 | Silk waste (including cocoons unsuitable for reeling, yarn waste and garnetted stock) not carded or combed.
5003.00.90 | Silk waste (including cocoons unsuitable for reeling, yarn waste and garnetted stock) carded or combed.
5004.00.00 | Silk yarns (other than yarn spun from silk waste) not put up for retail sale.
5005.00.00 | Yarn spun from silk waste, not put up for retail sale.
5006.00.10 | Spun yarn, containing 85% or more by weight of silk, put up for retail sale; silkworm gut.
5006.00.90 | Spun silk yarn, containing less than 85% by weight of silk, put up for retail sale.
5007.10.30 | Woven fabrics of noil silk, containing 85 percent or more by weight of silk or silk waste.
5007.10.60 | Woven fabrics of noil silk, containing less than 85 percent by weight of silk or silk waste.
5007.20.00 | Woven fabrics containing 85 percent or more by weight of silk or of silk waste, other than noil silk.
5007.90.30 | Woven silk fabrics, containing 85 percent or more by weight of silk or silk waste, nesoi.
5007.90.60 | Other silk woven fabrics, containing less than 85 percent by weight of silk or silk waste, nesoi.
5101.11.10 | Unimproved wool and other wool not finer than 46s, greasy, shorn, not carded or combed, for special uses.
5101.11.20 | Unimproved wool and other wool not finer than 40s, greasy, shorn, not carded or combed, not for special uses.
5101.11.40 | Wool, excluding unimproved, finer than 40s but not 44s, greasy, shorn, not carded or combed, not for special uses.
5101.11.50 | Wool, excluding unimproved, finer than 44s but not 46s, greasy, shorn, not carded or combed, not for special uses.
5101.11.60 | Wool, excluding unimproved, finer than 46s, greasy, shorn, not carded or combed.
5101.19.10 | Unimproved wool and other wool not finer than 46s, greasy, not shorn, not carded or combed, for special uses.
5101.19.20 | Unimproved wool and other wool not finer than 40s, greasy, not shorn, not carded or combed, not for special uses.
5101.19.40 | Wool, excl. unimproved, finer than 40s, but not 44s, greasy, not shorn, not carded or combed, not for special uses.
5101.19.50 | Wool, excluding unimproved, finer than 44s but not 46s, greasy, not shorn, not carded or combed, not for special uses.
5101.19.60 | Wool, excluding unimproved, finer than 46s, greasy, incl. fleece-washed, not shorn, not carded or combed.
5101.21.10 | Unimproved wool and other wool not finer than 46s, degreased, not further processed, shorn, not carded or combed, for special uses.
5101.21.15 | Unimproved wool and other wool not finer than 40s, degreased, not further processed, shorn, not carded or combed, not for special uses.
5101.21.30 | Wool, excl. unimproved, finer than 40s but not 44s, degreased, not further processed, shorn, not carded or combed, not for special uses.
5101.21.35 | Wool, excl. unimproved, finer than 44s but not 46s, degreased, not further processed, shorn, not carded or combed, not for special uses.
5101.21.40 | Wool, excl. unimproved, finer than 46s, degreased, not further processed, shorn, not carded or combed, not for special uses.
5101.21.65 | Unimproved wool and other wool, not finer than 46s, degreased, shorn, not carbonized, not carded or combed.
5101.21.70 | Unimproved wool and other wool, finer than 46s, degreased, shorn, not carbonized, not carded or combed.
5101.29.10 | Unimproved wool and other wool not finer than 46s, degreased, not further processed, not shorn, not carded or combed, for special uses.
5101.29.15 | Unimproved wool and other wool not finer than 40s, degreased, not further processed, not shorn, not carded or combed, not for special uses.
5101.29.30 | Wool, excl. unimproved, finer than 40s but not 44s, degreased, not further processed, not shorn, not carded or combed, not for special uses.
5101.29.35 | Wool, excl. unimproved, finer than 44s but not 46s, degreased, not further processed, not shorn, not carded or combed, not for special uses.
5101.29.40 | Wool, excl. unimproved, finer than 46s, degreased, not further processed, not shorn, not carded or combed, not for special uses.
5101.29.65 | Unimproved wool and other wool, not finer than 46s, not shorn, not carbonized, degreased and further processed, not carded or combed.
5101.29.70 | Wool, finer than 46s, not carded or combed, not carbonized, not shorn, degreased and processed to remove grease.
5101.30.10 | Unimproved wool and other wool, not finer than 40s, carbonized, not further processed, not carded or combed.
5101.30.15 | Wool, excluding unimproved, finer than 40s but not finer than 44s, carbonized, not further processed, not carded or combed.
5101.30.30 | Wool, excluding unimproved, finer than 44s but not finer than 46s, carbonized, not further processed, not carded or combed.
5101.30.40 | Wool, excluding unimproved, finer than 46s, carbonized, not further processed, not carded or combed.
5101.30.65 | Unimproved wool and other wool, not finer than 46s, carbonized and further processed, not carded or combed.
5101.30.70 | Unimproved wool and other wool, finer than 46s, carbonized and further processed, not carded or combed.
5102.11.10 | Fine hair of Kashmir (cashmere) goats, not processed in any manner beyond the degreased or carbonized condition, not carded or combed.
5102.11.90 | Fine hair of Kashmir (cashmere) goats, processed beyond the degreased or carbonized condition, not carded or combed.
5102.19.20 | Fine hair of the camel, not processed in any manner beyond the degreased or carbonized condition, not carded or combed.
5102.19.60 | Fine animal hair (other than Kashmir or camel), not processed beyond the degreased or carbonized condition, not carded or combed.
5102.19.80 | Fur, prepared for hatters' use, not carded or combed.
5102.19.90 | Fine animal hair (other than Kashmir), processed beyond the degreased or carbonized condition, not carded or combed.
5102.20.00 | Coarse animal hair, not carded or combed.
5103.10.00 | Noils of wool or of fine animal hair.
5103.20.00 | Waste, other than noils, of wool or of fine animal hair, including yarn waste but excluding garnetted stock.
5103.30.00 | Waste of coarse animal hair, including yarn waste but excluding garnetted stock.
5104.00.00 | Garnetted stock of wool or of fine or coarse animal hair.
5105.10.00 | Carded wool.
5105.21.00 | Combed wool in fragments.
5105.29.00 | Wool tops and other combed wool, except in fragments.
5105.31.00 | Fine hair of Kashmir (cashmere) goats, carded or combed.
5105.39.00 | Fine animal hair (other than Kashmir), carded or combed.
5105.40.00 | Coarse animal hair, carded or combed.
5106.10.00 | Yarn of carded wool, containing 85 percent or more by weight of wool, not put up for retail sale.
5106.20.00 | Yarn of carded wool, containing less than 85 percent by weight of wool, not put up for retail sale.
5107.10.30 | Yarn of combed wool, containing 85% or more by weight of wool, not put up for retail sale, of wool fiber avg diameter 18.5 micron or <.
5107.10.60 | Yarn of combed wool, containing 85% or more by weight of wool, not put up for retail sale, nesoi.
5107.20.30 | Yarn of combed wool, containing less than 85 percent by weight of wool, not put up retail sale, of wool fiber avg diameter 18.5 micron or <.
5107.20.60 | Yarn of combed wool, containing less than 85 percent by weight of wool, not put up retail sale, nesoi.
5108.10.30 | Yarn of Angora rabbit hair, carded, not put up for retail sale.
5108.10.40 | Yarn of mohair, carded, not put up for retail sale.
5108.10.80 | Yarn of fine animal hair other than Angora rabbit hair or mohair, carded, not put up for retail sale.
5108.20.30 | Yarn of Angora rabbit hair, combed, not put up for retail sale.
5108.20.40 | Yarn of mohair, combed, not put up for retail sale.
5108.20.80 | Yarn of fine animal hair other than Angora rabbit hair or mohair, combed, not put up for retail sale.
5109.10.20 | Yarn of wool, containing 85 percent or more by weight of wool, colored, cut into uniform lengths of not over 8 cm, put up for retail sale.
5109.10.40 | Yarn of Angora rabbit hair, containing 85 percent or more by weight of the Angora hair, put up for retail sale.
5109.10.80 | Yarn of wool nesoi, or fine animal hair nesoi, over 85% or > of that wool/hair, for retail sale, of wool fiber avg diamter 18.5 micron or <.
5109.10.90 | Yarn of wool nesoi, or fine animal hair nesoi, over 85% or > of that wool/hair, put up for retail sale, nesoi.
5109.90.20 | Yarn of wool, colored, and cut into uniform lengths of not over 8 cm, containing less than 85% by weight of wool, put up for retail sale.
5109.90.40 | Yarn of Angora rabbit hair containing less than 85 percent by weight of the Angora hair, put up for retail sale.
5109.90.80 | Yarn of wool nesoi, or fine animal hair nesoi, <85% of that wool/hair, for retail sale, of wool fiber avg diameter 18.5 micron or <.
5109.90.90 | Yarn of wool nesoi, or fine animal hair nesoi, <85% of that wool/hair, put up for retail sale, nesoi.
5110.00.00 | Yarn of coarse animal hair or horsehair (including gimped horsehair yarn) whether or not put up for retail sale.
5111.11.20 | Tapestry and upholstery fabrics of carded wool/fine animal hair, over 85% wool or hair, weighing not over 140 g/m2.
5111.11.30 | Hand-woven fabrics of carded wool/fine animal hair, 85% or more wool or hair, loom width less than 76 cm, weight not over 300 g/m2.
5111.11.70 | Woven fabrics, 85% or more by weight of carded wool/fine animal hair, weight not over 300 g/m2, nesoi.
5111.19.10 | Tapestry and upholstery fabrics, woven, 85% or more by weight of carded wool/fine animal hair, weight over 300 g/m2.
5111.19.20 | Hand-woven fabrics, with 85 percent or more by weight of carded wool/fine animal hair, loom width of less than 76 cm, weight ov 300 g/m2.
5111.19.60 | Woven fabrics, with 85 percent or more by weight of carded wool/fine animal hair nesoi, weight over 300 g/m2.
5111.20.05 | Tapestry & upholstery fabrics of carded wool/fine animal hair, mixed mainly or solely with man-made filaments, weight exceeding 300 g/m2.
5111.20.10 | Tapestry & upholstery fabrics of carded wool/fine animal hair, mixed mainly or solely with man-made filaments, weight not over 140 g/m2.
5111.20.90 | Woven fabrics of carded wool/fine animal hair, mixed mainly or solely with man-made filaments, nesoi.
5111.30.05 | Tapestry & upholstery fabrics of carded wool/fine animal hair, mixed mainly/solely with man-made staple fibers, weight exceeding 300 g/m2.
5111.30.10 | Tapestry & upholstery fabrics of carded wool/fine animal hair, mixed mainly/solely with man-made staple fibers, weight not over 140 g/m2.
5111.30.90 | Woven fabrics of carded wool/fine animal hair, mixed mainly or solely with man-made staple fibers, nesoi.
5111.90.30 | Woven fabrics of carded wool/fine animal hair, containing 30 percent or more by weight of silk or silk waste, valued over $33/kg.
5111.90.40 | Tapestry and upholstery fabrics of carded wool/fine animal hair, weight over 300 g/m2, containing less than 85% wool or hair, nesoi.
5111.90.50 | Tapestry and upholstery fabrics of carded wool/fine animal hair, weight not over 140 g/m2, containing less than 85% wool or hair, nesoi.
5111.90.90 | Woven fabrics of carded wool/fine animal hair, containing less than 85% wool or hair, nesoi.
5112.11.10 | Tapestry and upholstery fabrics of combed wool/fine animal hair, containing 85% or more wool or hair, weight not over 140 g/m2.
5112.11.30 | Woven fabrics of combed wool/fine animal hair, over 85% wool or hair, weight not over 200 g/m2, avg wool fiber diameter 18.5 micron or <.
5112.11.60 | Woven fabrics of combed wool/fine animal hair, over 85% wool or hair, weight not over 200 g/m2, nesoi.
5112.19.20 | Tapestry and upholstery fabrics of combed wool/fine animal hair, over 85% wool or hair, weight over 300 g/m2.
5112.19.60 | Woven fabrics of combed wool/fine animal hair, over 85% wool or fine animal hair, ov 200 g/m2, avg wool fiber diameter 18.5 micron or <.
5112.19.95 | Woven fabrics of combed wool/fine animal hair, over 85% wool or fine animal hair, weight over 200 g/m2, nesoi.
5112.20.10 | Tapestry and upholstery fabrics of combed wool/fine animal hair, mixed mainly/solely with man-made filaments, weight over 300 g/m2.
5112.20.20 | Tapestry and upholstery fabrics of combed wool/fine animal hair, mixed mainly/solely with man-made filaments, weight not over 140 g/m2.
5112.20.30 | Woven fabrics of combed wool/fine animal hair, mixed mainly or solely with man-made filaments, nesoi.
5112.30.10 | Tapestry and upholstery fabrics of combed wool/fine animal hair, mixed mainly/solely with man-made staple fibers, weight over 300 g/m2.
5112.30.20 | Tapestry & upholstery fabrics of combed wool/fine animal hair, mixed mainly/solely with man-made staple fibers, weight not over 140 g/m2.
5112.30.30 | Woven fabrics of combed wool/fine animal hair, mixed mainly or solely with man-made staple fibers, nesoi.
5112.90.30 | Woven fabrics of combed wool/fine animal hair, nesoi, containing 30 percent or more by weight of silk or silk waste, valued over $33/kg.
5112.90.40 | Woven tapestry/upholstery fabrics of combed wool/fine animal hair, con. by wt. under 85% wool/hair & under 30% silk, over 300 g/m2, nesoi.
5112.90.50 | Woven tapestry/upholstery fabrics of combed wool/fine animal hair, con. by wt. under 85% wool/hair & under 30% silk, n/o 140 g/m2, nesoi.
5112.90.90 | Woven fabrics of combed wool or combed fine animal hair, nesoi.
5113.00.00 | Woven fabrics of coarse animal hair or of horsehair.
5201.00.05 | Cotton, not carded or combed, having a staple length under 19.05 mm (¾ inch), harsh or rough.
5201.00.12 | Cotton, n/carded or combed, having a staple length <28.575 mm (1⅛ inches), n/harsh or rough, described in gen. note 15.
5201.00.14 | Cotton, n/carded or combed, having a staple length <28.575 mm (1⅛ inches), n/harsh or rough, quota described in ch 52 add'l U.S. note 5.
5201.00.18 | Cotton, not carded or combed, having a staple length under 28.575 mm (1⅛ inches), n/harsh or rough, nesoi.
5201.00.22 | Cotton, not carded or combed, staple length of 28.575 mm or more but under 34.925 mm, described in gen. note 15.
5201.00.24 | Cotton, n/carded or combed, harsh or rough, staple length 29.36875 mm or more but n/o 34.925 mm, white in color, quota descrd ch 52 add U.S. note 6.
5201.00.28 | Cotton, not carded or combed, harsh or rough, staple length of 29.36875 mm or more but under 34.925 mm & white in color, nesoi.
5201.00.34 | Cotton, not carded or combed, staple length of 28.575 mm or more but under 34.925 mm, other, quota described in chapter 52 add'l U.S. note 7.
5201.00.38 | Cotton, not carded or combed, staple length of 28.575 mm or more but under 34.925 mm, nesoi.
5201.00.55 | Cotton, not carded or combed, having a staple length of 34.925 mm or more, described in the gen. note 15.
5201.00.60 | Cotton, not carded or combed, having a staple length of 34.925 mm or more, quota described in chapter 52 add'l U.S. note 8.
5201.00.80 | Cotton, not carded or combed, having a staple length of 34.925 mm or more, nesoi.
5202.10.00 | Cotton yarn waste (including thread waste).
5202.91.00 | Cotton garnetted stock.
5202.99.05 | Cotton card strips made from cotton waste having staple length under 30.1625 mm & lap, sliver & roving waste described in gen. nte 15.
5202.99.10 | Cotton card strips made from cotton waste w/staple length under 30.1625 mm & lap, sliver & roving waste, quota dscrbd in ch 52 add U.S. note 9.
5202.99.30 | Cotton card strips made from cotton waste having staple length under 30.1625 mm & lap, sliver & roving waste, nesoi.
5202.99.50 | Cotton waste, other than yarn waste and garnetted stock, nesoi.
5203.00.05 | Cotton fibers, carded or combed, of cotton fiber processed but not spun, described in gen. note 15.
5203.00.10 | Cotton fibers, carded or combed, of cotton fiber processed but not spun, quota described in chapter 52 add'l U.S. note 10.
5203.00.30 | Cotton fibers, carded or combed, of cotton fiber processed, but not spun, nesoi.
5203.00.50 | Cotton carded or combed, excluding fibers of cotton processed but not spun.
5204.11.00 | Cotton sewing thread, containing 85 percent or more by weight of cotton, not put up for retail sale.
5204.19.00 | Cotton sewing thread, containing less than 85 percent by weight of cotton, not put up for retail sale.
5204.20.00 | Cotton sewing thread, put up for retail sale.
5205.11.10 | Single cotton yarn, 85% or more cotton by weight, of uncombed fibers, not over 14 nm, unbleached, not mercerized, not put up for retail sale.
5205.11.20 | Single cotton yarn, 85% or more cotton by weight, of uncombed fibers, n/o 14 nm, bleached or mercerized.
5205.12.10 | Single cotton yarn, 85% or more cotton, of uncombed fibers, over 14 but n/o 43 nm, unbleached, not mercerized, not put up for retail sale.
5205.12.20 | Single cotton yarn, 85% or more cotton by weight, of uncombed fibers, over 14 nm but n/o 43 nm, bleached or mercerized.
5205.13.10 | Single cotton yarn, 85% or more cotton, of uncombed fibers, over 43 but n/o 52 nm, unbleached, not mercerized, not put up for retail sale.
5205.13.20 | Single cotton yarn, 85% or more cotton, of uncombed fibers, over 43 nm but n/o 52 mm, bleached or mercerized.
5205.14.10 | Single cotton yarn, 85% or more cotton, of uncombed fibers, over 52 but n/o 80 nm, unbleached, not mercerized, not put up for retail sale.
5205.14.20 | Single cotton yarn, 85% or more cotton by weight, of uncombed fibers, over 52 but n/o 80 nm, bleached or mercerized.
5205.15.10 | Single cotton yarn, 85% or more cotton, of uncombed fibers, over 80 nm, unbleached, not mercerized, not put up for retail sale.
5205.15.20 | Single cotton yarn, 85% or more cotton, of uncombed fibers, over 80 nm, bleached or mercerized, not put up for retail sale, nesoi.
5205.21.00 | Single cotton yarn, 85% or more cotton by weight, of combed fibers, not over 14 nm, not put up for retail sale.
5205.22.00 | Single cotton yarn, 85% or more cotton by weight, of combed fibers, over 14 but n/o 43 nm, not put up for retail sale.
5205.23.00 | Single cotton yarn, 85% or more cotton by weight, of combed fibers, over 43 but n/o 52 nm, not put up for retail sale.
5205.24.00 | Single cotton yarn, 85% or more cotton by weight, of combed fibers, over 52 but n/o 80 nm, not put up for retail sale.
5205.26.00 | Single cotton yarn, 85% or > cotton by wt, of combed fiber, meas. <125 but not <106.38 decitex, >80nm but not >94nm, not put up for retail sale.
5205.27.00 | Single cotton yarn, 85% or > cotton by wt,of combed fiber,meas. <106.38 but not <83.33 decitex, >94nm but not >120nm, not put up for retail sale.
5205.28.00 | Single cotton yarn, 85% or > cotton by wt, of combed fibers, meas. <83.33 decitex, >120 nm, not put up for retail sale.
5205.31.00 | Multiple or cabled cotton yarn, 85% or more cotton by weight, of uncombed fibers, n/o 14 nm per single yarn, not put up for retail sale.
5205.32.00 | Multiple or cabled cotton yarn, 85% or more cotton by weight, of uncombed fibers, yarn over 14 but n/o 43 nm, not put up for retail sale.
5205.33.00 | Multiple or cabled cotton yarn, 85% or more cotton by weight, of uncombed fibers, yarn over 43 but n/o 52 nm, not put up for retail sale.
5205.34.00 | Multiple or cabled cotton yarn, 85% or more cotton by weight, of uncombed fibers, yarn over 52 but n/o 80 nm, not put up for retail sale.
5205.35.00 | Multiple or cabled cotton yarn, 85% or more cotton by weight, of uncombed fibers, over 80 nm per single yarn, not put up for retail sale.
5205.41.00 | Multiple or cabled cotton yarn, 85% or more cotton by weight, of combed fibers, not over 14 nm per single yarn, not put up for retail sale.
5205.42.00 | Multiple or cabled cotton yarn, 85% or more cotton by weight, of combed fibers, yarn over 14 but n/o 43 nm, not put up for retail sale.
5205.43.00 | Multiple or cabled cotton yarn, 85% or more cotton by weight, of combed fibers, yarn over 43 but n/o 52 nm, not put up for retail sale.
5205.44.00 | Multiple or cabled cotton yarn, 85% or more cotton by weight, of combed fibers, yarn over 52 but n/o 80 nm, not put up for retail sale.
5205.46.00 | Multiple or cabled cotton yarn, 85% or > cotton by wt, of combed fibers, >80 nm but not >94 nm/single yarn, not put up for retail sale.
5205.47.00 | Multiple or cabled cotton yarn, 85% or > cotton by wt, of combed fibers, >94 nm but not >120 nm/single yarn, not put up for retail sale.
5205.48.00 | Multiple or cabled cotton yarn, 85% or > cotton by wt, of combed fibers, >120 nm per single yarn, not put up for retail sale.
5206.11.00 | Single cotton yarn, less than 85 percent cotton by weight, of uncombed fibers, not over 14 nm, not put up for retail sale.
5206.12.00 | Single cotton yarn, less than 85 percent cotton by weight, of uncombed fibers, over 14 but n/o 43 nm, not put up for retail sale.
5206.13.00 | Single cotton yarn, less than 85 percent cotton by weight, of uncombed fibers, over 43 but n/o 52 nm, not put up for retail sale.
5206.14.00 | Single cotton yarn, less than 85 percent cotton by weight, of uncombed fibers, over 52 but n/o 80 nm, not put up for retail sale.
5206.15.00 | Single cotton yarn, less than 85 percent cotton by weight, of uncombed fibers, over 80 nm, not put up for retail sale.
5206.21.00 | Single cotton yarn, less than 85 percent cotton by weight, of combed fibers, not over 14 nm, not put up for retail sale.
5206.22.00 | Single cotton yarn, less than 85 percent cotton by weight, of combed fibers, over 14 but n/o 43 nm, not put up for retail sale.
5206.23.00 | Single cotton yarn, less than 85 percent cotton by weight, of combed fibers, over 43 but n/o 52 nm, not put up for retail sale.
5206.24.00 | Single cotton yarn, less than 85 percent cotton by weight, of combed fibers, over 52 but n/o 80 nm, not put up for retail sale.
5206.25.00 | Single cotton yarn, less than 85 percent cotton by weight, of combed fibers, over 80 nm, not put up for retail sale.
5206.31.00 | Multiple or cabled cotton yarn, <85% cotton by weight, of uncombed fibers, not over 14 nm per single yarn, not put up for retail sale.
5206.32.00 | Multiple or cabled cotton yarn, <85% cotton by weight, of uncombed fibers, over 14 but n/o 43 nm/single yarn, not put up for retail sale.
5206.33.00 | Multiple or cabled cotton yarn, <85% cotton by weight, of uncombed fibers, over 43 but n/o 52 nm/single yarn, not put up for retail sale.
5206.34.00 | Multiple or cabled cotton yarn, <85% cotton by weight, of uncombed fibers, over 52 but n/o 80 nm/single yarn, not put up for retail sale.
5206.35.00 | Multiple or cabled cotton yarn, <85% cotton by weight, of uncombed fibers, over 80 nm per single yarn, not put up for retail sale.
5206.41.00 | Multiple or cabled cotton yarn, <85% cotton by weight, of combed fibers, n/o 14 nm per single yarn, not put up for retail sale.
5206.42.00 | Multiple or cabled cotton yarn, <85% cotton by weight, of combed fibers, over 14 but n/o 43 nm per single yarn, not put up for retail sale.
5206.43.00 | Multiple or cabled cotton yarn, <85% cotton by weight, of combed fibers, over 43 but n/o 52 nm per single yarn, not put up for retail sale.
5206.44.00 | Multiple or cabled cotton yarn, <85% cotton by weight, of combed fibers, over 52 but n/o 80 nm per single yarn, not put up for retail sale.
5206.45.00 | Multiple or cabled cotton yarn, <85% cotton by weight, of combed fibers, over 80 nm per single yarn, not put up for retail sale.
5207.10.00 | Cotton yarn, other than sewing thread, containing 85 percent or more cotton by weight, put up for retail sale.
5207.90.00 | Cotton yarn, other than sewing thread, containing less than 85 percent cotton by weight, put up for retail sale.
5208.11.20 | Woven cotton fabric, 85% or more cotton by weight, plain weave, weight not over 100 g/m2, unbleached, of number 42 or lower.
5208.11.40 | Woven cotton fabric, 85% or more cotton by weight, plain weave, weight not over 100 g/m2, unbleached, of numbers 43-68.
5208.11.60 | Woven cotton fabric, 85% or more cotton by weight, plain weave, wt n/o 100 g/m2, unbleached, of number 69 or over, for typewriter ribbon.
5208.11.80 | Woven cotton fabric, 85% or more cotton by weight, plain weave, weight not over 100 g/m2, unbleached, of number 69 or over, nesoi.
5208.12.40 | Woven cotton fabric, 85% or more cotton by weight, plain weave, weight over 100 but n/o 200 g/m2, unbleached, of numbers 42 or lower.
5208.12.60 | Woven cotton fabric, 85% or more cotton by weight, plain weave, weight over 100 but n/o 200 g/m2, unbleached, of numbers 43-68.
5208.12.80 | Woven cotton fabric, 85% or more cotton by weight, plain weave, weight over 100 but n/o 200 g/m2, unbleached, of number 69 or over.
5208.13.00 | Unbleached 3- or 4-thread twill fabrics of cotton, incl. cross twill, containing 85% or more of cotton by weight, weighing not over 200 g/m2.
5208.19.20 | Unbleached satin or twill weave fabrics of cotton, containing 85% or more cotton by weight, weighing not more than 200 g/m2, nesoi.
5208.19.40 | Unbleached woven fabrics of cotton, nesoi, 85% or more of cotton by weight, weighing not more than 200 g/m2, of number 42 or lower.
5208.19.60 | Unbleached woven fabrics of cotton, nesoi, 85% or more of cotton by weight, weighing not more than 200 g/m2, of numbers 43-68.
5208.19.80 | Unbleached woven fabrics of cotton, nesoi, 85% or more of cotton by weight, weighing not more than 200 g/m2, of number 69 or higher.
5208.21.20 | Woven cotton fabric, 85 percent or more cotton by weight, plain weave, not over 100 g/m2, bleached, of number 42 or lower.
5208.21.40 | Woven cotton fabric, 85% or more cotton by weight, plain weave, not over 100 g/m2, bleached, of numbers 43-68.
5208.21.60 | Woven cotton fabric, 85% or more cotton by weight, plain weave, not over 100 g/m2, bleached, of number 69 or higher.
5208.22.40 | Woven cotton fabric, 85% or more cotton by weight, plain weave, over 100 but n/o 200 g/m2, bleached, of number 42 or lower.
5208.22.60 | Woven cotton fabric, 85% or more cotton by weight, plain weave, over 100 but n/o 200 g/m2, bleached, of numbers 43-68.
5208.22.80 | Woven cotton fabric, 85% or more cotton by weight, plain weave, over 100 but n/o 200 g/m2, bleached, of number 69 or higher.
5208.23.00 | Woven cotton fabric, >= 85% by wt. cotton, <= 200 g/m2, bleached, exc. plain weave, 3- or 4-thread twill.
5208.29.20 | Bleached satin or twill weave fabrics, containing 85% or more cotton by weight, weighing not more than 200 g/m2, nesoi.
5208.29.40 | Bleached woven fabrics of cotton, nesoi, 85% or more cotton by weight, weighing not more than 200 g/m2, of number 42 or lower.
5208.29.60 | Bleached woven fabrics of cotton, nesoi, containing 85% or more cotton by weight, weighing not more than 200 g/m2, of numbers 43-68.
5208.29.80 | Bleached woven fabrics of cotton, nesoi, containing 85% or more cotton by weight, weighing not more than 200 g/m2, of number 69 or higher.
5208.31.20 | Dyed plain weave certified hand-loomed fabrics of cotton, containing 85% or more cotton by weight, weighing not more than 100 g/m2.
5208.31.40 | Dyed plain weave fabrics of cotton, containing 85% or more cotton by weight, weighing not more than 100 g/m2, of number 42 or lower, nesoi.
5208.31.60 | Dyed plain weave fabrics of cotton, containing 85% or more cotton by weight, weighing not more than 100 g/m2, of numbers 43-68, nesoi.
5208.31.80 | Dyed plain weave fabrics of cotton, containing 85% or more cotton by weight, weighing not more than 100 g/m2, of number 69 or higher, nesoi.
5208.32.10 | Dyed plain weave certified hand-loomed fabrics of cotton, cont. 85% or more cotton by weight, weighing over 100 g/m2 but not over 200 g/m2.
5208.32.30 | Dyed plain weave fabrics of cotton, nesoi, 85% or more cotton by weight, over 100 g/m2 but not more than 200 g/m2, of number 42 or lower.
5208.32.40 | Dyed plain weave fabrics of cotton, nesoi, 85% or more cotton by weight, over 100 g/m2 but not more than 200 g/m2, of numbers 43-68.
5208.32.50 | Dyed plain weave fabrics of cotton, nesoi, 85% or more cotton by weight, over 100 g/m2 but not more than 200 g/m2, of number 69 or higher.
5208.33.00 | Dyed 3- or 4-thread twill fabrics of cotton, including cross twill, 85% or more cotton by weight, weighing not more than 200 g/m2.
5208.39.20 | Dyed satin or twill weave fabrics of cotton, containing 85% or more cotton by weight, weighing not more than 200 g/m2, nesoi.
5208.39.40 | Dyed woven fabrics of cotton, nesoi, containing 85% or more cotton by weight, weighing not more than 200 g/m2, of number 42 or lower.
5208.39.60 | Dyed woven fabrics of cotton, nesoi, containing 85% or more cotton by weight, weighing not more than 200 g/m2, of numbers 43-68.
5208.39.80 | Dyed woven fabrics of cotton, nesoi, containing 85% or more cotton by weight, weighing not more than 200 g/m2, of number 69 or higher.
5208.41.20 | Plain weave certified hand-loomed fabrics of cotton, 85% or more cotton by weight, weighing not over 100 g/m2, of yarns of different colors.
5208.41.40 | Plain weave fabrics of cotton, 85% or more cotton by weight, weighing not over 100 g/m2, number 42 or lower, of yarns of different colors.
5208.41.60 | Plain weave fabrics of cotton, 85% or more cotton by weight, weighing not over 100 g/m2, of numbers 43-68, of yarns of different colors.
5208.41.80 | Plain weave fabrics of cotton, 85% or more cotton by weight, weighing not over 100 g/m2, of number 69 or higher, of yarn of different colors.
5208.42.10 | Plain weave certified hand-loomed fabrics of cotton, 85% or more cotton by weight, over 100 but n/o 200 g/m2, of yarns of different colors.
5208.42.30 | Plain weave fabrics of cotton, 85% or more cotton by weight, over 100 but n/o 200 g/m2, of numbers 42 or lower, of yarns of different colors.
5208.42.40 | Plain weave fabrics of cotton, 85% or more cotton by weight, over 100 but n/o 200 g/m2, of numbers 43-68, of yarns of different colors.
5208.42.50 | Plain weave fabrics of cotton, 85% or more cotton by weight, over 100 but n/o 200 g/m2, number 69 or higher, of yarns of different colors.
5208.43.00 | 3- or 4-thread twill fabrics of cotton, including cross twill, 85% or more cotton by weight, not over 200 g/m2, of yarns of different colors.
5208.49.20 | Satin or twill weave fabrics of cotton, cont. 85% or more cotton by weight, weighing not over 200 g/m2, of yarns of different colors, nesoi.
5208.49.40 | Woven fabrics of cotton, nesoi, 85% or more cotton by weight, wt. not more than 200 g/m2, of number 42 or lower, of yarns of different colors.
5208.49.60 | Woven fabrics of cotton, nesoi, 85% or more cotton by weight, wt. not over 200 g/m2, of numbers 43-68, of yarns of different colors.
5208.49.80 | Woven fabrics of cotton, nesoi, 85% or more cotton by weight, wt. not over 200 g/m2, of number 69 or higher, of yarns of different colors.
5208.51.20 | Printed certified hand-loomed plain weave fabrics of cotton, 85% or more cotton by weight, weighing not over 100 g/m2.
5208.51.40 | Printed plain weave fabrics of cotton, containing 85% or more cotton by weight, weighing not over 100 g/m2, of number 42 or lower.
5208.51.60 | Printed plain weave fabrics of cotton, containing 85% or more cotton by weight, weighing not over 100 g/m2, of numbers 43-68.
5208.51.80 | Printed plain weave fabrics of cotton, containing 85% or more cotton by weight, weighing not over 100 g/m2, of number 69 or higher.
5208.52.10 | Printed certified hand-loomed plain weave fabrics of cotton, 85% or more cotton by weight, wt. more than 100 g/m2 but not more than 200 g/m2.
5208.52.30 | Printed plain weave fabrics of cotton, 85% or more cotton by weight, weighing over 100 g/m2 but not more than 200 g/m2, of number 42 or lower.
5208.52.40 | Printed plain weave fabrics of cotton, 85% or more cotton by weight, weighing over 100 g/m2 but not more than 200 g/m2, of numbers 43-68.
5208.52.50 | Printed plain weave fabrics of cotton, 85% or more cotton by weight, weighing over 100 g/m2 but not more than 200 g/m2, of number 69 or higher.
5208.59.10 | Printed 3- or 4-thread twill fabrics of cotton, including cross twill, 85% or more cotton by weight, weighing not more than 200 g/m2.
5208.59.20 | Printed satin or twill weave fabrics of cotton, containing 85% or more cotton by weight, weighing not more than 200 g/m2, nesoi.
5208.59.40 | Printed woven fabrics of cotton, nesoi, containing 85% or more cotton by weight, weighing not more than 200 g/m2, of number 42 or lower.
5208.59.60 | Printed woven fabrics of cotton, nesoi, containing 85% or more cotton by weight, weighing not more than 200 g/m2, of numbers 43-68.
5208.59.80 | Printed woven fabrics of cotton, nesoi, containing 85% or more cotton by weight, weighing not more than 200 g/m2, of number 69 or higher.
5209.11.00 | Unbleached plain weave fabrics of cotton, 85 percent or more cotton by weight, weight more than 200 g/m2.
5209.12.00 | Unbleached 3- or 4-thread twill fabrics of cotton, including cross twill, 85 percent or more cotton by weight, weighing more than 200 g/m2.
5209.19.00 | Unbleached woven fabrics of cotton, nesoi, containing 85% or more cotton by weight, weighing more than 200g/m2.
5209.21.00 | Bleached plain weave fabrics of cotton, 85% or more cotton by weight, weighing more than 200 g/m2.
5209.22.00 | Bleached 3- or 4-thread twill fabrics of cotton, including cross twill, 85 percent or more cotton by weight, weighing more than 200 g/m2.
5209.29.00 | Bleached woven fabrics of cotton, nesoi, containing 85% or more cotton by weight, weighing more than 200 g/m2.
5209.31.30 | Dyed, plain weave certified hand-loomed fabrics of cotton, containing 85% or more cotton by weight, weighing more than 200 g/m2.
5209.31.60 | Dyed, plain weave fabrics of cotton, containing 85% or more cotton by weight, weighing more than 200 g/m2, nesoi.
5209.32.00 | Dyed 3- or 4-thread twill fabrics of cotton, including cross twill, containing 85% or more cotton by weight, weighing more than 200 g/m2.
5209.39.00 | Dyed woven fabrics of cotton, nesoi, containing 85% or more cotton by weight, weighing more than 200 g/m2.
5209.41.30 | Plain weave certified hand-loomed fabrics of cotton, cont. 85% or more cotton by weight, weighing over 200 g/m2, of yarns of different colors.
5209.41.60 | Plain weave fabrics of cotton, nesoi, containing 85% or more cotton by weight, weighing more than 200 g/m2, of yarns of different colors.
5209.42.00 | Denim containing 85% or more cotton by weight, weighing more than 200 g/m2, of yarns of different colors.
5209.43.00 | 3- or 4-thread twill fabrics of cotton, incl. cross twill, nesoi, 85% or more cotton by wt. weighing ov. 200 g/m2, of yarns of different colors.
5209.49.00 | Woven fabrics of cotton, nesoi, containing 85% or more cotton by weight, weighing more than 200 g/m2, of yarns of different colors.
5209.51.30 | Printed plain weave certified hand-loomed fabrics of cotton, containing 85% or more cotton by weight, weighing more than 200 g/m2.
5209.51.60 | Printed plain weave fabrics of cotton, nesoi, containing 85% or more cotton by weight, weighing more than 200 g/m2.
5209.52.00 | Printed 3- or 4-thread twill fabrics of cotton, including cross twill, containing 85% or more cotton by weight, weighing more than 200 g/m2.
5209.59.00 | Printed woven fabrics of cotton, nesoi, containing 85% or more cotton by weight, weighing more than 200 g/m2.
5210.11.40 | Unbleached plain weave fabrics of cotton, <85% cotton, mixed mainly/solely with man-made fibers, wt. <200 g/m2, of number 42 or lower.
5210.11.60 | Unbleached plain weave fabrics of cotton, <85% cotton, mixed mainly/solely with man-made fibers, wt. <200 g/m2, of numbers 43-68.
5210.11.80 | Unbleached plain weave fabrics of cotton, <85% cotton, mixed mainly/solely with man-made fibers, wt. <200 g/m2, of number 69 or higher.
5210.19.10 | Unbleached 3- or 4-thread twill fabrics of cotton, incl. cross twill, <85% cotton by wt., mixed mainly/solely with mm fibers, n/o 200 g/m2.
5210.19.20 | Unbleached satin or twill weave fabrics of cotton, <85% cotton by wt., mixed mainly/solely with man-made fibers, not more than 200 g/m2.
5210.19.40 | Unbleached woven fabrics of cotton, nesoi, <85% cotton by wt., mixed mainly/solely with man-made fibers, n/o 200 g/m2, of number 42 or lower.
5210.19.60 | Unbleached woven fabrics of cotton, nesoi, <85% cotton by wt., mixed mainly/solely with man-made fibers, n/o 200 g/m2, of numbers 43-68.
5210.19.80 | Unbleached woven fabrics of cotton, nesoi, <85% cotton by wt., mixed mainly/solely w/man-made fibers, n/o 200 g/m2, of number 69 or higher.
5210.21.40 | Bleached plain weave fabrics of cotton, <85% cotton by wt., mixed mainly/solely with man-made fibers, n/o 200 g/m2, of number 42 or lower.
5210.21.60 | Bleached plain weave fabrics of cotton, <85% cotton by wt., mixed mainly/solely with man-made fibers, not over 200 g/m2, of numbers 43-68.
5210.21.80 | Bleached plain weave fabrics of cotton, <85% cotton by wt., mixed mainly/solely with man-made fibers, n/o 200 g/m2, of number 69 or higher.
5210.29.10 | Bleached 3- or 4-thread twill fabrics of cotton, incl. cross twill, <85% cotton by wt., mixed mainly/solely w/man-made fibers, n/o 200 g/m2.
5210.29.20 | Bleached satin or twill weave fabrics of cotton, <85% cotton by weight, mixed mainly/solely with man-made fibers, not more than 200 g/m2.
5210.29.40 | Bleached woven fabrics of cotton, nesoi, <85% cotton by weight, mixed mainly/solely w/man-made fibers, n/o 200 g/m2, of number 42 or lower.
5210.29.60 | Bleached woven fabrics of cotton, nesoi, <85% cotton by weight, mixed mainly/solely with man-made fibers, n/o 200 g/m2, of numbers 43-68.
5210.29.80 | Bleached woven fabrics of cotton, nesoi, <85% cotton by wt., mixed mainly/solely with man-made fibers, n/o 200 g/m2, of number 69 or higher.
5210.31.40 | Dyed plain weave fabrics of cotton, <85% cotton by wt., mixed mainly/solely with man-made fibers, not over 200 g/m2, of number 42 or lower.
5210.31.60 | Dyed plain weave fabrics of cotton, <85% cotton by wt., mixed mainly/solely with man-made fibers, not over 200 g/m2, of numbers 43-68.
5210.31.80 | Dyed plain weave cotton fabrics, <85% cotton by wt., mixed mainly/solely with man-made fibers, not over 200 g/m2, of number 69 or higher.
5210.32.00 | Dyed 3 or 4-thread twill fabrics of cotton, incl. cross twill, <85% cotton by wt., mixed mainly/solely with man-made fibers, wt. n/o 200 g/m2.
5210.39.20 | Dyed satin or twill weave fabrics of cotton, <85% cotton by wt., mixed mainly/solely with man-made fibers, weighing not more than 200 g/m2.
5210.39.40 | Dyed woven fabrics of cotton, nesoi, <85% cotton by weight, mixed mainly/solely w/man-made fibers, not over 200 g/m2, of number 42 or lower.
5210.39.60 | Dyed woven fabrics of cotton, nesoi, <85% cotton by weight, mixed mainly/solely w/man-made fibers, not over 200 g/m2, of numbers 43-68.
5210.39.80 | Dyed woven fabrics of cotton, nesoi, <85% cotton by wt., mixed mainly/solely w/man-made fibers, not over 200 g/m2, of number 69 or higher.
5210.41.40 | Plain weave cotton fabrics, <85% cotton by wt., mixed mainly/solely w/mm fibers, n/o 200 g/m2, of number 42 or lower, of yarn of diff colors.
5210.41.60 | Plain weave cotton fabrics, <85% cotton by wt, mixed mainly/solely w/mm fibers, n/o 200 g/m2, of numbers 43-68, of yarn of different colors.
5210.41.80 | Plain weave cotton fabrics, <85% cotton by wt, mixed mainly/solely w/mm fibers, n/o 200 g/m2, number 69 or higher, of yarn of diff colors.
5210.49.10 | 3- or 4-thread twill fabrics of cotton, incl. cross twill, <85% cotton by wt., mixed mainly/solely w/mm fibers, n/o 200 g/m2, of yarn diff colors.
5210.49.20 | Satin or twill weave fabrics of cotton, <85% cotton by wt., mixed mainly/solely w/mm fibers, wt. n/o 200 g/m2, of yarn of different colors, nesoi.
5210.49.40 | Woven fabrics of cotton, nesoi, <85% cotton by wt., mixed mainly/solely w/mm fibers, n/o 200 g/m2, of number 42 or lower, of yarn of diff colors.
5210.49.60 | Woven fabrics of cotton, nesoi, <85% cotton by wt., mixed mainly/solely w/man-made fibers, n/o 200 g/m2, numbers 43-68, of yarn of diff colors.
5210.49.80 | Woven fabrics of cotton, nesoi, <85% cotton by wt., mixed mainly with m-m fibers, n/o 200 g/m2, number 69 or higher, of yarn of diff colors.
5210.51.40 | Printed plain weave cotton fabrics, <85% cotton by wt., mixed mainly/solely with man-made fibers, n/o 200 g/m2, of number 42 or lower.
5210.51.60 | Printed plain weave cotton fabrics, <85% cotton by wt., mixed mainly/solely with man-made fibers, n/o 200 g/m2, of numbers 43-68.
5210.51.80 | Printed plain weave cotton fabrics, <85% cotton by weight, mixed mainly/solely with man-made fibers, n/o 200 g/m2, of number 69 or higher.
5210.59.10 | Printed 3- or 4-thread twill fabrics of cotton, incl. cross twill, <85% cotton by wt., mixed mainly/solely w/man-made fibers, n/o 200 g/m2.
5210.59.20 | Printed satin or twill weave cotton fabrics, nesoi, <85% cotton by wt., mixed mainly/solely with man-made fibers, weighing n/o 200 g/m2.
5210.59.40 | Printed woven fabrics of cotton, nesoi, <85% cotton by wt., mixed mainly/solely with man-made fibers, wt. n/o 200 g/m2, of number 42 or lower.
5210.59.60 | Printed woven fabrics of cotton, nesoi, <85% cotton by wt., mixed mainly/solely with man-made fibers, weighing n/o 200 g/m2, of numbers 43-68.
5210.59.80 | Printed woven fabrics of cotton, nesoi, <85% cotton by wt., mixed mainly/solely w/man-made fibers, weighing n/o 200 g/m2, number 69 or higher.
5211.11.00 | Unbleached plain weave fabrics of cotton, <85% cotton by wt., mixed mainly/solely with man-made fibers, over 200 g/m2.
5211.12.00 | Unbleached 3- or 4-thread twill fabrics of cotton, incl. cross twill, <85% cotton by wt., mixed mainly/solely w/man-made fiber, ov. 200 g/m2.
5211.19.00 | Unbleached woven fabrics of cotton, nesoi, containing <85% cotton by weight, mixed mainly/solely with man-made fibers, more than 200 g/m2.
5211.20.21 | Bleached plain weave fabrics of cotton, <85% cotton by weight, mixed mainly/solely with man-made fibers, over 200 g/m2.
5211.20.22 | Bleached 3- or 4-thread twill fabrics of cotton, incl. cross twill, <85% cotton by wt., mixed mainly/solely w/man-made fibers, over 200 g/m2.
5211.20.29 | Bleached woven fabrics of cotton, nesoi, containing <85% cotton by weight, mixed mainly/solely with man-made fibers, more than 200g/m2.
5211.31.00 | Dyed plain weave fabrics of cotton, containing <85% cotton by weight, mixed mainly/solely with man-made fibers, more than 200 g/m2.
5211.32.00 | Dyed 3- or 4-thread twill fabrics of cotton, incl. cross twill, <85% cotton by wt., mixed mainly/solely w/man-made fibers, more than 200 g/m2.
5211.39.00 | Dyed woven fabrics of cotton, nesoi, <85% cotton by weight, mixed mainly/solely with man-made fibers, weighing more than 200 g/m2.
5211.41.00 | Plain weave fabrics of cotton, <85% cotton by weight, mixed mainly/solely with man-made fibers, over 200g/m2, of yarns of different colors.
5211.42.00 | Denim containing <85% cotton by wt., mixed mainly/solely w/man-made fibers, weighing >200 g/m2, of yarns of different colors.
5211.43.00 | 3- or 4-thread twill fab. of cotton, incl cross twill, nesoi, <85% cotton wt., mixed mainly/solely w/mm fibers, ov. 200 g/m2, of yarn of diff colors.
5211.49.00 | Woven fabrics of cotton, nesoi, <85% cotton by weight, mixed mainly/solely w/man-made fibers, over 200 g/m2, of yarns of different colors.
5211.51.00 | Printed plain weave fabrics of cotton, <85% cotton by wt., mixed mainly/solely with man-made fibers, weighing more than 200 g/m2.
5211.52.00 | Printed 3- or 4-thread twill fabrics of cotton, incl cross twill, <85% cotton by wt., mixed mainly/solely with man-made fibers, over 200 g/m2.
5211.59.00 | Printed woven fabrics of cotton, nesoi, <85% cotton by weight, mixed mainly/solely with man-made fibers, weighing more than 200 g/m2.
5212.11.10 | Other woven fabrics of cotton, containing 36% or more by weight of wool or fine hair, weighing not more than 200 g/m2, unbleached.
5212.11.60 | Other woven fabrics of cotton, nesoi, weighing not more than 200 g/m2, unbleached.
5212.12.10 | Other woven fabrics of cotton, containing 36% or more by weight of wool or fine hair, weighing not more than 200 g/m2, bleached.
5212.12.60 | Other woven fabrics of cotton, nesoi, weighing not more than 200 g/m2, bleached.
5212.13.10 | Other woven fabrics of cotton, containing 36% or more by weight of wool or fine hair, weighing not more than 200 g/m2, dyed.
5212.13.60 | Other woven fabrics of cotton, nesoi, weighing not more than 200 g/m2, dyed.
5212.14.10 | Other woven fabrics of cotton, containing 36% or more of wool or fine hair, weighing not more than 200 g/m2, of yarns of different colors.
5212.14.60 | Other woven fabrics of cotton, nesoi, weighing not more than 200 g/m2, of yarns of different colors.
5212.15.10 | Other woven fabrics of cotton, containing 36% or more by weight of wool or fine hair, weighing not more than 200 g/m2, printed.
5212.15.60 | Other woven fabrics of cotton, nesoi, weighing not more than 200 g/m2, printed.
5212.21.10 | Other woven fabrics of cotton, containing 36% or more by weight of wool or fine hair, weighing more than 200 g/m2, unbleached.
5212.21.60 | Other woven fabrics of cotton, nesoi, weighing more than 200 g/m2, unbleached.
5212.22.10 | Other woven fabrics of cotton, containing 36% or more by weight of wool or fine hair, weighing more than 200 g/m2, bleached.
5212.22.60 | Other woven fabrics of cotton, nesoi, weighing more than 200 g/m2, bleached.
5212.23.10 | Other woven fabrics of cotton, containing 36% or more by weight of wool or fine hair, weighing more than 200 g/m2, dyed.
5212.23.60 | Other woven fabrics of cotton, nesoi, weighing more than 200 g/m2, dyed.
5212.24.10 | Other woven fabrics of cotton, containing 36% or more by weight of wool or fine hair, weighing more than 200 g/m2, of yarns of different colors.
5212.24.60 | Other woven fabrics of cotton, nesoi, weighing more than 200 g/m2, of yarns of different colors.
5212.25.10 | Other woven fabrics of cotton, containing 36% or more by weight of wool or fine hair, weighing more than 200 g/m2, printed.
5212.25.60 | Other woven fabrics of cotton, nesoi, weighing more than 200 g/m2, printed.
5301.10.00 | Flax, raw or retted.
5301.21.00 | Flax, broken or scutched.
5301.29.00 | Flax, hackled or otherwise processed, except broken or scutched but not spun.
5301.30.00 | Flax tow and waste (including yarn waste and garnetted stock).
5302.10.00 | True hemp, raw or retted.
5302.90.00 | True hemp, processed but not spun; tow and waste of true hemp (including yarn waste and garnetted stock).
5303.10.00 | Jute and other textile bast fibers (excluding flax, true hemp and ramie), raw or retted.
5303.90.00 | Jute and other textile bast fibers (excluding flax, true hemp and ramie), processed but not spun; tow and waste of these fibers.
5305.00.00 | Coconut, abaca, ramie, other veg. fibers, nesoi, raw or processed, not spun; tow noils and their wastes (incl. yarn waste and garnetted stock.
5306.10.00 | Flax yarn, single.
5306.20.00 | Flax yarn, multiple (folded) or cabled.
5307.10.00 | Yarn of jute or other textile bast fibers (excluding flax, true hemp, and ramie), single.
5307.20.00 | Yarn of jute or other textile bast fibers (excluding flax, true hemp, and ramie), multiple (folded) or cabled.
5308.10.00 | Coir yarn.
5308.20.00 | True hemp yarn.
5308.90.10 | Paper yarn.
5308.90.90 | Yarn of other vegetable textile fibers, nesoi.
5309.11.00 | Woven fabrics of flax, containing 85 percent or more by weight of flax, unbleached or bleached.
5309.19.00 | Woven fabrics of flax, containing 85 percent or more by weight of flax, other than unbleached or bleached.
5309.21.20 | Woven fabrics of flax, containing less than 85% by weight of flax, containing over 17% of wool or fine animal hair, unbleached or bleached.
5309.21.30 | Woven fabrics of flax, <85% by wt of flax, unbleached or bleached, containing <17% by wt of wool and containing cotton and manmade fibers.
5309.21.40 | Woven fabrics of flax, containing less than 85 percent by weight of flax, unbleached or bleached, nesoi.
5309.29.20 | Woven fabrics of flax, containing <85% by wt of flax, contain over 17% by wt of wool or fine animal hair, other than unbleached or bleached.
5309.29.30 | Woven fabrics of flax, less than 85% by wt of flax, containing less than 17% by wt of wool and containing cotton and manmade fibers, nesoi.
5309.29.40 | Woven fabrics of flax, containing less than 85 percent by weight of flax, other than unbleached or bleached, nesoi.
5310.10.00 | Unbleached woven fabrics of jute or of other textile bast fibers of heading 5303.
5310.90.00 | Woven fabrics of jute or of other textile bast fibers of heading 5303, other than unbleached.
5311.00.20 | Woven fabrics of other vegetable textile fibers, containing more than 17% by weight of wool or fine animal hair.
5311.00.30 | Woven fabrics of other vegetable textile fibers, containing cotton and manmade fibers, nesoi.
5311.00.40 | Woven fabrics of other vegetable textile fibers, nesoi.
5311.00.60 | Woven fabrics of paper yarn.
5401.10.00 | Sewing thread of synthetic filaments, whether or not put up for retail sale.
5401.20.00 | Sewing thread of artificial filaments, whether or not put up for retail sale.
5402.11.30 | Single high tenacity yarn of aramids, not put up for retail sale.
5402.11.60 | Multiple (folded) or cabled high tenacity yarn (except sewing thread) of aramids, not put up for retail sale.
5402.19.30 | Single high tenacity yarn of nylon or polyamides (except aramids), not put up for retail sale.
5402.19.60 | Multiple (folded) or cabled high tenacity yarn (except sewing thread) of nylon or other polyamides (except aramids), not put up for retail sale.
5402.20.30 | Single high tenacity yarn of polyesters, not put up for retail sale.
5402.20.60 | Multiple (folded) or cabled high tenacity yarn (except sewing thread) of polyesters, not put up for retail sale.
5402.31.30 | Single textured yarn, of nylon or other polyamides, measuring not more than 500 decitex, not put up for retail sale.
5402.31.60 | Multiple or cabled textured yarn (except sewing thread), of polyamides, single yarn not more than 500 decitex, not put up for retail sale.
5402.32.30 | Single textured yarn, of nylon or other polyamides, measuring more than 500 decitex, not put up for retail sale.
5402.32.60 | Multiple or cabled textured yarn (except sewing thread), of polyamides, single yarn more than 500 decitex, not put up for retail sale.
5402.33.30 | Single textured yarn of polyesters, not put up for retail sale.
5402.33.60 | Multiple or cabled textured yarn (except sewing thread), of polyesters, not put up for retail sale.
5402.34.30 | Single textured polypropylene yarn, not put up for retail sale.
5402.34.60 | Multiple or cabled textured polypropylene yarn (except sewing thread), not put up for retail sale.
5402.39.31 | Single textured yarn, nesoi, not put up for retail sale.
5402.39.61 | Multiple or cabled textured yarn (except sewing thread), nesoi, not put up for retail sale.
5402.44.00 | Single elastomeric yarns, monofil, untwisted or with a twist not exceeding 50 turns per meter, not for retail sale.
5402.45.10 | Synth filament yarn, for doll wigs, of colored multifil, untwisted/with twist <5 turns/meter, of nylon or other polyamide, not retail sale.
5402.45.90 | Syn filament yarn (not for doll wigs), of colored multifil, untwisted/with twist <5 turns/meter, of nylon or o/polyamides, not retail sale.
5402.46.00 | Non-textured yarn of polyesters, partially oriented, single, untwisted or with a twist not exceeding 50 turns/m, not put up for retail sale.
5402.47.10 | Single yarn, twist of 0-50 turns/m, wholly polyester, 75-80 decitex, 24 filaments, nesoi, not put up for retail sale.
5402.47.90 | Single yarn, twist of 0-50 turns/m, other than wholly of polyester, nesoi, not put up for retail sale.
5402.48.00 | Non-textured polypropylene yarns, monofil, untwisted or with a twist not exceeding 50 turns per meter, not for retail sale.
5402.49.11 | Colored multifilament yarn to be used to make wigs for dolls, of modacrylic, untwisted or twisted, <5 turns per meter, not for retail sale.
5402.49.91 | Other yarns, monofil; multifil, untwisted or twisted > or = to 5, not exceeding 50 turns per meter of other synthetic, not for retail sale.
5402.51.00 | Nylon or other polyamide yarns, single, with a twist exceeding 50 turns/m, not put up for retail sale.
5402.52.10 | Single yarn, twist exceeding 50 turns/m, wholly polyester, 75-80 decitex, 24 filaments, nesoi, not put up for retail sale.
5402.52.90 | Single yarn, twist exceeding 50 turns/m, other than wholly of polyester, nesoi, not put up for retail sale.
5402.53.00 | Synthetic filament yarn of polypropylene: single other twisted yarns exc nylon/polyester, >50 turns/M, not put up for retail sale.
5402.59.01 | Synthetic filament yarn nesoi: single other twisted yarns exc nylon/polyester, >50 turns/M, not put up for retail sale.
5402.61.00 | Nylon or other polyamide yarn, multiple (folded) or cabled, (except sewing thread), not put up for retail sale.
5402.62.00 | Polyester yarn, multiple (folded) or cabled, (except sewing thread), not put up for retail sale.
5402.63.00 | Synthetic filament yarn exc sewing thread of polypropylene, not for retail sale inc monofilament <67 decitex: other yarn multiple (folded) or cabled.
5402.69.01 | Synthetic filament yarn exc sewing thread nesoi, not for retail sale inc monofilament <67 decitex: other yarn multiple (folded) or cabled.
5403.10.30 | Single high tenacity yarn of viscose rayon, not put up for retail sale.
5403.10.60 | Multiple (folded) or cabled high tenacity yarn of viscose rayon (except sewing thread), not put up for retail sale.
5403.31.00 | Single yarn of viscose rayon (not high ten. or sewing thread), untwisted or with a twist not over 120 turns/m, not put up for retail sale.
5403.32.00 | Single yarn of viscose rayon (not high ten. or sewing thread), with twist exceeding 120 turns/m, not put up for retail sale.
5403.33.00 | Single yarn of cellulose acetate (not high ten. or sewing thread), not put up for retail sale.
5403.39.10 | Single textured artificial filament yarn (other than sewing thread), not put up for retail sale.
5403.39.90 | Artificial filament yarn nesoi, single, not put up for retail sale.
5403.41.00 | Viscose rayon yarn (except sewing thread), multiple (folded) or cabled, not put up for retail sale.
5403.42.00 | Yarn of cellulose acetate (except sewing thread) multiple (folded) or cabled, not put up for retail sale.
5403.49.10 | Multiple (folded) or cabled textured artificial filament yarn (other than sewing thread), not put up for retail sale.
5403.49.90 | Multiple (folded) or cabled non-textured artificial filament yarn (other than sewing thread), not put up for retail sale.
5404.11.00 | Synthetic monofilament (exc. polypropylene), elastomeric, of 67 decitex or more and with no cross-sectional dimension >1 mm, nesoi.
5404.12.10 | Polypropylene monofilament of 67 decitex or more (not racket strings), and with no cross-sectional dim. >1 mm, not over 254 mm in length.
5404.12.90 | Polypropylene monofilament of 67 decitex or more (not racket strings), and with no cross-sectional dim. >1 mm, over 254 mm in length.
5404.19.10 | Racket strings of synthetic monofilament of 67 decitex or more and of which no cross-sectional dimension exceeds 1 mm.
5404.19.80 | Synthetic monofilament (exc. polypropylene), of 67 decitex or more and with no cross-sectional dimension >1 mm, nesoi.
5404.90.00 | Strip and the like of synthetic textile materials of an apparent width not exceeding 5 mm.
5405.00.30 | Artificial monofilament of 67 decitex or more and of which no cross-sectional dimension exceeds 1 mm.
5405.00.60 | Strip and the like of artificial textile materials of an apparent width not exceeding 5 mm.
5406.00.10 | Synthetic filament yarn (except sewing thread), put up for retail sale.
5406.00.20 | Artificial filament yarn (except sewing thread), put up for retail sale.
5407.10.00 | Woven fabrics obtained from high tenacity yarn of nylon or other polyamides or of polyesters.
5407.20.00 | Woven fabrics obtained from strip or the like of synthetic textile materials.
5407.30.10 | Woven fabrics specified in note 9 to section XI, of synthetic filament yarn, over 60 percent by weight of plastics.
5407.30.90 | Woven fabrics specified in note 9 to section XI, of synthetic filament yarn, nesoi.
5407.41.00 | Woven fabrics, containing 85 percent or more by weight of filaments of nylon or other polyamides, unbleached or bleached.
5407.42.00 | Woven fabrics, containing 85 percent or more by weight of filaments of nylon or other polyamides, dyed.
5407.43.10 | Woven fabrics, over 85% by wt fil. of nylon/other polyamides, of diff colored yarns, thread count over 69-142/cm warp, over 31-71/cm filling.
5407.43.20 | Woven fabrics, containing 85 percent or more by weight of filaments of nylon or other polyamides, of yarns of different colors, nesoi.
5407.44.00 | Woven fabrics, containing 85 percent or more by weight of filaments of nylon or other polyamides, printed.
5407.51.00 | Woven fabrics, containing 85 percent or more by weight of textured polyester filaments, unbleached or bleached.
5407.52.05 | Woven fabrics, over 85 percent textured polyester filaments, dyed, less than 77 cm in width, thread count 69-142/cm warp, 31-71/cm filling.
5407.52.20 | Woven fabrics, over 85 percent textured polyester filaments, dyed, nesoi.
5407.53.10 | Woven fabrics, over 85% textured polyester filaments, of different colored yarns, thread count 69-142/cm warp and 31-71/cm filling.
5407.53.20 | Woven fabrics, containing 85 percent or more by weight of textured polyester filaments, of yarns of different colors, nesoi.
5407.54.00 | Woven fabrics, containing 85 percent or more by weight of textured polyester filaments, printed.
5407.61.11 | Woven fab, dyed, 100% polyester, <77 cm wide, >69-142 warp >31-71 filling, of non-tex singles yarn, 75-80 dtx, 24 fil/yn, twist 900+ turns/m.
5407.61.19 | Woven fab, dyed, 85%+ non-tex poly. fil., <77 cm wide, >69-142 warp >31-71 filling (not 100% poly. sin. yarn, 75-80 dtx, 24 fil/yn & 900+ turns/m).
5407.61.21 | Woven fab, yn diff colors, <77 cm wide, >69-142 warp, >31-71 filling, 100% poly.non-tex sin. yarn of 75-80 dtx., 24 fil/yn & twist 900+ turns/m.
5407.61.29 | Woven fab, 85%+ non-tex poly, yn diff colors, <77 cm wide, >69-142 warp, >31-71 filling (not 100% poly sin yarn, 75-80 dtx,24 fil/yn & 900+ turns/m).
5407.61.91 | Woven fab, 85%+ non-tex poly fil, wholly of polyester, of single yarns 75-80 decitex, 24 fil/yarn & a twist of 900 or more turns/m.
5407.61.99 | Woven fab, of 85%+ non-text. polyester filaments, nesoi (not wholly polyester single yarns, 75-80 dtx, 24 fil/yarn & twist 900+ turns/m).
5407.69.10 | Woven fab, containing 85%+ by wt of polyester filaments nesoi, unbleached or bleached.
5407.69.20 | Woven fab, containing 85%+ by wt of polyester filaments nesoi, dyed.
5407.69.30 | Woven fab, cont. 85%+ by wt polyester filaments nesoi, thread count >69-142/cm in warp & >31-71/cm filling, of yarns of diff. colors.
5407.69.40 | Woven fab, containing 85%+ by wt polyester filaments nesoi, of yarns of different colors, nesoi.
5407.69.90 | Woven fab, containing 85%+ by wt polyester filaments nesoi, printed.
5407.71.00 | Woven fabrics, containing 85 percent or more by weight of synthetic filaments, unbleached or bleached.
5407.72.00 | Woven fabrics, containing 85 percent or more by weight of synthetic filaments, dyed.
5407.73.10 | Woven fabrics, cont. 85% or more syn. filaments by weight, thread count >69-142/cm warp and >31-71/cm filling, of different colored yarns.
5407.73.20 | Woven fabrics, containing 85% or more by weight of synthetic filaments, of yarns of different colors, nesoi.
5407.74.00 | Woven fabrics, containing 85 percent or more by weight of synthetic filaments, printed.
5407.81.00 | Woven fabrics, containing less than 85% by weight of synthetic filaments, mixed mainly or solely with cotton, unbleached or bleached.
5407.82.00 | Woven fabrics, containing less than 85 percent by weight of synthetic filaments, mixed mainly or solely with cotton, dyed.
5407.83.00 | Woven fabrics, less than 85 percent by weight of synthetic filaments, mixed mainly or solely with cotton, of yarns of different colors.
5407.84.00 | Woven fabrics, containing less than 85 percent by weight of synthetic filaments, mixed mainly or solely with cotton, printed.
5407.91.05 | Woven fabrics of synthetic filament yarn nesoi, containing 36 percent or more by weight of wool or fine animal hair, unbleached or bleached.
5407.91.10 | Woven fabrics of synthetic filament yarn nesoi, mixed mainly or solely with wool or fine animal hair, unbleached or bleached, nesoi.
5407.91.20 | Woven fabrics of synthetic filament yarn nesoi, unbleached or bleached, nesoi.
5407.92.05 | Woven fabrics of synthetic filament yarn nesoi, containing 36 percent or more by weight of wool or fine animal hair, dyed.
5407.92.10 | Woven fabrics of synthetic filament yarn nesoi, mixed mainly or solely with wool or fine animal hair, cont. <36% wool/fine animal hair, dyed.
5407.92.20 | Woven fabrics of synthetic filament yarn nesoi, dyed, nesoi.
5407.93.05 | Woven fabrics of synthetic filament yarn nesoi, containing 36% or more by weight of wool or fine animal hair, of yarns of different colors.
5407.93.10 | Woven fabrics of synthetic filament yarn nesoi, mixed mainly or solely with wool or fine animal hair, of yarns of different colors, nesoi.
5407.93.15 | Woven fabrics, cont. 85% or more of man-made filaments, thread count >69-142/cm warp and >31-71/cm filling, of different colored yarns.
5407.93.20 | Woven fabrics of synthetic filament yarn nesoi, of yarns of different colors, nesoi.
5407.94.05 | Woven fabrics of synthetic filament yarn nesoi, containing 36 percent or more by weight of wool or fine animal hair, printed.
5407.94.10 | Woven fabrics of synthetic filament yarn nesoi, mixed mainly/solely with wool/fine animal hair, contain <36% wool/fine animal hair, printed.
5407.94.20 | Woven fabrics of synthetic filament yarn nesoi, printed, nesoi.
5408.10.00 | Woven fabrics obtained from high tenacity yarn, of viscose rayon.
5408.21.00 | Woven fabrics, containing 85 percent or more by weight of artificial filament or strip or the like, unbleached or bleached.
5408.22.10 | Woven fabric, 85%+ artificial filament or strip or the like, dyed, of cuprammonium rayon.
5408.22.90 | Woven fabric, 85%+ artificial filament or strip or the like, dyed, not of cuprammonium rayon, nesoi.
5408.23.11 | Woven fabric, 85%+ artificial filament/strip, of yarns of different colors, >69-142 warp & >31-71 filling yarns, of cupra/rayon, nesoi.
5408.23.19 | Woven fabric, 85%+ artificial filament/strip, of yarns of different colors, >69-142 warp & >31-71 filling yarns, not of cupra/rayon, nesoi.
5408.23.21 | Woven fabric, 85%+ artificial filament/strip, of yarns of different colors, not 69-142 warp & 31-71 filling yarns, of cupra/rayon, nesoi.
5408.23.29 | Woven fabric, 85%+ artificial filament/strip, of yarns of different colors, not 69-142 warp & 31-71 filling yarns, not of cupra/rayon, nesoi.
5408.24.10 | Woven fabric, 85%+ artificial filament/strip, printed, of cuprammonium rayon, nesoi.
5408.24.90 | Woven fabric, 85%+ artificial filament/strip, printed, not of cuprammonium rayon, nesoi.
5408.31.05 | Woven fabrics of artificial filament yarn nesoi, containing 36 percent or more by wt of wool or fine animal hair, unbleached or bleached.
5408.31.10 | Woven fabrics of artificial filament yarn nesoi, mixed mainly or solely with wool or fine animal hair, unbleached or bleached, nesoi.
5408.31.20 | Woven fabrics of artificial filament yarn nesoi, unbleached or bleached, nesoi.
5408.32.05 | Woven fabrics of artificial filament yarn nesoi, containing 36 percent or more by wt of wool or fine animal hair, dyed.
5408.32.10 | Woven fabrics of artificial filament yarn nesoi, mixed mainly or solely with wool or fine animal hair, dyed, nesoi.
5408.32.30 | Woven fabrics of artificial filament yarn nesoi, dyed, 30 percent or more by wt of silk or silk waste, valued over $33/kg.
5408.32.90 | Woven fabrics of artificial filament yarn nesoi, dyed, nesoi.
5408.33.05 | Woven fabrics of artificial filament yarn nesoi, containing 36% or more by wt of wool or fine animal hair, of yarns of different colors.
5408.33.10 | Woven fabrics of artificial filament yarn nesoi, mixed mainly or solely with wool or fine animal hair, of yarns of different colors, nesoi.
5408.33.15 | Woven fabrics cont. 85% or more mm filaments nesoi, thread count >69-142/cm warp and >31-71/cm filling, of different colored yarns.
5408.33.30 | Woven fabrics of artificial filament yarn nesoi, of yarns of different colors, 30 percent or more of silk or silk waste, valued over $33/kg.
5408.33.90 | Woven fabrics of artificial filament yarn nesoi, of yarns of different colors, nesoi.
5408.34.05 | Woven fabrics of artificial filament yarn nesoi, containing 36 percent or more by weight of wool or fine animal hair, printed.
5408.34.10 | Woven fabrics of artificial filament yarn nesoi, mixed mainly or solely with wool or fine animal hair, printed, nesoi.
5408.34.30 | Woven fabrics of artificial filament yarn nesoi, printed, 30 percent or more by weight of silk or silk waste, valued over $33/kg.
5408.34.90 | Woven fabrics of artificial filament yarn nesoi, printed, nesoi.
5501.10.00 | Synthetic filament tow of nylon or other polyamides.
5501.20.00 | Synthetic filament tow of polyesters.
5501.30.00 | Synthetic filament tow of acrylic or modacrylic.
5501.40.00 | Synthetic filament tow, of polypropylene.
5501.90.01 | Synthetic filament tow, nesoi.
5502.10.00 | Artificial filament tow of cellulose acetate.
5502.90.00 | Artificial filament tow other than of cellulose acetate.
5503.11.00 | Synthetic staple fibers, n/carded, combed or otherwise processed for spinning, of aramids.
5503.19.10 | Synthetic staple fibers, n/carded, combed or otherwise processed for spinning, of nylon/other polyamides (except aramids), cont 10% or more.
5503.19.90 | Synthetic staple fibers, n/carded, combed or otherwise processed for spinning, of nylon or other polyamides (except aramids), nesoi.
5503.20.00 | Synthetic staple fibers, not carded, combed or otherwise processed for spinning, of polyesters.
5503.30.00 | Synthetic (acrylic or modacrylic) staple fibers, not carded, combed or otherwise processed for spinning.
5503.40.00 | Synthetic staple fibers, not carded, combed or otherwise processed for spinning, of polypropylene.
5503.90.10 | Synthetic staple fibers, not carded, combed or otherwise processed for spinning, of vinyon.
5503.90.90 | Synthetic staple fibers, not carded, combed or otherwise processed for spinning, nesoi.
5504.10.00 | Artificial staple fibers, not carded, combed or otherwise processed for spinning, of viscose rayon.
5504.90.00 | Artificial staple fibers, not carded, combed or otherwise processed for spinning, other than of viscose rayon.
5505.10.00 | Waste (including noils, yarn waste and garnetted stock) of synthetic fibers.
5505.20.00 | Waste (including noils, yarn waste and garnetted stock) of artificial fibers.
5506.10.00 | Synthetic staple fibers, carded, combed or otherwise processed for spinning, of nylon or other polyamides.
5506.20.00 | Synthetic staple fibers, carded, combed or otherwise processed for spinning, of polyesters.
5506.30.00 | Synthetic (acrylic or modacrylic) staple fibers, carded, combed or otherwise processed for spinning.
5506.40.00 | Synthetic staple fibers of polypropylene, carded, combed or otherwise processed for spinning.
5506.90.01 | Other Synthetic staple fibers nesoi, carded, combed or otherwise processed for spinning.
5507.00.00 | Artificial staple fibers, carded, combed or otherwise processed for spinning.
5508.10.00 | Sewing thread of synthetic staple fibers, whether or not put up for retail sale.
5508.20.00 | Sewing thread of artificial staple fibers, whether or not put up for retail sale.
5509.11.00 | Yarn (other than sewing thread) containing 85% or more by weight of nylon/polyamide staple fibers, singles, not put up for retail sale.
5509.12.00 | Yarn (other than sewing thread) cont. 85% or more by weight of nylon/polyamide staple fibers, multiple or cabled, not put up for retail sale.
5509.21.00 | Yarn (other than sewing thread) containing 85% or more by weight of polyester staple fibers, singles, not put up for retail sale.
5509.22.00 | Yarn (other than sewing thread) cont. 85% or more by weight of polyester staple fibers, multiple or cabled, not put up for retail sale.
5509.31.00 | Yarn (not sewing thread) cont. 85% or more by weight of acrylic or modacrylic staple fibers, singles, not put up for retail sale.
5509.32.00 | Yarn (not sewing thread) cont. 85% or more by wt. of acrylic or modacrylic staple fibers,multiple or cabled,not put up for retail sale.
5509.41.00 | Yarn (other than sewing thread) containing 85% or more by weight of synthetic staple fibers nesoi, singles, not put up for retail sale.
5509.42.00 | Yarn (other than sewing thread) cont. 85% or more by weight of synthetic staple fibers nesoi, multiple or cabled, not put up for retail sale.
5509.51.30 | Yarn (not sewing thread) of polyester staple fibers mixed mainly/solely with artificial staple fibers, single, not put up for retail sale.
5509.51.60 | Yarn (not sewing thread) of polyester staple fibers mixed mainly/solely with artificial staple fibers, multiple, not put up for retail sale.
5509.52.00 | Yarn (other than sewing thread) of polyester staple fibers mixed mainly/solely with wool or fine animal hair, not put up for retail sale.
5509.53.00 | Yarn (other than sewing thread) of polyester staple fibers mixed mainly or solely with cotton, not put up for retail sale.
5509.59.00 | Yarn (other than sewing thread) of polyester staple fibers nesoi, not put up for retail sale.
5509.61.00 | Yarn (other than sewing thread) of acrylic or modacrylic staple fibers mixed with wool or fine animal hair, not put up for retail sale.
5509.62.00 | Yarn (other than sewing thread) of acrylic or modacrylic staple fibers mixed mainly or solely with cotton, not put up for retail sale.
5509.69.20 | Yarn (not sew thread) of acrylic/modacrylic staple fibers mixed mainly/solely w/artificial staple fibers, singles, not for retail sale.
5509.69.40 | Yarn (not sewing thread) of acrylic/modacrylic staple fiber mixed mainly/solely w/artificial staple fiber, multiple or cabled, not retail sale.
5509.69.60 | Yarn (other than sewing thread) of acrylic or modacrylic staple fibers nesoi, not put up for retail sale.
5509.91.00 | Yarn (other than sewing thread) of synthetic staple fibers mixed mainly or solely with wool or fine animal hair, not put up for retail sale.
5509.92.00 | Yarn (other than sewing thread) of synthetic staple fibers mixed mainly or solely with cotton, not put up for retail sale.
5509.99.20 | Yarn (not sewing thread) of synthetic staple fibers nesoi, mixed mainly/solely w/artificial staple fibers, singles, not for retail sale.
5509.99.40 | Yarn (not sewing thread) of synthetic staple fibers nesoi, mixed mainly/solely w/artificial staple fibers, multiple, not for retail sale.
5509.99.60 | Yarn (other than sewing thread) of synthetic staple fibers nesoi, not put up for retail sale.
5510.11.00 | Yarn (other than sewing thread) containing 85% or more by weight of artificial staple fibers, singles, not put up for retail sale.
5510.12.00 | Yarn (other than sewing thread) cont. 85% or more by weight of artificial staple fibers, multiple or cabled, not put up for retail sale.
5510.20.00 | Yarn (other than sewing thread) of artificial staple fibers mixed mainly or solely with wool or fine animal hair, not put up for retail sale.
5510.30.00 | Yarn (other than sewing thread) of artificial staple fibers mixed mainly or solely with cotton, not put up for retail sale.
5510.90.20 | Yarn (other than sewing thread) of artificial staple fibers mixed mainly/solely with synthetic staple fibers, singles, not for retail sale.
5510.90.40 | Yarn (other than sewing thread) of artificial staple fibers mixed mainly/solely with synthetic staple fibers, multiple, not for retail sale.
5510.90.60 | Yarn (other than sewing thread) of artificial staple fibers nesoi, not put up for retail sale.
5511.10.00 | Yarn (other than sewing thread) of synthetic staple fibers, containing 85% or more by weight of such fibers, put up for retail sale.
5511.20.00 | Yarn (other than sewing thread) of synthetic staple fibers, containing less than 85% by weight of such fibers, put up for retail sale.
5511.30.00 | Yarn (other than sewing thread) of artificial staple fibers, put up for retail sale.
5512.11.00 | Woven fabrics containing 85% or more by weight of polyester staple fibers, unbleached or bleached.
5512.19.00 | Woven fabrics containing 85% or more by weight of polyester staple fibers, other than unbleached or bleached.
5512.21.00 | Woven fabrics containing 85% or more by weight of acrylic or modacrylic staple fibers, unbleached or bleached.
5512.29.00 | Woven fabrics containing 85% or more by weight of acrylic or modacrylic staple fibers, other than unbleached or bleached.
5512.91.00 | Woven fabrics, containing 85% or more by weight of synthetic fibers nesoi, unbleached or bleached.
5512.99.00 | Woven fabrics, containing 85% or more by weight of synthetic fibers nesoi, other than unbleached or bleached.
5513.11.00 | Woven fabric of poly staple fiber, <85% wt. poly staple fibers, mixed mainly/solely w/cotton, wt n/o 170 g/m2, plain weave, unbleached/bleached.
5513.12.00 | Woven 3-or 4-thread twill fabric of poly staple fib, <85% poly staple fiber, mixed mainly/solely w/cotton, wt n/o 170 g/m2, unbleached/bleached.
5513.13.00 | Woven fabrics of polyester staple fibers, <85% polyester staple fibers, mixed mainly/solely w/cotton, n/o 170 g/m2,unbleached/bleached, nesoi.
5513.19.00 | Woven fabrics of synthetic staple fibers nesoi, <85% by weight of such fibers, mixed with cotton, n/o 170g/m2, unbleached or bleached.
5513.21.00 | Woven fabrics of polyester staple fibers, <85% polyester staple fibers, mixed mainly/solely w/cotton, not over 170 g/m2, plain weave, dyed.
5513.23.01 | Woven fabrics of polyester staple fibers, <85% by wt polyester staple fibers, mixed mainly/solely w/cotton, not over 170 g/m2, dyed, nesoi.
5513.29.00 | Woven fabrics of synthetic staple fibers nesoi, <85% by wt of such fibers, mixed mainly/solely w/cotton, weighing n/o 170g/m2, dyed, nesoi.
5513.31.00 | Woven fabrics of poly staple fib, <85% polyester staple fibers, mixed mainly/solely w/cotton, n/o 170 g/m2, plain weave, of yarns of dif. colors.
5513.39.01 | Woven fabrics of synthetic staple fibers nesoi, <85% by wt of such fibers, mixed mainly/solely w/cotton, n/o 170g/m2, of dif. colored yarns.
5513.41.00 | Printed plain weave fabrics of poly staple fib, <85% by weight polyester staple fibers, mixed mainly/solely with cotton, n/o 170g/m2.
5513.49.10 | Printed 3-or 4-thread twill fabric of poly staple fib, incl cross twill, <85% wt poly staple fibers, mixed mainly/solely w/cotton, n/o 170g/m2.
5513.49.20 | Printed woven fabrics of polyester staple fibers, <85% by wt polyester staple fibers, mixed mainly/solely with cotton, weighing n/o 170g/m2.
5513.49.90 | Printed woven fabrics of synthetic staple fibers nesoi, <85% by weight of such fibers, mixed mainly or solely with cotton, n/o 170g/m2.
5514.11.00 | Plain weave fabrics of poly staple fiber, <85% wt polyester staple fibers, mixed mainly/solely w/cotton, wt ov 170 g/m2, unbleached/bleached.
5514.12.00 | Wov 3-or 4-thread twill fabric of poly staple fib, <85% polyester staple fiber, mixed mainly/solely w/cotton, ov 170 g/m2, unbleached/bleached.
5514.19.10 | Woven fabric of polyester staple fiber, <85% wt polyester, mixed mainly/solely w/cotton, over 170 g/m2, unbleached/bleached.
5514.19.90 | Unbleached or bleached woven fabric of synthetic staple fibers nesoi, <85% by wt of such fibers, mixed mainly/solely w/cotton, over 170g/m2.
5514.21.00 | Plain weave fabrics of polyester staple fiber, <85% by wt polyester staple fibers, mixed mainly/solely with cotton, over 170 g/m2, dyed.
5514.22.00 | Wov 3-or 4-thread twill fabric of poly staple fib, incl cross twill, <85% poly staple fibers, mixed mainly/solely w/cotton, ov 170 g/m2, dyed.
5514.23.00 | Woven fabrics of polyester staple fib, <85% by wt polyester staple fibers, mixed mainly/solely w/cotton, over 170 g/m2, dyed, nesoi.
5514.29.00 | Dyed woven fabrics of synthetic staple fibers nesoi, <85% by weight of such fibers, mixed mainly or solely with cotton, over 170g/m2.
5514.30.31 | Plain weave fabrics of poly staple fiber, <85% polyester staple fibers, mixed mainly/solely with cotton, ov 170 g/m2,of yarns of dif. colors.
5514.30.32 | Woven 3-or 4-thread twill fabric of poly staple fib, <85% poly staple fibers, mixed mainly/solely w/cotton, ov 170 g/m2, of yarn of dif. colors.
5514.30.33 | Woven fabrics of poly staple fiber, <85% polyester staple fibers, mixed mainly/solely w/cotton, ov 170 g/m2, of yarns of different colors, nesoi.
5514.30.39 | Woven fabrics of synthetic staple fibers nesoi, <85% by wt of such fibers, mixed mainly/solely w/cotton, ov 170g/m2, of dif. colored yarns.
5514.41.00 | Printed plain weave fabrics of polyester staple fiber, <85% by wt polyester staple fibers, mixed mainly or solely with cotton, over 170g/m2.
5514.42.00 | Printed 3-or 4-thread twill fab of poly staple fib, incl cross twill, <85% by wt poly staple fibers, mixed mainly/solely w/cotton, ov 170g/m.
5514.43.00 | Printed woven fabrics of polyester staple fiber, <85% by wt polyester staple fibers, mixed mainly/solely with cotton, over 170g/m2, nesoi.
5514.49.00 | Printed woven fabrics of synthetic staple fibers nesoi, <85% by weight of such fibers, mixed mainly or solely with cotton, over 170g/m2.
5515.11.00 | Woven fabrics of polyester staple fibers, mixed mainly or solely with viscose rayon staple fibers, nesoi.
5515.12.00 | Woven fabrics of polyester staple fibers, mixed mainly or solely with man-made filaments, nesoi.
5515.13.05 | Woven fabrics of polyester staple fibers, containing 36 percent or more by weight of wool or fine animal hair, nesoi.
5515.13.10 | Woven fabrics of polyester staple fibers, mixed mainly or solely with wool or fine animal hair, nesoi.
5515.19.00 | Woven fabrics of polyester staple fibers, nesoi.
5515.21.00 | Woven fabrics of acrylic or modacrylic staple fibers, mixed mainly or solely with man-made filaments, nesoi.
5515.22.05 | Woven fabrics of acrylic or modacrylic staple fibers, containing 36% or more by weight of wool or fine animal hair, nesoi.
5515.22.10 | Woven fabrics of acrylic or modacrylic staple fibers, mixed mainly or solely with wool or fine animal hair, nesoi.
5515.29.00 | Woven fabrics of acrylic or modacrylic staple fibers, nesoi.
5515.91.00 | Woven fabrics of synthetic staple fibers (not polyester/acrylic or modacrylic staple fiber) mixed mainly/solely w/man-made filaments, nesoi.
5515.99.05 | Woven fabrics of synthetic staple fibers (not polyester/acrylic or modacrylic staple fiber) contain 36% or more wool/fine animal hair, nesoi.
5515.99.10 | Woven fabrics of synthetic staple fibers (not polyester/acrylic/modacrylic staple fiber) mixed mainly/solely w/wool/fine animal hair, nesoi.
5515.99.90 | Woven fabrics of synthetic staple fibers (not of polyester, acrylic or modacrylic staple fibers), nesoi.
5516.11.00 | Woven fabrics of artificial staple fibers, containing 85% or more by weight of such fibers, unbleached or bleached.
5516.12.00 | Woven fabrics of artificial staple fibers, containing 85% or more by weight of such fibers, dyed.
5516.13.00 | Woven fabrics of artificial staple fibers, containing 85% or more by weight of such fibers, of yarns of different colors.
5516.14.00 | Woven fabrics of artificial staple fibers, containing 85% or more by weight of such fibers, printed.
5516.21.00 | Woven fabrics of artificial staple fibers, <85% by weight of such fibers, mixed mainly/solely with man-made filaments, unbleached/bleached.
5516.22.00 | Woven fabrics of artificial staple fibers, <85% by weight of such fibers, mixed mainly/solely with man-made filaments, dyed.
5516.23.00 | Woven fabrics of artificial staple fibers, <85% by wt of such fibers, mixed mainly/solely w/man-made filaments, of different colored yarns.
5516.24.00 | Woven fabrics of artificial staple fibers, <85% by weight of such fibers, mixed mainly or solely with man-made filaments, printed.
5516.31.05 | Woven fabrics of artificial staple fibers, <85% of such fibers, containing 36% or more of wool or fine animal hair,unbleached or bleached.
5516.31.10 | Woven fabrics of artificial staple fibers, <85% of such fibers, mixed mainly/solely w/wool or fine animal hair, unbleached/bleached, nesoi.
5516.32.05 | Woven fabrics of artificial staple fibers, <85% of such fibers, containing 36% or more of wool or fine animal hair, dyed.
5516.32.10 | Woven fabrics of artificial staple fibers, <85% by weight of such fibers, mixed mainly/solely with wool or fine animal hair, dyed, nesoi.
5516.33.05 | Woven fabrics of artificial staple fibers, <85% such fibers, containing 36% or more of wool or fine animal hair, of different colored yarns.
5516.33.10 | Woven fabrics of artificial staple fibers, <85% of such fiber, mixed mainly/solely w/wool or fine animal hair, of dif. colored yarns, nesoi.
5516.34.05 | Woven fabrics of artificial staple fibers, <85% of such fibers, containing 36% or more of wool or fine animal hair, printed.
5516.34.10 | Woven fabrics of artificial staple fibers, <85% of such fibers, mixed mainly or solely with wool or fine animal hair, printed, nesoi.
5516.41.00 | Woven fabrics of artificial staple fibers, <85% by weight of such fibers, mixed mainly or solely with cotton, unbleached or bleached.
5516.42.00 | Woven fabrics of artificial staple fibers, less than 85% by weight of such fibers, mixed mainly or solely with cotton, dyed.
5516.43.00 | Woven fabrics of artificial staple fibers, <85% by wt. of such fibers, mixed mainly or solely with cotton, of yarns of different colors.
5516.44.00 | Woven fabrics of artificial staple fibers, less than 85% by weight of such fibers, mixed mainly or solely with cotton, printed.
5516.91.00 | Woven fabrics of artificial staple fibers nesoi, unbleached or bleached, nesoi.
5516.92.00 | Woven fabrics of artificial staple fibers nesoi, dyed, nesoi.
5516.93.00 | Woven fabrics of artificial staple fibers nesoi, of yarns of different colors, nesoi.
5516.94.00 | Woven fabrics of artificial staple fibers nesoi, printed, nesoi.
5601.21.00 | Wadding of cotton and other articles of cotton wadding nesoi.
5601.22.00 | Wadding of man-made fibers and other articles of such wadding nesoi.
5601.29.00 | Wadding of textile materials (excluding cotton and man-made fibers) and articles thereof, nesoi.
5601.30.00 | Textile flock, not exceeding 5 mm in length, and textile dust and mill neps.
5602.10.10 | Laminated fabrics of needleloom felt or stitch-bonded fiber fabrics.
5602.10.90 | Needleloom felt and stitch-bonded fabrics, whether or not impregnated, coated or covered, nesoi.
5602.21.00 | Felt, excluding needleloom felt and stitch-bonded fiber fabrics, not impregnated, coated, covered or laminated, of wool or fine animal hair.
5602.29.00 | Felt, excluding needleloom felt and stitch-bonded fiber fabrics, not impregnated, coated, covered or laminated, of textile materials nesoi.
5602.90.30 | Laminated fabrics of felt, nesoi.
5602.90.60 | Felt, impregnated, coated or covered, of man-made fibers, nesoi.
5602.90.90 | Felt, impregnated, coated or covered, nesoi.
5603.11.00 | Nonwovens, of man-made filaments, weighing not >25 g/square m, whether or not impregnated, coated, covered or laminated.
5603.12.00 | Nonwovens, of man-made filaments, weighing >25 but not >70 g/square m, whether or not impregnated, coated, covered or laminated.
5603.13.00 | Nonwovens, of man-made filaments, weighing >70 but not >150 g/square m, whether or not impregnated, coated, covered or laminated.
5603.14.30 | Laminated nonwoven fabs, of man-made filaments, weighing >150 g/square m.
5603.14.90 | Nonwovens (except laminated), of man-made filaments, weighing >150 g/square m, whether or not impregnated, coated, or covered.
5603.91.00 | Nonwovens (not of man-made filaments), weighing not >25 g/square m, whether or not impregnated, coated, covered or laminated.
5603.92.00 | Nonwovens (not of man-made filaments), weighing >25 but not >70 g/square m, whether or not impregnated, coated, covered or laminated.
5603.93.00 | Nonwovens (not of man-made filaments), weighing >70 but not >150 g/square m, whether or not impregnated, coated, covered or laminated.
5603.94.10 | Nonwoven floor covering underlays (not of man-made filaments), weighing >150 g/square m, whether or not impreg, coated, cov or laminated.
5603.94.30 | Laminated nonwovens nesoi (not of man-made filaments), weighing >150 g/square m.
5603.94.90 | Nonwovens nesoi (not of man-made filaments), weighing >150 g/square m, whether or not impregnated, coated, covered but not laminated.
5604.10.00 | Rubber thread and cord, textile covered.
5604.90.20 | High tenacity yarn of polyesters, of nylon or other polyamides or of viscose rayon, impregnated or coated.
5604.90.90 | Textile yarn and strip and the like of heading 5404 or 5405, impregnated, coated, covered or sheathed with rubber or plastics, nesoi.
5605.00.10 | Metal coated or metal laminated man-made monofilament or strip or the like, ungimped & untwisted or w/twist of less than 5 turns per meter.
5605.00.90 | Metalized textile yarn nesoi, of man-made monofilament or strip or the like, other than ungimped or w/twist of <5 turns per meter.
5606.00.00 | Gimped yarn, and strip and the like of man-made monofilament; chenille yarn; loop wale-yarn.
5607.21.00 | Binder or baler twine, of sisal or other textile fibers of genus Agave.
5607.29.00 | Twine (except binder or baler twine), cordage, rope and cables of sisal or other textile fibers of genus Agave.
5607.41.10 | Binder or baler twine of wide nonfibrillated strip, of polyethylene or polypropylene.
5607.41.30 | Binder or baler twine, of polyethylene or polypropylene, nesoi.
5607.49.10 | Twine (other than binder or baler twine), cordage, rope and cables of wide nonfibrillated strip, of polyethylene or polypropylene.
5607.49.15 | Twine (ex binder/baler twine), cordage, rope and cables, of polyethylene or polypropylene, not braided or plaited, less than 4.8 mm in diam.
5607.49.25 | Twine (except binder or baler twine), cordage, rope and cables, of polyethylene or polypropylene, not braided or plaited, nesoi.
5607.49.30 | Twine (except binder or baler twine), cordage, rope and cables, of polyethylene or polypropylene, nesoi.
5607.50.25 | 3- or 4-ply multicolor twine of synthetic fibers nesoi at least 10% cotton, having “S” twist, <3.5 mm diameter, not braided or plaited.
5607.50.35 | Twine nesoi, cordage, rope and cables of synthetic fibers, other than of polyethylene or polypropylene, not braided or plaited.
5607.50.40 | Twine, cordage, rope and cables of synthetic fibers, other than of polyethylene or polypropylene, nesoi.
5607.90.10 | Twine, cordage, rope and cables, of coir.
5607.90.15 | Twine, cordage, rope and cables, of jute or other textile bast fibers (excluding flax, true hemp and ramie).
5607.90.25 | Twine, cordage, rope and cables of abaca or other hard (leaf) fibers, of stranded construction measuring 1.88 cm or over in diameter.
5607.90.35 | Twine, cordage, rope & cables of abaca or other hard (leaf) fibers, other than stranded construction or stranded n/o 1.88 cm in diameter.
5607.90.90 | Twine, cordage, rope and cables, of materials nesoi.
5608.11.00 | Made-up fishing nets, of man-made textile materials.
5608.19.10 | Fish netting (other than made-up fishing nets) of man-made textile materials.
5608.19.20 | Knotted netting of twine, cordage or rope (excluding fish netting or made-up fishing nets) of man-made textile materials.
5608.90.10 | Fish netting and fishing nets, of textile materials other than man-made materials.
5608.90.23 | Hammocks, of cotton.
5608.90.27 | Netting or nets, of cotton, other than hammocks or netting or nets for fishing.
5608.90.30 | Knotted netting of twine, cordage or rope or other made-up nets (not fish netting and nets) of textile materials (not cotton/man-made mat.).
5609.00.10 | Articles of yarn, strip, twine, cordage, rope or cables nesoi, of cotton.
5609.00.20 | Articles of yarn, strip, twine, cordage, rope or cables nesoi, of vegetable fibers except cotton.
5609.00.30 | Articles of yarn, strip, twine, cordage, rope or cables nesoi, of man-made fibers.
5609.00.40 | Articles of yarn, strip or the like of man-made monofilaments, twine, cordage, rope or cables, nesoi.
5701.10.13 | Carpet & other textile floor covering, hand-knotted/hand-inserted, w/ov 50% wt pile of fine animal hair, foregoing cert. hand-loomed & folklore.
5701.10.16 | Carpets & other textile floor coverings, hand-knotted or hand-inserted, w/ov 50% by weight of the pile of fine animal hair, nesoi.
5701.10.40 | Carpets and other textile floor coverings, of wool or fine animal hair, hand-hooked (tufts were inserted and knotted by hand or hand tool).
5701.10.90 | Carpets and other textile floor coverings, of wool or fine animal hair, not hand-hooked, not hand knotted during weaving.
5701.90.10 | Carpet and oth textile floor covering, knotted,of text. materials (not wool/hair) nesoi, pile inserted & knotted during weaving or knitting.
5701.90.20 | Carpet & oth textile floor covering, knotted, of text materials (not wool/hair) nesoi, not w/pile inserted & knotted during weaving/knitting.
5702.10.10 | Certified hand-loomed and folklore products being “Kelem”, “Schumacks”, “Karamanie” and similar hand-woven rugs.
5702.10.90 | “Kelem”, “Schumacks”, “Karamanie” and similar hand-woven rugs, other than certified hand-loomed and folklore products.
5702.20.10 | Floor coverings of coconut fibers (coir), woven, not tufted or flocked, with pile.
5702.20.20 | Floor coverings of coconut fibers (coir), woven, not tufted or flocked, other than with pile.
5702.31.10 | Wilton, velvet and like floor coverings of pile construction, woven, not tufted or flocked, not made up, of wool or fine animal hair.
5702.31.20 | Carpets and other textile floor coverings of pile construction, woven, not tufted or flocked, not made up, of wool/fine animal hair, nesoi.
5702.32.10 | Wilton, velvet and like floor coverings of pile construction, woven, not tufted or flocked, not made up, of man-made textile materials.
5702.32.20 | Carpets & other textile floor coverings of pile construction, woven, not tufted or flocked, not made up, of man-made textile materials, nesoi.
5702.39.10 | Carpets and other textile floor coverings of pile construction, woven, not tufted or flocked, not made up, of jute.
5702.39.20 | Carpets and other textile floor coverings of pile construction, woven, not tufted or flocked, not made up, of other textile materials nesoi.
5702.41.10 | Wilton, velvet and like floor coverings of pile construction, woven, not tufted or flocked, made up, of wool or fine animal hair.
5702.41.20 | Carpets and other textile floor coverings of pile construction, woven, not tufted or flocked, made up, of wool or fine animal hair, nesoi.
5702.42.10 | Wilton, velvet and like floor coverings of pile construction, woven, not tufted or flocked, made up, of man-made textile materials.
5702.42.20 | Carpets and other textile floor coverings, of pile construction, woven, not tufted or flocked, made up, of man-made textile materials, nesoi.
5702.49.10 | Carpets not other textile floor coverings of pile construction, woven, not tufted or flocked, made up, of cotton.
5702.49.15 | Carpets and other textile floor coverings of pile construction, woven, not tufted or flocked, made up, of jute.
5702.49.20 | Carpets & other textile floor coverings of pile construction, woven, not tufted or flocked, made up, of other textile materials nesoi.
5702.50.20 | Carpets & other textile floor coverings, not of pile construction, woven but not on a power-driven loom, not made up, of wool/fine animal hair.
5702.50.40 | Carpets & other textile floor coverings, not of pile construction, woven, not made up, of wool or fine animal hair, nesoi.
5702.50.52 | Carpets & other textile floor coverings, not of pile construction, woven, not made up, of man-made textile materials.
5702.50.56 | Carpets & other textile floor coverings, not of pile construction, woven, not made up, of cotton.
5702.50.59 | Carpets & other textile floor coverings, not of pile construction, woven, not made up, of other textile materials nesoi.
5702.91.20 | Certified hand-loomed & folklore floor covering, woven not on power-driven loom, not of pile construction, made up, of wool or fine animal hair.
5702.91.30 | Floor coverings, not of pile construction, woven not on power-driven loom, made up, of wool or fine animal hair, nesoi.
5702.91.40 | Carpets & other textile floor coverings, not of pile construction, woven nesoi, made up, of wool or fine animal hair, nesoi.
5702.92.10 | Hand-loomed carpet & other textile floor coverings, not of pile construction, woven, made up, of man-made textile materials, nesoi.
5702.92.90 | Carpet & other textile floor coverings, not of pile construction, woven, made up, of man-made textile materials, nesoi.
5702.99.05 | Hand-loomed carpets and other textile floor coverings, not of pile construction, woven, made up, of cotton.
5702.99.15 | Carpets and other textile floor coverings, not of pile construction, woven, made up, of cotton, nesoi.
5702.99.20 | Carpets & other textile floor coverings, not of pile construction, woven, made up, of other textile materials nesoi.
5703.10.20 | Hand-hooked carpets and other textile floor coverings, tufted, whether or not made up, of wool or fine animal hair.
5703.10.80 | Carpets and other textile floor coverings, tufted, whether or not made up, of wool or fine animal hair, nesoi.
5703.20.10 | Carpets and other textile floor coverings, tufted, whether or not made up, of nylon or other polyamides, hand-hooked.
5703.20.20 | Carpets and other textile floor coverings, tufted, whether or not made up, of nylon or other polyamides, nesoi.
5703.30.20 | Hand-hookded carpets & other textile floor coverings, tufted, whether or not made up, of man-made materials (not nylon/other polyamides).
5703.30.80 | Carpets & other textile floor coverings, tufted, whether or not made up, of man-made textile materials (not nylon/other polyamides), nesoi.
5703.90.00 | Carpets and other textile floor coverings, tufted, whether or not made up, of other textile materials nesoi.
5704.10.00 | Carpet tiles of felt, not tufted or flocked, whether or not made up, having a maximum surface area of 0.3 m2.
5704.20.00 | Carpet tiles of felt, not tufted or flocked, whether or not made up, having a maximum surface area exceeding 0.3 m2 but not exceeding 1 m2.
5704.90.01 | Carpets and other textile floor coverings of felt, not tufted or flocked, whether or not made up, other surface area.
5705.00.10 | Carpets and other textile floor coverings, whether or not made up, of coir, nesoi.
5705.00.20 | Carpets and other textile floor coverings, whether or not made up, nesoi.
5801.10.00 | Woven pile fabrics and chenille fabrics, other than fabrics of heading 5802 or 5806, of wool or fine animal hair.
5801.21.00 | Uncut weft pile fabrics of cotton, other than fabrics of heading 5802 or 5806.
5801.22.10 | Cut corduroy woven pile fabrics of cotton, greater than 7.5 wales per cm, other than fabrics of heading 5802 or 5806.
5801.22.90 | Cut corduroy woven pile fabrics of cotton, less than 7.5 wales per cm, other than fabrics of heading 5802 or 5806.
5801.23.00 | Weft pile fabrics, cut, of cotton, other than fabrics of heading 5802 or 5806, nesoi.
5801.26.00 | Chenille fabrics of cotton, other than fabrics of heading 5802 or 5806.
5801.27.10 | Warp pile fabrics, epingle (uncut), of cotton, other than fabrics of heading 5802 or 5806.
5801.27.50 | Warp pile fabrics, cut, of cotton, other than fabrics of heading 5802 or 5806.
5801.31.00 | Uncut weft pile fabrics of man-made fibers, other than fabrics of heading 5802 or 5806.
5801.32.00 | Cut corduroy of man-made fibers, other than fabrics of heading 5802 or 5806.
5801.33.00 | Weft pile fabrics of man-made fibers, cut, other than fabrics of heading 5802 or 5806, nesoi.
5801.36.00 | Chenille fabrics of man-made fibers, other than fabrics of heading 5802 or 5806.
5801.37.10 | Warp pile fabrics, epingle (uncut), of man-made fibers, other than fabrics of heading 5802 or 5806.
5801.37.50 | Warp pile fabrics, cut, of man-made fibers, other than fabrics of heading 5802 or 5806.
5801.90.10 | Woven pile fabrics and chenille fabrics of vegetable fibers except cotton, other than fabrics of heading 5802 or 5806.
5801.90.20 | Woven pile fabrics and chenille fabrics of textile materials nesoi, other than fabrics of heading 5802 or 5806.
5802.11.00 | Terry toweling and similar woven terry fabrics (other than narrow fabrics of heading 5806) of cotton, unbleached.
5802.19.00 | Terry toweling and similar woven terry fabrics (other than narrow fabrics of heading 5806) of cotton, other than unbleached.
5802.20.00 | Terry toweling and similar woven terry fabrics (other than narrow fabrics of heading 5806) of textile materials other than cotton.
5802.30.00 | Tufted textile fabrics, other than products of heading 5703.
5803.00.10 | Gauze (other than narrow fabrics of heading 5806) of cotton.
5803.00.20 | Gauze (other than narrow fabrics of heading 5806) tapestry and upholstery fabrics, of wool or fine animal hair, weighing not over 140 g/m2.
5803.00.30 | Gauze (not narrow fabrics of heading 5806), except tapestry and upholstery fabrics, of wool or fine animal hair, weighing n/o 140 g/m2.
5803.00.40 | Gauze (other than narrow fabrics of heading 5806) of vegetable fibers except cotton.
5803.00.50 | Gauze (other than narrow fabrics of heading 5806) of man-made fibers.
5803.00.90 | Gauze (other than narrow fabrics of heading 5806) of other textile materials nesoi.
5804.10.10 | Tulles and other net fabrics (not including woven, knitted or crocheted fabrics) of cotton or man-made fibers.
5804.10.90 | Tulles and other net fabrics (not including woven, knitted or crocheted fabrics) of textile fibers except cotton or man-made.
5804.21.00 | Mechanically made lace, in the piece, in strips or in motifs (not fabric of heading 6002), of man-made fibers.
5804.29.10 | Mechanically made lace, in the piece, in strips or in motifs (not fabric of heading 6002), of cotton.
5804.29.90 | Mechanically made lace, in the piece, in strips or in motifs (not fabric of heading 6002), of textile materials (not cotton or mm fibers).
5804.30.00 | Hand-made lace, in the piece, in strips or in motifs (other than fabrics of heading 6002).
5805.00.10 | Hand-woven tapestries of the type Gobelins, Flanders, Aubusson, Beauvais and the like, used only as wall hangings, valued over $215/m2.
5805.00.20 | Certified hand-loomed and folklore hand-woven tapestries nesoi and needle-worked tapestries, of wool or fine animal hair.
5805.00.25 | Hand-woven tapestries nesoi and needle-worked tapestries, of wool or fine animal hair.
5805.00.30 | Hand-woven tapestries nesoi and needle-worked tapestries, of cotton.
5805.00.40 | Hand-woven tapestries nesoi and needle-worked tapestries, other than of cotton, wool or fine animal hair.
5806.10.10 | Narrow woven pile fabrics (including terry toweling and the like) and chenille fabrics (other than goods of heading 5807) of cotton.
5806.10.24 | Narrow woven pile fastener fabric tapes (other than goods of heading 5807) of man-made fibers.
5806.10.28 | Narrow woven pile fabrics, incl terry toweling/chenille fabric (excl fastener fabric tape) (other than goods of heading 5807) of m-m fibers.
5806.10.30 | Narrow woven pile fabrics (including terry toweling/the like) & chenille fabrics, except of cotton or of m-m fibers (not goods of head 5807).
5806.20.00 | Narrow woven fabrics (not goods of heading 5807), not pile, containing by weight 5 percent or more of elastomeric yarn or rubber thread.
5806.31.00 | Narrow woven fabrics (other than goods of heading 5807), not pile, not cont by wt 5% or more of elastomeric yarn or rubber, of cotton, nesoi.
5806.32.10 | Woven ribbons of man-made fibers, not pile, not cont by wt 5% or more of elastomeric yarn or rubber.
5806.32.20 | Narrow woven fabrics (other than ribbons), not pile, of man-made fibers, not cont by wt 5% or more of elastomeric yarn or rubber.
5806.39.10 | Narrow woven fabrics (not goods of heading 5807), not pile, of wool/fine animal hair, not cont by wt 5% or more elastomeric yarn or rubber.
5806.39.20 | Narrow woven fabric (not good of heading 5807), not pile, of vegetable fibers except cotton, not cont by wt 5% or more elastomer yarn/rubber.
5806.39.30 | Narrow woven fabrics (not goods of heading 5807), not pile, of textile materials nesoi, not cont by wt 5% or more elastomeric yarn or rubber.
5806.40.00 | Narrow fabrics consisting of warp without weft assembled by means of an adhesive (bolducs).
5807.10.05 | Labels, in the piece, in strips or cut to shape or size, woven, not embroidered, of cotton or man-made fibers.
5807.10.15 | Labels, in the piece, in strips or cut to shape or size, woven, not embroidered, of textile materials other than cotton or man-made fibers.
5807.10.20 | Woven badges and similar articles of textile materials (except labels), in the piece, in strips or cut to shape or size, not embroidered.
5807.90.05 | Labels, in the piece, in strips or cut to shape or size, nonwoven, not embroidered, of cotton or man-made fibers.
5807.90.15 | Labels, in the piece, in strips or cut to shape or size, nonwoven, not embroidered, of textile materials other than cotton or man-made fiber.
5807.90.20 | Badges & similar articles (except labels) of textile materials, not woven, not embroidered, in the piece, in strips or cut to shape or size.
5808.10.10 | Braids, in the piece, of abaca or ramie, suitable for making or ornamenting headwear.
5808.10.40 | Braids in the piece, suitable for making or ornamenting headwear, of cotton or man-made fibers.
5808.10.50 | Braids in the piece, suitable for making or ornamenting headwear, of textile materials other than cotton or man-made fibers.
5808.10.70 | Braids in the piece, not suitable for making or ornamenting headwear, of cotton or man-made fibers.
5808.10.90 | Braids in the piece, not suitable for making or ornamenting headwear, of textile materials other than cotton or man-made fibers.
5808.90.00 | Ornamental trimmings in the piece, without embroidery, other than knitted or crocheted; tassels, pompons and similar articles.
5809.00.00 | Woven fabrics of metal thread & woven fabrics of metallized yarn of heading 5605, used in apparel, as furnishing fabrics or the like, nesoi.
5810.10.00 | Embroidery in the piece, in strips or in motifs, without visible ground.
5810.91.00 | Embroidery of cotton, in the piece, in strips or in motifs, other than without visible ground.
5810.92.10 | Badges, emblems, and motifs of man-made fibers, embroidered, in the piece or in strips, other than without visible ground.
5810.92.90 | Embroidery in the piece or in strips (excluding badges, emblems and motifs), of man-made fibers, other than without visible ground.
5810.99.10 | Embroidery in the piece, in strips or in motifs, of wool or fine animal hair, other than without visible ground.
5810.99.90 | Embroidery in piece/strips/motifs,of textile material except cotton, man-made fiber, wool or fine animal hair, other than w/o visible ground.
5811.00.10 | Quilted textile products in the piece (excluding embroidery), of one or more layers assembled with padding, of wool or fine animal hair.
5811.00.20 | Quilted textile products in the piece (excluding embroidery), of one or more layers assembled with padding, of cotton.
5811.00.30 | Quilted textile products in the piece (excluding embroidery), of one or more layers assembled with padding, of man-made fibers.
5811.00.40 | Quilted textile products in the piece (excluding embroidery), of one or more layers assembled with padding, of textile materials nesoi.
5901.10.10 | Textile fabrics coated with gum or amylaceous substances, of a kind used for outer covers of books or the like, of man-made fibers.
5901.10.20 | Textile fabrics coated with gum or amylaceous substances, of a kind used for outer covers of books or the like, other than man-made fibers.
5901.90.20 | Tracing cloth, prepared painting canvas, buckram and similar stiffened textile fabrics used in hat foundations, of man-made fibers.
5901.90.40 | Tracing cloth, prepared painting canvas, buckram and similar stiffened textile fabrics used in hat foundations, except of man-made fibers.
5902.10.00 | Tire cord fabric of high tenacity yarn of nylon or other polyamides.
5902.20.00 | Tire cord fabric of high tenacity yarn of polyesters.
5902.90.00 | Tire cord fabric of high tenacity yarns of viscose rayon.
5903.10.10 | Textile fabrics of cotton, impregnated, coated, covered or laminated with polyvinyl chloride.
5903.10.15 | Textile fabric spec in note 9 to sect XI, of man-made fibers, impreg, coated, covered or laminated w/polyvinyl chloride, over 60% plastics.
5903.10.18 | Textile fabrics spec in note 9 to section XI, of man-made fibers, impregnated, coated, covered or laminated with polyvinyl chloride, nesoi.
5903.10.20 | Textile fabrics nesoi,of man-made fibers, impregnated, coated, covered or laminated with polyvinyl chloride, over 70% wt. rubber or plastics.
5903.10.25 | Textile fabrics nesoi,of man-made fibers, impregnated, coated, covered or laminated with polyvinyl chloride, n/o 70% by wt. rubber or plastics.
5903.10.30 | Textile fabrics nesoi, impregnated, coated, covered or laminated with polyvinyl chloride, other than those of heading 5902.
5903.20.10 | Textile fabrics of cotton, impregnated, coated, covered or laminated with polyurethane.
5903.20.15 | Textile fabrics spec in note 9 to section XI, of man-made fibers, impreg, coated, covered or laminated with polyurethane, over 60% plastics.
5903.20.18 | Textile fabrics specified in note 9 to section XI, of man-made fibers, impregnated, coated, covered or laminated with polyurethane, nesoi.
5903.20.20 | Textile fabrics of man-made fibers, impregnated, coated, covered or laminated with polyurethane, over 70% weight rubber or plastics.
5903.20.25 | Textile fabrics of man-made fibers, impregnated, coated, covered or laminated with polyurethane, n/o 70% by weight rubber or plastics.
5903.20.30 | Textile fabrics nesoi, impregnated, coated, covered or laminated with polyurethane.
5903.90.10 | Textile fabrics of cotton, impregnated, coated, covered or laminated with plastics nesoi, other than those of heading 5902.
5903.90.15 | Textile fabrics spec in note 9 to section XI, of man-made fibers, impreg, coated, covered or laminated w/plastics, nesoi, over 60% plastics.
5903.90.18 | Textile fabrics specified in note 9 to section XI, of man-made fabrics, impregnated, coated, covered or laminated with plastics, nesoi.
5903.90.20 | Textile fabrics of man-made fibers, impregnated, coated, covered or laminated with plastics, nesoi, over 70% weight rubber or plastics.
5903.90.25 | Textile fabrics of man-made fibers, impregnated, coated, covered or laminated with plastics, nesoi, n/o 70% by weight rubber or plastics.
5903.90.30 | Textile fabrics nesoi, impreg, coated, covered or laminated w/plastics other than vinyl chloride or polyurethane, other than those head 5902.
5904.10.00 | Linoleum, whether or not cut to shape.
5904.90.10 | Floor coverings consisting of a coating or covering applied on a textile backing, with a base consisting of needleloom felt or nonwovens.
5904.90.90 | Floor coverings consisting of a coating or covering applied on textile backing, with textile base other than of needleloom felt or nonwovens.
5905.00.10 | Textile wall coverings backed with permanently affixed paper.
5905.00.90 | Textile wall coverings, nesoi.
5906.10.00 | Rubberized textile fabric adhesive tape of a width not exceeding 20 cm (other than fabric of heading 5902).
5906.91.10 | Rubberized textile fabrics of cotton, knitted or crocheted (other than fabric of heading 5902.
5906.91.20 | Rubberized textile fabrics (other than of heading 5902) nesoi, knitted or crocheted, of man-made fibers, ov 70% by wt of rubber or plastics.
5906.91.25 | Rubberized textile fabrics (other than of head 5902), nesoi, knitted or crocheted, of man-made fibers, n/o 70% by wt of rubber or plastics.
5906.91.30 | Rubberized textile fabrics (other than of heading 5902) nesoi, knitted or crocheted, other than of cotton or man-made fibers.
5906.99.10 | Rubberized textile fabrics not knitted or crocheted, of cotton, other than fabrics of heading 5902.
5906.99.20 | Rubberized textile fabrics (other than of head 5902), nesoi, not knitted or crocheted, of man-made fibers, ov 70% by wt of rubber/plastics.
5906.99.25 | Rubberized textile fabrics (other than of head 5902), nesoi, not knitted or crocheted, of man-made fibers, n/o 70% by wt of rubber/plastics.
5906.99.30 | Rubberized textile fabrics, not knitted or crocheted, other than those of heading 5902, nesoi.
5907.00.05 | Laminated fabrics specified in note 9 to sect. XI of HTS, of m-m fiber, for theatrical, ballet, & operatic scenery & properties, incl sets.
5907.00.15 | Laminated fabrics spec in note 9 to sect XI of HTS, of m-m fiber, other than theatrical, ballet, & operatic scenery & properties, incl sets.
5907.00.25 | Lam fabs specified in nte 9 to sect. XI of HTS, of tx mats except m-m fiber, for theatrical, ballet, & opera scenery & properties, incl sets.
5907.00.35 | Lam fabs specified in nte 9 to sect. XI of HTS, of tx mats except m-m fiber, other than theatrical, ballet, & oper scenery & prop, incl sets.
5907.00.60 | Other fabric, impregnated, coated or covered, and painted canvas being theatrical scenery, back-cloths or the like, of man-made fibers.
5907.00.80 | Other fabric, impregnated, coated or covered, & painted canvas being theatrical scenery, back-cloths or the like, other than man-made fibers.
5908.00.00 | Textile wicks, woven, plaited or knitted, for lamps, stoves, candles and the like; gas mantles and tubular knitted gas mantle fabric.
5909.00.10 | Textile hosepiping and similar textile tubing of vegetable fibers, with or without lining, armor or accessories of other materials.
5909.00.20 | Textile hosepiping and similar textile tubing nesoi, with or without lining, armor or accessories of other materials.
5910.00.10 | Transmission or conveyor belts or belting of man-made fibers.
5910.00.90 | Transmission or conveyor belts or belting of textile materials, other than man-made fibers.
5911.10.10 | Printers' rubberized blankets of textile fabrics.
5911.10.20 | Textile fabrics, felt and felt-lined woven fabrics, combined with layer(s) of rubber, leather or other material, for technical uses, nesoi.
5911.20.10 | Bolting cloth fabrics principally used for stenciling purposes in screen-process printing, whether or not made up.
5911.20.20 | Bolting cloth nesoi, of silk, whether or not made up.
5911.20.30 | Bolting cloth, whether or not made up, nesoi.
5911.31.00 | Textile fabrics and felts, endless or fitted with linking devices, used for papermaking or similar machines, weighing less than 650 g/m2.
5911.32.00 | Textile fabrics and felts, endless or fitted with linking devices, used for papermaking or similar machines, weighing 650 g/m2 or more.
5911.40.00 | Straining cloth of a kind used in oil presses or the like, of textile material or of human hair.
5911.90.00 | Textile products and articles, of a kind used in machinery or plants for technical uses, specified in note 7 to chapter 59, nesoi.
6001.10.20 | Knitted or crocheted “long pile” fabrics of man-made fibers.
6001.10.60 | Knitted or crocheted “long pile” fabrics, other than of man-made fibers.
6001.21.00 | Knitted or crocheted looped pile fabrics of cotton.
6001.22.00 | Knitted or crocheted looped pile fabrics of man-made fibers.
6001.29.00 | Knitted or crocheted looped pile fabrics of textile materials, other than of cotton or man-made fibers.
6001.91.00 | Knitted or crocheted pile fabrics (other than “long pile” or looped pile) of cotton.
6001.92.00 | Knitted or crocheted pile fabrics (other than “long pile” or looped pile) of man-made fibers.
6001.99.10 | Knitted or crocheted pile fabrics (except long or looped pile), of tex mats other than cotton or mmf, containing 85% or more by wt of silk.
6001.99.90 | Knitted or crocheted pile fabrics (except long or looped pile), of tex mats other than cotton or mmf, cont less than 85% by wt of silk,.
6002.40.40 | Knitted or crocheted fabrics nesoi, width not exceeding 30 cm, containing 5% or more elastomeric yarn but no rubber thread, of cotton.
6002.40.80 | Knitted or crocheted fabrics nesoi, width n/o 30 cm, containing 5% or more elastomeric yarn but no rubber thread, other than of cotton.
6002.90.40 | Knitted or crocheted fabrics nesoi, width not exceeding 30 cm, containing 5% or more elastomeric yarn or rubber thread nesoi, of cotton.
6002.90.80 | Knitted or crocheted fabrics nesoi, width n/o 30 cm, containing 5% or more elastomeric yarn or rubber thread nesoi, other than of cotton.
6003.10.10 | Warp knit open-worked fabrics of wool or fine animal hair, width not exceeding 30 cm, other than those of heading 6001 or 6002.
6003.10.90 | Knitted or crocheted fabrics of wool or fine animal hair nesoi, width not exceeding 30 cm, other than those of heading 6001 or 6002.
6003.20.10 | Warp knit open-worked fabrics of cotton, width not exceeding 30 cm, other than those of heading 6001 or 6002.
6003.20.30 | Knitted or crocheted fabrics of cotton (other than warp knit open-worked), width not exceed 30 cm, other than those of heading 6001 or 6002.
6003.30.10 | Warp knit open-worked fabrics of synthetic fibers, width not exceeding 30 cm, other than those of heading 6001 or 6002.
6003.30.60 | Knitted or crocheted fabrics of synthetic fibers nesoi, width not over 30 cm, other than those of heading 6001 or 6002.
6003.40.10 | Warp knit open-worked fabrics of artificial fibers, width not exceeding 30 cm, other than those of heading 6001 or 6002.
6003.40.60 | Knitted or crocheted fabrics of artifical fibers nesoi, width not over 30 cm, other than those of heading 6001 or 6002.
6003.90.10 | Warp knit open-worked fabrics nesoi, width not exceeding 30 cm, other than those of heading 6001 or 6002.
6003.90.90 | Knitted or crocheted fabrics nesoi, width not exceeding 30 cm, other than those of heading 6001 or 6002.
6004.10.00 | Knitted or crocheted fabrics, width exceeding 30 cm, containing 5% or more of elastomeric yarn but no rubber thread, not of heading 6001.
6004.90.20 | Knitted or crocheted fabrics, width exceeding 30 cm, containing 5% or more of elastomeric yarn and rubber thread, other than of heading 6001.
6004.90.90 | Knitted or crocheted fabrics, width exceeding 30 cm, containing 5% or more of rubber thread, other than those of heading 6001.
6005.21.00 | Unbleached or bleached warp knit fabrics (including those made on galloon knitting machines) of cotton, other than of headings 6001 to 6004.
6005.22.00 | Dyed warp knit fabrics (including those made on galloon knitting machines) of cotton, other than those of headings 6001 to 6004.
6005.23.00 | Warp knit fabrics of yarns of different colors (including made on galloon knitting machines) of cotton, other than headings 6001 to 6004.
6005.24.00 | Printed warp knit fabrics (including those made on galloon knitting machines) of cotton, other than those of headings 6001 to 6004.
6005.35.00 | Wrap knit fabrics of synthetic fibers, specified in subheading note 1 to this chapter excluding headings 6001 to 6004.
6005.36.00 | Other wrap knit fabrics of synthetic fibers, bleached or unbleached, but not dyed and not specified in subheading note 1 to this chapter.
6005.37.00 | Other wrap knit fabrics of synthetic fibers, dyed, not specified in subheading note 1 to this chapter.
6005.38.00 | Other wrap knit fabrics of synthetic fibers, of yarns of different colors, not specified in subheading note 1 to this chapter.
6005.39.00 | Other wrap knit fabrics of synthetic fibers, printed, not specified in subheading note 1 to this chapter.
6005.41.00 | Unbleached or bleached warp knit fabrics (including made on galloon knitting machines) of artificial fiber, other than headings 6001 to 6004.
6005.42.00 | Dyed warp knit fabrics (including those made on galloon knitting machines) of artificial fibers, other than those of headings 6001 to 6004.
6005.43.00 | Warp knit fabrics of yarn of different color (including made on galloon knitting machine) of artificial fiber, other than headings 6001-6004.
6005.44.00 | Printed warp knit fabrics (including those made on galloon knitting machine) of artificial fibers, other than those of headings 6001 to 6004.
6005.90.10 | Warp knit fabrics (including those made on galloon knitting machines) of wool or fine animal hair, other than those of headings 6001 to 6004.
6005.90.90 | Warp knit fabric (including made on galloon knit machine), not of wool/fine animal hair, cotton or manmade fiber, not of headings 6001-6004.
6006.10.00 | Knitted or crocheted fabrics of wool or fine animal hair, nesoi.
6006.21.10 | Unbleached or bleached circular knit fabric, wholly of cotton yarns over 100 metric number per single yarn, nesoi.
6006.21.90 | Unbleached or bleached knitted or crocheted fabrics of cotton, nesoi.
6006.22.10 | Dyed circular knit fabric, wholly of cotton yarns over 100 metric number per single yarn, nesoi.
6006.22.90 | Dyed knitted or crocheted fabrics of cotton, nesoi.
6006.23.10 | Circular knit fabric, of yarns of different colors, wholly of cotton yarns over 100 metric number per single yarn, nesoi.
6006.23.90 | Knitted or crocheted fabrics of cotton, of yarns of different colors, nesoi.
6006.24.10 | Printed circular knit fabric, wholly of cotton yarns over 100 metric number per single yarn, nesoi.
6006.24.90 | Printed knitted or crocheted fabrics of cotton, nesoi.
6006.31.00 | Unbleached or bleached knitted or crocheted fabrics of synthetic fibers, nesoi.
6006.32.00 | Dyed knitted or crocheted fabrics of synthetic fibers, nesoi.
6006.33.00 | Knitted or crocheted fabrics of synthetic fibers, of yarns of different colors, nesoi.
6006.34.00 | Printed knitted or crocheted fabrics of synthetic fibers, nesoi.
6006.41.00 | Unbleached or bleached knitted or crocheted fabrics of artificial fibers, nesoi.
6006.42.00 | Dyed knitted or crocheted fabrics of artificial fibers, nesoi.
6006.43.00 | Knitted or crocheted fabrics of artificial fibers, of yarns of different colors, nesoi.
6006.44.00 | Printed knitted or crocheted fabrics of artificial fibers, nesoi.
6006.90.10 | Other knitted or crocheted fabrics nesoi, containing 85 percent or more by weight of silk or silk waste.
6006.90.90 | Other knitted or crocheted fabrics nesoi, other than of wool, cotton or manmade fibers & containing <85% by wt of silk/silk waste.
6501.00.30 | Hat forms, hat bodies and hoods, not blocked to shape or with made brims; plateaux & manchons; all of fur felt, for men or boys.
6501.00.60 | Hat forms, hat bodies and hoods, not blocked to shape or with made brims; plateaux & manchons; all of fur felt, not for men or boys.
6501.00.90 | Hat forms, hat bodies and hoods, not blocked to shape or with made brims; plateaux & manchons; all of felt, other than fur felt.
6502.00.20 | Hat shapes, plaited or assembled from strips, not blocked/lined/trimmed & w/o made brims, of veg. fibers or materls, or paper yarn, sewed.
6502.00.40 | Hat shapes, plaited or asmbld from strips, n/blocked/lined/trimmed & w/o made brims, of veg. fibers or materls, not sewed/bleached/colored.
6502.00.60 | Hat shapes, plaited or asmbld from strips, n/blocked/lined/trimmed & w/o made brims, of veg. fibers or materls, not sewed but bleachd/colord.
6502.00.90 | Hat shapes, plaited or assembled from strips, not blocked/lined/trimmed & w/o made brims, not veg. fibers/veg. materials/paper yarn, nesoi.
6504.00.30 | Hats and headgear, plaited or assembled from strips of veg. fibers or unspun fibrous veg. materials and/or paper yarn, sewed.
6504.00.60 | Hats and headgear, plaited or assembled from strips of veg. fibers or unspun fibrous veg. materials and/or paper yarn, not sewed.
6504.00.90 | Hats and headgear, plaited or assembled from strips of any material (o/than veg. fibers/unspun fibrous veg. materials and/or paper yarn).
6505.00.01 | Hair-nets of any material, whether or not lined or trimmed.
6505.00.04 | Hats and headgear of fur felt made from hat forms and hat bodies of 6501.
6505.00.08 | Hats and headgear made from hat forms and hat bodies of 6501, except of fur felt.
6505.00.15 | Hats and headgear, of cotton and/or flax, knitted.
6505.00.20 | Headwear, of cotton, not knitted; certified hand-loomed and folklore hats & headgear, of cotton or flax, not knitted.
6505.00.25 | Hats and headgear, of cotton or flax, not knitted, not certified hand-loomed folklore goods.
6505.00.30 | Hats and headgear, of wool, knitted or crocheted or made up from knitted or crocheted fabric.
6505.00.40 | Hats and headgear, of wool, made up from felt or of textile material, not knitted or crocheted or made up from knitted or crocheted fabric.
6505.00.50 | Hats and headgear, of man-made fibers, knitted or crocheted or made up from knitted or crocheted fabric, wholly or in part of braid.
6505.00.60 | Hats and headgear, of man-made fibers, knitted or crocheted or made up from knitted or crocheted fabrics, not in part of braid.
6505.00.70 | Hats and headgear, of man-made fibers, made up from felt or of textile material, not knitted or crocheted, wholly or in part braid.
6505.00.80 | Hats and headgear, of man-made fibers, made up from felt or of textile material, not knitted or crocheted, not in part of braid.
6505.00.90 | Hats and headgear, of textile materials (other than of cotton, flax, wool or man-made fibers), nesoi.
6506.10.30 | Safety headgear of reinforced or laminated plastics, whether or not lined or trimmed.
6506.10.60 | Safety headgear, other than of reinforced or laminated plastics, whether or not lined or trimmed.
6506.91.00 | Headgear (other than safety headgear), nesoi, of rubber or plastics, whether or not lined or trimmed.
6506.99.30 | Headgear, nesoi, of furskin, whether or not lined or trimmed.
6506.99.60 | Headgear (other than safety headgear), nesoi, of materials other than rubber, plastics, or furskins, whether or not lined or trimmed.
6507.00.00 | Headbands, linings, covers, hat foundations, hat frames, peaks (visors) and chinstraps, for headgear.
6701.00.30 | Articles of feathers or down (other than articles & apparel filled or stuffed with feathers/down and worked quills & scapes).
6701.00.60 | Skins and o/parts of birds w/their feathers or down, feathers, pts of feathers/down, nesoi.
6801.00.00 | Setts, curbstones and flagstones, of natural stone (except slate).
6802.10.00 | Tiles/cubes/similar arts. of natural stone, enclosable in a sq. w/a side less than 7 cm; artificially colored granules, chippings & powder.
6802.21.10 | Monumental or building stone & arts. thereof, of travertine, simply cut/sawn, w/flat or even surface.
6802.21.50 | Monumental or building stone & arts. thereof, of marble & alabaster, simply cut/sawn, w/flat or even surface.
6802.23.00 | Monumental or building stone & arts. thereof, of granite, simply cut/sawn, w/flat or even surface.
6802.29.10 | Monumental or building stone & arts. thereof, of calcareous stone, nesoi, simply cut/sawn, w/flat or even surface.
6802.29.90 | Monumental or building stone & arts. thereof, of stone, nesoi, simply cut/sawn, w/flat or even surface.
6802.91.05 | Marble slabs, further worked than simply cut/sawn.
6802.91.15 | Monumental or building stone & arts. thereof (o/than slabs), of marble, further worked than simply cut/sawn, nesoi.
6802.91.20 | Monumental or building stone & arts. thereof, of travertine, dressed or polished but not further worked, nesoi.
6802.91.25 | Monumental or building stone & arts. thereof, of travertine, further worked than dressed or polished, nesoi.
6802.91.30 | Monumental or building stone & arts. thereof, of alabaster, further worked than simply cut/sawn, nesoi.
6802.92.00 | Monumental or building stone & arts. thereof, of calcareous stone, nesoi, further worked than simply cut/sawn, nesoi.
6802.93.00 | Monumental or building stone & arts. thereof, of granite, further worked than simply cut/sawn, nesoi.
6802.99.00 | Monumental or building stone & arts. thereof, nesoi, further worked than simply cut/sawn, nesoi.
6803.00.10 | Roofing slate.
6803.00.50 | Worked slate (other than roofing slate) and articles of slate or agglomerated slate.
6804.10.00 | Millstones and grindstones for milling, grinding or pulping.
6804.21.00 | Millstones, grindstones, grinding wheels and the like, nesoi, of agglomerated synthetic or natural diamond.
6804.22.10 | Millstones, grindstones, grinding wheels and the like, nesoi, of agglomerated abrasives nesoi, or ceramics, bonded with synthetic resins.
6804.22.40 | Abrasive wheels of agglomerated abrasives nesoi, or ceramics, not bonded with synthetic resins.
6804.22.60 | Millstones, grindstones, grinding wheels and the like, nesoi, of agglomerated abrasives nesoi, or ceramics, not bonded w/synthetic resins.
6804.23.00 | Millstones, grindstones, grinding wheels and the like, nesoi, of natural stone.
6804.30.00 | Hand sharpening or polishing stones.
6805.10.00 | Natural or artificial abrasive powder or grain on a base of woven textile fabric only.
6805.20.00 | Natural or artificial abrasive powder or grain on a base of paper or paperboard only.
6805.30.10 | Articles wholly or partly coated natural or artificial abrasive powder or grain, on a base of materials nesoi, in sheets, strips, disks,etc..
6805.30.50 | Natural or artificial abrasive powder or grain on a base of materials nesoi, in forms nesoi.
6806.10.00 | Slag wool, rock wool and similar mineral wools, in bulk, sheets or rolls.
6806.20.00 | Exfoliated vermiculite, expanded clays, foamed slag and similar expanded mineral materials.
6806.90.00 | Mixtures and articles of heat-insulating, sound-insulating or sound-absorbing mineral materials, nesoi.
6807.10.00 | Articles of asphalt or of similar material, in rolls.
6807.90.00 | Articles of asphalt or of similar material, not in rolls.
6808.00.00 | Panels, boards, tiles and similar articles of vegetable fiber, straw or wood wastes, agglomerated with cement, plaster or o/mineral binders.
6809.11.00 | Panels, boards, sheets, tiles and similar articles of plaster or comp. plaster, n/ornamented, faced or reinforced w/paper or paperboard only.
6809.19.00 | Panels, boards, sheets, tiles and similar articles of plaster or comp. plaster, not ornamented, nesoi.
6809.90.00 | Articles (other than panels, boards, sheets, tiles, etc.) of plaster or of compositions based on plaster, nesoi.
6810.11.00 | Building blocks and bricks, of cement, concrete or artificial stone, whether or not reinforced.
6810.19.12 | Floor and wall tiles, of stone agglomerated with binders other than cement.
6810.19.14 | Floor and wall tiles, of cement, concrete, or of artificial stone (except stone agglom. w/binders other than cement).
6810.19.50 | Tiles, flagstones, and similar articles, nesoi, of cement, concrete or artificial stone, whether or not reinforced.
6810.91.00 | Prefabricated structural components for building or civil engineering, of cement, concrete or artificial stone, nesoi.
6810.99.00 | Articles of cement (other than tiles, flagstones, bricks and similar arts.), of concrete or artificial stone, nesoi.
6811.40.00 | Articles of asbestos-cement.
6811.81.00 | Corrugated sheets, of cellulose fiber-cement or the like (not containing asbestos).
6811.82.00 | Sheets (other than corrugated), panels, tiles and similar articles of cellulose-fiber cement or the like (not containing asbestos).
6811.89.10 | Tubes, pipes and tube or pipe fittings, of cellulose fiber-cement or the like (not containing asbestos).
6811.89.90 | Articles of cellulose fiber-cement or the like (not containing asbestos), nesoi.
6812.80.10 | Footwear of crocidolite.
6812.80.90 | Articles or mixtures of crocidolite, nesoi.
6812.91.10 | Footwear of asbestos other than crocidolite.
6812.91.90 | Clothing, accessories, and headgear of asbestos other than crocidolite.
6812.92.00 | Paper, millboard and felt of asbestos other than crocidolite.
6812.93.00 | Compressed asbestos (other than crocidolite) fiber jointing, in sheets.
6812.99.00 | Articles nesoi, of asbestos other than crocidolite or mixtures with a basis of asbestos other than crocidolite.
6813.20.00 | Friction material & articles thereof, containing asbestos.
6813.81.00 | Brake linings and pads not containing asbestos.
6813.89.00 | Friction material & articles thereof with a basis of mineral substances (other than asbestos) or of cellulose, nesoi.
6814.10.00 | Agglomerated or reconstituted mica, in plates, sheets and strips, whether or not on a support.
6814.90.00 | Worked mica and articles of mica, nesoi, whether or not on a support of paper, paperboard or other materials.
6815.10.01 | Nonelectrical articles of graphite or other carbon.
6815.20.00 | Articles of peat, nesoi.
6815.91.00 | Articles containing magnesoite, dolomite or chromite, nesoi.
6815.99.20 | Talc, steatite and soapstone, cut or sawn, or in blanks, crayons, cubes, disks or other forms.
6815.99.40 | Articles of stone or of other mineral substances (including carbon fibers & articles thereof), nesoi.
6901.00.00 | Siliceous fossil meal or earth bricks, blocks, tiles and other ceramic goods.
6902.10.10 | Refractory bricks of magnesoite, containing by weight o/50% MgO.
6902.10.50 | Refractory bricks, blocks, tiles and similar goods containing by weight o/50% MgO, CaO, or Cr2O3.
6902.20.10 | Refractory bricks containing by weight o/50% alumina (Al2O2) or silica (SiO2) or mixtures or compounds thereof.
6902.20.50 | Refractory blocks, tiles & similar goods (o/than bricks), cont. by wt. o/50% alumina (Al2O2) or silica (SiO2) or mixtures thereof.
6902.90.10 | Refractory bricks, nesoi.
6902.90.50 | Refractory blocks, tiles & similar goods (other than bricks), nesoi.
6903.10.00 | Refractory ceramic goods (o/than of siliceous fossil meals or earths), nesoi, cont. by wt. o/50% graphite or o/forms or mix. of carbon.
6903.20.00 | Refractory ceramic goods (o/than of siliceous fossil meals or earths), nesoi, cont. by wt. o/50% alumina or mix. or comp. of Al2O3 & SiO3.
6903.90.00 | Refractory ceramic goods (o/than of siliceous fossil meals or earths), nesoi.
6904.10.00 | Ceramic building bricks (o/than refractory bricks).
6904.90.00 | Ceramic flooring blocks, support or filler tiles and the like (other than bricks).
6905.10.00 | Ceramic roofing tiles.
6905.90.00 | Ceramic chimney pots, cowls, chimney liners, architectural ornaments and other construction goods.
6906.00.00 | Ceramic pipes, conduits, guttering and pipe fittings.
6907.21.10 | Unglazed ceramic tiles, other than those of subheading 6907.30 and 6907.40, of H2O absorp coeff by wt <=0.5%.
6907.21.20 | Glazed ceramic tiles having <=3229 tiles per m2, surf area in sq w/side <7cm, H2O absorp coeff by wt <=0.5%.
6907.21.30 | Glazed ceramic tiles having surface area <38.7cm2, surf area in sq w/side <7cm, of H2O absorp coeff by wt <=0.5%.
6907.21.40 | Glazed ceramic tiles having surface area >=38.7cm2, , surf area in sq w/side <7cm, of a H2O absorp coeff by wt <=0.5%.
6907.21.90 | Glazed ceramic tiles nesoi, of a H2O absorp coeff by wt <=0.5%.
6907.22.10 | Unglazed ceramic tiles, other than those of subheading 6907.30 and 6907.40, of H2O absorp coeff by wt exceeding 0.5% but not exceeding 10%.
6907.22.20 | Glazed ceramic tiles having <=3229 tiles per m2, surf area in sq w/side <7 cm, H2O absorp coeff by wt exceeding 0.5% but not exceeding 10%.
6907.22.30 | Glazed ceramic tiles having surface area <38.7 cm2, surf area in sq w/side <7 cm, of H2O absorp coeff by wt exceeding 0.5% but not exceeding 10%.
6907.22.40 | Glazed ceramic tiles having surface area >=38.7 cm2, , surf area in sq w/side <7 cm, of a H2O absorp coeff by wt exceeding 0.5% but not exceeding 10%.
6907.22.90 | Glazed ceramic tiles nesoi, of a H2O absorp coeff by wt exceeding 0.5% but not exceeding 10%.
6907.23.10 | Unglazed ceramic tiles, other than those of subheading 6907.30 and 6907.40, of H2O absorp coeff by wt >10%.
6907.23.20 | Glazed ceramic tiles having <=3229 tiles per m2, surf area in sq w/side <7 cm, H2O absorp coeff by wt >10%.
6907.23.30 | Glazed ceramic tiles having surface area <38.7 cm2, surf area in sq w/side <7 cm, of H2O absorp coeff by wt >10%.
6907.23.40 | Glazed ceramic tiles having surface area >=38.7 cm2, surf area in sq w/side <7 cm, of a H2O absorp coeff by wt >10%.
6907.23.90 | Glazed ceramic tiles nesoi, of a H2O absorp coeff by wt >10%.
6907.30.10 | Unglazed ceramic mosaic cubes, o/t subheading 6907.40.
6907.30.20 | Glazed ceramic mosaic cubes having <=3229 tiles per m2, surf area in sq w/side <7 cm.
6907.30.30 | Glazed ceramic mosaic cubes having surface area <38.7 cm2, surf area in sq w/side <7 cm.
6907.30.40 | Glazed ceramic mosaic cubes having surface area >=38.7 cm2, surf area in sq w/side <7 cm.
6907.30.90 | Glazed ceramic mosaic cubes nesoi, o/t subheading 6907.40.
6907.40.10 | Unglazed finishing ceramics.
6907.40.20 | Glazed finishing ceramics having <=3229 tiles per m2, surf area in sq w/side <7 cm.
6907.40.30 | Glazed finishing ceramics having surface area <38.7 cm2, surf area in sq w/side <7 cm.
6907.40.40 | Glazed finishing ceramics having surface area >=38.7 cm2, surf area in sq w/side <7 cm.
6907.40.90 | Glazed finishing ceramics nesoi.
6909.11.20 | Porcelain or china ceramic machinery parts.
6909.11.40 | Porcelain or china ceramic wares for laboratory, chemical or other technical uses (other than machinery parts), nesoi.
6909.12.00 | Ceramic wares (o/than of porcelain or china) for laboratory, chemical or technical uses, w/hardness equivalent to 9 or more on Mohs scale.
6909.19.10 | Ceramic ferrite core memories.
6909.19.50 | Ceramic wares for laboratory, chemical or other technical uses (o/than of porcelain or china), nesoi.
6909.90.00 | Ceramic troughs, tubes & siml. receptacles for agriculture; ceramic pots, jars, & siml. arts. for conveyance or packing of goods.
6914.10.40 | Porcelain or china ceramic ferrules, n/o 3 mm diam or 25 mm long, w/fiber channel open. and/or ceramic mating sleeves of Al2O3 or zirconia.
6914.10.80 | Porcelain or china arts. (o/than tableware/kitchenware/household & ornament. arts), nesoi.
6914.90.41 | Ceramic (o/porcelain or china) ferrules, n/o 3 mm or 25 mm long, w/fiber channel open. and/or ceramic mating of sleeves of Al2O3 or zirconia.
6914.90.80 | Ceramic (o/than porcelain or china) arts. (o/than tableware/kitchenware/household & ornament. arts), nesoi.
7001.00.10 | Glass in the mass of fused quartz or other fused silica.
7001.00.20 | Glass in the mass (other than of fused quartz or other fused silica).
7001.00.50 | Cullet and other waste and scrap of glass.
7002.10.10 | Glass in balls (o/than microspheres of heading 7018), unworked, n/o 6 mm in diameter.
7002.10.20 | Glass in balls (o/than microspheres of heading 7018), unworked, over 6 mm in diameter.
7002.20.50 | Glass rods (o/than of fused quartz or other fused silica), unworked.
7002.31.00 | Glass tubes of fused quartz or other fused silica, unworked.
7002.32.00 | Glass tubes (o/than fused quartz/silica), w/linear coefficient of expansion n/o 5x10-6 per Kelvin in range of 0-300 degrees C, unworked.
7002.39.00 | Glass tubes (o/than fused quartz/silica), nesoi, unworked.
7003.12.00 | Cast or rolled glass, in nonwired sheets, colored thru the mass, opacified, flashed or w/absorbent, reflect. or non-reflect.layer, not wkd.
7003.19.00 | Cast or rolled glass, in nonwired sheets, n/colored thru the mass, opacified, flashed, etc. & not further worked.
7003.20.00 | Cast or rolled glass, in wired sheets.
7003.30.00 | Cast or rolled glass profiles.
7004.20.10 | Drawn or blown glass, in sheets, w/absorbent, reflecting or non-reflecting layer, n/furth. wkd.
7004.20.20 | Drawn or blown glass, in rect. sheets, colored thru the mass, etc., w/o absorbent, reflecting or non-reflect. layer, n/furth wkd.
7004.20.50 | Drawn or blown glass, in sheets (o/than rect.), colored thru the mass, opacified, flashed, w/o absorbent, etc. layer, n/furth. wkd.
7004.90.05 | Drawn or blown glass, nesoi, in rectangular sheets, w/thick. n/o 1.5 mm & n/o 0.26 m2 in area, n/further wkd.
7004.90.10 | Drawn or blown glass, nesoi, in rectangular sheets, w/thick. n/o 1.5 mm & over 0.26 m2 in area, n/further wkd.
7004.90.15 | Drawn or blown glass, nesoi, in rectangular sheets, w/thick. over 1.5 but n/o 2 mm & n/o 0.26 m2 in area, n/further wkd.
7004.90.20 | Drawn or blown glass, nesoi, in rectangular sheets, w/thick. over 1.5 but n/o 2 mm & over 0.26 m2 in area, n/further wkd.
7004.90.25 | Drawn or blown glass, nesoi, in rectangular sheets, w/thick. over 2 but n/o 3.5 mm, not further wkd.
7004.90.30 | Drawn or blown glass, nesoi, in rectangular sheets, w/thick. over 3.5 mm & n/o 0.65 m2 in area, not further wkd.
7004.90.40 | Drawn or blown glass, nesoi, in rectangular sheets, w/thick. over 3.5 mm & over 0.65 m2 in area, not further wkd.
7004.90.50 | Drawn or blown glass, nesoi, in sheets (other than rectangular), nesoi.
7005.10.40 | Surface ground or polished glass, w/absorb. or reflect. layer, n/o 1.2 mm thick & n/o 0.8 M2 in area, suitable for use in LCD's.
7005.10.80 | Float glass & surface ground or polished glass, nonwired, in sheets, w/absorb. or reflect. layer, nesoi, not worked.
7005.21.10 | Float glass & surface ground or polished glass, nonwired, in sheets, colored thru mass, opacified, flashed, under 10 mm thick, not worked.
7005.21.20 | Float glass & surface ground or polished glass, nonwired, in sheets, colored thru mass, opacified, flashed, 10 mm or more thick, not worked.
7005.29.04 | Float glass & surface ground or polished glass, in sheets, less than 10 mm thick, w/area n/o 0.65 M2 & for liquid crystal displays.
7005.29.08 | Float glass & surface ground or polished glass, nonwired, in sheets, less than 10 mm thick, w/area n/o 0.65 M2 & not for LCD's.
7005.29.14 | Float glass & surface ground or polished glass, in sheets, less than 10 mm thick, w/area o/0.65 M2 & for liquid crystal displays.
7005.29.18 | Float glass & surface ground or polished glass, nonwired, in sheets, less than 10 mm thick, w/area over 0.65 M2 & not for LCD's.
7005.29.25 | Float glass & surface ground or polished glass, nonwired, in sheets, 10 mm or more in thickness.
7005.30.00 | Float glass & surface ground or polished glass, wired, in sheets.
7006.00.10 | Glass of heading 7003-7005 in strips n/o 15.2 cm wide & o/2 mm thick, w/longitudinal edges ground or smoothed.
7006.00.20 | Drawn or blown glass, not containing wire netting & not surface ground or polished, but bent, edged or otherwise worked but not framed.
7006.00.40 | Glass of heading 7003-7005, bent, edgeworked, engraved, drilled, enameled or otherwise worked, but not framed or fitted, nesoi.
7007.11.00 | Toughened (tempered) safety glass, of size and shape suitable for incorporation in vehicles, aircraft, spacecraft or vessels.
7007.19.00 | Toughened (tempered) safety glass, not of size or shape suitable for incorporation in vehicles, aircraft, spacecraft or vessels.
7007.21.10 | Laminated safety glass, windshields, of size and shape suitable for incorporation in vehicles, aircraft, spacecraft or vessels.
7007.21.50 | Laminated safety glass (o/than windshields), of size and shape suitable for incorporation in vehicles, aircraft, spacecraft or vessels.
7007.29.00 | Laminated safety glass, not of size or shape suitable for incorporation in vehicles, aircraft, spacecraft or vessels.
7008.00.00 | Glass multiple-walled insulating units.
7009.10.00 | Glass rearview mirrors for vehicles.
7009.91.10 | Glass mirrors (o/than rearview mirrors), unframed, n/o 929 cm2 in reflecting area.
7009.91.50 | Glass mirrors (o/than rearview mirrors), unframed, over 929 cm2 in reflecting area.
7009.92.10 | Glass mirrors (o/than rearview mirrors), framed, n/o 929 cm2 in reflecting area.
7009.92.50 | Glass mirrors (o/than rearview mirrors), framed, over 929 cm2 in reflecting area.
7010.10.00 | Glass ampoules used for the conveyance or packing of goods.
7010.20.20 | Glass stoppers, lids and other closures produced by automatic machine.
7010.20.30 | Glass stoppers, lids and other closures not produced by automatic machine.
7010.90.05 | Glass serum bottles, vials and other pharmaceutical containers.
7010.90.20 | Glass containers for conveyance/packing perfume/toilet preps & containers with/designed for ground glass stopper, made by automatic machine.
7010.90.30 | Glass containers for convey/pack perfume/toilet preps & containers with/designed for ground glass stopper, not made by automatic machine.
7010.90.50 | Glass carboys, bottles, jars, pots, flasks, & other containers for conveyance/packing of goods (w/wo closures) & preserving jars, nesoi.
7011.10.10 | Glass bulbs (w/o fittings) for electric incandescent lamps.
7011.10.50 | Glass envelopes, open, & glass parts thereof, for electric lighting (other than bulbs for incandescent lamps), without fittings.
7011.20.10 | Glass cones (w/o fittings) for cathode-ray tubes.
7011.20.45 | Monochrome glass envelopes (open & w/o fittings), certified by importer for actual use in computer or graphic display CRTs.
7011.20.85 | Glass envelopes (open & w/o fittings) & glass parts thereof, nesoi, for cathode-ray tubes.
7011.90.00 | Glass envelopes (open & w/o fittings) & glass parts thereof (o/than for electric lighting or cathode-ray tubes.
7014.00.10 | Glass lens blanks (other than for spectacles), not optically worked.
7014.00.20 | Glass optical elements (other than lens blanks), not optically worked.
7014.00.30 | Glass lenses and filters (other than optical elements) and parts thereof, for signaling purposes, not optically worked.
7014.00.50 | Signaling glassware, nesoi, not optically worked.
7016.10.00 | Glass cubes and other glass smallwares, whether or not on a backing, for mosaics or similar decorative purposes.
7016.90.10 | Paving blocks, slabs, bricks, squares, tiles & other arts. of pressed or molded glass, for building or construction purposes.
7016.90.50 | Leaded glass windows & the like; multicellular or foam glass in blocks, panels, plates, shells or similar forms.
7017.10.30 | Fused quartz reactor tubes and holders designed for insertion into diffusion and oxidation furnaces for semiconductor wafer production.
7017.10.60 | Laboratory, hygienic or pharmaceutical glassware, whether or not calibrated or graduated, of fused quartz or other fused silica, nesoi.
7017.20.00 | Laboratory, hygienic or pharmaceutical glassware, whether or not calibrated or graduated, of glass w/low coefficient of heat expansion.
7017.90.10 | Glass microscope slides and micro cover glasses.
7017.90.50 | Laboratory, hygienic or pharmaceutical glassware, whether or not calibrated, nesoi, of glass, nesoi.
7018.10.10 | Glass imitation pearls and pearl beads of all shapes and colors, whether or not drilled, not strung and not set.
7018.10.20 | Glass imitation precious or semiprecious stones (except beads).
7018.10.50 | Glass beads (o/than imitat. pearls) & similar glass smallwares, nesoi.
7018.20.00 | Glass microspheres not exceeding 1 mm in diameter.
7018.90.50 | Articles (o/than imitation jewellry) of glass beads, pearls and imitation stones and statuettes & ornaments of lamp-worked glass.
7019.11.00 | Glass fiber chopped strands of a length not more than 50 mm.
7019.12.00 | Glass fiber rovings.
7019.19.05 | Fiberglass rubber reinforcing yarn, not color, of electrically nonconductive continuous filament 9 to 11 microns diam & impreg for adhesion to.
7019.19.15 | Glass fiber yarns, not colored, other than fiberglass rubber reinforcing yarn.
7019.19.24 | Fiberglass rubber reinforce yarn, color, of electrically nonconduct. continuous filament 9 to 11 microns diam & impreg for adhesion to polym.
7019.19.28 | Glass fiber yarns, colored, other than fiberglass rubber reinforcing yarn.
7019.19.30 | Glass fiber chopped strands of a length more than 50 mm.
7019.19.70 | Fiberglass rubber reinforce cord, of electrically nonconduct. contin. filament 9 to 11 microns diam & impreg for adhesion to polymeric comp.
7019.19.90 | Glass fiber slivers.
7019.31.00 | Nonwoven glass fiber mats.
7019.32.00 | Nonwoven glass fiber in thin sheets (voiles).
7019.39.10 | Nonwoven glass wool insulation products.
7019.39.50 | Nonwoven glass fiber webs, mattresses, boards and similar articles of nonwoven glass fibers, nesoi.
7019.40.05 | Woven fiberglass tire cord fabric of rovings, n/o 30 cm wide, of elect. nonconductive cont. filament 9-11 micron diam & impreg for adhesion.
7019.40.15 | Woven glass fiber fabric of rovings, n/o 30 cm in width, other than fiberglass tire cord fabric.
7019.40.30 | Woven fiberglass tire cord fabric of roving, o/30 cm wide, n/color, of elect. nonconduct. contin. fil. 9-11 micron diam & impreg for adhesion.
7019.40.40 | Woven glass fiber fabric of rovings, o/30 cm wide, not colored, other than fiberglass tire cord fabric.
7019.40.70 | Woven fiberglass tire cord fabric of roving, o/30 cm wide, color, of elect nonconduct. cont. filament 9-11 micron diam & impreg for adhesion.
7019.40.90 | Woven glass fiber fabrics of rovings, o/30 cm wide, colored, other than fiberglass tire cord fabric.
7019.51.10 | Woven fiberglass tire cord fabric, n/roving, n/o 30 cm wide, of electrical nonconduct. contin. filament 9-11 micron diam & impreg for adhesion.
7019.51.90 | Woven glass fiber fabric, not of rovings, n/o 30 cm wide, other than fiberglass tire cord fabric.
7019.52.30 | Woven fiberglass tire cord fabric, n/rov, pl. weave, o/30 cm wide & less than 250 g/m2, w/no single yarn o/136 tex, n/colrd, of elect nonconduct.
7019.52.40 | Woven glass fiber woven fabric, not colored, not of rovings, plain weave, o/30 cm wide, less than 250 g/m2, w/no single yarn o/136 tex, nesoi.
7019.52.70 | Woven fiberglass tire cord fabric, n/rov, color, pl. weave, o/30 cm wide & less thna 250 g/m2, w/no single yarn o/136 tex, of elect nonconduct.
7019.52.90 | Woven glass fiber fabric, not colored, not rovings, plain weave, o/30 cm wide & less than 250 g/m2, w/no single yarn not more than 136 tex, nesoi.
7019.59.30 | Woven fiberglass tire cord fabric, n/colored, nesoi, o/30 cm wide, of elect. noncond contin filament 9-11 micron diam and impreg for adhesion.
7019.59.40 | Woven glass fiber woven fabrics, not colored, nesoi, o/30 cm wide, nesoi.
7019.59.70 | Woven fiberglass tire cord fabric, colored, nesoi, o/30 cm wide, of elect. nonconduct contin filaments 9-11 micron diam & impreg for adhesion.
7019.59.90 | Woven glass fiber woven fabrics, colored, nesoi, o/30 cm wide, nesoi.
7019.90.10 | Woven glass fiber articles (other than fabrics), nesoi.
7019.90.50 | Glass fibers (including glass wool), nesoi, and articles thereof, nesoi.
7020.00.30 | Quartz reactor tubes and holders designed for insertion into diffusion and oxidation furnaces for semiconductor wafer production, nesoi.
7020.00.40 | Glass inners for vacuum flasks or for other vacuum vessels.
7020.00.60 | Articles of glass, not elsewhere specified or included.
7102.21.10 | Miners' diamonds, unworked or simply sawn, cleaved or bruted.
7102.21.30 | Industrial diamonds (other than miners' diamonds), simply sawn, cleaved or bruted.
7102.21.40 | Industrial diamonds (other than miners' diamonds), unworked.
7102.29.00 | Industrial diamonds, worked, but not mounted or set.
7105.10.00 | Diamond dust and powder.
7105.90.00 | Natural or synthetic precious (except diamond) or semiprecious stone dust and powder.
7106.10.00 | Silver powder.
7106.91.10 | Silver bullion and dore.
7106.91.50 | Silver, unwrought (o/than bullion and dore).
7106.92.10 | Silver (incl. silver plate w gold/platinum), semimanufacture, rectangular/near rectangular shape, 99.5% or > pure, marked only by wgt/identity.
7106.92.50 | Silver (including silver plated with gold or platinum), in semimanufactured form, nesoi.
7107.00.00 | Base metals clad with silver, not further worked than semimanufactured.
7108.11.00 | Gold powder.
7108.12.10 | Gold, nonmonetary, bullion and dore.
7108.12.50 | Gold, nonmonetary, unwrought (o/than gold bullion and dore).
7108.13.10 | Gold leaf.
7108.13.55 | Gold (incl. gold plated w platinum), not money, semimanufacture, rectangle/near rectangular shape, 99.5% or > pure, marked only by wgt/identity.
7108.13.70 | Gold (including gold plated with platinum), nonmonetary, in semimanufactured forms (except gold leaf), nesoi.
7108.20.00 | Gold, monetary, in unwrought, semimanufactured or powder form.
7109.00.00 | Base metals or silver clad with gold, but not further worked than semimanufactured.
7110.11.00 | Platinum, unwrought or in powder form.
7110.19.00 | Platinum, in semimanufactured forms.
7110.21.00 | Palladium, unwrought or in powder form.
7110.29.00 | Palladium, in semimanufactured forms.
7110.31.00 | Rhodium, unwrought or in powder form.
7110.39.00 | Rhodium, in semimanufactured forms.
7110.41.00 | Iridium, osmium and ruthenium, unwrought or in powder form.
7110.49.00 | Iridium, osmium and ruthenium, in semimanufactured forms.
7111.00.00 | Base metals, silver or gold clad with platinum, not further worked than semimanufactured.
7112.30.00 | Ash containing precious metals or precious metal compounds.
7112.91.00 | Gold waste and scrap, including metal clad with gold but excluding sweepings containing other precious metals.
7112.92.00 | Platinum waste and scrap, including metal clad with platinum but excluding sweepings containing other precious metals.
7112.99.00 | Precious metal (other than of gold or platinum) waste and scrap, including metal clad with precious metals, nesoi.
7114.11.10 | Knives with handles of silver, whether or not plated or clad with other precious metal.
7114.11.20 | Forks with handles of silver, whether or not plated or clad with other precious metal.
7114.11.30 | Spoons and ladles with handles of sterling silver.
7114.11.40 | Spoons and ladles (o/than w/sterling silver handles) of silver, whether or not plated or clad w/other precious metal.
7114.11.45 | Sets of two or more knives or forks w/silver handles or spoons and ladles of silver, whether or not clad or plated w/prec.metal.
7114.11.50 | Tableware, nesoi, of sterling silver.
7114.11.60 | Articles of silver nesoi, for household, table or kitchen use, toilet and sanitary wares, including parts thereof.
7114.11.70 | Silversmiths' wares (other than for household/table/kitchen use & toilet and sanitary wares) of silver, nesoi.
7114.19.00 | Precious metal (o/than silver) articles, nesoi, whether or not plated or clad with other precious metal, nesoi.
7114.20.00 | Goldsmiths' or silversmiths' wares of base metal clad with precious metal.
7115.10.00 | Platinum catalysts in the form of wire cloth or grill.
7115.90.05 | Precious metal articles, incl. metal clad w/precious metal,rectangle/near rectangle shape,99.5%/or pure,marked only by wgt/identity.
7115.90.30 | Gold (including metal clad with gold) articles (o/than jewellry or goldsmiths' wares), nesoi.
7115.90.40 | Silver (including metal clad with silver) articles (o/than jewellry or silversmiths' wares), nesoi.
7115.90.60 | Articles of precious metal (o/than gold or silver), including metal clad with precious metal, nesoi.
7201.10.00 | Nonalloy pig iron containing by weight 0.5 percent or less of phosphorus.
7201.20.00 | Nonalloy pig iron containing by weight more than 0.5 percent of phosphorus.
7201.50.30 | Alloy pig iron in blocks or other primary forms.
7201.50.60 | Spiegeleisen in blocks or other primary forms.
7202.11.10 | Ferromanganese containing by weight more than 2 percent but not more than 4 percent of carbon.
7202.11.50 | Ferromanganese containing by weight more than 4 percent of carbon.
7202.19.10 | Ferromanganese containing by weight not more than 1 percent of carbon.
7202.19.50 | Ferromanganese containing by weight more than 1 percent but not more than 2 percent of carbon.
7202.21.10 | Ferrosilicon containing by weight more than 55% but not more than 80% of silicon and more than 3% of calcium.
7202.21.50 | Ferrosilicon containing by weight more than 55% but not more than 80% of silicon, nesoi.
7202.21.75 | Ferrosilicon containing by weight more than 80% but not more than 90% of silicon.
7202.21.90 | Ferrosilicon containing by weight more than 90% of silicon.
7202.29.00 | Ferrosilicon containing by weight 55% or less of silicon.
7202.30.00 | Ferrosilicon manganese.
7202.41.00 | Ferrochromium containing by weight more than 4 percent of carbon.
7202.49.10 | Ferrochromium containing by weight more than 3 percent but not more than 4 percent of carbon.
7202.49.50 | Ferrochromium containing by weight 3 percent or less of carbon.
7202.50.00 | Ferrosilicon chromium.
7202.60.00 | Ferronickel.
7202.70.00 | Ferromolybdenum.
7202.80.00 | Ferrotungsten and ferrosilicon tungsten.
7202.91.00 | Ferrotitanium and ferrosilicon titanium.
7202.92.00 | Ferrovanadium.
7202.93.40 | Ferroniobium containing by weight less than 0.02 percent of phosphorus or sulfur or less than 0.4 percent of silicon.
7202.93.80 | Ferroniobium, nesoi.
7202.99.10 | Ferrozirconium.
7202.99.20 | Calcium silicon ferroalloys.
7202.99.80 | Ferroalloys nesoi.
7203.10.00 | Ferrous products obtained by direct reduction of iron ore.
7203.90.00 | Spongy ferrous products, in lumps, pellets or like forms; iron of a minimum purity by weight of 99.94% in lumps, pellets or like forms.
7204.10.00 | Cast iron waste and scrap.
7204.21.00 | Stainless steel waste and scrap.
7204.29.00 | Alloy steel (o/than stainless) waste and scrap.
7204.30.00 | Tinned iron or steel waste and scrap.
7204.41.00 | Ferrous turnings, shavings, chips, milling wastes, sawdust, fillings, trimmings and stampings, whether or not in bundles.
7204.49.00 | Ferrous waste and scrap nesoi.
7204.50.00 | Iron or steel remelting scrap ingots.
7205.10.00 | Pig iron, spiegeleisen, and iron or steel granules.
7205.21.00 | Alloy steel powders.
7205.29.00 | Pig iron, spiegeleisen, and iron or steel (o/than alloy steel) powders.
7216.61.00 | Iron/nonalloy steel, angles, shapes & sections nesoi, not further worked than cold-formed or cold-finished, from flat-rolled products.
7216.69.00 | Iron/nonalloy steel, angles, shapes & sections nesoi, not further worked than cold-formed or cold-finished, not from flat-rolled products.
7216.91.00 | Iron/nonalloy steel, angle, shapes & sections nesoi, cold-formed/cold-finished from flat-rolled prod. & furth wkd th/cold-formed/cold-finish.
7301.20.10 | Iron or nonalloy steel, angles, shapes and sections, welded.
7301.20.50 | Alloy steel, angles, shapes and sections of alloy steel, welded.
7302.30.00 | Iron or steel, switch blades, crossing frogs, point rods and other crossing pieces, for jointing or fixing rails.
7303.00.00 | Cast iron, tubes, pipes and hollow profiles.
7307.11.00 | Cast nonmalleable iron, fittings for tubes or pipes.
7307.19.30 | Cast ductile iron or steel, fittings for tubes or pipes.
7307.19.90 | Cast iron or steel, fittings for tubes or pipes, nesoi.
7307.21.10 | Stainless steel, flanges for tubes/pipes, forged, not machined, not tooled and not otherwise processed after forging.
7307.21.50 | Stainless steel, not cast, flanges for tubes/pipes, not forged or forged and machined, tooled and otherwise processed after forging.
7307.22.10 | Stainless steel, not cast, threaded sleeves (couplings) for tubes/pipes.
7307.22.50 | Stainless steel, not cast, threaded elbow and bends for tubes/pipes.
7307.23.00 | Stainless steel, not cast, butt welding fittings for tubes/pipes.
7307.29.00 | Stainless steel, not cast, fittings for tubes/pipes, nesoi.
7307.91.10 | Iron or nonalloy steel, flanges for tubes/pipes, forged, not machined, not tooled and not otherwise processed after forging.
7307.91.30 | Alloy steel (o/than stainless), not cast, flanges for tubes/pipes, forged, not machined/tooled and not otherwise processed after forging.
7307.91.50 | Iron or steel (o/than stainless), not cast, flanges for tubes/pipes, not forged or forged and machined, tooled & processed after forging.
7307.92.30 | Iron or steel (o/than stainless), not cast, threaded sleeves (couplings) for tubes/pipes.
7307.92.90 | Iron or steel (o/than stainless), not cast, threaded elbow and bends for tubes/pipes.
7307.93.30 | Iron or nonalloy steel, not cast, butt welding fittings for tubes/pipes, w/inside diam. less than 360 mm.
7307.93.60 | Alloy steel (o/than stainless), not cast, butt welding fittings for tubes/pipes, w/inside diam. less than 360 mm.
7307.93.90 | Iron or alloy steel (o/than stainless), not cast, butt welding fittings for tubes/pipes, w/inside diam. 360 mm or more.
7307.99.10 | Iron or nonalloy steel, fittings for tubes/pipes, nesoi, forged, not machined, not tooled and not otherwise processed after forging.
7307.99.30 | Alloy steel (o/than stainless), fittings for tubes/pipes, nesoi, forged, not machined/tooled and not otherwise processed after forging.
7307.99.50 | Iron/steel (o/than stainless), n/cast, fittings for tubes/pipes, nesoi, not forged or forged and machined, tooled & processed after forging.
7308.30.10 | Stainless steel, doors, windows and their frames, and thresholds for doors.
7308.30.50 | Iron or steel (o/than stainless), doors, windows and their frames, and thresholds for doors.
7308.40.00 | Iron or steel, props and similar equipment for scaffolding, shuttering or pit-propping.
7309.00.00 | Iron/steel, reservoirs, tanks, vats, siml. contain., for any material (o/than compress./liq.gas), w/capacity o/300 l, n/fit. w/mech/thermal.
7310.10.00 | Iron/steel, tanks, casks, drums, cans, boxes & siml. cont. for any material (o/than compress./liq.gas), w/cap. of 50+ l but n/o 300 l.
7310.21.00 | Iron/steel, cans for any material (o/compressed/liq. gas), closed by soldering or crimping, w/cap. less than 50 l.
7310.29.00 | Iron/steel, cans for any material (o/compressed/liq. gas), n/closed by soldering or crimping, w/cap. less than 50 l.
7311.00.00 | Iron/steel, containers for compressed or liquefied gas.
7312.10.05 | Stainless steel, stranded wire, not elect. insulated, fitted with fittings or made up into articles.
7312.10.10 | Stainless steel, stranded wire, not elect. insulated, not fitted with fittings or made up into articles.
7312.10.20 | Iron or steel (o/than stainless), stranded wire, not elect. insul., fitted with fittings or made up into articles.
7312.10.30 | Iron or steel (o/than stainless), stranded wire, not elect. insul., not fitted with fittings or made up into articles.
7312.10.50 | Stainless steel, ropes, cables and cordage (o/than stranded wire), not elect. insul., fitted with fittings or made up into articles.
7312.10.60 | Stainless steel, ropes, cables and cordage (o/than stranded wire), not elect. insul., not fitted with fittings or made up into articles.
7312.10.70 | Iron/steel (o/stainless), ropes, cables & cordage (o/than stranded wire), n/elect. insul., fitted with fittings or made up into articles.
7312.10.80 | Iron/steel (o/stainless), ropes, cables & cordage, of brass plated wire (o/than stranded wire), n/elect. insul., w/o fittings or arts.
7312.10.90 | Iron/steel (o/stainless), ropes, cables & cordage, o/th of brass plate wire (o/than stranded wire), n/elect. insul., w/o fittings etc.
7312.90.00 | Iron/steel (o/stainless), plaited bands, slings and the like, not electrically insulated.
7313.00.00 | Iron/steel, barbed wire; iron/steel, twisted hoop or single flat wire and loosely twisted double wire, of a kind used for fencing.
7314.12.10 | Stainless steel, woven cloth endless bands for machinery, w/meshes not finer than 12 wires to the lineal cm in warp or filling.
7314.12.20 | Stainless steel, woven cloth endless bands for machinery, w/meshes finer than 12 but n/finer than 36 wires to the lineal cm warp or filling.
7314.12.30 | Stainless steel, Fourdrinier wires for papermaking machines w/94 or more wires to the lineal cm in warp or filling.
7314.12.60 | Stainless steel, Fourdrinier wires for papermaking machines w/36 to 93 wires to the lineal cm in warp or filling.
7314.12.90 | Stainless steel, woven cloth endless bands for machinery, nesoi, w/meshes finer than 36 wires to the lineal cm in warp or filling.
7314.14.10 | Stainless steel, woven cloth (o/than endless bands for machinery), w/meshes not finer than 12 wires to the lineal cm in warp or filling.
7314.14.20 | Stainless steel, woven cloth (o/than endless bands for machinery), w/meshes finer 12 but n/finer 36 wires to the lineal cm warp/filling.
7314.14.30 | Stainless steel, Fourdrinier wires (o/than endless bands) for papermaking machines,w/meshes 94 or more wire to lineal cm warp/filling.
7314.14.60 | Stainless steel, Fourdrinier wires (o/than endless bands) for papermaking machines, w/meshes 36 to 93 wires to the lineal cm warp/filling.
7314.14.90 | Stainless steel woven cloth (other than endless band for machinery), nesoi, w/meshes finer than 36 wires to the lineal cm in warp or filling.
7314.19.01 | Iron or steel (o/than stainless), woven cloth.
7314.20.00 | Iron/steel, grill, netting & fencing, of wire w/maximum x-sect. dimension 3 mm or more, welded at intersection, w/mesh size 100 cm2 or more.
7314.31.10 | Iron/steel, fencing, of wire, welded at the intersection, plated or coated with zinc, whether or not covered w/plastic material.
7314.31.50 | Iron/steel, grill and netting, of wire, welded at the intersection, plated or coated with zinc, nesoi.
7314.39.00 | Iron/steel, grill, netting and fencing, of wire, welded at the intersection, not plated or coated with zinc.
7314.41.00 | Iron/steel, grill, netting and fencing, of wire, not welded at the intersection, plated or coated with zinc.
7314.42.00 | Iron/steel, grill, netting and fencing, of wire, not welded at the intersection, coated with plastics.
7314.49.30 | Iron/steel, grill, netting and fencing, of wire, not welded at the intersection, not cut to shape.
7314.49.60 | Iron/steel, grill, netting and fencing, of wire, not welded at the intersection, cut to shape.
7314.50.00 | Iron or steel, expanded metal.
7315.11.00 | Iron or steel, roller chain.
7315.12.00 | Iron or steel, articulated link chain (other than roller chain).
7315.19.00 | Iron or steel, parts of articulated link chain.
7315.20.10 | Iron or steel, skid chain, not over 8 mm in diameter.
7315.20.50 | Iron or steel, skid chain, over 8 mm in diameter.
7315.81.00 | Iron or steel, stud link chain.
7315.82.10 | Alloy steel, welded link chain, not over 10 mm in diameter.
7315.82.30 | Alloy steel, welded link chain, over 10 mm in diameter.
7315.82.50 | Iron or nonalloy steel, welded link chain, not over 10 mm in diameter.
7315.82.70 | Iron or nonalloy steel, welded link chain, over 10 mm in diameter.
7315.89.10 | Iron or steel, chain nesoi, with links of essentially round cross section, not over 8 mm in diameter.
7315.89.30 | Iron or steel, chain nesoi, with links of essentially round cross sections, over 8 mm in diameter.
7315.89.50 | Iron or steel, chain nesoi.
7315.90.00 | Iron or steel, parts of chain (other than articulated link chain).
7316.00.00 | Iron or steel, anchors, grapnels and parts thereof.
7317.00.20 | Iron or steel, nails, tacks, corrugated nails, staples & similar arts., not threaded, suitable for use in powder-actuated hand tools.
7317.00.30 | Iron or steel, nails, tacks, corrugated nails, staples & similar arts., threaded, suitable for use in powder-actuated hand tools.
7317.00.55 | Iron or steel, nails, tacks, corrugated nails, staples & similar arts., of one piece construction, made of round wire, nesoi.
7317.00.65 | Iron or steel, nails, tacks, corrugated nails, staples & similar arts., of one piece construction, not made of round wire, nesoi.
7317.00.75 | Iron or steel, nails, tacks, corrugated nails, staples & similar arts., of two or more pieces, nesoi.
7318.11.00 | Iron or steel, coach screws.
7318.12.00 | Iron or steel, wood screws (o/than coach screws).
7318.13.00 | Iron or steel, screw hooks and screw rings.
7318.14.10 | Iron or steel, self-tapping screws, w/shanks or threads less than 6 mm in diameter.
7318.14.50 | Iron or steel, self-tapping screws, w/shanks or threads 6 mm or more in diameter.
7318.15.20 | Iron or steel, bolts and bolts & their nuts or washers, imported in the same shipment.
7318.15.40 | Iron or steel, machine screws (o/than cap screws), 9.5 mm or more in length and 3.2 mm in diameter.
7318.15.50 | Iron or steel, threaded studs.
7318.15.60 | Iron or steel, screws and bolts, nesoi, having shanks or threads less than 6 mm in diameter.
7318.15.80 | Iron or steel, screws and bolts, nesoi, having shanks or threads 6 mm or more in diameter.
7318.19.00 | Iron or steel, threaded articles similar to screws, bolts, nuts, coach screws & screw hooks, nesoi.
7318.21.00 | Iron or steel, spring washers and other lock washers.
7318.22.00 | Iron or steel, washers (o/than spring washers and other lock washers).
7318.23.00 | Iron or steel, rivets.
7318.24.00 | Iron or steel, cotters and cotter pins.
7318.29.00 | Iron or steel, nonthreaded articles similar to rivets, cotters, cotter pins, washers and spring washers.
7320.10.30 | Iron or steel, leaf springs & leaves therefore, to be used in motor vehicles having a G.V.W. not exceeding 4 metric tons.
7320.10.60 | Iron or steel, leaf springs & leaves therefore, suitable for motor vehicle suspension (o/than for motor vehicles w/a G.V.W. o/4 metric tons).
7320.10.90 | Iron or steel, leaf springs & leaves therefore, not suitable for motor vehicle suspension.
7320.90.10 | Iron or steel, hairsprings.
7320.90.50 | Iron or steel, springs (o/than leaf springs, helical springs or hairsprings).
7321.11.10 | Iron or steel, portable non-electric domestic cooking appliances and plate warmers, for gas fuel or for both gas and other fuels.
7321.11.30 | Iron or steel, nonportable non-electric domestic stoves or ranges, for gas fuel or for both gas and other fuels.
7321.11.60 | Iron or steel, nonportable non-electric domestic cook. appl. (o/th stoves or ranges) & plate warmers, for gas fuel or both gas & other fuels.
7321.90.10 | Iron/steel, cooking chambers for nonportable non-electric domestic stoves or ranges, for gas or for gas and other fuels.
7321.90.20 | Iron/steel, top surface panels w/or w/o burners/controls for nonportable non-elect. domest. stoves or ranges, for gas or gas & other fuels.
7321.90.40 | Iron/steel, door assmbly w/more than one of inner panel, out. panel, window, insul., for non-elect. stoves or ranges, for gas or gas & other.
7321.90.50 | Iron/steel, parts of nonportable non-electric domestic stoves or ranges, nesoi, for gas fuel or for both gas and other fuels.
7321.90.60 | Iron/steel, parts, of nonelectric domestic cooking and warming appliances, nesoi.
7322.11.00 | Cast iron, non-electrically heated radiators and parts thereof, for central heating.
7322.19.00 | Iron (o/than cast) or steel, non-electrically heated radiators and parts thereof, for central heating.
7322.90.00 | Iron or steel, non-electrically heated air heaters and hot air distributors w/motor driven fan or blower and parts thereof.
7323.10.00 | Iron or steel wool; iron or steel pot scourers and scouring or polishing pads, gloves and the like.
7323.99.90 | Iron (o/th cast)/steel (o/th tinplate or stainless), table, kitchen (o/th cooking.) or o/household arts & part, n/coated/plated w/prec. metal.
7324.10.00 | Stainless steel, sinks and wash basins.
7324.21.10 | Cast iron, baths (whether or not enameled), coated or plated with precious metal.
7324.21.50 | Cast iron, baths (whether or not enameled), not coated or plated with precious metal.
7324.90.00 | Iron or steel, sanitary ware (o/than baths or stainless steel sinks and wash basins) and parts thereof.
7325.10.00 | Nonmalleable cast iron, articles, nesoi.
7325.91.00 | Iron or steel, cast grinding balls and similar articles for mills.
7325.99.10 | Cast iron (o/than nonmalleable cast iron), articles nesoi.
7325.99.50 | Steel, cast articles nesoi.
7326.11.00 | Iron or steel, forged or stamped grinding balls and similar articles for mills.
7326.19.00 | Iron or steel, articles forged or stamped but n/further worked, nesoi.
7326.20.00 | Iron or steel, articles of wire, nesoi.
7326.90.10 | Tinplate, articles nesoi.
7326.90.25 | Iron or steel, cable or inner wire for caliper and cantilever brakes and casing therefore, whether or not cut to length.
7326.90.35 | Iron or steel, containers of a kind normally carried on the person, in the pocket or in the handbag, nesoi.
7326.90.45 | Iron or steel, horse and mule shoes.
7326.90.60 | Iron or steel, articles nesoi, coated or plated with precious metal.
7326.90.86 | Iron or steel, articles, nesoi.
7401.00.00 | Copper mattes; cement copper (precipitated copper).
7402.00.00 | Unrefined copper; copper anodes for electrolytic refining.
7403.11.00 | Refined copper cathodes and sections of cathodes.
7403.12.00 | Refined copper, wire bars.
7403.13.00 | Refined copper, billets.
7403.19.00 | Refined copper, unwrought articles nesoi.
7403.21.00 | Copper-zinc base alloys (brass), unwrought nesoi.
7403.22.00 | Copper-tin base alloys (bronze), unwrought nesoi.
7403.29.01 | Copper alloys (o/than copper-zinc, copper-tin alloys), unwrought nesoi.
7404.00.30 | Copper spent anodes; copper waste & scrap containing less than 94% by weight of copper.
7404.00.60 | Copper, waste and scrap containing 94% or more by weight of copper.
7405.00.10 | Copper master alloys, containing 5% or more but n/more than 15% by weight of phosphorus.
7405.00.60 | Copper master alloys, not containing 5% or more but n/more than 15% by weight of phosphorus.
7406.10.00 | Copper, powders of non-lamellar structure.
7406.20.00 | Copper, powders of lamellar structure; copper flakes.
7407.10.15 | Refined copper, hollow profiles.
7407.10.30 | Refined copper, profiles (o/than hollow profiles).
7407.10.50 | Refined copper, bars and rods.
7407.21.15 | Copper-zinc base alloys (brass), hollow profiles.
7407.21.30 | Copper-zinc base alloys (brass), profiles (o/than hollow profiles).
7407.21.50 | Copper-zinc base alloys (brass), low fuming brazing rods.
7407.21.70 | Copper-zinc base alloys (brass), bars & rods nesoi, having a rectangular cross section.
7407.21.90 | Copper-zinc base alloys (brass), bars & rods nesoi, not having a rectangular cross section.
7407.29.16 | Copper alloys , hollow profiles.
7407.29.34 | Copper-nickel base alloys (cupro-nickel) or copper-nickel-zinc base alloys (nickel silver), profiles (o/than hollow profiles).
7407.29.38 | Copper alloys (o/than cupro-nickel or nickel silver), profiles (o/than hollow profiles).
7407.29.40 | Copper-nickel base alloys (cupro-nickel) or copper-nickel-zinc base alloys (nickel silver), bars & rods.
7407.29.50 | Copper alloys (o/than brass, cupro-nickel or nickel silver), bars and rods.
7408.11.30 | Refined copper, wire, w/maximum cross-sectional dimension over 9.5 mm.
7408.11.60 | Refined copper, wire, w/maximum cross-sectional dimension over 6 mm but not over 9.5 mm.
7408.19.00 | Refined copper, wire, w/maximum cross-sectional dimension of 6 mm or less.
7408.21.00 | Copper-zinc base alloys (brass), wire.
7408.22.10 | Copper-nickel base alloys (cupro-nickel) or copper-nickel-zinc base alloys (nickel silver), wire, coated or plated with metal.
7408.22.50 | Copper-nickel base alloys (cupro-nickel) or copper-nickel-zinc base alloys (nickel silver), wire, not coated or plated w/metal.
7408.29.10 | Copper alloys (o/than brass, cupro-nickel or nickel-silver), wire, coated or plated with metal.
7408.29.50 | Copper alloys (o/than brass, cupro-nickel or nickel-silver), wire, not coated or plated with metal.
7409.11.10 | Refined copper, plates, sheets and strip, in coils, with a thickness of 5 mm or more.
7409.11.50 | Refined copper, plates, sheets and strip, in coils, with a thickness over 0.15mm but less than 5 mm.
7409.19.10 | Refined copper, plates, sheets and strip, not in coils, with a thickness of 5 mm or more.
7409.19.50 | Refined copper, plates, sheets and strip, not in coils, with a thickness o/0.15mm but less than 5 mm & a width of 500 mm or more.
7409.19.90 | Refined copper, plates, sheets and strip, not in coils, with a thickness o/0.15mm but less than 5 mm & a width of less than 500 mm.
7409.21.00 | Copper-zinc base alloys (brass), plates, sheets and strip, in coils.
7409.29.00 | Copper-zinc base alloys (brass), plates, sheets and strip, not in coils.
7409.31.10 | Copper-tin base alloys (bronze), plates, sheets and strip, in coils. with a thickness of 5 mm or more.
7409.31.50 | Copper-tin base alloys (bronze), plates, sheets and strip, in coils, with a thickness o/0.15mm but less than 5mm & a width of 500mm or more.
7409.31.90 | Copper-tin base alloys (bronze), plates, sheets and strip, in coils, w/thickness o/0.15mm but less than 5mm & a width of less than 500mm.
7409.39.10 | Copper-tin base alloys (bronze), plates, sheets and strip, with a thickness of 5 mm or more.
7409.39.50 | Copper-tin base alloys (bronze), plates, sheets and strip, with a thickness o/0.15 but less than 5 mm & of a width of 500 mm or more.
7409.39.90 | Copper-tin base alloys (bronze), plates, sheets and strip, with a thickness o/0.15 but less than 5 mm & of a width of less than 500 mm.
7409.40.00 | Copper-nickel base alloys (cupro-nickel) or copper-nickel-zinc base alloys (nickel silver), plates, sheets and strip, w/thickness o/0.15mm.
7409.90.10 | Copper alloys (o/than brass/bronze/cupro-nickel/nickel silver), plates, sheets & strip, with thickness of 5 mm or more.
7409.90.50 | Copper alloys (o/than brass/bronze/cupro-nickel/nickel silver), plates, sheets & strip, w/thick. o/0.15mm but less th/5mm & width 500mm+.
7409.90.90 | Copper alloys (o/than brass/bronze/cupro-nickel/nickel silver), plates, sheets & strip, w/thick. o/0.15mm but less th/5mm & width less 500mm.
7410.11.00 | Refined copper, foil, w/thickness of 0.15 mm or less, not backed.
7410.12.00 | Copper alloys, foil, w/thickness of 0.15 mm or less, not backed.
7410.21.30 | Refined copper, clad laminates, w/thickness of 0.15 mm or less, backed.
7410.21.60 | Refined copper, foil, w/thickness of 0.15 mm or less, backed.
7410.22.00 | Copper alloys, foil, w/thickness of 0.15 mm or less, backed.
7411.10.10 | Refined copper, tubes and pipes, seamless.
7411.10.50 | Refined copper, tubes and pipes, other than seamless.
7411.21.10 | Copper-zinc base alloys (brass), tubes and pipes, seamless.
7411.21.50 | Copper-zinc base alloys (brass), tubes and pipes, other than seamless.
7411.22.00 | Copper-nickel base alloys (cupro-nickel) or copper-nickel-zinc base alloys (nickel-silver), tubes and pipes.
7411.29.10 | Copper alloys (o/than brass/cupro-nickel/nickel-silver), pipes and tubes, seamless.
7411.29.50 | Copper alloys (o/than brass/cupro-nickel/nickel-silver), pipes and tubes, other than seamless.
7412.10.00 | Refined copper, fittings for tubes and pipes.
7412.20.00 | Copper alloys, fittings for tubes and pipes.
7413.00.10 | Copper, stranded wire, not electrically insulated, not fitted with fittings and not made up into articles.
7413.00.50 | Copper, cables, plaited bands and the like, not fitted with fittings and not made up into articles.
7413.00.90 | Copper, stranded wire, cables, plaited bands and the like, not electrically insulated, fitted with fittings or made up into articles.
7415.10.00 | Copper or iron/steel w/heads of copper, nails and tacks, drawing pins, staples and similar articles.
7415.21.00 | Copper, washers (including spring washers).
7415.29.00 | Copper, rivets, cotters, cotter pins and similar non-threaded articles (o/than washers).
7415.33.05 | Copper screws for wood.
7415.33.10 | Muntz or yellow metal copper bolts.
7415.33.80 | Screws (other than wood screws), bolts (other than Muntz or yellow metal) and nuts, of copper, threaded, nesoi.
7415.39.00 | Copper, screw hooks and other threaded articles, nesoi.
7418.20.10 | Copper-zinc base alloys (brass), sanitary ware and parts thereof.
7418.20.50 | Copper (o/than brass), sanitary ware and parts thereof.
7419.10.00 | Copper, chain and parts thereof.
7419.91.00 | Copper, articles nesoi, cast, molded, stamped, or forged but not further worked.
7419.99.03 | Copper, Fourdrinier wires, for use in papermaking machines, w/94 or more wires to the lineal cm.
7419.99.06 | Copper cloth, nesoi.
7419.99.09 | Copper, wire grill and netting; expanded metal of copper.
7419.99.15 | Copper, containers a kind normally carried on the person, in the pocket or in the handbag.
7419.99.16 | Copper, springs.
7419.99.30 | Copper, articles nesoi, coated or plated with precious metal.
7419.99.50 | Copper, articles nesoi, not coated or plated with precious metal.
7501.10.00 | Nickel mattes.
7501.20.00 | Nickel oxide sinters and other intermediate products of nickel metallurgy.
7502.10.00 | Nickel (o/than alloy), unwrought.
7502.20.00 | Nickel alloys, unwrought.
7503.00.00 | Nickel, waste and scrap.
7504.00.00 | Nickel, powders and flakes.
7505.11.10 | Nickel (o/than alloy), bars and rods, cold formed.
7505.11.30 | Nickel (o/than alloy), bars and rods, not cold formed.
7505.11.50 | Nickel (o/than alloy), profiles.
7505.12.10 | Nickel alloy, bars and rods, cold formed.
7505.12.30 | Nickel alloy, bars and rods, not cold formed.
7505.12.50 | Nickel alloy, profiles.
7505.21.10 | Nickel (o/than alloy), wire, cold formed.
7505.21.50 | Nickel (o/than alloy), wire, not cold formed.
7505.22.10 | Nickel alloy, wire, cold formed.
7505.22.50 | Nickel alloy, wire, not cold formed.
7506.10.05 | Nickel, foil, w/thickness not over 0.15 mm.
7506.10.10 | Nickel (o/than alloy), plates, sheets and strip, cold formed.
7506.10.30 | Nickel (o/than alloy), plates, sheets and strip, not cold formed.
7506.20.05 | Nickel alloy, foil, w/thickness not over 0.15 mm.
7506.20.10 | Nickel alloy, plates, sheets and strip, cold formed.
7506.20.30 | Nickel alloy, plates, sheets and strip, not cold formed.
7507.11.00 | Nickel (o/than alloy), tubes and pipes.
7507.12.00 | Nickel alloy, tubes and pipes.
7507.20.00 | Nickel, fittings for tubes and pipes.
7508.10.00 | Nickel, wire cloth, grill and netting.
7508.90.10 | Nickel, stranded wire.
7508.90.50 | Nickel, articles of nesoi.
7602.00.00 | Aluminum, waste and scrap.
7603.10.00 | Aluminum, powders of non-lamellar structure.
7603.20.00 | Aluminum, powders of lamellar structure; aluminum flakes.
7610.90.00 | Aluminum, structures and parts of structures, nesoi; aluminum plates, rods, profiles, tubes and the like prepared for use in structures.
7611.00.00 | Aluminum, reservoirs, tanks, vats & like containers for any material (o/than compressed or liq. gas), w/capacity o/300 l, not fitted w/
7612.10.00 | Aluminum, collapsible tubular containers, w/capacity of 300 l or less.
7612.90.10 | Aluminum, casks, drums & like containers, for any material (o/than compressed or liq. gas), w/cap. n/o 20 l, n/fitted w/mech/thermal.
7612.90.50 | Aluminum, casks, drums & like containers, for any material (o/thna compressed or liq. gas), w/cap. o/20 but n/o 300 l, n/fitted w/mech.
7613.00.00 | Aluminum, containers for compressed or liquefied gas.
7614.10.50 | Aluminum, stranded wire, cables & the like w/steel core, not electrically insulated, fitted with fittings or made up into articles.
7614.90.40 | Aluminum, stranded wire, cables, & the like (o/than elect. conduct or w/steel core), n/elect. insulated, n/fitted w/fittings or articles.
7614.90.50 | Aluminum, stranded wire, cables and the like (o/than w/steel core), not electrically insulated, fitted w/fittings or made up into articles.
7615.20.00 | Aluminum, sanitary ware and parts thereof.
7616.10.10 | Aluminum, nails, tacks and staples.
7616.10.30 | Aluminum, rivets.
7616.10.50 | Aluminum, cotters and cotter pins.
7616.10.70 | Aluminum, screws, bolts, nuts, screw hooks, washers and similar articles w/shanks, threads, or holes o/6 mm in diameter.
7616.10.90 | Aluminum, screws, bolts, nuts, screw hooks, washers and similar articles w/shanks, threads or holes 6 mm or less in diameter.
7616.91.00 | Aluminum, wire cloth, grill, netting and fencing.
7616.99.10 | Aluminum, luggage frames.
7616.99.51 | Aluminum, articles, nesoi.
7801.10.00 | Refined lead, unwrought.
7801.91.00 | Lead (o/than refined lead), containing by weight antimony as the principal other element, unwrought.
7801.99.30 | Lead (o/than refined lead), bullion.
7801.99.90 | Lead (o/than refined lead), unwrought nesoi.
7802.00.00 | Lead, waste and scrap.
7804.11.00 | Lead, sheets, strip and foil, w/thickness n/o 0.2 mm, excluding any backing.
7804.19.00 | Lead, plates & sheets, strip and foil w/thickness o/0.2mm, nesoi.
7804.20.00 | Lead, powders and flakes.
7806.00.03 | Lead, bars, rods, profiles and wire.
7806.00.05 | Lead, tubes or pipes and fittings for tubes or pipes.
7806.00.80 | Lead, articles, nesoi.
7901.11.00 | Zinc (o/than alloy), unwrought, containing o/99.99% by weight of zinc.
7901.12.10 | Zinc (o/than alloy), unwrought, casting-grade zinc, containing at least 97.5% but less than 99.99% by weight of zinc.
7901.12.50 | Zinc (o/than alloy), unwrought, o/than casting-grade zinc, containing at least 97.5% but less than 99.99% by wt. of zinc.
7901.20.00 | Zinc alloy, unwrought.
7902.00.00 | Zinc, waste and scrap.
7903.10.00 | Zinc, dust.
7903.90.30 | Zinc, powders.
7903.90.60 | Zinc, flakes.
7904.00.00 | Zinc, bars, rods, profiles and wire.
7905.00.00 | Zinc, plates, sheets, strip and foil.
7907.00.10 | Zinc, household, table or kitchen use articles; zinc toilet and sanitary wares; zinc parts of all the foregoing.
7907.00.20 | Zinc, tubes or pipes and fittings for tubes or pipes.
7907.00.60 | Zinc, articles (o/than for household, table or kitchen use), nesoi.
8001.10.00 | Tin (o/than alloy), unwrought.
8001.20.00 | Tin alloy, unwrought.
8002.00.00 | Tin, waste and scrap.
8003.00.00 | Tin, bars, rods, profiles and wire.
8007.00.10 | Tin, household, table or kitchen use articles; tin toilet and sanitary wares; all the foregoing, n/coated or plated w/prec. metal.
8007.00.20 | Tin, plates, sheets and strip, of a thickness exceeding 0.20 mm.
8007.00.31 | Tin. foil, w/thickness (excluding any backing) n/o 0.2 mm.
8007.00.32 | Tin, powders and flakes.
8007.00.40 | Tin, tubes or pipes and fittings for tubes or pipes.
8007.00.50 | Tin, articles nesoi.
8101.10.00 | Tungsten, powders.
8101.94.00 | Tungsten, unwrought (including bars and rods obtained simply by sintering).
8101.96.00 | Tungsten wire.
8101.97.00 | Tungsten waste and scrap.
8101.99.10 | Tungsten bars and rods (o/than those obtained simply by sintering), profiles, plates, sheets, strip and foil.
8101.99.80 | Tungsten, articles nesoi.
8102.10.00 | Molybdenum, powders.
8102.94.00 | Molybdenum, unwrought (including bars and rods obtained simply by sintering).
8102.95.30 | Molybdenum bars and rods (o/than those obtained simply by sintering).
8102.95.60 | Molybdenum profiles, plates, sheets, strip and foil.
8102.96.00 | Molybdenum wire.
8102.97.00 | Molybdenum waste and scrap.
8102.99.00 | Molybdenum, articles nesoi.
8103.20.00 | Tantalum, unwrought (including bars and rods obtained simply by sintering); tantalum powders.
8103.30.00 | Tantalum waste and scrap.
8103.90.00 | Tantalum, articles nesoi.
8104.11.00 | Magnesoium, unwrought, containing at least 99.8 percent by weight of magnesoium.
8104.19.00 | Magnesoium, unwrought, nesoi.
8104.20.00 | Magnesoium, waste and scrap.
8104.30.00 | Magnesoium, raspings, turnings and granules graded according to size; magnesoium powders.
8104.90.00 | Magnesoium, articles nesoi.
8105.20.30 | Cobalt alloys, unwrought.
8105.20.60 | Cobalt (other than alloys), unwrought.
8105.20.90 | Cobalt, mattes and other intermediate products of cobalt metallurgy; cobalt powders.
8105.30.00 | Cobalt waste and scrap.
8105.90.00 | Cobalt, articles thereof nesoi.
8106.00.00 | Bismuth (including waste & scrap) and articles thereof, nesoi.
8107.20.00 | Cadmium, unwrought; cadmium powders.
8107.30.00 | Cadmium waste and scrap.
8107.90.00 | Cadmium, articles thereof nesoi.
8108.20.00 | Titanium, unwrought; titanium powders.
8108.30.00 | Titanium waste and scrap.
8108.90.30 | Titanium, articles nesoi.
8108.90.60 | Titanium, wrought nesoi.
8109.20.00 | Zirconium, unwrought; zirconium powders.
8109.30.00 | Zirconium waste and scrap.
8109.90.00 | Zirconium, articles, nesoi.
8110.10.00 | Antimony, unwrought; antimony powders.
8110.20.00 | Antimony waste and scrap.
8110.90.00 | Articles of antimony, nesoi.
8111.00.30 | Manganese, waste and scrap.
8111.00.47 | UNWROUGHT MANGANESE FLAKE CONTAINING AT LEAST 99.5 PERCENT BY WEIGHT MANGANESE.
8111.00.49 | UNWROUGHT MANGANESE, nesoi.
8111.00.60 | Manganese (o/than waste and scrap, unwrought) and articles thereof, nesoi.
8112.12.00 | Beryllium, unwrought; beryllium powders.
8112.13.00 | Beryllium waste and scrap.
8112.19.00 | Beryllium, articles nesoi.
8112.21.00 | Chromium, unwrought; chromium powders.
8112.22.00 | Chromium waste and scrap.
8112.29.00 | Articles of chromium, nesoi.
8112.51.00 | Thallium, unwrought; thallium powders.
8112.52.00 | Thallium waste and scrap.
8112.59.00 | Articles of thallium, nesoi.
8112.92.06 | Waste and scrap of gallium, germanium, hafnium, indium, niobium, rhenium, or vanadium.
8112.92.10 | Gallium, unwrought; gallium powders.
8112.92.20 | Hafnium, unwrought; hafnium powders.
8112.92.30 | Indium, unwrought; indium powders.
8112.92.40 | Niobium (columbium), unwrought; niobium powders.
8112.92.50 | Rhenium, unwrought; rhenium powders.
8112.92.60 | Germanium, unwrought.
8112.92.65 | Germanium powder, wrought.
8112.92.70 | Vanadium, unwrought and powders.
8112.99.10 | Germanium nesoi and articles thereof.
8112.99.20 | Vanadium, nesoi, and articles thereof.
8112.99.90 | Articles of gallium, hafnium, indium, niobium or rhenium, nesoi.
8113.00.00 | Cermets (including waste & scrap) and articles thereof.
8201.10.00 | Spades and shovels and base metal parts thereof.
8201.30.00 | Mattocks, picks, hoes and rakes and base metal parts thereof.
8201.40.30 | Machetes, and base metal parts thereof.
8201.40.60 | Axes, bill hooks and similar hewing tools (o/than machetes), and base metal parts thereof.
8201.50.00 | One-handed secateurs, pruners and shears (including poultry shears), and base metal parts thereof.
8201.60.00 | Hedge shears, two-handed pruning shears and similar two-handed shears, and base metal parts thereof.
8201.90.30 | Grass shears, and base metal parts thereof.
8201.90.40 | Forks (hand tools) and base metal parts thereof.
8201.90.60 | Base metal hand tools of a kind used in agriculture, horticulture or forestry nesoi, and base metal parts thereof.
8202.10.00 | Hand saws, and base metal parts thereof (except blades).
8202.20.00 | Band saw blades.
8202.31.00 | Circular saw blades (including slitting or slotting saw blades), w/working part of steel.
8202.39.00 | Circular saw blades (including slitting or slotting saw blades), with working part of o/than steel, & base metal parts thereof.
8202.40.30 | Chain saw blades & base metal parts thereof, w/cutting parts cont. o/0.2% of Cr, Mo or W, or o/0.1% of V.
8202.40.60 | Chain saw blades and base metal parts thereof, nesoi.
8202.91.30 | Hacksaw blades for working metal.
8202.91.60 | Straight saw blades for working metal (o/than hacksaw blades), and base metal parts thereof.
8202.99.00 | Saw blades nesoi, and base metal parts thereof.
8203.10.30 | Files, rasps and similar tools, n/o 11 cm in length.
8203.10.60 | Files, rasps and similar tools, o/11 cm but n/o 17 cm in length.
8203.10.90 | Files, rasps and similar tools, o/17 cm in length.
8203.20.20 | Base metal tweezers.
8203.20.40 | Slip joint pliers.
8203.20.60 | Pliers (including cutting pliers but not slip joint pliers), pincers and similar tools.
8203.20.80 | Base metal parts of pliers (including cutting pliers), pincers, tweezers and similar tools.
8203.30.00 | Metal cutting shears and similar tools, and base metal parts thereof.
8203.40.30 | Pipe cutters, bolt cutters, perf. punches & similar tools, w/cutting parts o/0.2% Cr, Mo or W, or o/0.1% V & base metal pts.
8203.40.60 | Pipe cutters, bolt cutters, perforating punches and similar tools, nesoi, and base metal parts thereof.
8204.11.00 | Hand-operated non-adjustable spanners and wrenches, and base metal parts thereof.
8204.12.00 | Hand-operated adjustable spanners and wrenches, and base metal parts thereof.
8204.20.00 | Socket wrenches, with or without handles, drives and extensions, and base metal parts thereof.
8205.10.00 | Drilling, threading or tapping tools, and base metal parts thereof.
8205.20.30 | Hammers and sledge hammers, with heads not over 1.5 kg each, and base metal parts thereof.
8205.20.60 | Hammers and sledge hammers, with heads over 1.5 kg each, and base metal parts thereof.
8205.30.30 | Planes, chisels, gouges etc. for working wood, over 0.2% chromium, molybdenum or tungsten, or over 0.1% vanadium, base metal parts thereof.
8205.30.60 | Planes, chisels, gouges and similar cutting tools for working wood, nesoi, and base metal parts thereof.
8205.40.00 | Screwdrivers and base metal parts thereof.
8205.51.15 | Carving and butcher steels, of iron or steel, with or without their handles.
8205.51.30 | Iron or steel household handtools (o/than carving & butcher steels), and base metal parts thereof.
8205.51.45 | Copper household handtools, and base metal parts thereof.
8205.51.60 | Aluminum household handtools, and base metal parts thereof.
8205.51.75 | Base metal, nesoi, household handtools, and base metal parts thereof.
8205.59.10 | Pipe tools and base metal parts thereof.
8205.59.20 | Powder-actuated hand tools and base metal parts thereof.
8205.59.30 | Crowbars, track tools and wedges, and base metal parts thereof.
8205.59.45 | Caulking guns of iron or steel, and base metal parts thereof.
8205.59.55 | Iron or steel handtools (o/than household, o/than caulking guns) nesoi, and base metal parts thereof.
8205.59.60 | Copper handtools (o/than household) nesoi, and base metal parts thereof.
8205.59.70 | Aluminum handtools (o/than household) nesoi, and base metal parts thereof.
8205.59.80 | Base metal, nesoi, handtools (o/than household), and base metal parts thereof.
8205.60.00 | Blow torches and similar self-contained torches, and base metal parts thereof.
8205.70.00 | Vises, clamps and the like, and base metal parts thereof.
8205.90.10 | Anvils, portable forges, hand- or pedal-operated grinding wheels with frameworks and base metal parts thereof.
8205.90.60 | Sets of articles (handtools and other specified tools) of two or more foregoing subheadings.
8206.00.00 | Tools of two or more of headings 8202 to 8205 put up in sets for retail sale.
8207.13.00 | Interchangeable tools for rock drilling or earth boring tools, w/working part of cermets.
8207.19.30 | Interchangeable tools for rock drilling or earth boring tools, w/cutting part o/0.2% Cr, Mo or W, or o/0.1% V by wt., & base metal parts.
8207.19.60 | Interchangeable tools for rock drilling or earth boring tools, w/working part nesoi, and base metal parts thereof.
8207.20.00 | Interchangeable dies for drawing or extruding metal, and base metal parts thereof.
8207.30.30 | Interchangeable tools for pressing, stamping or punching, suitable for cutting metal, and base metal parts thereof.
8207.30.60 | Interchangeable tools for pressing, stamping or punching, not suitable for cutting metal, and base metal parts thereof.
8207.40.30 | Interchangeable tools for tapping or threading, w/cutting pts ov 0.2% by wt of Cr, Mo, W, or ov 0.1% V, & base metal pts thereof.
8207.40.60 | Interchangeable tools for tapping or threading, nesoi, and base metal parts thereof.
8207.50.20 | Interchangeable tools for drilling (o/than rock drilling) w/cutting part ov 0.2% Cr, Mo or W, or ov 0.1% V & base metal parts thereof.
8207.50.40 | Interchangeable tools for drilling (o/than rock drilling), nesoi, suitable for cutting metal, and base metal parts thereof.
8207.50.60 | Interchangeable tools for handtools, for drilling (o/than rock drilling), nesoi, n/suitable for cutting metal, & base metal parts thereof.
8207.50.80 | Interchangeable tools (o/than for handtools) for drilling (o/than rock drilling), nesoi, not suitable for cutting metal, & base metal parts.
8207.60.00 | Interchangeable tools for boring or broaching, and base metal parts thereof.
8207.70.30 | Interchangeable tools for milling, w/cutting part ov 0.2% by wt of Cr, Mo or W, or ov 0.1% by wt of V & base metal parts thereof.
8207.70.60 | Interchangeable tools for milling, nesoi, and base metal parts thereof.
8207.80.30 | Interchangeable tools for turning, w/cutting part ov 0.2% by wt of Cr, Mo or W, or ov 0.1% by wt of V & base metal parts thereof.
8207.80.60 | Interchangeable tools for turning, nesoi, and base metal parts thereof.
8207.90.15 | Interchangeable files and rasps, including rotary files and rasps, and base metal parts thereof.
8207.90.30 | Interchangeable cutting tools, nesoi, w/cutting part ov 0.2% by wt of Cr, Mo or W, or ov 0.1% by wt of V, and base metal parts thereof.
8207.90.45 | Interchangeable tools, nesoi, suitable for cutting metal, nesoi and base metal parts thereof.
8207.90.60 | Interchangeable tools for handtools, nesoi, not suitable for cutting metal, nesoi and base metal parts thereof.
8207.90.75 | Interchangeable tools (o/than for handtools) nesoi, not suitable for cutting metal, nesoi and base metal parts thereof.
8208.10.00 | Knives and cutting blades for metal working machines or mechanical appliances, and base metal parts thereof.
8208.20.00 | Knives and cutting blades for wood working machines or mechanical appliances, and base metal parts thereof.
8208.30.00 | Knives and cutting blades for kitchen appliances or for machines used by the food industry, and base metal parts thereof.
8208.40.30 | Lawnmower blades for agricultural, horticultural or forestry machines.
8208.40.60 | Knives and cutting blades (o/than lawnmower blades) for agricultural, horticultural or forestry machines, and base metal parts thereof.
8208.90.30 | Knives and cutting blades for shoe machinery, and base metal parts thereof.
8208.90.60 | Knives and cutting blades, nesoi for machines or for mechanical appliances nesoi, and base metal parts thereof.
8209.00.00 | Cermet plates, sticks, tips and the like for tools, unmounted.
8210.00.00 | Hand-operated mechanical appliances weighing 10 kg or less, used in preparation, conditioning, serving food or drink & base metal pts.
8211.93.00 | Knives having other than fixed blades.
8211.94.10 | Base metal blades for knives having fixed blades.
8211.94.50 | Base metal blades for knives having other than fixed blades.
8211.95.10 | Base metal handles for table knives w/fixed blades.
8211.95.50 | Base metal handles for knives (o/than table knivies) w/fixed blades.
8211.95.90 | Base metal handles for knives having other than fixed blades.
8215.20.00 | Sets of assted. base metal spoons, forks, ladles, etc. & similar kitchen or tableware, w/no articles plated with precious metal.
8215.99.05 | Base metal forks, w/stainless steel handles cont. Ni or o/10% by wt of Mn, nesoi.
8301.20.00 | Base metal locks, of a kind used on motor vehicles.
8302.10.60 | Iron or steel, aluminum, or zinc hinges and base metal parts thereof, not designed for motor vehicles.
8302.10.90 | Base metal (o/than iron/steel/aluminum/zinc) hinges and base metal parts thereof.
8302.20.00 | Base metal castors and base metal parts thereof.
8302.30.30 | Iron or steel, aluminum or zinc mountings, fittings and similar articles nesoi, suitable for motor vehicles, and base metal parts thereof.
8302.30.60 | Base metal (o/than iron/steel/aluminum/zinc) mountings, fittings & similar articles, suitable for motor vehicles, & base metal pts thereof.
8302.41.30 | Base metal door closers (except automatic door closers) suitable for buildings, and base metal parts thereof.
8302.41.60 | Iron or steel, aluminum or zinc mountings, fittings & similar articles, nesoi, suitable for buildings, & base metal pts thereof.
8302.41.90 | Base metal (o/than iron/steel/aluminum/zinc) mountings, fittings and similar arts, nesoi, suitable for buildings & base metal parts thereof.
8302.49.20 | Base metal harness, saddlery or riding-bridle hardware coated or plated w/prec. metal, and base metal parts thereof.
8302.49.40 | Base metal harness, saddlery or riding-bridle hardware, not coated or plated w/prec. metal, and base metal parts thereof.
8302.49.60 | Iron or steel, aluminum, or zinc, mountings, fittings & similar articles nesoi, and base metal parts thereof.
8302.49.80 | Base metal (o/than iron/steel/aluminum/zinc) mountings, fittings & similar articles nesoi, and base metal parts thereof.
8302.50.00 | Base metal hat-racks, hat pegs, brackets and similar fixtures, and base metal parts thereof.
8302.60.30 | Base metal automatic door closers.
8302.60.90 | Base metal parts of automatic door closers.
8303.00.00 | Base metal armored or reinforced safes/strong-boxes & doors & safe deposit lockers for strong rooms/cash & deed boxes etc., & base metal pts.
8306.30.00 | Base metal photograph, picture or similar frames; base metal mirrors; base metal parts thereof.
8307.10.30 | Iron or steel flexible tubing, with fittings.
8307.10.60 | Iron or steel flexible tubing, without fittings.
8307.90.30 | Base metal (o/than iron or steel) flexible tubing, with fittings.
8307.90.60 | Base metal (o/than iron or steel) flexible tubing, without fittings.
8308.10.00 | Base metal hooks, eyes, and eyelets, of a kind used for clothing, footwear, awnings, handbags, travel goods, or other made up articles.
8308.20.30 | Iron or steel bifurcated rivets, not brightened, not lathed and not machined.
8308.20.60 | Base metal tubular or bifurcated rivets (o/than of iron or steel).
8308.90.30 | Base metal beads and spangles.
8308.90.60 | Base metal buckles and buckle clasps, and base metal parts thereof.
8308.90.90 | Base metal clasps, frames with clasps not incorporating a lock, and like articles, and base metal parts thereof.
8309.10.00 | Base metal crown corks (including crown seals and caps), and base metal parts thereof.
8309.90.00 | Base metal stoppers, caps and lids (o/than crown corks), threaded bungs, bung covers, seals, other packing accessories and parts.
8310.00.00 | Base metal sign plates, name plates, address plates, numbers, letters and other symbols (o/than of 9405), and base metal parts thereof.
8311.10.00 | Coated base metal electrodes for electric arc-welding.
8311.20.00 | Base metal cored wire for electric arc-welding.
8311.30.30 | Coated rod or cored wire lead-tin solders.
8311.30.60 | Coated rods and cored wire of base metal (o/than lead-tin solders), for soldering, brazing or welding by flame.
8311.90.00 | Wire & rods of agglom. base metal powder for metal spray; metal carbide wire, rods, tubes, electrodes, coated/cored w/flux, for welding etc.
8404.10.00 | Auxiliary plant for use with boilers of heading 8402 or 8403.
8406.81.10 | Steam turbines other than for marine propulsion, of an output exceeding 40 MW.
8406.90.20 | Parts of steam turbines, rotors, finished for final assembly.
8406.90.30 | Parts of steam turbines, rotors, not further worked than cleaned or machined for removal of fins, etc., or certain other working.
8406.90.40 | Parts of steam turbines, blades, rotating or stationary.
8406.90.45 | Parts of steam turbines, other.
8406.90.50 | Parts of vapor turbines other than steam turbines, rotors, finished for final assembly.
8406.90.60 | Parts of vapor turbines other than steam turbines, rotors, not further worked than cleaned or machined for removal of fins, etc., or other.
8406.90.70 | Parts of vapor turbines other than steam turbines, blades, rotating or stationary.
8406.90.75 | Parts of vapor turbines other than steam turbines, other.
8407.31.00 | Spark-ignition reciprocating piston engines used for propulsion of vehicles of chapter 87, of a cylinder capacity not exceeding 50cc.
8407.32.10 | Spark-ignition reciprocating piston engines used in tractors suitable for agricultural use, of a cylinder capacity over 50cc but n/o 250cc.
8407.32.20 | Spark-ignition reciprocating piston engines used in vehicles of heading 8701.20, 8702-8704, cylinder capacity over 50cc but n/o 250cc.
8407.32.90 | Spark-ignition reciprocating piston engines used for vehicles, of chap. 87 nesoi, of a cylinder capacity over 50 but not over 250cc.
8407.33.10 | Spark-ignition reciprocating piston engines used in tractors for agricultural use, of a cylinder capacity over 250cc but not over 1000cc.
8407.33.30 | Spark-ignition reciprocating piston engines, for certain spec. veh. of 8701.20, 8702, 8703 or 8704, cylinder cap. >250 cc > or = 1, 000 cc.
8407.33.60 | Spark-ignition reciprocating piston engines, for other veh. of 8701.20, 8702, 8703 or 8704, cylinder cap. >250 cc > or = 1, 000 cc, nesoi.
8407.33.90 | Spark-ignition reciprocating piston engines for vehicles of chap. 87 nesoi, of a cylinder capacity over 250cc but not over 1000cc.
8407.34.14 | Spark-ignition reciprocating piston engines for vehicles of 8701.20 or 8702-8704, cylinder cap. over 1000 cc to 2000 cc, used or rebuilt.
8407.34.18 | Spark-ignition reciprocating piston engines for vehicles of 8701.20 or 8702-8704, cylinder cap. over 1000 cc to 2000 cc, new.
8407.34.25 | Spark-ignition reciprocating piston engines for other vehicles of chap. 87, of a cylinder capacity over 1000 cc to 2000 cc.
8407.34.44 | Spark-ignition reciprocating piston engines for vehicles of 8701.20 or 8702-8704, cylinder capacity over 2000 cc, used or rebuilt.
8407.34.48 | Spark-ignition reciprocating piston engines for vehicles of 8701.20 or 8702-8704, cylinder capacity over 2000 cc, new.
8407.34.55 | Spark-ignition reciprocating piston engines for other vehicles of chap. 87 nesoi, of a cylinder capacity exceeding 2000 cc.
8408.20.20 | Compression-ignition internal-combustion piston engines to be installed in vehicles of heading 8701.20, 8702, 8703, or 8704.
8408.20.90 | Compression-ignition internal-combustion piston engines used for propulsion of vehicles of chapter 87, nesoi.
8409.91.10 | Cast-iron parts used solely or principally with spark-ignition internal-combustion piston engines of heading 8407.
8409.91.30 | Aluminum cylinder heads for spark-ignition internal combustion piston engines for vehicles of 8701.20 or 8702-8704.
8409.91.50 | Parts nesoi, used solely or principally with spark-ignition internal-combustion piston engines for vehicles of head 8701.20, 8702-8704.
8409.91.92 | Parts nesoi, used solely or principally with spark-ignition internal-combustion piston engines for marine propulsion.
8409.91.99 | Parts nesoi, used solely or principally with spark-ignition internal-combustion piston engines of heading 8407, nesoi.
8409.99.10 | Cast iron parts not advanced beyond cleaning & machined only for removal of fins, gates, etc. or to permit location in machinery.
8409.99.91 | Parts nesoi, used solely or principally with the engines of heading 8408, for vehicles of heading 8701.20, 8702, 8703, 8704.
8409.99.92 | Parts nesoi, used solely or principally with compression-ignition internal-combustion piston engines for marine propulsion.
8409.99.99 | Parts nesoi, used solely or principally with compression-ignition internal-combustion piston engines of heading 8407 or 8408, nesoi.
8412.90.90 | Parts for engines of heading 8412 other than hydrojet engines for marine propulsion.
8413.11.00 | Pumps fitted or designed to be fitted with a measuring device, used for dispensing fuel or lubricants, of the type used in filling-stations.
8413.20.00 | Hand pumps other than those of subheading 8413.11 or 8413.19, not fitted with a measuring device.
8413.30.10 | Fuel-injection pumps for compression-ignition engines, not fitted with a measuring device.
8413.30.90 | Fuel, lubricating or cooling medium pumps for internal-combustion piston engines, not fitted with a measuring device, nesoi.
8413.92.00 | Parts of liquid elevators.
8414.10.00 | Vacuum pumps.
8414.20.00 | Hand-operated or foot-operated air pumps.
8414.40.00 | Air compressors mounted on a wheeled chassis for towing.
8414.59.10 | Blowers for pipe organs.
8414.59.15 | Fans used for cooling microprocessors, telecommunications equipment, or computers.
8414.59.65 | Other fans, nesoi.
8414.60.00 | Ventilating or recycling hoods incorporating a fan, having a maximum horizontal side not exceeding 120 cm.
8414.80.16 | Air compressors, nesoi.
8414.80.90 | Air or gas pumps, compressors and fans, nesoi.
8414.90.10 | Parts of fans (including blowers) and ventilating or recycling hoods.
8415.10.30 | Window or wall type air conditioning machines, self-contained.
8415.10.60 | Window or wall type air conditioning machines, “split-system”, incorporating a refrigerating unit & valve for reversal of cooling/heat cycle.
8415.10.90 | Window or wall type air conditioning machines, “split-system”, nesoi.
8415.20.00 | Air conditioning machines of a kind used for persons, in motor vehicles.
8415.81.01 | Air conditioning machines incorporating a refrigerating unit and valve for reversal of cooling/heat cycle, nesoi.
8415.82.01 | Air conditioning machines incorporating a refrigerating unit, nesoi.
8415.83.00 | Air conditioning machines not incorporating a refrigerating unit.
8416.30.00 | Mechanical stokers, including their mechanical grates, mechanical ash dischargers and similar appliances.
8418.10.00 | Combined refrigerator-freezers, fitted with separate external doors, electric or other.
8418.21.00 | Refrigerators, household compression-type, electric or other, other than those of subheading 8418.10.
8418.29.10 | Refrigerators, household absorption-type, electrical, other than those of subheading 8418.10.
8418.29.20 | Refrigerators, household type, electric or other, other than those of subheading 8418.10, nesoi.
8418.30.00 | Freezers of the chest type, not exceeding 800 liters capacity, electric or other.
8418.40.00 | Freezers of the upright type, not exceeding 900 liters capacity, electric or other.
8418.50.00 | Refrigerating or freezing display counters, cabinets, showcases and similar refrigerating or freezing furniture.
8418.61.01 | Heat pumps, other than the air-conditioning machines of heading 8415.
8418.91.00 | Furniture designed to receive refrigerating or freezing equipment.
8418.99.40 | Certain door assemblies for refrigerators, freezers and other refrigerating or freezing equipment.
8418.99.80 | Parts for refrigerators, freezers and other refrigerating or freezing equipment, electric or other, nesoi; parts for heat pumps, nesoi.
8421.11.00 | Cream separators.
8421.23.00 | Oil or fuel filters for internal combustion engines.
8421.31.00 | Intake air filters for internal combustion engines.
8422.90.04 | Door assemblies for the dishwashing machines of subheading 8422.11.
8423.81.00 | Weighing machinery having a maximum weighing capacity not exceeding 30 kg.
8424.20.10 | Simple piston pump sprays and powder bellows.
8424.20.90 | Spray guns and similar appliances other than simple piston pump sprays and powder bellows.
8424.30.10 | Sand blasting machines.
8424.30.90 | Steam blasting machines and similar jet projecting machines, other than sand blasting machines; nesoi.
8424.41.10 | Portable sprayers excl self-contained sprayers having a capacity >=20 liters.
8424.41.90 | Portable sprayers self-contained having a capacity >=20 liters.
8424.49.00 | Sprayers, not portable, nesoi.
8424.90.90 | Parts of mechanical appliances for projecting, dispersing or spraying liquids or powders, fire extinguishers and similar machines, nesoi.
8425.19.00 | Pulley tackle and hoists other than skip hoists or hoists used for raising vehicles, not powered by electric motor.
8425.31.01 | Winches nesoi, and capstans, powered by electric motor.
8425.41.00 | Built-in jacking systems of a type used in garages.
8425.42.00 | Hydraulic jacks and hoists, nesoi.
8425.49.00 | Jacks and hoists of a kind used for raising vehicles, other than hydraulic, nesoi.
8426.19.00 | Transporter cranes, gantry cranes and bridge cranes.
8426.30.00 | Portal or pedestal jib cranes.
8426.91.00 | Derricks, cranes and other lifting machinery nesoi, designed for mounting on road vehicles.
8427.90.00 | Trucks, fitted with lifting or handling equipment, nesoi.
8428.40.00 | Escalators and moving walkways.
8430.49.40 | Offshore oil and natural gas drilling and production platforms.
8430.50.10 | Self-propelled peat excavators.
8432.41.00 | Manure spreaders.
8433.90.10 | Parts of mowers for lawns, parks or sports grounds.
8441.10.00 | Cutting machines of all kinds used for making up paper pulp, paper or paperboard.
8442.50.10 | Printing plates.
8443.15.00 | Letterpress printing machinery, excluding flexographic printing, other than reel-fed.
8443.16.00 | Flexographic printing machinery.
8443.39.20 | Electrostatic photocopying apparatus, operating by reproducing the original image via an intermediate onto the copy (indirect process).
8443.39.30 | Photocopying apparatus, other than electrostatic, incorporating an optical system.
8443.39.40 | Photocopying apparatus, other than electrostatic, of the contact type.
8443.39.50 | Thermocopying apparatus.
8443.99.10 | Accessory & auxiliary machines intended for attachment to an electrostatic photocopier & which do not operate independent of such copier.
8443.99.30 | Parts of facsimile machines specified in additional U.S. note 3 to this chapter.
8443.99.35 | Parts and accessories of facsimile machines, nesoi.
8446.30.50 | Shuttleless type weaving machines (looms), for weaving fabrics of a width exceeding 30 cm, nesoi.
8448.51.20 | Spring-beard needles for knitting machines.
8451.10.00 | Dry-cleaning machines.
8451.21.00 | Drying machines, each of a dry linen capacity not exceeding 10 kg.
8451.29.00 | Drying machines for yarns, fabrics or made up textile articles, each of a dry linen capacity exceeding 10 kg.
8451.30.00 | Ironing machines and presses (including fusing presses) for textile fabrics or made up textile articles.
8451.40.00 | Washing, bleaching or dyeing machines for textile yarns, fabrics or made up textile articles.
8451.50.00 | Machines for reeling, unreeling, folding, cutting or pinking textile fabrics.
8451.80.00 | Machinery for the handling of textile yarns, fabrics or made up textile articles, nesoi.
8451.90.30 | Drying chambers for the drying machines of subheading 8451.21 or 8451.29, and other parts of drying machines incorporating drying chambers.
8451.90.60 | Furniture designed to receive the drying machines of subheading 8451.21 or 8451.29.
8451.90.90 | Parts of machines for the handling of textile yarns, fabrics or made up textile articles, nesoi.
8452.29.90 | Sewing machines, other than automatic, nesoi.
8454.20.00 | Ingot molds and ladles, of a kind used in metallurgy or in metal foundries.
8459.29.00 | Drilling machines, other than numerically controlled, nesoi.
8459.59.00 | Milling machines, knee type, other than numerically controlled, nesoi.
8460.39.00 | Sharpening (tool or cutter grinding) machines for working metal or cermets, other than numerically controlled.
8461.50.80 | Sawing or cutting-off machines for working by removing metal or cermets, other than numerically controlled.
8465.20.10 | Machine centers for sawing, planing, milling, molding, grinding, sanding, polishing, drilling or mortising.
8465.20.50 | Machine centers for bending or assembling.
8465.20.80 | Machine centers, nesoi.
8465.91.00 | Sawing machines for working wood, cork, bone, hard rubber, hard plastics or similar hard materials.
8466.91.10 | Cast iron parts not advanced beyond cleaning and specifically machined, for machines of heading 8464.
8466.93.15 | Certain specified cast-iron parts not advanced beyond cleaning and specifically machined, for metalworking machine tools for cutting, etc.
8467.19.50 | Tools for working in the hand, pneumatic, other than rotary type, other than suitable for metal working.
8467.99.01 | Parts of tools for working in the hand, hydraulic or with self-contained nonelectric or electric motor, other than chain saws.
8468.20.10 | Gas-operated machinery, apparatus and appliances, hand-directed or -controlled, used for soldering, brazing, welding or tempering, nesoi.
8468.80.10 | Machinery and apparatus, hand-directed or -controlled, used for soldering, brazing or welding, not gas-operated.
8468.90.10 | Parts of hand-directed or -controlled machinery, apparatus and appliances used for soldering, brazing, welding or tempering.
8468.90.50 | Parts for machinery, apparatus or appliances, not hand-directed or -controlled, used for soldering, brazing, welding or tempering.
8470.10.00 | Electronic calculator operate w/o external electric power & pocket-size data recording/reproducing/displaying machine w/calculating function.
8470.21.00 | Electronic calculating machines, incorporating a printing device, nesoi.
8470.29.00 | Electronic calculating machines, not incorporating a printing device, nesoi.
8470.30.00 | Calculating machines nesoi, other than electronic.
8470.90.01 | Postage-franking, ticket-issuing and similar machines nesoi, incorporating a calculating device; accounting machines.
8471.50.01 | Processing units other than those of subheading 8471.41 and 8471.49, nesoi.
8471.60.10 | Combined input/output units for automatic data processing machines not entered with the rest of a system.
8471.60.70 | Input or output units suitable for physical incorporation into ADP machine or unit thereof, nesoi, not entered with the rest of a system.
8471.60.90 | Other input or output units of digital ADP machines, nesoi, not entered with the rest of a system.
8471.70.10 | ADP magnetic disk drive storage units, disk dia. ov 21 cm, w/o read-write unit; read-write units; all not entered with the rest of a system.
8471.70.20 | ADP magnetic disk drive storage units, disk dia. ov 21 cm: for incorp. into ADP machines or units, not entered with the rest of a system.
8471.70.50 | ADP magnetic disk drive storage units, disk dia. n/ov 21 cm, nesoi, not entered with the rest of a system.
8471.80.10 | Control or adapter units for automatic data processing machines not entered with rest of a system.
8471.80.40 | Unit suitable for physical incorporation into automatic data processing machine or unit thereof, not entered with the rest of a system, nesoi.
8471.80.90 | Other units of automatic data processing machines, not entered with the rest of a system, nesoi.
8471.90.00 | Magnetic or optical readers, nesoi; machines for transcribing data on data media in coded form and machines for processing such data, nesoi.
8472.10.00 | Hectographic or stencil duplicating machines.
8472.30.00 | Machines for sorting, folding, opening, closing or sealing mail, and postage stamp affixing or canceling machines.
8472.90.05 | Addressing machines and address plate embossing machines.
8472.90.10 | Automatic teller machines.
8472.90.60 | Numbering, dating and check-writing machines.
8472.90.90 | Other office machines, nesoi.
8473.21.00 | Parts and accessories of the electronic calculating machines of subheading 8470.10, 8470.21 or 8470.29.
8473.29.00 | Parts and accessories of machines of heading 8470, nesoi.
8473.30.11 | Printed circuit assemblies, not incorporating a cathode ray tube, of the machines of 8471.
8473.30.51 | Parts and accessories of the ADP machines of heading 8471, not incorporating a CRT, nesoi.
8473.30.91 | Parts and accessories of the ADP machines of heading 8471, incorporating a CRT, nesoi.
8473.40.21 | Printed circuit assemblies of word processing machines of 8472.90.50.
8473.40.41 | Other parts and accessories of the machines of 8472.90.50.
8476.21.00 | Automatic beverage-vending machines incorporating heating or refrigerating devices.
8476.29.00 | Automatic beverage-vending machines other than machines that incorporate heating or refrigerating devices.
8476.81.00 | Automatic goods-vending machines (other than beverage-vending) incorporating heating or refrigerating devices.
8476.90.00 | Parts for automatic goods-vending and money-changing machines.
8477.59.01 | Machinery for molding or otherwise forming rubber or plastics other than for molding or retreading pneumatic tires, nesoi.
8479.60.00 | Evaporative air coolers.
8479.71.00 | Passenger boarding bridges of a kind used in airports.
8479.89.10 | Air humidifiers or dehumidifiers with self-contained electric motor, other than for domestic purposes.
8479.89.20 | Floor polishers with self-contained electric motor, other than for domestic purposes.
8479.89.70 | Carpet sweepers, not electromechanical having self-contained electric motor.
8479.89.94 | Other machines and mechanical appliances having individual functions, not specified or included elsewhere in chapter 84, nesoi.
8480.10.00 | Molding boxes for metal foundry.
8480.79.10 | Molds for rubber or plastics, other than injection or compression types, for shoe machinery.
8480.79.90 | Molds for rubber or plastics, other than injection or compression types, other than for shoe machinery.
8481.30.10 | Check valves of copper for pipes, boiler shells, tanks, vats or the like.
8481.80.10 | Taps, cocks, valves & similar appliances for pipes, boiler shells, tanks, vats or the like, hand operated, of copper, nesoi.
8481.80.30 | Taps, cocks, valves & similar appliances for pipes, boiler shells, tanks, vats or the like, hand operated, of iron or steel, nesoi.
8481.80.50 | Taps, cocks, valves & similar appliances for pipes, boiler shells, tanks, vats or the like, hand operated, not copper, iron or steel, nesoi.
8481.80.90 | Taps, cocks, valves & similar appliances for pipes, boiler shells, tanks, vats or the like, other than hand operated, nesoi.
8481.90.10 | Parts of hand operated and check appliances for pipes, boiler shells, tanks, vats or the like, of copper.
8481.90.30 | Parts of hand operated and check appliances for pipes, boiler shells, tanks, vats or the like, of iron or steel.
8481.90.50 | Parts of hand operated and check appliances for pipes, boiler shells, tanks, vats or the like, other than of copper or iron or steel.
8482.10.10 | Ball bearings with integral shafts.
8483.10.10 | Camshafts and crankshafts for use solely or principally with spark-ignition internal-combustion piston or rotary engines.
8483.10.30 | Camshafts and crankshafts nesoi.
8483.10.50 | Transmission shafts and cranks other than camshafts and crankshafts.
8483.20.40 | Housed bearings of the flange, take-up, cartridge and hanger unit type (incorporating ball or roller bearings).
8483.20.80 | Housed bearings (incorporating ball or roller bearings), nesoi.
8483.40.50 | Fixed, multiple and variable ratio speed changers, not imported for use with machines for making cellulosic pulp, paper or paperboard.
8483.40.70 | Speed changers other than fixed, multiple and variable ratio speed changers.
8483.50.40 | Gray-iron awning or tackle pulleys, not over 6.4 cm in wheel diameter.
8483.60.80 | Shaft couplings (other than universal joints).
8483.90.50 | Parts of gearing, gear boxes and other speed changers.
8501.40.20 | AC motors nesoi, single-phase, exceeding 37.5 W but not exceeding 74.6 W.
8501.40.40 | AC motors, nesoi, single-phase, exceeding 74.6 W but not exceeding 735 W.
8501.40.50 | AC motors, nesoi, single-phase, exceeding 735 W but under 746 W.
8501.40.60 | AC motors nesoi, single-phase, of 746 W or more.
8501.61.00 | AC generators (alternators) of an output not exceeding 75 kVA.
8502.20.00 | Electric generating sets with spark-ignition internal-combustion piston engines.
8504.10.00 | Ballasts for discharge lamps or tubes.
8504.31.20 | Unrated electrical transformers other than liquid dielectric, having a power handling capacity not exceeding 1 kVA.
8504.31.40 | Electrical transformers other than liquid dielectric, having a power handling capacity less than 1 kVA.
8504.31.60 | Electrical transformers other than liquid dielectric, having a power handling capacity of l kVA.
8504.40.60 | Power supplies suitable for physical incorporation into automatic data processing machines or units thereof of heading 8471.
8504.40.70 | Power supplies for automatic data processing machines or units thereof of heading 8471, nesoi.
8504.40.85 | Static converters (for example, rectifiers) for telecommunication apparatus.
8504.40.95 | Static converters (for example, rectifiers), nesoi.
8504.50.40 | Other inductors for power supplies for ADP machines and units of heading 8471 or for telecommunication apparatus.
8504.50.80 | Other inductors, nesoi.
8504.90.20 | Printed circuit assemblies of power supplies for automatic data processing machines or units thereof of heading 8471.
8505.11.00 | Permanent magnets and articles intended to become permanent magnets after magnetization, of metal.
8505.19.20 | Composite goods containing flexible permanent magnets, other than of metal.
8505.19.30 | Permanent magnets and articles intended to become permanent magnets after magnetization, other than of metal, nesoi.
8506.10.00 | Manganese dioxide primary cells and primary batteries.
8506.30.10 | Mercuric oxide primary cells and primary batteries having an external volume not exceeding 300 cubic cm.
8506.30.50 | Mercuric oxide primary cells and primary batteries having an external volume exceeding 300 cubic cm.
8506.80.00 | Primary cells and primary batteries, nesoi.
8507.10.00 | Lead-acid storage batteries of a kind used for starting piston engines.
8507.20.40 | Lead-acid storage batteries of a kind used as the primary source of electrical power for electrically powered vehicles of 8703.90.
8507.20.80 | Lead-acid storage batteries other than of a kind used for starting piston engines or as the primary source of power for electric vehicles.
8507.30.40 | Nickel-cadmium storage batteries, of a kind used as the primary source of electrical power for electrically powered vehicles of 8703.90.
8507.40.40 | Nickel-iron storage batteries, of a kind used as the primary source of electrical power for electrically powered vehicles of 8703.90.
8507.40.80 | Nickel-iron storage batteries, other than of a kind used as the primary source of power for electric vehicles.
8507.50.00 | Nickel-metal hydride batteries.
8508.11.00 | Vacuum cleaners with self-contained electric motor, of a power not exceeding 1,500 W and having a dust bag or other receptacle capacity not.
8508.19.00 | Vacuum cleaners with self-contained electric motor, other than of a power not exceeding 1,500 W and having a dust bag or other receptacle ca.
8508.60.00 | Vacuum cleaners with other than a self-contained electric motor.
8508.70.00 | Parts of vacuum cleaners.
8509.80.20 | Electromechanical kitchen waste disposers (disposals), with self-contained electric motor, for domestic uses.
8509.90.25 | Parts of electromechanical domestic floor polishers, housings.
8509.90.35 | Parts of electromechanical domestic floor polishers, other than housings.
8509.90.45 | Parts of electromechanical domestic appliances nesoi, housings.
8509.90.55 | Parts of electromechanical domestic appliances nesoi, other than housings.
8510.20.10 | Hair clippers to be used for agricultural or horticultual purposes, with self-contained electric motor.
8510.20.90 | Hair clippers other than to be used for agricultural or horticultural purposes, with self-contained electric motor.
8510.90.10 | Blades and cutting heads of shavers with self-contained electric motor.
8510.90.20 | Parts of shavers with self-contained electric motor, other than blades and cutting heads.
8510.90.30 | Parts of hair clippers with self-contained electric motor.
8510.90.40 | Parts of hair clippers, nesoi, with self-contained electric motor.
8510.90.55 | Parts of hair-removing appliances of subheading 8510.30.
8511.10.00 | Spark plugs.
8511.20.00 | Ignition magnetos, magneto-dynamos and magnetic flywheels.
8511.30.00 | Distributors and ignition coils.
8511.40.00 | Starter motors and dual purpose starter-generators.
8511.50.00 | Generators nesoi, of a kind used in conjunction with spark-ignition or compression-ignition internal-combustion engines.
8511.80.60 | Electrical ignition or starting equipment of a kind used for spark-ignition internal-combustion or compression-ignition engines, nesoi.
8511.90.60 | Parts nesoi of electrical ignition or starting equipment or generators used for spark- or compression-ignition internal-combustion engines.
8512.10.20 | Electrical lighting equipment of a kind used on bicycles.
8512.10.40 | Electrical visual signaling equipment of a kind used on bicycles.
8512.20.20 | Electrical lighting equipment of a kind used for motor vehicles or cycles other than bicycles.
8512.20.40 | Electrical visual signaling equipment of a kind used for motor vehicles or cycles other than bicycles.
8512.30.00 | Electrical sound signaling equipment of a kind used for cycles or motor vehicles.
8512.40.20 | Defrosters and demisters of a kind used for cycles or motor vehicles.
8512.40.40 | Windshield wipers of a kind used for cycles or motor vehicles.
8512.90.20 | Parts of electrical signaling equipment of a kind used for cycles or motor vehicles.
8512.90.40 | Parts of electrical lighting equipment of a kind used on bicycles.
8512.90.60 | Parts of electrical lighting equipment of a kind used for motor vehicles or cycles other than bicycles.
8512.90.70 | Parts of defrosters and demisters of a kind used for cycles or motor vehicles.
8512.90.90 | Parts of windshield wipers of a kind used for motor vehicles or cycles.
8513.90.20 | Parts of flashlights.
8513.90.40 | Parts of portable electric lamps designed to function by their own source of energy, other than flashlights.
8514.20.40 | Industrial or laboratory microwave ovens for making hot drinks or for cooking or heating food.
8514.90.40 | Parts of industrial or laboratory microwaves.
8516.21.00 | Electric storage heating radiators.
8516.29.00 | Electric space heating apparatus and electric soil heating apparatus, other than storage heating radiators.
8516.60.40 | Electrothermic cooking stoves, ranges and ovens (excluding microwave ovens) of a kind used for domestic purposes.
8516.80.40 | Electric heating resistors assembled only with simple insulated former and electrical connectors, used for anti-icing or de-icing.
8516.80.80 | Electric heating resistors, nesoi.
8516.90.05 | Parts of electric heaters or heating apparatus of subheading 8516.10, 8516.21 or 8516.29.
8516.90.15 | Housings for hand-drying apparatus of subheading 8516.33.
8516.90.25 | Housings and steel bases for electric flat irons of subheading 8516.40.
8516.90.35 | Parts of domestic microwave ovens, assemblies, having more than one of: cooking chamber; structural supporting chassis; door; outer case.
8516.90.45 | Parts of domestic microwave ovens, printed circuit assemblies.
8516.90.50 | Parts of domestic microwave ovens, other nesoi.
8516.90.55 | Parts of domestic electrothermic cooking stoves, ranges and ovens of subheading 8516.60.40, cooking chambers whether or not assembled.
8516.90.65 | Parts of domestic electrothermic cooking stoves, ranges and ovens of subheading 8516.60.40, top surface panels w/orw/o elements or controls.
8516.90.75 | Parts of domestic electrothermic cooking stoves, ranges and ovens of subheading 8516.60.40, door assemblies.
8516.90.80 | Parts of domestic electrothermic cooking stoves, ranges and ovens of subheading 8516.60.40, other nesoi.
8516.90.85 | Housings for domestic electrothermic toasters.
8516.90.90 | Parts of electric instantaneous or storage water heaters and immersion heaters and other domestic electrothermic appliance, nesoi.
8517.62.00 | Machines for the reception, conversion and transmission or regeneration of voice, images or other data, including switching and routing appa.
8517.69.00 | Other apparatus for transmission or reception of voice, images or other data, including apparatus for communication in a wired or wireless n.
8518.10.40 | Microphones having a frequency range of 300Hz-3.4kHz with diameter not over 10 mm and height not over 3 mm, for telecommunication.
8518.40.10 | Audio-frequency electric amplifiers for use as repeaters in line telephony.
8518.40.20 | Audio-frequency electric amplifiers, other than for use as repeaters in line telephony.
8518.50.00 | Electric sound amplifier sets.
8518.90.20 | Printed circuit assemblies of line telephone handsets; parts of repeaters.
8518.90.41 | Other parts of telephone handsets other than printed circuit assemblies.
8518.90.60 | Printed circuit assemblies of the microphones of subheading 8518.10.40 or the loudspeakers of subheading 8518.29.40.
8518.90.81 | Other parts of microphones & stands, loudspeakers, headphones & earphones nesoi, electric amplifiers, & electric sound amplifier sets, nesoi.
8519.81.30 | Sound reproducing apparatus nesoi, not incorporating a sound recording device.
8522.10.00 | Pick-up cartridges for use with apparatus of heading 8519 to 8521.
8522.90.25 | Assemblies & subassemblies of articles of 8520.90, consisting of 2 or more pieces fastened together, printed circuit assemblies.
8522.90.36 | Other assemblies & subassemblies of articles of 8520.90, consisting of 2 or more pieces fastened together, other than printed circuit assemblies.
8522.90.45 | Other parts of telephone answering machines, printed circuit assemblies.
8522.90.58 | Other parts of telephone answering machines, other than printed circuit assemblies.
8522.90.65 | Parts and accessories of apparatus of headings 8519 to 8521, nesoi, printed circuit assemblies.
8522.90.80 | Parts and accessories of apparatus of headings 8519 to 8521, nesoi, other than printed circuit assemblies.
8523.21.00 | Cards incorporating a magnetic stripe.
8523.49.40 | Recorded optical media,for reproducing representations of instructions, data, sound, & image, recorded machine readable binary form, for ADP.
8523.52.00 | Semiconductor media, “smart cards”.
8523.59.00 | Semiconductor media, nesoi.
8525.50.30 | Transmission apparatus for television, nesoi.
8525.80.30 | Television cameras, nesoi.
8525.80.50 | Television cameras, digital cameras and video camera recorders, nesoi.
8527.21.15 | Radio-tape player combinations capable of receiving & decoding digital radio signals.
8527.21.25 | Other radio-tape player combinations.
8527.21.40 | Radiobroadcast receivers not operable w/o external power source, for motor veh., combined with sound recording/reproducing apparatus, nesoi.
8527.29.40 | Radiobroadcast receivers, not operating w/o external power, for motor vehicles, w/o sound recording or reproducing apparatus, FM or AM/FM.
8527.29.80 | Radiobroadcast receivers, not operating w/o external power, for motor vehicles, w/o sound recording or reproducing apparatus, other.
8528.42.00 | Cathode-ray tube monitors capable of directly connecting to and designed for use with an automatic data processing machine of heading 8471.
8528.49.15 | Non-high definition color video monitors, nonprojection type, w/CRT, video display diagonal not over 34.29 cm, incorporating VCR or player.
8528.49.20 | Non-high definition color video monitors, nonprojection, w/CRT, video display diag. ov 34.29 cm but n/ov 35.56 cm, incorp. VCR or player.
8528.49.35 | Non-high definition color video monitors, nonprojection type, w/CRT, video display diagonal over 35.56 cm, incorporating VCR or player.
8528.49.45 | Non-high definition color video monitors, projection type, with cathode-ray tube, incorporating VCR or player.
8528.49.60 | High definition color video monitors, nonprojection type, with cathode-ray tube, incorporating VCR or player.
8528.49.80 | Black and white or other monochrome video monitors, with cathode-ray tube.
8528.59.05 | Incomplete or unfinished color video monitors, w/o cathode-ray tube, flat panel screen or similar display device, incorp. VCR or player.
8528.59.10 | Incomplete or unfinished color video monitors, w/o cathode-ray tube, flat panel screen or similar display device, not incorp. VCR or player.
8528.69.05 | Incomplete or unfinished color video projectors, w/o cathode-ray tube, flat panel screen or similar display device, incorp. VCR or player.
8528.69.10 | Incomplete or unfinished color video projectors, w/o cathode-ray tube, flat panel screen or similar display, not incorp. VCR or player.
8528.69.20 | Non-high definition color video projectors, with a cathode-ray tube, not incorporating VCR or player.
8528.69.30 | High definition color video projectors, with a cathode-ray tube, not incorporating VCR or player.
8528.72.04 | Incomplete or unfinished color tv reception apparatus, presented w/o a display device, incorp. VCR or player.
8528.72.12 | Non-high definition color television reception apparatus, nonprojection, w/CRT, video display diag. not ov 34.29 cm, incorp. a VCR or player.
8528.72.20 | Non-high def. color television reception app., nonprojection, w/CRT, video display diag. not ov 34.29 cm, not incorporating VCR or player.
8528.72.24 | Non-high def. color television reception app., nonprojection, w/CRT, display diag. ov 34.29 cm but n/ov 35.56 cm, n/incorp. VCR or player.
8528.72.28 | Non-high definition color television reception app., nonprojection, w/CRT, video display diag. ov 35.56 cm, incorporating a VCR or player.
8528.72.36 | Non-high definition color television reception apparatus, projection type, with a cathode-ray tube, incorporating a VCR or player.
8528.72.40 | Non-high definition color television reception apparatus, projection type, with a cathode-ray tube, not incorporating a VCR or player.
8528.72.44 | High definition color television reception apparatus, nonprojection, with cathode-ray tube, incorporating a VCR or player.
8528.73.00 | Black and white or other monochrome television reception apparatus.
8529.10.21 | Television antennas and antenna reflectors, and parts suitable for use therewith.
8529.90.04 | Tuners (printed circuit assemblies).
8529.90.13 | Printed circuit assemblies for television apparatus, nesoi.
8529.90.36 | Subassies w/2 or more PCBs or ceramic substrates, as spec'd in add. U.S. note 9 ch. 85, for color TV, not w/components in add. U.S. note 4, ch. 85.
8529.90.39 | Parts of television receivers specified in U.S. note 9 to chapter 85, other than printed circuit assemblies, nesoi.
8529.90.43 | PCBs and ceramic substrates and subassemblies thereof for color TV, w/components listed in add. U.S. note 4, chap. 85.
8529.90.49 | Combinations of parts of television receivers specified in U.S. note 10 to chapter 85, other than printed circuit assemblies, nesoi.
8529.90.54 | Flat panel screen assemblies for TV reception apparatus, color video monitors and video projectors.
8529.90.75 | Parts of printed circuit assemblies (including face plates and lock latches) for other apparatus of headings 8525 to 8528, nesoi.
8529.90.86 | Parts suitable for use solely or principally with the apparatus of 8525 and 8527 (except television apparatus or cellular phones), nesoi.
8529.90.88 | Subassies w/2 or more PCBs or ceramic substrates, exc. tuners or converg. ass'ies, for color TV, w/components in add. U.S. note 4, ch. 85.
8531.10.00 | Electric burglar or fire alarms and similar apparatus.
8531.20.00 | Indicator panels incorporating liquid crystal devices (LCD's) or light emitting diodes (LED's).
8531.90.15 | Printed circuit assemblies of the panels of subheading 8531.20.
8531.90.30 | Printed circuit assemblies of electric sound or visual signaling apparatus, nesoi.
8531.90.75 | Parts of the panels of subheading 8531.20, other than printed circuit assemblies.
8531.90.90 | Parts of electric sound or visual signaling apparatus, nesoi.
8533.39.00 | Electrical wirewound variable resistors, including rheostats and potentiometers, for a power handling capacity exceeding 20 W.
8534.00.00 | Printed circuits, without elements (other than connecting elements) fitted thereon.
8535.40.00 | Lightning arrestors, voltage limiters and surge suppressors, for a voltage exceeding 1,000 V.
8536.61.00 | Lampholders for a voltage not exceeding 1,000 V.
8536.69.80 | Plugs and sockets for making connections to or in electrical circuits, for a voltage not exceeding 1,000 V, nesoi.
8537.10.91 | Other boards, panels, consoles, desks, cabinets, etc., equipped with apparatus for electric control, for a voltage not exceeding 1,000, nesoi.
8538.90.10 | Printed circuit assemblies of an article of heading 8537 for one of the articles described in additional U.S. note 12 to chapter 85.
8538.90.30 | Printed circuit assemblies, suitable for use solely or principally with the apparatus of heading 8535, 8536 or 8537, nesoi.
8539.10.00 | Sealed beam lamp units.
8539.21.20 | Tungsten halogen electrical filament lamps, designed for a voltage not exceeding 100 V.
8539.21.40 | Tungsten halogen electrical filament lamps, designed for a voltage exceeding 100 V.
8539.31.00 | Fluorescent, hot cathode discharge lamps, other than untraviolet lamps.
8539.32.00 | Mercury or sodium vapor discharge lamps or metal halide discharge lamps (other than ultraviolet lamps).
8539.39.10 | CCFLS for backlighting of flat planel displays.
8539.39.90 | Other electrical discharge lamps, other than fluorescent (hot cathode), mercury or sodium vapor, metal halide or ultraviolet lamps.
8539.49.00 | Ultraviolet or infrared lamps.
8540.11.10 | Cathode-ray television picture tubes incl. video monitor, color, non-high definition, non-projection, display >35.56 cm.
8540.11.24 | Cathode-ray TV & video monitor tubes, color, non-high definition, non-projection, video display diagonal < or = 34.29 cm.
8540.11.28 | Cathode-ray TV & video monitor tubes, color, non-high definition, non-projection, video display diagonal >34.29 cm & < or = 35.56 cm.
8540.11.30 | Cathode-ray television picture tubes incl. video monitor, color, high definition, display diagonal >35.56 cm.
8540.11.44 | Cathode-ray TV & video monitor tubes, color, high definition, having video display display diagonal < or = 34.29 cm.
8540.11.48 | Cathode-ray TV & video monitor tubes, color, high definition, video display diagonal video display diagonal >34.29 cm & < or = 35.56 cm.
8540.11.50 | Cathode-ray television picture tubes incl. video monitor, color, non-high definition, projection type.
8540.12.10 | Cathode-ray television picture tubes incl. video monitor, monochrome, non-high definition, w/faceplate diagonal >29 cm and < or = 42 cm.
8540.12.20 | Cathode-ray television picture tubes incl. video monitor, monochrome, high definition, w/faceplate diagonal >29 cm and < or = 42 cm.
8540.12.50 | Cathode-ray television picture tubes incl. video monitor, monochrome, non-high definition, nesoi.
8540.12.70 | Cathode-ray television picture tubes incl. video monitor, monochrome, high definition, nesoi.
8540.20.20 | Cathode-ray television camera tubes.
8540.20.40 | Television camera tubes, image converters and intensifiers, and other photocathode tubes, other than cathode-ray tubes.
8540.40.10 | Data/grphic display tubes, monochrome; data/graphic display tubes, color, with a phosphor dot screen pitch smaller than 0.4 mm.
8540.60.00 | Cathode-ray tubes nesoi.
8540.71.20 | Magnetron tubes, modified for use as parts of microwave ovens.
8540.71.40 | Magnetron tubes nesoi.
8540.81.00 | Receiver or amplifier tubes.
8540.91.15 | Front panel assemblies for cathode-ray tubes.
8540.91.20 | Deflection coils for cathode-ray tubes.
8540.91.50 | Parts of cathode-ray tubes other than deflection coils or front panel assemblies.
8540.99.40 | Electron guns; radio frequency (RF) interaction structures for microwave tubes of subheadings 8540.71 through 8540.79, inclusive.
8540.99.80 | Parts of thermionic, cold cathode or photocathode tubes, other than parts of cathode-ray tubes, electron guns, etc., nesoi.
8543.70.71 | Electric luminescent lamps.
8543.70.85 | Electrical machines and apparatus for electrical nerve stimulation.
8543.70.91 | Digital signal processing apparatus capable of connecting to a wired or wireless network for sound mixing.
8543.90.85 | Parts, nesoi, of flat panel displays other than for reception apparatus for television of heading 8528.
8543.90.88 | Parts (other than printed circuit assemblies) of electrical machines and apparatus, having individual functions, nesoi.
8544.20.00 | Insulated (including enameled or anodized) coaxial cable and other coaxial conductors.
8544.42.10 | Insulated electric conductors nesoi, for a voltage not exceeding 1,000 V, fitted with modular telephone connectors.
8544.42.20 | Insulated electric conductors nesoi, used for telecommuncations, for a voltage not exceeding 1,000 V, fitted with connectors.
8544.42.90 | Insulated electric conductors nesoi, for a voltage not exceeding 1,000 V, fitted with connectors, nesoi.
8545.11.00 | Carbon electrodes of a kind used for furnaces.
8545.19.20 | Carbon electrodes of a kind used for electrolytic purposes.
8545.19.40 | Carbon electrodes of a kind used for electrical purposes, other than those used for furnaces or for electrolytic purposes.
8545.20.00 | Carbon brushes of a kind used for electrical purposes.
8545.90.20 | Arc light carbons of a kind used for electrical purposes.
8545.90.40 | Lamp carbons, battery carbons and articles of graphite or other carbon nesoi, of a kind used for electrical purposes.
8546.10.00 | Electrical insulators of glass.
8546.20.00 | Electrical insulators of ceramics.
8546.90.00 | Electrical insulators of any material, other than glass or ceramics.
8547.10.40 | Ceramic insulators to be used in the production of spark plugs for natural gas fueled, stationary, internal-combustion engines.
8547.10.80 | Insulating fittings for electrical machines, appliances or equipment, of ceramics nesoi.
8547.20.00 | Insulating fittings for electrical machines, appliances or equipment, of plastics.
8547.90.00 | Electrical conduit tubing and joints therefor, of base metal lined with insulating material; insulating fittings for electrical goods nesoi.
8548.90.01 | Electrical parts of machinery or apparatus not specified or included elsewhere in chapter 85.
8602.90.00 | Rail locomotives (o/than diesel-electric), non-electric; locomotive tenders.
8706.00.03 | Chassis fitted w/engines, for mtr. vehicles for transport of goods of 8704.21 or 8704.31.
8706.00.05 | Chassis fitted w/engines, for mtr. vehicles of 8701.20, 8702, & 8704 (except 8704.21 or 8704.31).
8706.00.15 | Chassis fitted w/engines, for mtr. vehicles for transport of persons of 8703.
8706.00.50 | Chassis fitted w/engines, for tractors (o/than for agric. use) and other motor vehicles nesoi.
8707.10.00 | Bodies (including cabs), for mtr. vehicles for transport of persons of heading 8703.
8707.90.10 | Bodies (including cabs), for tractors suitable for agricultural use.
8707.90.50 | Bodies (including cabs), for mtr. vehicles (o/than tract. for agri. use) of headings 8701-8705 (except 8703).
8708.10.30 | Pts. & access. for mtr. vehicles of headings 8701 to 8705, bumpers.
8708.10.60 | Pts. & access. of mtr. vehicles of headings 8701 to 8705, parts of bumpers.
8708.21.00 | Pts. & access. of bodies for mtr. vehicles of headings 8701 to 8705, safety seat belts.
8708.29.15 | Pts. & access. of bodies for mtr. vehicles of headings 8701 to 8705, door assemblies.
8708.29.21 | Body stampings for tractors suitable for agriculture.
8708.29.25 | Body stampings of motor vehicles, nesoi.
8708.29.50 | Pts. & access. of bodies for mtr. vehicles of headings 8701 to 8705, nesoi.
8708.30.10 | Pts. & access. of tractors suit. for agric. use, brakes and servo-brakes & pts thereof.
8708.30.50 | Pts. & access. of mtr. vehicles of 8701, nesoi, and 8702-8705, brakes and servo-brakes & pts thereof.
8708.40.11 | Pts. & access. of mtr. vehic. of 8701.20, 8702, 8703 or 8704, gear boxes.
8708.40.30 | Pts. & access. of tractors suitable for agricultural use, gear boxes.
8708.40.50 | Pts. & access. of mtr. vehic. of 8701, nesoi, and of 8705, gear boxes.
8708.40.60 | Pts. & access. of tractors suitable for agricultural use, pts. for gear boxes.
8708.40.65 | Pts. & access. of tractors (o/than road tractors or for agricultural use), pts. for gear boxes.
8708.40.70 | Parts of gear boxes of the motor vehicles of 8701-8705, of cast iron.
8708.40.75 | Pts. & access. of motor vehicles of 8701, nesoi, and 8702-8705, pts. for gear boxes, nesoi.
8708.50.11 | Pts. & access. of tractors suitable for agricultural use, drive axles w/differential (whether or not w/other transm. components).
8708.50.31 | Pts. & access. of tractors, other than road tractors or for agricultural use, drive axles w/differential (whether or not w/other transm. components).
8708.50.51 | Pts. & access. of motor vehicles of 8703, drive axles w/differential (whether or not w/other transm. components).
8708.50.61 | Pts. & access. of mtr. vehic. of 8701, nesoi, 8702, and 8704-8705, drive axles w/different. (wheth or not w/oth transm components).
8708.50.65 | Pts. & access. of mtr. vehic. of 8701, nesoi, of 8702, and of 8704-8705, non-driving axles.
8708.50.70 | Pts. & access. of tractors suitable for agricultural use, parts of drive axles w/different. (wheth or not w/oth transm components).
8708.50.75 | Pts. & access. of tractors, other than road tractors or for agricultural use, parts of drive axles w/different. (wheth or not w/oth transm components).
8708.50.79 | Pts. & access. of mtr. vehic. for transp. of persons of 8703, parts of non-driving axles.
8708.50.81 | Pts. & access. of motor vehicles of 8703, of cast iron nesoi.
8708.50.85 | Pts. & access. of motor vehicles of 8703, half-shafts.
8708.50.89 | Pts. & access. of motor vehicles of 8703, parts, nesoi, of drive axles w/different. (wheth or not w/oth transm components).
8708.50.91 | Pts. & access. of mtr. vehic. of 8701, nesoi, 8702 and 8704-8705, parts of non-driving axles.
8708.50.93 | Pts. & access. of mtr. vehic. of 8701, nesoi, 8702 and 8704-8705, of cast iron nesoi.
8708.50.95 | Pts. & access. of mtr. vehic. of 8701, nesoi, 8702 and 8704-8705, half-shafts.
8708.50.99 | Pts. & access. of mtr. vehic. of 8701, nesoi, 8702 and 8704-8705, parts, nesoi, of drive axles w/different. (wheth or not w/oth transm components).
8708.70.05 | Pts. & access. of tractors suitable for agricultural use, road wheels.
8708.70.15 | Pts. & access. of tractors suitable for agricultural use, pts. & access. for road wheels.
8708.70.25 | Pts. & access. of tractors (o/than road tractors or for agric. use), road wheels.
8708.70.35 | Pts. & access. of tractors (o/than road tractors or for agric. use), pts. & access. for road wheels.
8708.70.45 | Pts. & access. of mtr. vehic. of 8701, nesoi, and of 8702-8705, road wheels.
8708.70.60 | Pts. & access. of mtr. vehic. of 8701, nesoi, and of 8702-8705, pts. & access. for road wheels.
8708.80.03 | Pts. & access. of tractors suitable for agricultural use, McPherson struts.
8708.80.05 | Pts. & access. of tractors suitable for agricultural use, suspension shock absorbers (o/than McPherson struts).
8708.80.13 | Pts. & access. of mtr. vehic. of 8701, nesoi, and of 8702-8705, McPherson struts.
8708.80.16 | Pts. & access. of mtr. vehic. of 8701, nesoi, and of 8702-8705, suspension shock absorbers (o/than McPherson struts).
8708.80.51 | Pts. & access. of tractors suitable for agricultural use, pts. for suspension systems nesoi.
8708.80.55 | Pts. & access. of tractors (o/than road tractors or for agricultural use), pts. for suspension systems nesoi.
8708.80.60 | Parts of suspension systems of the motor vehicles of 8701-8705, of cast iron.
8708.80.65 | Pts. & access. of motor vehicles of 8701, nesoi, and 8702-8705, pts. for suspension systems nesoi.
8708.91.10 | Pts. & access. of tractors suitable for agricultural use, radiators.
8708.91.50 | Pts. & access. of mtr. vehic. of 8701, nesoi, and 8702-8705, radiators.
8708.91.60 | Pts. & access., nesoi, of tractors suitable for agricultural use, parts of radiators.
8708.91.65 | Pts. & access., nesoi, of tractors (o/than road tractors or suitable for agricultural use), parts of radiators.
8708.91.70 | Pts. & access. of motor vehicles of 8701, nesoi, and 8702-8705, parts of radiators, of cast iron nesoi.
8708.91.75 | Pts. & access., nesoi, of motor vehicles of 8701, nesoi, and 8702-8705, parts of radiators, nesoi.
8708.92.10 | Pts. & access. of tractors suitable for agricultural use, mufflers & exhaust pipes.
8708.92.50 | Pts. & access. of mtr. vehic. of 8701, nesoi, and 8702-8705, mufflers & exhaust pipes.
8708.92.60 | Pts. & access., nesoi, of tractors suitable for agricultural use, parts of mufflers.
8708.92.65 | Pts. & access., nesoi, of tractors (o/than road tractors or suitable for agricultural use), parts of mufflers.
8708.92.70 | Pts. & access. of motor vehicles of 8701, nesoi, and 8702-8705, parts of mufflers, of cast iron nesoi.
8708.92.75 | Pts. & access., nesoi, of motor vehicles of 8701, nesoi, and 8702-8705, parts of mufflers, nesoi.
8708.93.15 | Pts. & access. of tractors suitable for agricultural use, clutches.
8708.93.30 | Pts. & access. of tractors suitable for agricultural use, pts. of clutches.
8708.93.60 | Pts. & access. of mtr. vehic. of 8701, nesoi, and 8702-8705, clutches.
8708.93.75 | Pts. & access. of mtr. vehic. of 8701, nesoi, and 8702-8705, pts. of clutches.
8708.94.10 | Pts. & access. of tractors suitable for agricultural use, steering wheels, steering columns and steering boxes.
8708.94.50 | Pts. & access. of mtr. vehic. of 8701, nesoi, and 8702-8705, steering wheels, steering columns and steering boxes.
8708.94.60 | Pts. & access., nesoi, of tractors suitable for agricultural use, parts of steering wheels/columns/boxes.
8708.94.65 | Pts. & access., nesoi, of tractors (o/than road tractors or suitable for agricultural use), parts of steering wheels/columns/boxes.
8708.94.70 | Pts. & access. of motor vehicles of 8701, nesoi, and 8702-8705, parts of steering wheels/columns/boxes, of cast iron nesoi.
8708.94.75 | Pts. & access., nesoi, of motor vehicles of 8701, nesoi, and 8702-8705, parts of steering wheels/columns/boxes, nesoi.
8708.95.05 | Pts. & access. of bodies for mtr. vehicles of headings 8701 to 8705, inflators & modules for airbags.
8708.95.10 | Pts. & access., nesoi, of tractors suitable for agricultural use, parts of safety airbags with inflater system.
8708.95.15 | Pts. & access., nesoi, of tractors (o/than road tractors or suitable for agricultural use), parts of safety airbags with inflater system.
8708.95.20 | Pts. & access. of motor vehicles of 8701, nesoi, and 8702-8705, parts of safety airbags with inflater system.
8708.99.03 | Pts. & access. of tractors suitable for agricultural use, vibration control goods containing rubber.
8708.99.06 | Pts. & access. of tractors suitable for agricultural use, double flanged wheel hub units w/ball bearings.
8708.99.16 | Pts. & access. of tractors suitable for agricultural use, pts. for power trains nesoi.
8708.99.23 | Pts. & access., nesoi, of tractors suitable for agricultural use.
8708.99.27 | Pts. & access. of tractors (o/than road tractors or for agricultural use), vibration control goods containing rubber.
8708.99.31 | Pts. & access. of tractors (o/than road tractors or for agricultural use), double flanged wheel hub units w/ball bearings.
8708.99.41 | Pts. & access. of tractors (o/than road tractors or for agricultural use), pts. for power trains nesoi.
8708.99.48 | Pts. & access., nesoi, of tractors (o/than road tractors or suitable for agricultural use).
8708.99.53 | Parts & accessories of motor vehicles of 8701-8705, nesoi, of cast iron.
8708.99.55 | Pts. & access. of motor vehicles of 8701, nesoi, and 8702-8705, vibration control goods containing rubber.
8708.99.58 | Pts. & access. of motor vehicles of 8701, nesoi, and 8702-8705, double flanged wheel hub units w/ball bearings.
8708.99.68 | Pts. & access. of motor vehicles of 8701, nesoi, and 8702-8705, pts. for power trains nesoi.
8708.99.81 | Pts. & access., nesoi, of motor vehicles of 8701, nesoi, and 8702-8705.
8712.00.15 | Bicycles, not motorized, w/both wheels not over 63.5 cm in diameter.
8712.00.25 | Bicycles, not motorized, w/both wheels o/63.5 cm in diam., weighing under 16.3 kg & not design. for tires w/x-sect. diam. o/4.13 cm.
8712.00.35 | Bicycles, not motorized, w/both wheels o/63.5 cm in diam., weighing 16.3 kg or more, and/or for use w/tires w/x-sect. diam. o/4.13 cm.
8712.00.44 | Bicycles, n/motor., w/front wheel diam. o/55 cm but n/o 63.5 cm & rear wheel diam. o/63.5 cm in diam., & wt <16.3 kg w/o acces., value $200+.
8712.00.48 | Bicycles, n/motor., w/front wheel w/diameter different than rear wheel diam., nesoi.
8712.00.50 | Cycles (o/than bicycles) (including delivery tricycles), not motorized.
8714.91.20 | Pts. & access. for bicycles & o/cycles, frames, valued over $600 each.
8714.91.30 | Pts. & access. for bicycles & o/cycles, frames, valued at $600 or less each.
8714.91.50 | Pts. & access. for bicycles, sets of steel tubing cut to exact length for the assembly (w/other pts) into the frame & fork of one bicycle.
8714.91.90 | Pts. & access. for bicycles & o/cycles, forks, nesoi and pts of frames, nesoi and pts. of forks.
8714.92.10 | Pts. & access. for bicycles & o/cycles, wheel rims.
8714.92.50 | Pts. & access. for bicycles & o/cycles, wheel spokes.
8714.93.05 | Pts. & access. for bicycles & o/cycles, aluminum alloy hubs, w/hollow axle and lever-operated quick release mechanism.
8714.93.15 | Pts. & access. for bicycles & o/cycles, 3-speed hubs nesoi.
8714.93.24 | Pts. & access. for bicycles & o/cycles, 2-speed hubs, w/internal gear changing mechanisms, nesoi.
8714.93.28 | Pts. & access. for bicycles & o/cycles, variable speed hubs, w/internal gear changing mechanisms, nesoi.
8714.93.35 | Pts. & access. for bicycles & o/cycles, non-variable speed hubs, nesoi.
8714.93.70 | Pts. & access. for bicycles & o/cycles, free-wheel sprocket-wheels.
8714.94.30 | Pts. & access. for bicycles & o/cycles, brakes (o/than hub brakes) and parts thereof.
8714.94.90 | Pts. & access. for bicycles & o/cycles, brakes and parts thereof, nesoi.
8714.95.00 | Pts. & access. for bicycles & o/cycles, saddles.
8714.96.10 | Pts. & access. for bicycles & o/cycles, pedals and parts thereof.
8714.96.50 | Pts. & access. for bicycles & o/cycles, cotterless-type crank sets and parts thereof.
8714.96.90 | Pts. & access. for bicycles & o/cycles, crank-gear nesoi and parts thereof.
8716.10.00 | Trailers & semi-trailers, not mech. propelled, for housing or camping.
8716.20.00 | Self-loading or self-unloading trailers and semi-trailers, not mech. propelled, for agricultural purposes.
8716.31.00 | Tanker trailers and tanker semi-trailers, not mech. propelled, for the transport of goods.
8716.39.00 | Trailers and semi-trailers, not mech. propelled, nesoi, for the transport of goods.
8716.40.00 | Trailers and semi-trailers, not mechanically propelled, nesoi.
8716.80.10 | Farm wagons and carts, not mechanically propelled.
8716.80.50 | Vehicles, not mechanically propelled, nesoi.
8716.90.10 | Parts of farm wagons and carts.
8716.90.30 | Parts of vehicles, not mechanically propelled, castors (o/than castors of heading 8302).
8716.90.50 | Parts of trailers and semi-trailers and vehicles, not mechanically propelled, nesoi.
8804.00.00 | Parachutes (including dirigible parachutes) and rotochutes; parts & access. thereof.
8903.10.00 | Vessels, inflatable, for pleasure or sports.
8903.91.00 | Vessels, sailboats, with or without auxiliary motor, for pleasure or sports.
8903.92.00 | Vessels, motorboats (o/than outboard motorboats), for pleasure or sports.
8903.99.05 | Vessels, canoes, not of a type designed to be principally used with motor or sails.
8903.99.15 | Vessels, row boats, not of a type to be principally used with motors or sails.
8903.99.20 | Vessels, outboard motorboats, for pleasure or sports.
8903.99.90 | Vessels, yachts and other vessels for pleasure or sports, nesoi.
8907.10.00 | Inflatable rafts (o/than used for pleasure or sports of 8901.10).
9001.90.40 | Lenses nesoi, unmounted.
9001.90.50 | Prisms, unmounted.
9001.90.60 | Mirrors, unmounted.
9001.90.80 | Half-tone screens designed for use in engraving or photographic processes, unmounted.
9001.90.90 | Optical elements nesoi, unmounted.
9002.11.40 | Projection lenses, mounted, and parts and accessories therefor, for cameras, projectors or photographic enlargers or reducers.
9002.11.60 | Mounted objective lenses for use in closed circuit television cameras, seperately imported, w/or w/o attached elec. connectors or motors.
9002.11.90 | Objective lenses and parts & access. thereof, for cameras, projectors, or photographic enlargers or reducers, except projection, nesoi.
9002.19.00 | Objective lenses, mounted, and parts and accessories therefor, other than for cameras, projectors or photographic enlargers or reducers.
9002.20.40 | Photographic filters, mounted, and parts and accessories therefor.
9002.20.80 | Filters, mounted, and parts and accessories therefor, for optical uses other than photographic.
9002.90.85 | Mounted lenses, n/obj., for use in closed circuit television cameras, seperately imported, w/or w/o attached elec. connectors or motors.
9006.30.00 | Photographic cameras for underwater, aerial, medical, surgical, forensic or criminological purposes, not cinematographic.
9007.10.00 | Cinematographic cameras.
9007.20.20 | Cinematographic projectors for film <16 mm, w/sound recording and reproducing systems and those for projecting only sound motion pictures.
9007.20.40 | Cinematographic projectors for film of less than 16 mm, nesoi.
9007.20.60 | Cinematographic projectors for film = or >16 mm, w/sound recording & reproducing systems & those for projecting only sound motion pictures.
9007.20.80 | Cinematographic projectors for film of 16 mm or greater, nesoi.
9007.92.00 | Parts and accessories for cinematographic projectors.
9008.50.50 | Photographic (other than cinematographic) enlargers and reducers.
9008.90.40 | Parts and accessories of image projectors, other than cinematographic.
9008.90.80 | Parts and accessories of photographic (other than cinematographic) enlargers and reducers.
9010.10.00 | Apparatus & equipment for auto. developing photographic film/paper in rolls or exposing developed film to rolls of photographic paper.
9010.50.10 | Contact printers for photographic laboratories.
9010.50.20 | Developing tanks for photographic laboratories.
9010.50.30 | Editors and combination editor-splicers, for cinematographic film, containing an optical lens or designed to contain such a lens.
9010.50.40 | Photographic film viewers, titlers, splicers and editors, and combinations thereof, containing or designed to contain an optical lens, nesoi.
9010.50.50 | Photographic film viewers, titlers, splicers and editors, and combinations thereof, not containing or designed to contain an optical lens.
9010.50.60 | Apparatus and equipment for photographic (including cinematographic) laboratories, nesoi; negatoscopes.
9010.60.00 | Projection screens.
9010.90.85 | Parts and accessories of articles of subheading 9010.50 & 9010.60.
9010.90.95 | Other parts & accessories for apparatus & equipment for photographic (incl. cinematographic) labs, nesoi, negatoscopes, & projection screens.
9011.20.80 | Microscopes for microphotography, microcinematography or microprojection, not provided with a means for photographing the image.
9011.80.00 | Compound optical microscopes other than stereoscopic or those for microphotography, microcinematography or microprojection.
9013.10.30 | Telescopic sights for rifles designed for use with infrared light.
9013.80.20 | Hand magnifiers, magnifying glasses, loupes, thread counters and similar apparatus nesoi.
9013.80.40 | Door viewers (door eyes).
9013.80.90 | Liquid crystal devices nesoi, and optical appliances and instruments, nesoi.
9013.90.50 | Parts and accessories of flat panel displays other than for articles of heading 8528.
9013.90.70 | Parts and accessories other than for telescopic sights for fitting to arms or for periscopes.
9013.90.80 | Parts and accessories of liquid crystal devices nesoi, and optical appliances and instruments, nesoi.
9014.10.10 | Optical direction finding compasses.
9015.10.40 | Electrical rangefinders.
9015.30.40 | Electrical levels.
9015.30.80 | Levels, other than electrical.
9015.90.01 | Parts and accessories of 9015.
9016.00.20 | Electrical balances of a sensitivity of 5 cg or better, with or without weights, and parts and accessories thereof.
9016.00.40 | Jewelers' balances (nonelectrical) of a sensitivity of 5 cg or better, with or without weights, and parts and accessories thereof.
9016.00.60 | Balances (nonelectrical) of a sensitivity of 5 cg or better, other than jewelers', balances, and parts and accessories thereof.
9017.10.40 | Drafting plotters, whether or not automatic.
9017.10.80 | Drafting tables and machines, whether or not automatic, nesoi.
9017.20.40 | Disc calculators, slide rules and other mathematical calculating instruments.
9017.20.70 | Other drawing, marking-out or mathematical plotters, nesoi.
9017.20.80 | Other drawing, marking-out or mathematical calculating instruments, nesoi.
9017.30.40 | Micrometers and calipers, for use in the hand.
9017.30.80 | Gauges for measuring length, for use in the hand.
9017.80.00 | Instruments for measuring length, for use in the hand, nesoi (for example, measuring rods and tapes).
9017.90.01 | Parts and accessories for drawing, marking-out or mathematical calculating instruments, and for hand-held instruments for measuring length.
9023.00.00 | Instruments, apparatus and models, designed for demonstrational purposes, unsuitable for other uses, and parts and accessories thereof.
9025.80.20 | Hydrometers and similar floating instruments, whether or not incorporating a thermometer, non-recording, other than electrical.
9025.90.06 | Other parts & accessories of hydrometers & like floating instruments, thermometers, pyrometers, barometers, hygrometers, psychrometers & combinations.
9026.80.40 | Nonelectrical heat meters incorporating liquid supply meters, and anemometers.
9027.10.40 | Nonelectrical optical instruments and apparatus for gas or smoke analysis.
9027.10.60 | Nonelectrical gas or smoke analysis apparatus, other than optical instruments and apparatus.
9027.90.68 | Parts and accessories of nonelectrical optical instruments and apparatus of heading 9027, nesoi.
9029.10.40 | Taximeters.
9029.10.80 | Revolution counters, production counters, odometers, pedometers and the like, other than taximeters.
9029.20.20 | Bicycle speedometers.
9029.20.60 | Stroboscopes.
9029.90.20 | Parts and accessories of taximeters.
9029.90.40 | Parts and accessories of bicycle speedometers.
9030.20.10 | Oscilloscopes and oscillographs, nesoi.
9031.90.45 | Bases and frames for the optical coordinate-measuring machines of subheading 9031.49.40.
9104.00.05 | Instrument panel clocks for vehicles, air/spacecraft, vessels, clock movement over 50 mm wide, opto-electronic display only, n/o $10 each.
9104.00.10 | Instrument panel clocks for veh., air/spacecraft, vessels, clock mvmt over 50 mm wide, electric, nt optoelectronic display, n/o $10 each.
9104.00.20 | Instrument panel clocks for vehicles, air/spacecraft, vessels, w/clock movement over 50 mm wide, valued n/o $10 each, nonelectric.
9104.00.25 | Instrument panel clocks for vehicles, air/spacecraft, vessels, w/clock movement ov 50 mm wide, opto-electronic display only, ov $10 each.
9104.00.30 | Instrument panel clocks for vehicles, air/spacecraft, vessels, w/clock mvmt ov 50 mm wide, electric, nt optoelectronic display, ov $10 each.
9104.00.40 | Instrument panel clocks for vehicles, air/spacecraft, vessels, w/clock movement ov 50 mm wide, valued ov $10 each, non-electric.
9104.00.45 | Instrument panel clocks for vehicles, air/spacecraft, vessels, w/watch or clock movement <50 mm wide, opto-electronic display only.
9104.00.50 | Instrument panel clocks for vehicles, air/spacecraft, vessels, w/watch or clock movement <50 mm wide, electric, not opto-electronic display.
9106.10.00 | Time registers; time recorders.
9106.90.20 | Parking meters.
9106.90.40 | Time locks valued over $10 each.
9106.90.55 | Apparatus for meas., recording or indicating time intervals, w/watch or clock mvmt., battery powered, w/opto-electronic display only.
9106.90.65 | Other apparatus for meas., recording or otherwise indicating time intervals, w/watch or clock mvmt., battery powered, nesoi.
9106.90.75 | Apparatus for meas., recording or indicating time intervals, w/watch or clock mvmt., AC powered, w/opto-electronic display only.
9106.90.85 | Time of day recording apparatus & apparatus for measuring, detecting, recording or otherwise indicating intervals of time nesoi.
9107.00.40 | Time switches with clock or watch movements or with synchronous motor, valued not over $5 each.
9107.00.80 | Time switches with clock or watch movements or with synchronous motor, valued over $5 each.
9401.20.00 | Seats, of a kind used for motor vehicles.
9401.30.40 | Seats nesoi, swivel w/variable height adjustment & w/wooden frame (o/than of heading 9402).
9401.30.80 | Seats nesoi, swivel w/variable height adjustment & other than w/wooden frame (o/than of heading 9402).
9401.40.00 | Seats nesoi, convertible into beds (o/than garden seats or camping equip.).
9401.52.00 | Bamboo seats.
9401.53.00 | Rattan seats.
9401.59.00 | Seats nesoi, of cane, osier, similar materials o/than bamboo or rattan.
9401.61.20 | Chairs nesoi, w/teak frames, upholstered.
9401.61.40 | Chairs nesoi, w/wooden frames (o/than teak), upholstered.
9401.61.60 | Seats (o/than chairs) nesoi, w/wooden frames, upholstered.
9401.69.20 | Seats nesoi, of bent-wood.
9401.69.40 | Chairs nesoi, w/teak frames, not upholstered.
9401.69.60 | Chairs nesoi, w/wooden frames (o/than teak), not upholstered.
9401.69.80 | Seats (o/than chairs) nesoi, w/wooden frames, not upholstered.
9401.71.00 | Seats nesoi, w/metal frame (o/than of heading 9402), upholstered.
9401.79.00 | Seats nesoi, w/metal frame (o/than of heading 9402), not upholstered.
9401.80.20 | Seats nesoi, of reinforced or laminated plastics (o/than of heading 9402).
9401.80.40 | Seats nesoi, of rubber or plastics (o/than of reinforced or laminated plastics & o/than of heading 9402).
9401.80.60 | Seats nesoi, o/than of wood, or w/metal frame or of rubber or plastics (o/than of heading 9402).
9401.90.35 | Parts of seats (o/than of 9402) nesoi, of rubber or plastics (o/than of heading 9402).
9401.90.40 | Parts of seats (o/than of 9402) nesoi, of wood.
9401.90.50 | Parts of seats (o/than of 9402) nesoi, o/than of cane etc, rubber or plastics or of wood.
9403.10.00 | Furniture (o/than seats) of metal nesoi, of a kind used in offices.
9403.20.00 | Furniture (o/than seats) of metal nesoi, o/than of a kind used in offices.
9403.30.40 | Furniture (o/than seats) of bentwood nesoi, of a kind used in offices.
9403.30.80 | Furniture (o/than seats) of wood (o/than bentwood) nesoi, of a kind used in offices.
9403.40.40 | Furniture (o/than seats) of bent-wood nesoi, of a kind used in the kitchen.
9403.40.60 | Furniture (o/than seats) of wood (o/than bentwood) nesoi, of a kind used in the kitchen & design. for motor vehicle use.
9403.40.90 | Furniture (o/than seats) of wood (o/than bentwood) nesoi, of a kind used in the kitchen & not design. for motor vehicl. use.
9403.50.40 | Furniture (o/than seats) of bentwood nesoi, of a kind used in the bedroom.
9403.50.60 | Furniture (o/than seats) of wood (o/than bentwood), of a kind used in the bedroom & designed for motor vehicle use.
9403.50.90 | Furniture (o/than seats) of wood (o/than bentwood), of a kind used in the bedroom & not designed for motor vehicle use.
9403.60.40 | Furniture (o/than seats & o/than of 9402) of bentwood nesoi.
9403.60.80 | Furniture (o/than seats & o/than of 9402) of wooden (o/than bentwood) nesoi.
9403.70.40 | Furniture (o/than seats & o/than of 9402) of reinforced or laminated plastics nesoi.
9403.70.80 | Furniture (o/than seats & o/than of 9402) of plastics (o/than reinforced or laminated) nesoi.
9403.82.00 | Bamboo furniture and parts.
9403.83.00 | Rattan furniture and parts.
9403.89.30 | Furniture (o/than seats) of cane, osier, or similar materials o/than bamboo or rattan.
9403.89.60 | Furniture (o/than seats & o/than of 9402) of materials nesoi.
9403.90.10 | Parts of furniture (o/than seats), for furniture of a kind used for motor vehicles.
9403.90.25 | Parts of furniture (o/than seats), of cane, osier, bamboo or similar materials.
9403.90.40 | Parts of furniture (o/than seats or o/than of 9402), of reinforced or laminated plastics.
9403.90.50 | Parts of furniture (o/than seats or o/than of 9402), of rubber or plastics (o/than reinforced or laminated plastics).
9403.90.60 | Parts of furniture (o/than seats or o/than of 9402), of textile material (o/than cotton).
9403.90.70 | Parts of furniture (o/than seats or o/than of 9402), of wood.
9403.90.80 | Parts of furniture (o/than seats or o/than of 9402) nesoi.
9404.10.00 | Mattress supports.
9404.21.00 | Mattresses, of cellular rubber or plastics, whether or not covered.
9404.29.10 | Mattresses, of cotton.
9404.29.90 | Mattresses (o/than of cellular rubber or plastics or of cotton).
9405.10.40 | Chandeliers and other electric ceiling or wall lighting fittings (o/than used for public spaces), of brass.
9405.10.60 | Chandeliers and other electric ceiling or wall lighting fixtures (o/than used for public spaces), of base metal (o/than brass).
9405.10.80 | Chandeliers and other electric ceiling or wall lighting fixtures (o/than used for public spaces), not of base metal.
9405.20.40 | Electric table, desk, bedside or floor-standing lamps, of brass.
9405.20.60 | Electric table, desk, bedside or floor-standing lamps, of base metal (o/than brass).
9405.20.80 | Electric table, desk, bedside or floor-standing lamps, not of base metal.
9405.30.00 | Lighting sets of a kind used for Christmas trees.
9405.40.40 | Electric lamps and lighting fixtures nesoi, of brass.
9405.40.60 | Electric lamps and lighting fixtures nesoi, of base metal (o/than brass).
9405.40.82 | LEDs for backlighting of LCDs.
9405.40.84 | Electric lamps and lighting fixtures nesoi, not of base metal.
9405.50.20 | Non-electrical incandescent lamps designed to be operated by propane or other gas, or by compressed air and kerosene or gasoline.
9405.50.30 | Non-electrical lamps and lighting fixtures nesoi, of brass.
9405.50.40 | Non-electrical lamps and lighting fixtures nesoi, not of brass.
9405.60.20 | Illuminated signs, illuminated name plates and the like, of brass.
9405.60.40 | Illuminated signs, illuminated name plates and the like, of base metal (o/than brass).
9405.60.60 | Illuminated signs, illuminated name plates and the like, not of base metal.
9405.91.10 | Parts of lamps, lighting fittings, illuminated signs & the like, globes and shades, of lead crystal glass.
9405.91.30 | Parts of lamps, lighting fittings, illuminated signs & the like, globes and shades, of glass (o/than lead crystal).
9405.91.40 | Parts of lamps, lighting fittings, illuminated signs & the like, chimneys, of glass.
9405.91.60 | Parts of lamps, lighting fixtures, illuminated signs & the like, of glass nesoi.
9405.92.00 | Parts of lamps, lighting fixtures, illuminated signs & the like, of plastics.
9405.99.20 | Parts of lamps, lighting fixtures, illuminated signs & the like, of brass.
9405.99.40 | Parts of lamps, lighting fixtures, illuminated signs & the like, not of glass, plastics or brass.
9406.10.00 | Prefabricated buildings of wood.
9406.90.00 | Prefabricated buildings not of wood.
9606.10.40 | Press-fasteners, snap-fasteners and press-studs and pts thereof, valued n/o 20 cents/dozen pieces or parts.
9606.10.80 | Press-fasteners, snap-fasteners and press-studs and pts thereof, valued o/20 cents/dozen pieces or parts.
9606.21.20 | Buttons, of casein, not covered with textile material.
9606.21.40 | Buttons, of acrylic resin or polyester resin, or both resins, not covered with textile material.
9606.21.60 | Buttons, of plastics (o/than casein, acrylic or polyester resins), not covered with textile materials.
9606.22.00 | Buttons, of base metal, not covered with textile material.
9606.29.20 | Buttons, of acrylic resin or polyester resin, or both resins, covered with textile material.
9606.29.40 | Buttons, of pearl or shell.
9606.29.60 | Buttons, nesoi.
9606.30.40 | Button blanks, of casein.
9606.30.80 | Button molds & parts of buttons; button blanks (o/than casein).
9607.11.00 | Slide fasteners, fitted with chain scoops of base metal.
9607.19.00 | Slide fasteners, not fitted with chain scoops of base metal.
9607.20.00 | Parts of slide fasteners.
9620.00.10 | Monopods, bipods, tripods and similar articles, accessories of heading 8519 or 8521.
9620.00.15 | Monopods, bipods, tripods and similar articles, accessories of heading 9005.
9620.00.20 | Monopods, bipods, tripods and similar articles, accessories of heading 9006, other than cinematographic.
9620.00.25 | Monopods, bipods, tripods and similar articles, accessories of heading 9007.
9620.00.30 | Monopods, bipods, tripods and similar articles, accessories of heading 9015, including rangefinders.
9620.00.50 | Monopods, bipods, tripods and similar articles of plastics, nesoi.
9620.00.55 | Monopods, bipods, tripods and similar articles of wood, nesoi.
9620.00.60 | Monopods, bipods, tripods and similar articles of graphite and other carbon, nesoi.
9620.00.65 | Monopods, bipods, tripods and similar articles of iron and steel, nesoi.
9620.00.70 | Monopods, bipods, tripods and similar articles of aluminum, nesoi.
9701.10.00 | Paintings, drawings (o/than of 4906) and pastels, executed entirely by hand, whether or not framed.
9701.90.00 | Collages and similar decorative plaques, executed entirely by hand, whether or not framed.
9702.00.00 | Original engravings, prints and lithographs, whether or not framed.
9703.00.00 | Original sculptures and statuary, in any material.
9704.00.00 | Postage or revenue stamps, stamp-postmarks, first-day covers, postal stationery, and the like, used or unused, other than heading 4907.
9705.00.00 | Collections and collectors' pieces of zoological, botanical, mineralogical, anatomical, historical, archaeological etc. interest.
9706.00.00 | Antiques of an age exceeding one hundred years.

[FR Doc. 2018-15090 Filed 7-16-18; 8:45 am]

BILLING CODE 3290-F8-P